DEPARTMENT OF THE INTERIOR

Fish and Wildlife Service

50 CFR Parts 31 and 32

RIN 1018-AT40

2004-2005 Refuge-Specific Hunting and Sport Fishing Regulations

AGENCY: Fish and Wildlife Service, Interior.

ACTION: Proposed rule.

SUMMARY: The Fish and Wildlife Service proposes to add 10 additional refuges and wetland management districts to the list of areas open for hunting and/or sport fishing programs and increase the activities available at 7 other refuges. We will also develop pertinent refuge-specific regulations for those activities and amend certain regulations on other refuges that pertain to migratory game bird hunting, upland game hunting, big game hunting, and sport fishing for the 2004-2005 season.

DATES: We must receive your comments on or before July 30, 2004.

ADDRESSES: Submit written comments to Chief, Division of Conservation Planning and Policy, National Wildlife Refuge System, U.S. Fish and Wildlife Service, 4401 N. Fairfax Drive, Room 670, Arlington, VA 22203. See SUPPLEMENTARY INFORMATION for information on electronic submission. For information on specific refuges' public use programs and the conditions that apply to them or for copies of compatibility determinations for any refuge(s), contact individual programs at the addresses/phone numbers given in “Available Information for Specific Refuges” under SUPPLEMENTARY INFORMATION.

FOR FURTHER INFORMATION CONTACT: Leslie A. Marler, (703) 358-2397; Fax (703) 358-2248.

SUPPLEMENTARY INFORMATION: The National Wildlife Refuge System Administration Act of 1966 closes national wildlife refuges to all uses until opened. The Secretary of the Interior (Secretary) may open refuge areas to any use, including hunting and/or sport fishing, upon a determination that such uses are compatible with the purposes of the refuge and National Wildlife Refuge System (Refuge System or we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications, deletions, or additions. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in Title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel limits, methods of hunting or sport fishing, descriptions of areas open to hunting or sport fishing, and other provisions as appropriate. You may find previously issued refuge-specific regulations for hunting and sport fishing in 50 CFR part 32. In this rulemaking, we are also proposing to standardize and clarify the existing language of these regulations.

Plain Language Mandate

In this rule we made some of the revisions to the individual refuge units to comply with a Presidential mandate to use plain language in regulations; as such, these particular revisions do not modify the substance of the previous regulations. These types of changes include using “you” to refer to the reader and “we” to refer to the Service, using the word “allow” instead of “permit” when we do not require the use of a permit for an activity, and using active voice.

Statutory Authority

The National Wildlife Refuge System Administration Act (Administration Act) of 1966 (16 U.S.C. 668dd-668ee, as amended) and the Refuge Recreation Act (Recreation Act) of 1962 (16 U.S.C. 460k-460k-4) govern the administration and public use of refuges.

Amendments enacted by the National Wildlife Refuge System Improvement Act of 1997 (Improvement Act) build upon the Administration Act in a manner that provides an “organic act” for the Refuge System similar to those that exist for other public Federal lands. The Improvement Act serves to ensure that we effectively manage the Refuge System as a national network of lands, waters, and interests for the protection and conservation of our Nation's wildlife resources. The Administration Act states first and foremost that we focus Refuge System mission on conservation of fish, wildlife, and plant resources and their habitats. The Improvement Act requires the Secretary, before allowing a new use of a refuge, or before expanding, renewing, or extending an existing use of a refuge, to determine that the use is compatible. The Improvement Act established as the policy of the United States that wildlife-dependent recreation, when compatible, is a legitimate and appropriate public use of the Refuge System, through which the American public can develop an appreciation for fish and wildlife. The Act established six wildlife-dependent recreational uses, when compatible, as the priority general public uses of the Refuge System. These uses are: hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

New Hunting and Sport Fishing Programs

In preparation for new openings, we include the following documents in each refuge's “opening package” (which the Region completes, the Regional Director reviews, and the refuge copies and sends to the Headquarters Office for review of compliance with the various opening requirements): (1) Step-down management plan; (2) appropriate National Environmental Policy Act (NEPA) documentation (e.g., Categorical Exclusion, Environmental Assessment, or Environmental Impact Statement); (3) appropriate NEPA decision documentation (e.g., Finding of No Significant Impact, Record of Decision); (4) Endangered Species Act Section 7 evaluation; (5) copies of letters requesting State and, where appropriate, Tribal involvement and the results of the request(s); (6) draft news release; (7) outreach plan; and (8) draft refuge-specific regulation. Upon approval of these documents, the Regional Director(s) is certifying that the opening of these refuges to hunting and/or sport fishing has been found to be compatible with the principles of sound fish and wildlife management and administration and otherwise will be in the public interest.

In accordance with the Administration Act and Recreation Act, we have determined that these openings are compatible and consistent with the purpose(s) for which we established the respective refuges and the Refuge System mission. A copy of the compatibility determinations for these respective refuges is available by request to the Regional office noted under the heading “Available Information for Specific Refuges.”

We propose to add the following hunting and sport fishing activities:

Unit | State | Migratory bird hunting | Upland game hunting | Big game hunting | Sport fishing
Waccamaw | SC | X | X | X | X
Crescent Lake | NB | X |  |  |
Mountain Longleaf | AL | X | X | X |
Red River | LA | X | X | X | X
Trinity River | TX |  | X | X |
Cross Creeks | TN | X |  |  |
Tennessee | TN | X |  |  |
Cypress Creek | IL |  |  |  | X
Big Oaks | IN | X | X |  |
Big Branch Marsh | LA |  | X |  |
Savannah | GA/SC | X |  |  |
Devils Lake WMD | ND | X | X | X | X
Huron WMD | SD | X | X | X | X
Lake Andes WMD | SD | X | X | X | X
Madison WMD | SD | X | X | X | X
Sand Lake WMD | SD | X | X | X | X
Waubay WMD | SD | X | X | X | X

Lands acquired as “waterfowl production areas,” which we generally manage as part of wetland management districts, are open to the hunting of migratory game birds, upland game, big game, and sport fishing subject to the provisions of State law and regulations (see 50 CFR 32.1 and 32.4). We are adding these existing wetland management districts to the list of refuges open for all four activities in part 32 this year: Huron, Lake Andes, Madison, Sand Lake, and Waubay Wetland Management Districts in South Dakota and Devils Lake Wetland Management District in North Dakota.

DeSoto National Wildlife Refuge in Iowa is closing to migratory bird hunting this year but will continue to remain open to big game hunting and sport fishing. The refuge has offered a snow-goose-only hunt for the past four seasons with poor success, so they are stopping the hunt due to very low harvest rates. Stillwater National Wildlife Refuge in Nevada is closing to sport fishing this year due to concerns over mercury contaminants in the fish.

If finalized as proposed, the 2004-2005 hunting and sport fishing season will result in a net of eight refuges added to sport fishing and nine refuges added to hunting. This will bring our cumulative total of refuges open to hunting to 325 and refuges open to sport fishing to 283.

We are proposing to amend 50 CFR part 32 to more clearly display and give notice to the public that we remain closed to commercial fishing at the following U.S. Unincorporated Pacific Island Insular Possessions: Baker Island National Wildlife Refuge, Howland Island National Wildlife Refuge, Jarvis Island National Wildlife Refuge, Kingman Reef National Wildlife Refuge, and Palmyra Atoll National Wildlife Refuge. The National Marine Fisheries Service published a final rule on February 24, 2004 (69 FR 8336 at page 8343), which included language stipulating that fishing is not allowed within a refuge unless authorized by the Service (50 CFR 660.601). In conjunction with this action, the Service agreed that it would further notify the public of the existing boundaries of the U.S. Unincorporated Pacific-Insular Possessions and to describe the fishing prohibitions within these refuge boundaries. None of the possessions (refuges) are currently open to commercial fishing, and we are specifically noting this in the CFR to more effectively notify the public and aid enforcement.

This document proposes to codify in the Code of Federal Regulations, all of the Service's hunting and/or sport fishing regulations that are applicable at Refuge System units previously opened to hunting and/or sport fishing. We are doing this to better inform the general public of the requirements at each refuge, to increase understanding and compliance with these requirements, and to make enforcement of these regulations more efficient. In addition to now finding these conditions in part 32, visitors to our refuges will usually find these terms and conditions reiterated in literature distributed by each refuge or posted on signs.

We have cross-referenced a number of existing regulations in 50 CFR parts 26 and 27 to assist hunting and sport fishing visitors with understanding safety and other legal requirements on refuges. This redundancy is deliberate, with the intention of improving safety and compliance in our hunting and sport fishing programs. We are not accepting public comment on the existing regulations cross-referenced in this rule for the benefit of visitors.

Fish Advisory

For health reasons, anglers should review and follow State-issued consumption advisories before enjoying recreational sport fishing opportunities on Service-managed waters. You can find information about current fish consumption advisories on the Internet at: http://www.epa.gov/ost/fish/.

Request for Comments

You may comment on this proposed rule by any one of several methods:

1. Federal eRulemaking Portal at http://www.regulations.gov. Follow the instructions at that site for submitting comments.

2. You may mail comments to: Chief, Division of Conservation Planning and Policy, National Wildlife Refuge System, U.S. Fish and Wildlife Service, 4401 N. Fairfax Drive, Room 670, Arlington, VA 22203.

3. You may comment via the Internet to: refugesystempolicycomments@fws.gov. Please submit Internet comments as an ASCII file, avoiding the use of special characters and any form of encryption. Please also include: “Attn: 1018-AT40” and your full name and return mailing address in your Internet message. If you only use your e-mail address, we will consider your comment to be anonymous and will not consider it in the final rule. If you do not receive a confirmation from the system that we have received your Internet message, contact us directly at (703) 358-2036.

4. You may fax comments to: Chief, Division of Conservation Planning and Policy, National Wildlife Refuge System, at (703) 358-2036.

5. Finally, you may hand-deliver or courier comments to the address mentioned above. In light of increased security measures, please call (703) 358-2036 before hand-delivering comments.

We seek comments on this proposed rule and will accept comments by any of the methods described above. Our practice is to make comments, including the names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this request prominently at the beginning of your comment. However, we will not consider anonymous comments. We will make all submissions from organizations or businesses and from individuals identifying themselves as representatives or officials of organizations or businesses available for public inspection in their entirety.

Department of the Interior policy is, whenever practicable, to afford the public a meaningful opportunity to participate in the rulemaking process. We considered providing a 60-day, rather than a 30-day, comment period. However, we determined that an additional 30-day delay in processing these refuge-specific hunting and sport fishing regulations would hinder the effective planning and administration of our hunting and sport fishing programs. That delay would jeopardize establishment of hunting and sport fishing programs this year, or shorten their duration. Many of these rules also relieve restrictions and allow the public to participate in recreational activities on a number of refuges. In addition, in order to continue to provide for previously authorized hunting opportunities while at the same time providing for adequate resource protection, we must be timely in providing modifications to certain hunting programs on some refuges.

When finalized, we will incorporate this regulation into 50 CFR parts 31 and 32. Part 31 contains general provisions for wildlife species management. Part 32 contains general provisions and refuge-specific regulations for hunting and sport fishing on refuges.

Clarity of This Regulation

Executive Order (E.O.) 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (5) Is the description of the rule in the “Supplementary Information” section of the preamble helpful in understanding the rule? (6) What else could we do to make the rule easier to understand? Send a copy of any comments on how we could make this proposed rule easier to understand to: Office of Regulatory Affairs, Department of the Interior, Room 7229, 1849 C Street, NW., Washington, DC 20240. You may e-mail your comments to: Execsec@ios.doi.gov.

Regulatory Planning and Review

In accordance with the criteria in E.O. 12866, the Service asserts that this rule is not a significant regulatory action. The Office of Management and Budget (OMB) makes the final determination under E.O. 12866.

a. This rule will not have an annual economic effect of $100 million or adversely affect an economic sector, productivity, jobs, the environment, or other units of the government. A cost-benefit and full economic analysis is not required. The purpose of this rule is to add 10 refuges and wetland management districts to the list of areas open for hunting and/or sport fishing programs and increase the activities available at 7 other refuges. These units are located in the States of Alabama, Georgia, Illinois, Indiana, Louisiana, Nebraska, North Dakota, South Carolina, South Dakota, Tennessee, and Texas. Sport fishing and hunting are two of the wildlife-dependent recreational uses of refuges that Congress recognized as legitimate and appropriate and directed that we should facilitate their pursuit, subject to such restrictions or regulations as may be necessary to ensure their compatibility with the purpose of each refuge. Many of the 544 existing refuges already have programs where we allow sport fishing and hunting. Not all refuges have the necessary resources and landscape that would make sport fishing and hunting opportunities available to the public. By opening these refuges to new activities, we have determined that we can make quality experiences available to the public. This rule establishes hunting and/or sport fishing programs and activities at the following refuges: Mountain Longleaf National Wildlife Refuge in Alabama, Savannah National Wildlife Refuge in Georgia and South Carolina, Cypress Creek National Wildlife Refuge in Illinois, Big Oaks National Wildlife Refuge in Indiana, Big Branch Marsh and Red River National Wildlife Refuges in Louisiana, Crescent Lake National Wildlife Refuge in Nebraska, Waccamaw National Wildlife Refuge in South Carolina, Cross Creeks and Tennessee National Wildlife Refuge in Tennessee, and Trinity River National Wildlife Refuge in Texas. We present impacts in 2003 dollars.

All wetland management districts are open to hunting and sport fishing activities until closed, and the proposed rulemaking reflects that Devils Lake Wetland Management District in North Dakota and Huron, Lake Andes, Madison, Sand Lake, and Waubay Wetland Management Districts in South Dakota are already open to hunting of migratory game birds, upland game, big game, and sport fishing. We do not expect any change in visitation rates at these wetland management districts because recreationists currently have the option to participate in these activities. Therefore, there are no new economic impacts from these wetland management districts.

Following a best-case scenario, if the refuges establishing new sport fishing and hunting programs were a pure addition to the current supply of such activities, it would mean a consumer surplus of approximately $885,000 annually and an estimated increase of 12,085 user days of hunting and 1,090 user days of sport fishing (Table 1). However, the participation trend is flat in sport fishing and hunting activities because the number of Americans participating in these activities has been stagnant since 1991. Any increase in the supply of these activities introduced by adding refuges where the activity is available will most likely be offset by other sites losing participants, especially if the new sites have higher quality sport fishing and/or hunting opportunities. Using the value of the difference in the upper and lower bounds of the 95 percent confidence interval for average consumer surplus to represent the estimate of the increase in consumer surplus for higher quality sport fishing and hunting (Walsh, Johnson, and McKean 1990 ¹) yields an estimated increase in consumer surplus of about $235,000 annually, which is a true estimate of the benefits. Consequently, this rule will have a small, measurable, beneficial economic impact on the U.S. economy.

¹ Article presented at the Western Regional Science Association Annual meeting in Molokai, Hawaii, on February 22, 1990.

Table 1.—Estimated Changes in Consumer Surplus From Additional Sport Fishing and Hunting Opportunities in 2004/05
Unit | Current hunting and/or fishing days (FY03) | Additional fishing days | Additional hunting days | Additional fishing and hunting days combined
Waccamaw |  | 300 | 175 | 475
Crescent Lake | 1,639 |  | 2,000 | 2,000
Mountain Longleaf |  |  | 4,000 | 4,000
Red River |  | 40 | 110 | 150
Trinity River | 12,243 |  | 300 | 300
Cross Creeks | 22,562 |  | 100 | 100
Tennessee | 233,517 |  | 200 | 200
Cypress Creek | 16,975 | 750 |  | 750
Big Oaks | 9,188 |  | 300 | 300
Big Branch Marsh | 6,835 |  | 4,000 | 4,000
Savannah | 6,856 |  | 900 | 900
Total days per year | 309,815 | 1,090 | 12,085 | 13,175
| In dollars | In dollars | In dollars
Consumer surplus per day | 63.57 | 67.53 |
Consumer surplus for quality change | 24.13 | 17.27 |
Change in total consumer surplus | 69,296 | 816,052 | 885,348
Change in quality consumer surplus | 26,306 | 208,662 | 234,968
Note 1: All estimates are stated in 2003 dollars.
Note 2: Fiscal year 2003 visitation numbers for Waccamaw, Mountain Longleaf, and Red River were not available.

b. This proposed rule will not create inconsistencies with other agencies' actions. This action pertains solely to the management of the Refuge System. The sport fishing and hunting activities located on refuges account for approximately 1 percent of the available supply in the United States. Any small, incremental change in the supply of sport fishing and hunting opportunities will not measurably impact any other agency's existing programs.

c. This proposed rule will not materially affect entitlements, grants, user fees, loan programs, or the rights and obligations of their recipients. This proposed rule does not affect entitlement programs. There are no grants or other Federal assistance programs associated with public use of refuges.

d. This proposed rule will not raise novel legal or policy issues. This proposed rule opens 10 additional refuges and wildlife management districts for sport fishing and hunting programs and increases the activities available at 7 other refuges. This proposed rule continues the practice of allowing recreational public use of refuges. Many refuges in the Refuge System currently have opportunities for the public to hunt and fish on refuge lands.

Regulatory Flexibility Act

We certify that this rule will not have a significant economic effect on a substantial number of small entities as defined under the Regulatory Flexibility Act (5 U.S.C. 601 et seq.). A Regulatory Flexibility Analysis is not required. Accordingly, a Small Entity Compliance Guide is not required.

Congress created the Refuge System to conserve fish, wildlife, plants, and their habitats and facilitated this conservation mission by providing Americans opportunities to visit and participate in compatible wildlife-dependent recreation, including sport fishing and hunting, as priority general public uses of refuges and to better appreciate the value of, and need for, wildlife conservation.

This proposed rule does not increase the number of recreation types allowed in the Refuge System but establishes hunting and/or sport fishing programs on ten refuges and in wetland management districts. As a result, opportunities for wildlife-dependent recreation on refuges will increase. The changes in the amount of permitted use are likely to increase visitor activity on these refuges. But, as stated above, this is likely to be a substitute site for the activity and not necessarily an increase in participation rates for the activity. To the extent visitors spend time and money in the area of the refuge that they would not have spent there anyway, they contribute new income to the regional economy and benefit local businesses.

For purposes of analysis, we will assume that any increase in refuge visitation is a pure addition to the supply of the available activity. This will result in a best-case scenario, and we expect to overstate the benefits to local businesses. The latest information on the distances traveled for sport fishing and hunting activities indicates that more than 80 percent of the participants travel less than 100 miles from home to engage in the activity. This indicates that participants will spend travel-related expenditures in their local economies. Since participation is scattered across the country, many small businesses benefit. The 2001 National Survey of Fishing, Hunting, and Wildlife Associated Recreation identifies expenditures for food and lodging, transportation, and other incidental expenses. Using the average expenditures for these categories with the expected maximum additional participation on the Refuge System as a result of this proposed rule yields the following estimates (Table 2) compared to total business activity for these sectors.

Table 2.—Estimation of the Additional Expenditures With an Increase of Activities in 7 Refuges and the Opening of 10 Refuges and Wetland Management Districts to Fishing and/or Hunting for 2004/05
| U.S. total expenditures in 2001 | Average expend. per day | Current refuge expenditures w/o duplication (FY2003) | Possible Additional Refuge Expendiitures
Anglers
Total Days Spent | $557 Mil |  | $6.7 Mil | 1,090
Total Expenditures | $37.0 Bil | $66 | $441.8 Mil | $72,395
Trip Related | $15.2 Bil | 27 | $181.7 Mil | 29,777
Food and Lodging | $6.1 Bil | 11 | $72.9 Mil | 11,949
Transportation | $3.7 Bil | 7 | $43.6 Mil | 7,143
Other | $5.5 Bil | 10 | $66.2 Mil | 10,685
Hunters
Total Days Spent | $228 Mil |  | $2.2 Mil | 12,085
Total Expenditures | $21.4 Bil | 94 | $206.5 Mil | $1,133,205
Trip Related | $5.5 Bil | 24 | $52.6 Mil | 288,770
Food and Lodging | $2.5 Bil | 11 | $24.5 Mil | 134,699
Transportation | $1.9 Bil | 8 | $17.9 Mil | 98,378
Other | $1.1 Bil | 5 | $10.1 Mil | 55,702
Note: All estimates are in 2003 dollars.

Using a national impact multiplier for hunting activities (2.73) derived from the report “Economic Importance of Hunting in America” and a national impact multiplier for sport fishing activities (2.79) from the report “Sportfishing in America” for the estimated increase in direct expenditures yields a total economic impact of approximately $3.3 million (2003 dollars) (Southwick Associates, Inc., 2003). Since we know that most of the sport fishing and hunting occurs within 100 miles of a participant's residence, then it is unlikely that most of this spending would be “new” money coming into a local economy and, therefore, this spending would be offset with a decrease in some other sector of the local economy. The net gain to the local economies would be no more than $3.3 million and most likely considerably less. Since 80 percent of the participants travel less than 100 miles to engage in hunting and sport fishing activities, their spending patterns would not add new money into the local economy and, therefore, the real impact would be on the order of $659,000 annually. The maximum increase (if all spending were new money) at most would be less than 2 percent for local retail trade spending (Table 3).

A large percentage of the retail trade establishments in the majority of affected counties qualifies as small businesses. With the small increase in overall spending anticipated from this proposed rule, it is unlikely that a substantial number of small entities will have more than a small benefit from the increased recreationist spending near the affected refuges.

Table 3.—Comparative Expenditures for Retail Trade Associated With Additional Refuge Visitation for 2004/05
Unit/county(ies) | Retail trade in 1997 (2003 dollars) | Estimated maximum addition from new refuge | Addition as a percentage of total retail trade | Total number retail establish. | Establish. with < 10 employees
Waccamaw
Horry, SC | 2,872.0 Mil | $12,083 | 0.0004 | 2,270 | 1,556
Georgetown, SC | 552.5 Mil | 12,083 | 0.002 | 492 | 347
Marion, SC | 247.3 Mil | 12,083 | 0.005 | 212 | 156
Crescent Lake
Garden, NE | 11.0 Mil | 188,000 | 1.701 | 21 | 18
Mountain Longleaf
Calhoun, AL | 1,125.8 Mil | 376,000 | 0.033 | 723 | 489
Red River
Natchitoches, LA | 264.1 Mil | 12,980 | 0.005 | 191 | 122
Trinity River
Liberty, TX | 506.4 Mil | 28,200 | 0.006 | 257 | 177
Cross Creeks
Stewart, TN | 49.9 Mil | 9,400 | 0.019 | 45 | 32
Tennessee
Henry, TN | 280.4 Mil | 6,267 | 0.002 | 218 | 160
Humphreys, TN | 127.0 Mil | 6,267 | 0.005 | 100 | 72
Benton, TN | 106.0 Mil | 6,267 | 0.006 | 106 | 80
Cypress Creek
Pulaski, IL | 17.8 Mil | 16,500 | 0.093 | 35 | 29
Union, IL | 111.0 Mil | 16,500 | 0.015 | 86 | 66
Alexander, IL | 33.4 Mil | 16,500 | 0.049 | 54 | 42
Big Oaks
Jefferson, IN | 322.3 | 9,400 | 0.003 | 218 | 153
Jennings, IN | 156.0 Mil | 9,400 | 0.006 | 100 | 70
Ripley, IN | 226.2 Mil | 9,400 | 0.004 | 168 | 113
Big Branch Marsh
St. Tammany Parish, LA | 1,732.8 Mil | 376,000 | 0.022 | 1,068 | 713
Savannah
Chatham, GA | 2,828.1 Mil | 28,200 | 0.001 | 1,760 | 1,179
Effingham, GA | 190.0 Mil | 28,200 | 0.015 | 114 | 79
Jasper, SC | 88.2 Mil | 28,200 | 0.032 | 95 | 61
Note 1: Data are from the U.S. Census Bureau's 1997 County Business Patterns & 1997 Economic Census.

Many small businesses may benefit from some increased refuge visitation. However, we expect that much of this benefit will be offset as recreationists spend the same money in a different location. We expect that the incremental recreational opportunities will be scattered, and so we do not expect that the rule will have a significant economic effect (benefit) on a substantial number of small entities in any region or nationally.

Small Business Regulatory Enforcement Fairness Act

The proposed rule is not a major rule under 5 U.S.C. 804(2), the Small Business Regulatory Enforcement Fairness Act. We anticipate no significant employment or small business effects. This rule:

a. Does not have an annual effect on the economy of $100 million or more. The additional sport fishing and hunting opportunities at the 7 refuges would generate angler and hunter expenditures with a maximum economic impact estimated at $3.3 million per year (2003 dollars). Consequently, the maximum benefit of this rule for businesses both small and large would not be sufficient to make this a major rule. The impact would be scattered across the country and would most likely not be significant in any local area.

b. Will not cause a major increase in costs or prices for consumers, individual industries, Federal, State, or local government agencies, or geographic regions. This proposed rule will have only a slight effect on the costs of hunting and sport fishing opportunities for Americans. Under the assumption that any additional hunting and sport fishing opportunities would be quality, participants would be attracted to the refuge. If the refuge were closer to the participants' residences, then a reduction in travel costs would occur and benefit the participants. The Service does not have information to quantify this reduction in travel cost but assumes that since most people travel less than 100 miles to hunt and fish, the reduced travel cost would be small for the additional days of hunting and sport fishing generated by this proposed rule. We do not expect this proposed rule to affect the supply or demand for sport fishing and hunting opportunities in the United States and, therefore, it should not affect prices for sport fishing and hunting equipment and supplies, or the retailers that sell equipment. Additional refuge hunting and sport fishing opportunities would account for less than 0.001 percent of the available opportunities in the United States.

c. Does not have significant adverse effects on competition, employment, investment, productivity, innovation, or the ability of United States-based enterprises to compete with foreign-based enterprises. This proposed rule represents only a small proportion of recreational spending of a small number of affected anglers and hunters, approximately a maximum of $3.3 million annually in impact. Therefore, this rule will have no measurable economic effect on the wildlife-dependent recreation industry, which has annual sales of equipment and travel expenditures of $72 billion nationwide. Refuges that establish hunting and sport fishing programs may hire additional staff from the local community to assist with the programs, but this would not be a significant increase because only 10 refuges are adding new programs and only 7 refuges are increasing activities by this proposed rule.

Unfunded Mandates Reform Act

Since this rule applies to public use of federally owned and managed refuges, it does not impose an unfunded mandate on State, local, or Tribal governments or the private sector of more than $100 million per year. The rule does not have a significant or unique effect on State, local, or Tribal governments or the private sector. A statement containing the information required by the Unfunded Mandates Reform Act (2 U.S.C. 1531 et seq.) is not required.

Takings (E.O. 12630)

In accordance with E.O. 12630, the rule does not have significant takings implications. This regulation will affect only visitors at refuges and describe what they can do while they are there.

Federalism (E.O. 13132)

As discussed in the Regulatory Planning and Review and Unfunded Mandates Reform Act sections above, this rule does not have sufficient Federalism implications to warrant the preparation of a Federalism Assessment under E.O. 13132. In preparing this proposed rule, we worked with State governments, and our programs are consistent to the State regulations to the degree practicable.

Civil Justice Reform (E.O. 12988)

In accordance with E.O. 12988, the Office of the Solicitor has determined that the rule does not unduly burden the judicial system and that it meets the requirements of sections 3(a) and 3(b)(2) of the Order. The regulation will clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this rule opens seven refuges to hunting and/or sport fishing programs and makes minor changes to other refuges open to those activities, it is not a significant regulatory action under E.O. 12866 and is not expected to significantly affect energy supplies, distribution, and use. Therefore, this action is a not a significant energy action and no Statement of Energy Effects is required.

Consultation and Coordination With Indian Tribal Governments (E.O. 13175)

In accordance with E.O. 13175, we have evaluated possible effects on federally recognized Indian tribes and have determined that there are no effects. We coordinate recreational use on refuges with Tribal governments having adjoining or overlapping jurisdiction before we propose the regulations. This regulation is consistent with and not less restrictive than Tribal reservation rules.

Paperwork Reduction Act

This regulation does not contain any information collection requirements other than those already approved by the OMB under the Paperwork Reduction Act (44 U.S.C. 3501 et seq.) (OMB Control Number is 1018-0102). See 50 CFR 25.23 for information concerning that approval. An agency may not conduct or sponsor and a person is not required to respond to a collection of information unless it displays a currently valid OMB control number.

Endangered Species Act Section 7 Consultation

We reviewed the changes in hunting and sport fishing regulations herein with regard to Section 7 of the Endangered Species Act of 1973 (16 U.S.C. 1531-1544, as amended) (ESA). For the refuges proposed to open for hunting and/or sport fishing, we have determined that Waccamaw National Wildlife Refuge (for wood stork, red cockaded woodpecker, peregrine falcon, and bald eagle), Mountain Longleaf National Wildlife Refuge, Red River National Wildlife Refuge, Trinity River National Wildlife Refuge, Cross Creeks National Wildlife Refuge, Tennessee National Wildlife Refuge, Cypress Creek National Wildlife Refuge, Big Oaks National Wildlife Refuge, and Big Branch National Wildlife Refuge will not likely adversely affect any endangered or threatened species or designated critical habitat, and Waccamaw National Wildlife Refuge (for shortnose sturgeon, pondberry, Canby's dropwort, and American chaffseed), Savannah National Wildlife Refuge, and Crescent Lake National Wildlife Refuge will not affect any endangered or threatened species or designated critical habitat.

We also comply with Section 7 of the ESA when developing comprehensive conservation plans and step-down management plans for public use of refuges, and prior to implementing any new or revised public recreation program on a refuge as identified in 50 CFR 26.32. We also make determinations when required by the ESA before the addition of a refuge to the lists of areas open to hunting or sport fishing as contained in 50 CFR 32.7.

National Environmental Policy Act

We analyzed this rule in accordance with the criteria of the National Environmental Policy Act of 1969 (42 U.S.C. 4332(C)) (NEPA) and 516 DM 6, Appendix 1. This rule does not constitute a major Federal action significantly affecting the quality of the human environment. An environmental impact statement/assessment is not required.

A categorical exclusion from NEPA documentation applies to this amendment of refuge-specific hunting and sport fishing regulations since it is technical and procedural in nature and we otherwise comply with NEPA at the specific refuge units.

Prior to the addition of a refuge to the list of areas open to hunting and sport fishing in 50 CFR part 32, we develop specific management plans for the affected refuges. We incorporate these proposed refuge hunting and sport fishing activities in refuge CCPs and/or other step-down management plans, pursuant to our refuge planning guidance in 602 FW 1, 3, and 4. We prepare CCPs and step-down plans in compliance with section 102(2)(C) of NEPA, and the Council on Environmental Quality's regulations for implementing NEPA in 40 CFR parts 1500-1508. We invite the affected public to participate in the review, development, and implementation of these plans.

Available Information for Specific Refuges

Individual refuge headquarters retain information regarding public use programs and the conditions that apply to their specific programs and maps of their respective areas. You may also obtain information from the Regional Offices at the addresses listed below:

Region 1—California, Hawaii, Idaho, Nevada, Oregon, and Washington. Regional Chief, National Wildlife Refuge System, U.S. Fish and Wildlife Service, Eastside Federal Complex, 911 N.E. 11th Avenue, Portland, Oregon 97232-4181; Telephone (503) 231-6214.

Region 2—Arizona, New Mexico, Oklahoma, and Texas. Regional Chief, National Wildlife Refuge System, U.S. Fish and Wildlife Service, P.O. Box 1306, 500 Gold Avenue, Albuquerque, New Mexico 87103; Telephone (505) 248-6804.

Region 3—Illinois, Indiana, Iowa, Michigan, Minnesota, Missouri, Ohio, and Wisconsin. Regional Chief, National Wildlife Refuge System, U.S. Fish and Wildlife Service, 1 Federal Drive, Federal Building, Fort Snelling, Minnesota 55111; Telephone (612) 713-5400.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, Georgia 30345; Telephone (404) 679-7154.

Region 5—Connecticut, Delaware, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8302.

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145.

Region 7—Alaska. Regional Chief, National Wildlife Refuge System, U.S. Fish and Wildlife Service, 1011 E. Tudor Rd., Anchorage, Alaska 99503; Telephone (907) 786-3354.

Primary Author

Leslie A. Marler, Management Analyst, Division of Conservation Planning and Policy, National Wildlife Refuge System, U.S. Fish and Wildlife Service, Arlington, Virginia 22203, is the primary author of this rulemaking document.

List of Subjects

50 CFR Part 31

Fish, Wildlife, Wildlife refuges.

50 CFR Part 32

Fishing, Hunting, Reporting and recordkeeping requirements, Wildlife, Wildlife refuges.

For the reasons set forth in the preamble, we propose to amend Title 50, Chapter I, subchapter C of the Code of Federal Regulations as follows:

PART 31—[AMENDED]

1. The authority citation for part 31 continues to read as follows:

Authority: 5 U.S.C. 301; 43 U.S.C. 315a; 16 U.S.C. 460k, 668dd-ee, 685, 725, 690d, 715i, 664, 718(b); 48 Stat. 1270; sec. 4. 76 Stat. 654.

2. Revise § 31.13 to read as follows:

§ 31.13 Do we allow commercial harvest of fishery resources?

Refuge managers may allow commercial harvest of fishery resources by issuance of a permit or by refuge-specific regulation in compliance with applicable State and Federal laws when compatible and in compliance with § 29.1 of this subchapter C.

PART 32—[AMENDED]

3. The authority citation for part 32 continues to read as follows:

Authority: 5 U.S.C. 301; 16 U.S.C. 460k, 664, 668dd-668ee, and 715i.

§ 32.7 [Amended]

4. Amend § 32.7 “What refuge units are open to hunting and/or sport fishing?” by:

a. Revising the listing of “Blowing Wind Cave National Wildlife Refuge” to read “Sauta Cave National Wildlife Refuge” and placing it in alphabetical order, alphabetically adding “Grand Bay National Wildlife Refuge,” and alphabetically adding “Mountain Longleaf National Wildlife Refuge” in the State of Alabama;

b. Revising the listing of “San Francisco Bay National Wildlife Refuge” to read “Don Edwards San Francisco Bay National Wildlife Refuge” and placing it in alphabetical order in the State of California;

c. Alphabetically adding “Marais des Cygnes National Wildlife Refuge” in the State of Kansas, which was previously inadvertently omitted;

d. Alphabetically adding “Red River National Wildlife Refuge” in the State of Louisiana;

e. Removing “Lake Umbagog National Wildlife Refuge” in the State of New Jersey;

f. Revising “MacKay Island National Wildlife Refuge” to read “Mackay Island National Wildlife Refuge” in the State of North Carolina;

g. Alphabetically adding “Devils Lake Wetland Management District” in the State of North Dakota;

h. Revising the listing of “Hart Mountain National Wildlife Refuge” to read “Hart Mountain National Antelope Refuge” and placing it in alphabetical order in the State of Oregon;

i. Alphabetically adding “Waccamaw National Wildlife Refuge” in the State of South Carolina;

j. Alphabetically adding “Devils Lake Wetland Management District”, “Huron Wetland Management District”,” “Lake Andes Wetland Management District”, “Madison Wetland Management District”, “Sand Lake Wetland Management District”, and “Waubay Wetland Management District”, and revising the listing of “Wauby National Wildlife Refuge” to read “Waubay National Wildlife Refuge” in the State of South Dakota; and

k. Revising the listing of “Johnston Atoll National Wildlife Refuge” to read “Johnston Island National Wildlife Refuge” in the United States Unincorporated Pacific Insular Possessions.

5. Add a new § 32.9 to read as follows:

§ 32.9 What specific areas of United States Unincorporated Pacific-Insular Possessions remain closed to commercial fishing?

Baker Island National Wildlife Refuge. We prohibit collection and/or fishing for pelagic species, bottomfish species, crustaceans, and coral reef-associated species, including the collection of corals, from within the marine boundaries of this refuge unit. This refuge unit includes all of Baker Island, approximately in latitude 0°13′30″ north and longitude 176°28′ west from Greenwich [See map A insert], together with its territorial sea, extending outward from land to 3 nautical miles.

BILLING CODE 4310-55-P

Howland Island National Wildlife Refuge. We prohibit collection and/or fishing for pelagic species, bottomfish species, crustaceans, and coral reef-associated species, including the collection of corals, from within the marine boundaries of this refuge unit. This refuge unit includes all of Howland Island, approximately in latitude 0°49′ north and longitude 176°43′ west from Greenwich [See map B insert], together with its territorial sea, extending outward from land to 3 nautical miles.

Jarvis Island National Wildlife Refuge. We prohibit collection and/or fishing for pelagic species, bottomfish species, crustaceans, and coral reef-associated species, including the collection of corals, from within the marine boundaries of this refuge unit. This refuge unit includes all of Jarvis Island, approximately in latitude 0°22′20″ north and longitude 160°01′ west from Greenwich [See map C insert], together with its territorial sea, extending outward from land to 3 nautical miles.

Kingman Reef National Wildlife Refuge. We prohibit collection and/or fishing for pelagic species, bottomfish species, crustaceans, and coral reef-associated species, including the collection of corals, from within the marine boundaries of this refuge unit. This refuge unit includes all of Kingman Reef, approximately in latitude 6°23′ north and longitude 162°25′ west from Greenwich [See map D insert], together with its territorial sea, extending outward from land to 12 nautical miles.

Palmyra Atoll National Wildlife Refuge. We prohibit commercial collection and/or fishing for pelagic species, bottomfish species, crustaceans, and coral reef-associated species, including the collection of corals, from within the marine boundaries of this refuge unit. This refuge unit includes all of the emergent land of Palmyra Atoll, approximately in latitude 5°53′ north and longitude 162° 05′ west from Greenwich [See map E insert], together with its territorial sea, extending outward from land to 12 nautical miles.

BILLING CODE 4310-55-C

§§ 32.20 through 32.72 [Amended]

6. In §§ 32.20 through 32.72 remove the entry “A. Hunting of Migratory Game Birds.” and add in its place “A. Migratory Game Bird Hunting.” each place that it appears.

7. Amend § 32.20 Alabama by:

a. Revising the listing of “Blowing Wind Cave National Wildlife Refuge” to read “Sauta Cave National Wildlife Refuge,” placing it in alphabetical order, and revising paragraph B.;

b. Revising “Choctaw National Wildlife Refuge;”

c. Revising “Eufaula National Wildlife Refuge;”

d. Revising paragraphs A. and B. of “Key Cave National Wildlife Refuge;”

e. Adding “Mountain Longleaf National Wildlife Refuge;” and

f. Revising paragraphs B., C., and D. of “Wheeler National Wildlife Refuge” to read as follows:

§ 32.20 Alabama.

* * * * *

Choctaw National Wildlife Refuge

A. Migratory Game Bird Hunting. [Reserved]

B. Upland Game Hunting. We allow hunting of squirrel, rabbit, raccoon, and opossum on designated areas of the refuge in accordance with State regulations subject to the following conditions:

1. We prohibit hunting within 100 yards (90 m) of the fenced-in Work Center Area or the refuge boat ramp.

2. Access to the Middle Swamp is by boat only. We prohibit access to the refuge from private land.

3. We prohibit marking trees and use of flagging tape, reflective tacks, and other similar marking devices.

4. You may take incidental species as listed in the refuge hunt permit during any fall hunt with those weapons legal during those hunts.

5. You must possess and carry a signed refuge hunt permit when hunting.

6. All youth hunters age 15 and younger must remain within sight and normal voice contact of an adult age 21 or older, possessing a license. Youth hunters must have passed a State-approved hunter education course. One adult may supervise no more than two youth hunters.

7. We prohibit overnight mooring or storage of boats.

8. We require hunters to check all harvested game at the conclusion of each day's hunt at one of the refuge check-out stations.

9. You may only use approved nontoxic shot (see § 32.2(k)) #4 or smaller, .22 caliber rimfire, or legal archery equipment.

10. We allow you to use dogs during the hunt, but the dogs must be under the immediate control of the handler at all times and not allowed to roam free (see § 26.21(b) of this chapter). We prohibit dogs in the Middle Swamp area of the refuge.

C. Big Game Hunting. We allow hunting of white-tailed deer and feral hog in accordance with State regulations subject to the following conditions:

1. Conditions B1 through B8 apply.

2. We require tree stand users to use a safety belt or harness.

3. We prohibit damaging trees or hunting from a tree that contains an inserted metal object (see § 32.2(i)). Hunters must remove stands from trees after each day's hunt (see § 27.93 of this chapter).

4. During the spring muzzleloader hunt for feral hog, muzzleloaders must be .40 caliber or larger without scopes. We require hunters to wear hunter orange in accordance with State big game regulations except you must also wear hunter orange while on tree stands.

5. We prohibit participation in organized drives.

6. We prohibit mules and horses on all refuge hunts.

7. We prohibit hunting by aid or distribution of any feed, salt, or other mineral at any time.

D. Sport Fishing. We allow fishing in designated areas of the refuge in accordance with State regulations subject to the following conditions:

1. We allow fishing year-round, except in the waterfowl sanctuary, which we close from December 1 through March 1.

2. With the exception of the refuge boat ramp, we limit access from ½ hour before legal sunrise to ½ hour after legal sunset.

3. You may use a rod and reel and pole and line. We prohibit all other methods of fishing.

4. We prohibit the taking of frogs or turtles (see § 27.21 of this chapter).

5. We prohibit bow fishing.

6. We prohibit the use of airboats, hovercraft, and inboard waterthrust boats such as, but not limited to, personal watercraft, watercycles, and waterbikes on all waters of the refuge.

7. We allow commercial fishing with the use of nets, seines, boxes, and baskets only by Special Use Permit.

8. We prohibit mooring or storing of boats from ½ hour after legal sunset to ½ hour before legal sunrise.

Eufaula National Wildlife Refuge

A. Migratory Game Bird Hunting. We allow hunting of mourning and Eurasian-collared dove, duck, and goose on designated areas of the refuge in accordance with State regulations subject to the following conditions:

1. You must possess and carry a signed refuge hunt permit when hunting.

2. We allow dove hunting on selected areas and days during the State dove season. You may only possess approved nontoxic shotshells (see § 32.2(k)).

3. We allow goose and duck hunting in the Kennedy and Bradley Units on selected days until 12 p.m. (noon) during State waterfowl seasons. We close all other areas within the refuge to waterfowl hunting.

4. You may only possess approved nontoxic shotshells while in the field (see § 32.2(k)) in quantities of 25 or less when hunting duck or goose.

5. All youth hunters age 15 and younger must remain within sight and normal voice contact of an adult age 21 or older, possessing a license. Youth hunters must possess and carry verification of passing a State-approved hunter education course. One adult may supervise no more than two youth hunters.

B. Upland Game Hunting. We allow hunting of squirrel and rabbit on designated areas of the refuge in accordance with State regulations subject to the following conditions:

1. Conditions A1 and A5 apply.

2. We allow squirrel and rabbit hunting on selected areas and days during the State season.

3. We prohibit dogs (see § 26.21(b) of this chapter).

4. We allow only shotguns.

5. We prohibit mooring or storing of boats from 2 hours after legal sunset to ½ hour before legal sunrise.

C. Big Game Hunting. We allow hunting of white-tailed deer and feral hog on designated areas of the refuge in accordance with State regulations subject to the following conditions:

1. Conditions A1 and B5 apply.

2. We allow both archery deer and feral hog hunting during State archery and gun seasons.

3. We close the portion of the refuge between Bustahatchee and Rood Creeks to archery hunting until November 1.

4. All youth hunters age 15 and younger must remain within sight and normal voice contact of an adult age 21 or older, possessing a license. We allow youth gun deer hunting (ages 10-16) within the Bradley Unit on weekends during October where youth age 16 or under must be supervised by an adult. Youth hunters must have passed a State-approved hunter education course. One adult may supervise no more than one youth hunter.

5. We close the portion of the refuge around the Upland Impoundment, also designated by signs reading “Closed Seasonally November 15-February 28,” to hunting after November 15.

6. We prohibit damaging trees or hunting from a tree that contains an inserted metal object (see § 32.2(i)). Hunters must remove stands from the trees after each day's hunt (see § 27.93 of this chapter).

7. We allow access to the refuge for all hunts from 1½ hours before legal sunrise to 1½ hours after legal sunset.

8. We prohibit hunting by aid or distribution of any feed, salt, or other mineral at any time (see § 32.2(h)).

9. We prohibit participation in organized drives.

10. We prohibit mules and horses on all refuge hunts.

11. We require tree stand users to use a safety belt or harness.

D. Sport Fishing. We allow fishing in designated areas of the refuge in accordance with State regulations subject to the following conditions:

1. We allow fishing, including bowfishing, from legal sunrise to legal sunset only in refuge waters other than Lake Eufaula.

2. We prohibit taking frog or turtle (see § 27.21 of this chapter) from refuge waters not connected with Lake Eufaula.

3. We adopt reciprocal license agreements between Alabama and Georgia for fishing in Lake Eufaula. Anglers fishing in refuge impounded waters must possess and carry a license for the State in which they are fishing.

4. We prohibit use of boats with motors in all refuge impounded areas.

5. Condition B5 applies.

Key Cave National Wildlife Refuge

A. Migratory Game Bird Hunting. We allow hunting of mourning and Eurasian-collared dove on designated areas of the refuge in accordance with State regulations subject to the following conditions:

1. You must possess and carry a signed refuge hunt permit when hunting.

2. We allow hunting on designated areas from 12 p.m. (noon) to legal sunset Mondays, Tuesdays, Fridays, and Saturdays.

3. Hunters must park in designated parking areas. We prohibit parking vehicles on refuge roads or in the fields (see § 27.31 of this chapter).

4. All youth hunters age 15 and younger must remain within sight and normal voice contact of an adult age 21 or older, possessing a license. Youth hunters must have passed a State-approved hunter education course. One adult may supervise no more than two youth hunters.

5. We allow you to use dogs during the hunt, but the dogs must be under the immediate control of the handler at all times and not allowed to roam free ( see § 26.21(b) of this chapter).

B. Upland Game Hunting. We allow hunting of quail, squirrel, rabbit, raccoon, and opossum on designated portions of the refuge in accordance with State regulations subject to the following conditions:

1. Conditions A1 and A3 through A5 apply.

2. We allow hunting on designated areas from legal sunrise to legal sunset Mondays, Tuesdays, Fridays, and Saturdays, except that you may hunt opossum and raccoon after legal sunset.

* * * * *

Mountain Longleaf National Wildlife Refuge

A. Migratory Game Bird Hunting. We allow hunting of woodcock on designated areas of the refuge in accordance with State regulations subject to the following condition: You must possess and carry a signed hunt permit when hunting.

B. Upland Game Hunting. We allow hunting of quail, squirrel, rabbit, groundhog, raccoon, opossum, beaver, and fox on designated areas of the refuge in accordance with State regulations subject to the following conditions:

1. You must possess and carry a signed refuge hunt permit when hunting.

2. We only allow hunting from legal sunrise to legal sunset.

3. We prohibit the use of dogs (see § 26.21(b) of this chapter) to hunt or pursue raccoon, opossum, or fox.

C. Big Game Hunting. We allow hunting of white-tailed deer, bobcat, coyote, feral hog, and turkey on designated areas of the refuge in accordance with State regulations subject to the following conditions:

1. Condition B1 applies.

2. We prohibit damaging trees or hunting from a tree that contains an inserted metal object (see § 32.2(i)). Hunters must remove stands from trees after each day's hunt (see § 27.93 of this chapter).

3. We prohibit using dogs (see § 26.21(b) of this chapter) to hunt or pursue big game.

D. Sport Fishing. [Reserved]

Sauta Cave National Wildlife Refuge

* * * * *

B. Upland Game Hunting. We allow hunting of upland game on designated areas of the refuge in accordance with State regulations subject to the following condition: Sauty Creek Wildlife Management Area regulations apply.

* * * * *

Wheeler National Wildlife Refuge

* * * * *

B. Upland Game Hunting. We allow hunting of quail, squirrel, rabbit, raccoon, and opossum on designated areas of the refuge in accordance with State regulations subject to the following conditions:

1. You must possess and carry a signed refuge hunt permit when hunting.

2. You may only possess approved nontoxic shot (see § 32.2(k)) #4 or smaller, .22 caliber rimfire, or legal archery equipment.

3. You must unload and case or dismantle firearms (see § 27.42 of this chapter) before placing them in a vehicle or boat.

4. We prohibit hunting in the Triana recreation area or within 100 yards (90 m) of any public building, public road, walking trail, or boardwalk.

5. We prohibit mules and horses on all refuge hunts.

6. We allow hunting on designated areas Monday through Saturday. We prohibit hunting on Sunday.

7. All youth hunters age 15 and younger must remain within sight and normal voice contact of an adult age 21 or older, possessing a license. Youth hunters must have passed a State-approved hunter education course. One adult may supervise no more than two youth hunters.

8. We prohibit overnight mooring or storing of boats.

9. We prohibit marking trees and the use of flagging tape, reflective tacks, and other similar marking devices.

10. We allow the use of dogs to hunt upland game, but the dogs must be under the immediate control of the handler at all times and not allowed to run free (see § 26.21(b) of this chapter).

C. Big Game Hunting. We allow hunting of white-tailed deer on designated areas of the refuge in accordance with State regulations subject to the following conditions:

1. Conditions B1, B3, B4, B6, B8, and B9 apply.

2. We prohibit participation in organized drives.

3. We allow bows with broadhead arrows and flintlocks .40 caliber or larger only.

4. We prohibit damaging trees or hunting from a tree that contains an inserted metal object (see § 32.2(i)). Hunters must remove stands from trees after each day's hunt (see § 27.93 of this chapter).

5. We require tree stand users to use a safety belt or harness.

6. We prohibit mules and horses on all refuge hunts.

7. We prohibit hunting by aid or distribution of any feed, salt, or other mineral at any time (see § 32.2(h)).

8. All youth hunters age 15 and younger must remain within sight and normal voice contact of an adult age 21 or older, possessing a license. Youth hunters must have passed a State-approved hunter education course. One adult may supervise no more than one youth.

D. Sport Fishing. We allow fishing on designated areas of the refuge in accordance with State regulations subject to the following conditions:

1. We prohibit bank fishing around the shoreline of the refuge headquarters.

2. We open all other refuge waters to fishing year-round unless otherwise posted.

3. We prohibit fishing in the Waterfowl Display Pool and other waters adjacent to the visitor center.

4. We prohibit airboats and hovercraft on all waters within the refuge boundaries.

5. We prohibit inboard waterthrust boats such as, but not limited to, personal watercraft, watercycles, and waterbikes on all waters of the refuge except that portion of the Tennessee River and Flint Creek from its mouth to mile marker 3.

6. We prohibit overnight mooring and storing of boats.

8. Amend § 32.22 Arizona by:

a. Revising “Bill Williams River National Wildlife Refuge;”

b. Revising paragraphs A., B., and C. of “Buenos Aires National Wildlife Refuge;” and

c. Revising paragraph A.4.iv. of “Havasu National Wildlife Refuge” to read as follows:

§ 32.22 Arizona.

* * * * *

Bill Williams River National Wildlife Refuge

A. Migratory Game Bird Hunting. We allow hunting of mourning and white-winged dove in accordance with State regulations subject to the following conditions:

1. We only allow shotguns.

2. You may only possess approved nontoxic shot while in the field (see § 32.2(k)).

3. We only allow hunting in accordance with State regulations for the listed species.

4. We only allow hunting on the refuge in those areas south of the Bill Williams Road and east of Arizona State Rt. 95 and the south half of Section 35, T 11N-R 17W as posted.

5. Only upon specific consent from an authorized refuge employee may you retrieve game from an area closed to hunting or entry.

6. We prohibit hunting within 50 yards (45 m) of any building, road, or levee.

7. We prohibit target practice or any nonhunting discharge of firearms (see § 27.42 of this chapter).

B. Upland Game Hunting. We allow hunting of quail and cottontail rabbit in accordance with State regulations subject to the following conditions:

1. Conditions A1 and A3 through A7 apply.

2. We only allow hunting of cottontail rabbit from September 1 to the close of the State quail season.

C. Big Game Hunting. We allow hunting of desert bighorn sheep in Arizona Wildlife Management Areas 16A and 44A in accordance with State regulations subject to the following conditions:

1. Anyone for hire assisting or guiding a hunter(s) must obtain, possess, and carry a valid Special Use Permit issued by the refuge manager.

2. Conditions A3 through A7 apply.

D. Sport Fishing. We allow fishing in accordance with State regulations subject to the following conditions:

1. We close the isolated grow-out cove near the visitor center to fishing as posted.

2. We prohibit personal watercraft (PWC as defined by State law), air boats, and hovercraft on all waters within the boundaries of the refuge.

3. We designate all waters as wakeless speed zones (as defined by State law).

4. Persons fishing from a boat or other floating object must obtain, possess, and carry a current Colorado River shared jurisdiction stamp.

Buenos Aires National Wildlife Refuge

A. Migratory Game Bird Hunting. We allow hunting of goose, duck, coot, and mourning and white-winged dove on designated areas of the refuge in accordance with State regulations subject to the following conditions:

1. You may only use firearms (see § 27.42 of this chapter) for the taking of legal game. You may only carry and use handguns in conjunction with a designated handgun season. We prohibit weapons in the No-Hunt Zone of the refuge headquarters, on Service property in Brown Canyon, and in the Watchable Wildlife Areas located at Arivaca Cienega and Arivaca Creek.

2. We allow stands, but you must remove them at the end of the hunt (see § 27.93 of this chapter).

3. The No-Hunt Zones include: Clark Ranch Tract, Don Honnas Tract, all Service property in Brown Canyon, Arivaca Creek from milepost 7 to Arivaca and within ¼ mile (.4 km) of the creek bed, within ¼ mile (.4 km) of all refuge residences and structures, and within a 2-mile (3.2 km) radius of both the refuge headquarters and the 10 mile (16 km) Antelope Wildlife Drive.

B. Upland Game Hunting. We allow hunting of cottontail rabbit, coyote, and skunk on designated areas of the refuge in accordance with State regulations subject to the following conditions:

1. We only require a refuge permit to hunt coyote during April and May. Permits are available at refuge headquarters.

2. Conditions A1 through A3 apply.

3. Hunting groups using more than four horses must possess and carry a refuge permit.

4. Each hunter using horses must provide water and feed and clear all horse manure from all campsites.

C. Big Game Hunting. We allow hunting of mule and white-tailed deer, javelina, and feral hog on designated areas of the refuge in accordance with State regulations subject to the following conditions:

1. You may only hunt feral hog during big game seasons. Each hunter must possess and carry a valid hunting license and big game permit for the season in progress. There is no bag limit.

2. Conditions A1 through A3 and B3 apply.

* * * * *

Havasu National Wildlife Refuge

A. Migratory Game Bird Hunting. * * *

* * * * *

4. * * *

iv. We limit the number of shells waterfowl hunters may possess as indicated in refuge brochures.

* * * * *

9. Amend § 32.23 Arkansas by:

a. Revising “Bald Knob National Wildlife Refuge;”

b. Revising paragraphs A., B., C., D.1., and D.5., and adding paragraph D.8. of “Big Lake National Wildlife Refuge;”

c. Revising “Cache River National Wildlife Refuge;”

d. Revising “Felsenthal National Wildlife Refuge;”

e. Revising “Holla Bend National Wildlife Refuge;”

f. Revising “Overflow National Wildlife Refuge;”

g. Revising “Pond Creek National Wildlife Refuge;”

h. Revising paragraphs B., the introductory text of paragraph C., paragraphs C.1. and C.3. and paragraph D. of “Wapanocca National Wildlife Refuge;” and

i. Revising “White River National Wildlife Refuge” to read as follows:

§ 32.23 Arkansas.

* * * * *

Bald Knob National Wildlife Refuge

A. Migratory Game Bird Hunting. We allow hunting of duck, goose, coot, snipe, woodcock, and dove on designated areas of the refuge in accordance with State regulations subject to the following conditions:

1. We require refuge hunting permits. The permits are nontransferable, and anyone on refuge land in possession of hunting equipment must sign, possess, and carry the permits at all times.

2. We allow hunting of duck, goose, and coot daily until 12 p.m. (noon) throughout the State seasons, except for season closures on the Farm Unit during Gun Deer Hunt and for the exception provided in A3.

3. We allow hunting for goose from ½ hour before sunrise until legal sunset after the closing of the duck season in January for the remainder of the State goose season(s) and Snow, Blue, and Ross' Goose Conservation Orders.

4. We allow hunting for dove, snipe, and woodcock when their seasons correspond with duck and/or goose seasons.

5. We prohibit commercial hunting/guiding.

6. You may only possess approved nontoxic shot shells while in the field (see § 32.2(k)) in quantities of 25 or less. The possession limit includes shells located in/on vehicles and other personal equipment.

7. We prohibit hunting closer than 100 yards (90 m) to another hunter or hunting party.

8. You must remove decoys, blinds, boats, and all other equipment (see § 27.93 of this chapter) daily by 2 p.m.

9. Waterfowl hunters may enter the refuge parking areas at 4:45 a.m. and access the refuge at 5 a.m.

10. Hunters may leave boats with the owner's name and address permanently displayed or valid registration on the refuge from March 1 through October 31.

11. We prohibit possession of or marking trails with materials other than biodegradable paper flagging or reflective tape/tacks.

12. We prohibit building or hunting from permanent blinds.

13. We prohibit cutting of holes or manipulation of vegetation (i.e., cutting bushes, mowing, weed-eating, herbicide use, etc.) and hunting from manipulated areas (see § 27.51 of this chapter).

14. We allow retriever dogs.

15. You must unload firearms (see § 27.42(b) of this chapter) when carried in/on land vehicles or boats under power.

16. We allow waterfowl hunting from roads and levees.

17. All youth hunters age 15 and younger must remain within sight and normal voice contact of an adult age 21 or older, possessing a license. For migratory bird hunting, one adult may supervise no more than two youth hunters.

18. We prohibit target practice or nonhunting discharge of firearms (see § 27.42 of this chapter).

19. We only allow vehicle use on established roads and trails (see § 27.31 of this chapter). We limit vehicle access on the Mingo Creek Unit to ATV use, only on marked ATV trails. You may use conventional vehicles on the Farm Unit from March 1 to November 14. You may only use ATVs from November 15 to February 28 for access beyond Parking Areas.

20. We prohibit entry into or hunting in waterfowl sanctuaries from November 15 through February 28.

21. You must adhere to all public use special conditions and regulations on the annual hunt brochure/permit.

22. We prohibit airboats, hovercraft, and personal watercraft (Jet Ski, etc.).

B. Upland Game Hunting. We allow hunting of squirrel, rabbit, quail, raccoon, opossum, beaver, muskrat, nutria, armadillo, coyote, and feral hog on designated areas of the refuge in accordance with State regulations subject to the following special conditions:

1. Conditions A1, A5, A11, A15, A17 (for upland game hunting, one adult may supervise no more than two youth hunters), A18, A19, A21, and A22 apply.

2. You may only possess approved nontoxic shot while in the field (see § 32.2(k)).

3. We allow fall squirrel hunting in accordance with the State season on the Mingo Creek Unit and on the Farm Unit, except for season closure on the Farm Unit during the Gun Deer Hunt. We prohibit dogs, except for the period of January 15 through February 28. We do not open for the spring squirrel season.

4. We allow rabbit hunting in accordance with the State season on the Mingo Creek Unit and on the Farm Unit, except for season closure on the Farm Unit during the Gun Deer Hunt. We prohibit dogs, except for the period of January 15 through February 28.

5. We allow quail hunting in accordance with the State season except for season closure on the Farm Unit only during the Gun Deer Hunt. We allow dogs.

6. We allow hunting of raccoon and opossum with dogs beginning in November and continuing for up to a 3-week period. We list annual season dates in the refuge hunting brochure/permit. We prohibit pleasure running or training of dogs.

7. We prohibit the use of horses.

8. You may take beaver, muskrat, nutria, armadillo, feral hog, and coyote during any refuge hunt with the weapon allowed for that hunt.

9. We prohibit entry into or hunting in refuge waterfowl sanctuaries from November 15 to February 28.

10. We prohibit hunting from roads except by waterfowl hunters.

11. You may leave boats with the owner's name and address or valid registration permanently displayed on the refuge from March 1 through October 31.

12. We prohibit hunting from a vehicle.

13. We only allow rifles chambered for rimfire cartridges.

C. Big Game Hunting. We allow hunting of deer and turkey on designated areas of the refuge in accordance with State regulations subject to the following conditions:

1. Conditions A1, A5, A11, A15, A18, A19, A21, A22, and B8, B11, and B12 apply.

2. We divide the refuge into two hunting units: Farm Unit and Mingo Creek Unit.

3. The archery/crossbow hunting season for deer begins on the opening day of the State season and continues throughout the State season in the Mingo Creek Unit and Farm Unit except for the season closure on the Farm Unit during the Gun Deer Hunt. We provide annual season dates and bag limits on the hunt brochure/permit.

4. Muzzleloader hunting season for deer will begin in October and will continue for a period of up to 9 days in all hunting units with annual season dates and bag limits provided on the hunt brochure/permit.

5. The Gun Deer Hunt will begin in November and continue for a period of up to 9 days on the Farm Unit with annual season dates and bag limits provided on the hunt brochure/permit. We close the Mingo Creek Unit.

6. The fall archery/crossbow hunting season for turkey will begin on the opening day of the State season and continue throughout the State season on the Mingo Creek Unit only.

7. We prohibit spring and fall gun hunting for turkey.

8. Immediately record the zone 002 on your hunting license and later at an official check station for all deer and turkey harvested on the refuge.

9. You may only possess shotguns with rifled slugs, muzzleloaders, and legal pistols during the modern Gun Deer Hunt.

10. You may only use single-person portable deer stands.

11. We prohibit hunting from a vehicle or use of a vehicle as a deer stand.

12. You must permanently affix the owner's name and address to all deer stands on the refuge.

13. You must remove all deer stands from the Waterfowl Sanctuaries by November 14, except for stands used by Gun Deer Hunt permit holders who must remove their stands by the last day of the gun hunt. You must remove all stands from the rest of the refuge by the last day of the archery season (see § 27.93 of this chapter).

14. We prohibit the use of dogs.

15. We prohibit the possession of buckshot on all refuge lands.

16. We prohibit hunting from a mowed and/or graveled road right-of-way.

17. Refuge lands are located in State flood zone B, and we will close them to all deer hunting when the White River gauge at Augusta reaches 31 feet (9.3 m), as reported by the National Weather Service in the Arkansas Democrat Gazette, and reopen them when the same gauge reading in this newspaper falls to or below 19 feet (5.7 m).

18. We only allow Gun Deer Hunt permit holders on the Farm Unit during the Gun Deer Hunt.

19. We close Waterfowl Sanctuaries to all entry and hunting from November 15 to February 28, except for Gun Deer Hunt permit holders, who may hunt the sanctuary when the season overlaps with these dates.

20. An adult not less than age 21 must supervise and remain within sight and normal voice contact of hunters age 15 and under. For big game hunting, one adult may only supervise one youth.

D. Sport Fishing. We allow fishing and frogging in accordance with State regulations subject to the following conditions:

1. Conditions A5, A19, A21, and A22 apply.

2. We close waterfowl sanctuaries to all entry and fishing/frogging from November 15 to February 28. We also close the Farm Unit to all entry and fishing during the Gun Deer Hunt.

3. You may leave boats with the owner's name and address permanently displayed or valid registration on the refuge from March 1 to October 31. We prohibit use of boats from 12 p.m. (midnight) to 5 a.m. during duck season.

4. We prohibit commercial fishing.

5. We limit nighttime use to anglers fishing/frogging with fishing and/or frogging tackle only.

6. We prohibit mooring houseboats to the refuge bank on the Red River.

Big Lake National Wildlife Refuge

A. Migratory Game Bird Hunting. [Reserved]

B. Upland Game Hunting. We allow hunting of squirrel, rabbit, raccoon, nutria, coyote, beaver, and opossum on designated areas of the refuge in accordance with State regulations subject to the following conditions:

1. We require refuge hunt permits. The permits are nontransferable and anyone on refuge land in possession of hunting equipment must sign and carry the permit at all times.

2. We prohibit firearms (see § 27.42 of this chapter) on the refuge, except during refuge squirrel, rabbit, and raccoon seasons. We provide annual season dates in the refuge hunting brochure/permit.

3. You may take nutria, beaver, and coyote during any refuge hunt with the firearm allowed for that hunt, subject to State seasons.

4. All youth hunters age 15 and younger must remain within sight and normal voice contact of an adult age 21 or older, possessing a license. For small game hunts, one adult may supervise no more than two youth hunters.

5. We prohibit target practice or any nonhunting discharge of firearms (see § 27.42 of this chapter).

6. You may take opossum during a raccoon hunt.

7. We prohibit dogs except for raccoon hunting. We prohibit pleasure running or training of dogs (see § 26.21(b) of this chapter).

8. You may only possess shotguns with approved nontoxic shot (see § 32.2(k)) and rifles firing .22 caliber rimfire ammunition.

9. You must unload and case firearms (see § 27.42(b) of this chapter) while in a vehicle, on any refuge road, parking area, or boat ramp.

10. We prohibit firearms south of Highway 18 and at the Brights Landing boat access.

11. We prohibit boats from November 1 through February 28, except on that portion of the refuge open for public fishing with electric motors and Ditch 28.

12. We prohibit hunting from mowed or gravel roads.

13. We prohibit ATVs (see § 27.31(f) of this chapter).

14. You must adhere to all public use special conditions and regulations on the annual hunt brochure/permit.

C. Big Game Hunting. We allow hunting of white-tailed deer on designated areas of the refuge in accordance with State regulations subject to the following conditions:

1. Conditions B1, and B11 through B14 apply.

2. We allow archery/crossbow hunting for white-tailed deer. We provide annual season dates in the hunt brochure/permit.

3. Hunters may only possess long, recurve, compound, or crossbows. We prohibit possession of firearms (see § 27.42 of this chapter) by archery/crossbow hunters.

4. We prohibit dogs.

5. We prohibit possession of or marking trails with materials other than biodegradable paper/flagging or reflective tape/tacks.

6. Upon harvest of deer, hunters must immediately record the deer zone 030 on their license and later on official check station records.

7. Hunters must check out (check harvested deer) at the Hunter Information Station.

8. We only allow portable tree stands, and you must remove them daily (see § 27.93 of this chapter).

9. We prohibit driving metal or other objects into trees or hunting from trees in which objects have been driven (see § 32.2(i)).

10. We prohibit cutting, pruning, or trimming vegetation (see § 27.51 of this chapter).

11. We prohibit target practice or any nonhunting discharge of firearms (see § 27.42 of this chapter).

12. Hunters may enter the refuge no earlier than 1 hour before legal shooting time and depart no later than 1 hour after legal shooting time.

13. An adult age 21 or older must supervise and remain within sight and normal voice contact of hunters age 15 and under. For big game hunts, one adult may supervise no more than 1 youth.

D. Sport Fishing. * * *

1. We prohibit the use of limb lines and jug fishing.

* * * * *

5. We prohibit ATVs, airboats, personal watercraft, Jet Skis, and hovercraft (see § 27.31(f) of this chapter).

* * * * *

8. We prohibit possessing turtles (see § 27.21 of this chapter).

Cache River National Wildlife Refuge

A. Migratory Game Bird Hunting. We allow hunting of duck, goose, coot, snipe, woodcock, and dove on designated areas of the refuge in accordance with State regulations subject to the following conditions:

1. We require refuge hunting permits. These permits are nontransferable, and anyone on the refuge in possession of hunting equipment must sign and carry the permit at all times.

2. We allow hunting of duck, goose, and coot daily until 12 p.m. (noon) throughout the State seasons, except for refugewide season closures during Gun Deer Hunt and the exception provided in A3.

3. We allow hunting for goose from ½ hour before legal sunrise to legal sunset after the close of duck season in January for the remainder of the State goose season(s) and Snow, Blue and Ross' Goose Conservation Order.

4. We allow hunting for dove, snipe, and woodcock when their seasons correspond with duck and/or goose seasons.

5. No person, including but not limited to, a guide, guide service, outfitter, club, or other organization, will provide assistance, services, or equipment on the refuge to any other person for compensation unless such guide, guide service, outfitter, club, or organization has obtained a Special Use Permit from the refuge. For the purposes of this regulation, we will consider any fees or services rendered to a person for lodging, meals, club membership or similar services as compensation.

6. We prohibit hunting, taking, possessing, or attempting to take wildlife with a guide, guide service, outfitter, club, or organization providing assistance, service, or equipment who does not possess and carry the required refuge Special Use Permit.

7. You may only possess approved nontoxic shot while in the field (see § 32.2(k)).

8. You must remove decoys, blinds, boats, and all other equipment (see § 27.93 of this chapter) daily by 2 p.m.

9. Waterfowl hunters may enter the refuge parking areas at 4:45 a.m. and access the refuge at 5 a.m.

10. We prohibit boats on the refuge from 12 a.m. (midnight) to 5 a.m. during duck season.

11. We prohibit possession of or marking trails with materials other than biodegradable paper, flagging, or reflective tape/tacks.

12. We prohibit building, or hunting from, permanent blinds.

13. We prohibit cutting of holes or other manipulation of vegetation (e.g., cutting bushes, mowing, weed-eating, herbicide use, and other actions) or hunting from manipulated areas (see § 27.51 of this chapter).

14. We allow retriever dogs.

15. You must unload firearms when carried in/on land vehicles or boats under power (see § 27.42(b) of this chapter).

16. We allow waterfowl hunting on flooded roads.

17. All youth hunters age 15 and younger must remain within sight and normal voice contact of an adult age 21 or older, possessing a license. For migratory bird hunting, one adult may supervise no more than two youth hunters.

18. We prohibit target practice or any nonhunting discharge of firearms (see § 27.42 of this chapter).

19. We prohibit ATVs except on established roads used by conventional vehicles on refuge lands south of Highway 38. We prohibit driving around a locked gate, barrier, or beyond a sign closing a road to vehicular traffic. We only allow vehicle use on established roads (see § 27.31 of this chapter).

20. We prohibit entry into or hunting in Waterfowl Sanctuaries from November 15 through February 28.

21. You must adhere to all public use special conditions and regulations on the annual hunt brochure/permit.

22. We close all other hunts during the Gun Deer Hunt. We only allow Gun Deer Hunt permit holders on the refuge during this hunt.

B. Upland Game Hunting. We allow hunting of squirrel, rabbit, quail, raccoon, opossum, beaver, muskrat, nutria, armadillo, coyote, and feral hog on designated areas of the refuge in accordance with State regulations subject to the following conditions:

1. Conditions A1, A5, A6, A7, A11, A15, A17 (for small game hunts, the adult may supervise no more than two youth hunters), and A18 through A21 apply.

2. Fall squirrel season corresponds with the State season on all refuge hunt units except for refugewide season closure during the Gun Deer Hunt. We prohibit dogs except during the period January 15 through February 28. We do not open for the spring squirrel season.

3. Rabbit season corresponds with the State season on all refuge hunt units except for refugewide season closure during the Gun Deer Hunt. We prohibit dogs except during the period January 15 through February 28.

4. Quail season corresponds with the State season on all refuge hunt units except for refugewide season closure during the Gun Deer Hunt. We allow dogs.

5. We allow hunting of raccoon and opossum with dogs on all refuge hunt units. We provide annual season dates in the refuge hunting brochure/permit. We prohibit pleasure running or training of dogs.

6. We allow the use of horses for raccoon and opossum hunters in refuge Hunt Unit I. We prohibit horse use in other refuge hunt units or by other refuge hunters or visitors.

7. You may take beaver, muskrat, nutria, armadillo, feral hog, and coyote during any refuge hunt with the firearm allowed for that hunt.

8. We prohibit hunting from mowed and/or graveled roads except by waterfowl hunters during flooded conditions.

9. You may leave boats with the owner's name and address or valid registration permanently displayed on the refuge from March 1 through October 31. We prohibit boats on the refuge from 12 a.m. (midnight) until 5 a.m. during the duck season.

10. We prohibit hunting from a vehicle.

11. We only allow rifles chambered for rimfire cartridges.

12. We close all other hunts during the Gun Deer Hunt. We only allow Gun Deer Hunt permit holders on the refuge during this hunt.

C. Big Game Hunting. We allow hunting of deer and turkey on designated areas of the refuge in accordance with State regulations subject to the following conditions:

1. Conditions A1, A5, A6, A11, A15, A18 through A21, B9, and B10 apply.

2. We divide the refuge into the following three hunting units: Unit I—refuge lands between Highway 79 and Interstate 40; Unit II—all refuge lands east of Highway 33 between Interstate 40 and Highway 18 at Grubbs, Arkansas; Unit III—all refuge lands west of Highway 33, from Interstate 40 to Highway 64.

3. Archery/crossbow hunting season for deer begins on the opening day of the State season and continues throughout the State season in all refuge hunting units except for refugewide season closure during the Gun Deer Hunt. We provide annual season dates and bag limits on the hunt brochure/permit.

4. Muzzleloader hunting season for deer will begin in October and will continue for a period of up to 9 days in all hunting units with annual season dates and bag limits provided on the hunt brochure/permit.

5. The Gun Deer Hunt will begin in November and continue for a period of up to 9 days in all hunting units with annual season dates and bag limits provided on the hunt brochure/permit.

6. The fall archery/crossbow hunting season for turkey will begin on the opening day of the State season and continue throughout the State season in Hunt Units I, III, and Unit II lands within the fall State archery/crossbow turkey zone except for refugewide season closure during the Gun Deer Hunt. We close Unit II lands outside the fall archery/crossbow turkey zone. We do not open for fall gun hunting for turkeys.

7. The spring gun hunt for turkey will begin on the opening day of the State season and continue throughout the State season in Hunt Units I and III. We close Unit II lands with the exception of those refuge lands included in the combined Black Swamp Wildlife Management Area/Cache River National Wildlife Refuge quota permit hunts administered by the State.

8. Immediately record the zone 095 on your hunting license and later at an official check station for all deer and turkey harvested on the refuge.

9. You may only possess shotguns with rifled slugs, muzzleloaders, and legal pistols during the modern Gun Deer Hunt on the Dixie Farm Unit Waterfowl Sanctuary, adjacent waterfowl hunt area, and the Plunkett Farm Unit Waterfowl Sanctuary.

10. We only allow portable deer stands capable of being carried by a single individual.

11. We prohibit hunting from a vehicle or use of a vehicle as a deer stand.

12. You must permanently affix the owner's name and address to all deer stands on the refuge.

13. You must remove all deer stands from the waterfowl sanctuaries by November 14 and from the rest of the refuge by the last day of archery season (see § 27.93 of this chapter).

14. We prohibit the use of dogs.

15. We prohibit the possession of buckshot on all refuge lands.

16. We prohibit hunting from a mowed and/or graveled road right-of-way.

17. We will close refuge lands located in State-designated Flood Prone Region B and reopen them to all deer hunting in accordance with State-established gauge readings, when the Arkansas Democrat Gazette posts these gauge readings.

18. We will close refuge lands located in State-designated Flood Prone Region C to all deer hunting when the Cache River gauge at Patterson reaches 10 feet (3 m), as reported by the National Weather Service in the Arkansas Democrat Gazette, and reopen them when the same gauge reading in this newspaper falls to or below 8.5 feet (2.6 m).

19. We will close refuge lands located in Flood Prone Region D to all deer hunting when the White River gauge at Clarendon reaches 28 feet (8.4 m), as reported by the National Weather Service in the Arkansas Democrat Gazette, and reopen them when the same gauge reading in this newspaper falls to or below 27 feet (8.1 m).

20. We close all other hunts during the Gun Deer Hunt. We only allow Gun Deer Hunt permit holders on the refuge during this hunt.

21. An adult not less than age 21 must supervise and remain within sight and normal voice contact of hunters age 15 and under. For big game hunting, one adult may only supervise one youth.

D. Sport Fishing. We allow fishing and frogging in accordance with State regulations subject to the following conditions:

1. We close waterfowl sanctuaries to all entrance and fishing/frogging from November 15 to February 28. We prohibit refugewide entry and fishing during the Gun Deer Hunt.

2. Conditions A19, A21, B9, and B10 apply.

3. We require a Special Use Permit for all commercial fishing activities on the refuge.

4. We prohibit hovercraft, personal watercraft (Jet Skis, etc.), and airboats.

Felsenthal National Wildlife Refuge

A. Hunting of Migratory Game Birds. We allow hunting of duck, goose, coot, and woodcock on designated areas of the refuge in accordance with State regulations subject to the following conditions:

1. We allow hunting of duck, goose, and coot during the State duck season except during scheduled quota refuge Gun Deer Hunts. We allow hunting of woodcock during the State season. Dates for quota deer hunts are typically in November, and we publish them annually in the refuge hunt brochure.

2. Hunting of duck, goose, and coot ends at 12 p.m. (noon) each day.

3. We only allow portable blinds. You must remove all duck hunting equipment (portable blinds, boats, guns, and decoys) (see § 27.93 of this chapter) from the hunt area by 1:30 p.m. each day.

4. You may only possess approved nontoxic shells (see § 32.2(k)) in quantities of 25 or less each day during waterfowl season; hunters may not discharge more than 25 shells per day.

5. We close areas of the refuge posted with “Area Closed” signs and identify them on the refuge hunt brochure map as a Waterfowl Sanctuary and closed to all public entry and public use during waterfowl hunting season. Exception: we open the Waterfowl Sanctuary to all authorized activities during the September teal season.

6. No person will utilize the services of a guide, guide service, outfitter, club, organization, or other person who provides equipment, services, or assistance on Refuge System lands for compensation unless the guide, guide services, outfitter, club, organization, or person has obtained a Special Use Permit from the refuge. It is the responsibility of the hunter to verify that the guide has the required Special Use Permit; failure to comply with this provision subjects each hunter in the party to a fine if convicted of this violation.

7. You must possess and carry a refuge hunt brochure permit. These hunt brochure permits are available in unlimited qualitites at the refuge office, brochure dispensers at multiple locations throughout the refuge, and at area businesses.

8. We prohibit possession and/or use of herbicides.

9. We prohibit marking trails with tape, ribbon, paint, or any other substance other than biodegradable materials.

10. We prohibit possession or use of alcoholic beverages while hunting. We prohibit consumption of alcohol in parking lots, on roadways, and in plain view in campgrounds (see § 32.2(j)).

11. All persons born after 1968 must posses a valid hunter education card in order to hunt.

12. All youth hunters age 15 and younger must remain within sight and normal voice contact of an adult age 21 or older, possessing a license. One adult may supervise no more than two youth hunters.

13. We only allow ATVs for wildlife-dependent activities such as hunting and fishing. We restrict ATVs to designated times and designated trails (see § 27.31 of this chapter) marked with signs and paint. We identify these trails and the dates they are open for use in the refuge hunt brochure. You may use horses on roads and ATV trails (when open to motor vehicle use) as a mode of transportation on the refuge for wildlife-dependent activities.

14. We prohibit hunting within 150 feet (45 m) of roads and trails (see § 27.31 of this chapter) open to motor vehicle use (including ATV trails).

15. We prohibit target practice with any weapon or any nonhunting discharge of firearms (see § 27.42 of this chapter).

16. We only allow camping at designated primitive campground sites identified in the refuge hunt brochure, and we restrict camping to individuals involved in wildlife-dependent refuge activities. Campers may stay no more than 14 days during any 30 consecutive-day period in any campground and must occupy camps daily. We prohibit all disturbances, including use of generators, after 10 p.m. You must unload all weapons (see § 26.42(b) of this chapter) within 100 yards (90 m) of a campground.

17. You may take beaver, nutria, feral hog, and coyote during any daytime refuge hunt with weapons and ammunition allowed for that hunt. There is no bag limit. You may not transport live hogs.

18. We prohibit blocking of gates and roadways (see § 27.31(h) of this chapter).

19. We allow the use of retriever dogs.

20. We require you to unload and case any firearms (see § 27.42(b) of this chapter) transported in any land vehicle, boat under power, or on horses. We define “loaded” as any shells in the gun or cap on a muzzleloader.

B. Upland Game Hunting. We allow hunting of quail, squirrel, rabbit, raccoon, opossum, beaver, nutria, and coyote on designated areas of the refuge in accordance with State regulations subject to the following conditions:

1. Conditions A4 through A18 and A20 apply.

2. We allow hunting on the refuge during State seasons for this zone through January 31. We list specific hunting season dates annually in the refuge hunt brochure. We close hunting during refuge quota deer hunts. We annually publish dates for these quota deer hunts in the refuge hunt brochure.

3. We do not open for spring squirrel hunting season and summer/early fall raccoon hunting season on the refuge.

4. We prohibit possession of lead ammunition except that you may use rimfire rifle lead ammunition no larger than .22 caliber for upland game hunting. We prohibit possession of shot larger than that legal for waterfowl hunting.

5. You may use dogs for squirrel and rabbit hunting from December 1 through January 31. You may also use dogs for quail hunting and for raccoon/opossum hunting during open season on the refuge for these species. At other times, you must keep dogs and other pets on a leash or confine them (see § 26.21(b) of this chapter).

C. Big Game Hunting. We allow hunting of white-tailed deer and turkey on designated areas of the refuge in accordance with State regulations subject to the following conditions:

1. Conditions A6, A8 through A11, and A13 through A18 and A20 apply.

2. We allow archery deer hunting on the refuge from the opening of the State season for this deer management zone through January 31.

3. You must possess and carry a refuge hunt brochure permit to archery deer hunt, and multiple copies of these brochures are available at the refuge office, in brochure dispensers located at entrances throughout the refuge, and at many area businesses.

4. We close archery deer hunting during the quota deer hunts.

5. The refuge will conduct only one 2-day quota permit for the muzzleloader deer hunt (typically in October) and only two 2-day quota permits for the Gun Deer Hunts (typically in November).

6. We restrict hunt participants for quota hunts to those drawn for a quota permit. The permits are nontransferable. Hunt dates and application procedures will be available at the refuge office in July.

7. The quota muzzleloader and Gun Deer Hunt bag limit is one deer, either sex, on each hunt.

8. You must check all harvested deer during quota hunts at refuge deer check stations on the same day of the kill. We identify the check station locations in the refuge hunt brochure. Carcasses of deer taken must remain intact (except you may field dress) until checked.

9. You may only use portable deer stands. You may erect stands 2 days before each hunt, but you must remove them within 2 days after each hunt (see § 27.93 of this chapter).

10. We prohibit horses and mules during refuge quota deer hunts.

11. We open spring archery turkey hunting during the State spring turkey season for this zone. We do not open for fall archery turkey season.

12. We close spring archery turkey hunting during scheduled turkey quota gun hunts.

13. The refuge will conduct one 2-day, youth-only (age 15 and under at the beginning of the spring turkey season) quota spring turkey hunt and two 3-day quota spring turkey hunts (typically in April). Specific hunt dates and application procedures will be available at the refuge office in January. We restrict hunt participants to those selected for a quota permit, except that one nonhunting adult age 21 or older must accompany the youth hunter during the youth hunt.

14. An adult age 21 or older must accompany and be within sight or normal voice contact of hunters age 15 and under. One adult may supervise no more than one youth hunter.

D. Sport Fishing. We allow fishing, frogging, and the taking of crawfish for personal use on designated areas of the refuge in accordance with State regulations subject to the following conditions:

1. Conditions A6, A8, A9, A13, A16, and A18 apply.

2. We prohibit fishing in the waterfowl sanctuary area during the waterfowl hunting season, with the exception of the main channel of the Ouachita River and the borrow pits along Highway 82. We post the Waterfowl Sanctuary area with “Area Closed” signs and identify those areas in refuge hunt brochures.

3. You must reset trotlines when receding water levels expose them.

4. We prohibit consumption of alcoholic beverages in parking lots, on roadways, and in plain view in campgrounds (see § 32.2(j)).

Holla Bend National Wildlife Refuge

A. Migratory Game Bird Hunting. [Reserved]

B. Upland Game Hunting. We allow hunting of squirrel, rabbit, raccoon, opossum, beaver, armadillo, coyote, and bobcat on designated areas of the refuge in accordance with State regulations subject to the following conditions:

1. We require refuge hunting permits. The permits are nontransferable, and anyone on refuge land in possession of hunting equipment must sign, possess, and carry the permits at all times.

2. You may only take all upland game mentioned above during the refuge archery season.

3. We allow gun hunting of raccoon and opossum with dogs every Thursday, Friday, and Saturday until legal sunrise during the month of February. We prohibit pleasure running or training of dogs (see § 26.21(b) of this chapter).

4. You must unload and case firearms (see § 27.42(b) of this chapter) when traveling in vehicles on refuge roads.

5. We prohibit target practice or any nonhunting discharge of firearms (see § 27.42(a) of this chapter).

6. We prohibit possession or use of alcoholic beverages (see § 32.2(j)).

7. We only allow ATVs for disabled hunters with a refuge ATV permit.

8. We prohibit the use of horses.

9. We prohibit hunting from a vehicle.

10. We only allow vehicle use on established roads and trails (see § 27.31 of this chapter).

C. Big Game Hunting. We allow hunting of deer and turkey on designated areas of the refuge in accordance with State regulations subject to the following conditions:

1. Conditions B1 and B4 through B11 apply.

2. Archery/crossbow season for deer and turkey begins October 1 and continues through November 30.

3. Spring archery/crossbow season for turkey has the same dates as the State season.

4. The firearms spring youth hunt for turkey is the same as the State. We restrict hunting to youths under age 16. One adult age 18 or older must accompany one youth hunter. We must receive applications for hunts by the last day of February.

5. We only allow portable deer stands. You may erect stands 2 days before the start of the season and must remove the stands from the refuge within 2 days after the season ends (see § 27.93 of this chapter).

6. You must permanently affix the owner's name and address to all deer stands on the refuge.

7. We prohibit the use of dogs.

8. We prohibit marking trees or trails with plastic or paint.

9. We prohibit hunting from paved, graveled, and mowed roads and mowed trails (see § 27.31 of this chapter).

10. We prohibit hunting with the aid of bait, salt, or ingestible attractant (see § 32.2(h)).

11. We prohibit all forms of organized drives.

12. You must check all game at the refuge check station.

D. Sport Fishing. We allow sport fishing in accordance with State regulations subject to the following conditions:

1. Conditions B6, B7, B8, B10, and B11 apply.

2. Waters of the refuge are only open for fishing March 1 through October 31 during daylight hours.

3. We do not require a permit to fish but do require an entrance pass to the refuge.

4. We limit free-floating fishing devices, trotlines, and tree limb devices to 20 per person. Each device must have the angler's name and address.

5. You must reset trotlines and limb lines when receding water levels expose them.

6. We prohibit leaving trotlines and other self-fishing devices overnight or unattended.

7. We only allow bow fishing during daylight hours during August.

8. We prohibit commercial fishing.

9. We prohibit possessing turtles (see § 27.21 of this chapter).

10. We prohibit hovercraft, personal watercraft (Jet Skis, etc.), and airboats.

Overflow National Wildlife Refuge

A. Migratory Game Bird Hunting. We allow hunting of duck, goose, coot, and woodcock on designated areas of the refuge in accordance with State regulations subject to the following conditions:

1. We allow hunting of duck, goose, and coot during the State duck season. We do not open during the September teal season. We allow hunting of woodcock during the State season.

2. Hunting of duck, goose, and coot ends at 12 p.m. (noon) each day.

3. We only allow portable blinds. You must remove portable blinds, boats, and decoys from the hunt area each day (see § 27.93 of this chapter).

4. You may only possess approved nontoxic shotshells (see § 32.2(k)) in quantities of 25 or less per day during waterfowl hunting season; hunters may not discharge more than 25 shells per day.

5. We close areas of the refuge by posting “Area Closed” signs and/or marking with purple paint and identifing on the refuge hunt brochure map as Sanctuary to all public entry and public use. Exception: we open the area identified as North Sanctuary on refuge hunt brochure map to all authorized public use activities from 2 days prior to opening of deer archery season through October 31.

6. No person will utilize the services of a guide, guide service, outfitter, club, organization, or other person who provides equipment, services, or assistance on Refuge System lands for compensation unless the guide, guide services, outfitter, club, organization, or person has obtained a Special Use Permit for commercial activities from the refuge. It is the responsibility of the hunter to verify that the guide has the required Special Use Permit; failure to comply with this provision subjects each hunter in the party to a fine if convicted of this violation.

7. We require a refuge hunt brochure permit that is available in unlimited quantities at the refuge office, brochure dispensers at multiple locations throughout the refuge, and at area businesses. You must possess and carry a signed permit when hunting on the refuge.

8. We prohibit possession and/or use of herbicides (see § 27.51 of this chapter).

9. We prohibit marking of trails with tape, ribbon, paint, or any other substance other than biodegradable materials.

10. We prohibit possession or use of alcoholic beverages while hunting. We prohibit consumption of alcoholic beverages in parking areas and on roadways. (see § 32.2(j).)

11. All persons born after 1968 must possess and carry a valid hunter education card in order to hunt.

12. All youth hunters age 15 and younger must remain within sight and normal voice contact of an adult age 21 or older, possessing a license. One adult may supervise no more than two youth hunters.

13. We only allow ATVs for wildlife-dependent activities such as hunting, and we restrict them to designated times and designated trails marked with signs and paint. We identify these trails and the dates they are open for use in the refuge hunt brochure. You may use horses on roads and designated ATV trails (when open to motor vehicle use) (see § 27.31 of this chapter) as a mode of transportation on the refuge and for wildlife-dependent activities. You may use ATVs on unmarked roads and levees in the North Sanctuary beginning 2 days prior to the opening of deer archery season through October 31.

14. We prohibit hunting within 150 feet (45 m) of roads and trails (see § 27.31 of this chapter) open to motor vehicle use (including ATV trails).

15. We prohibit target practice with any weapon or any nonhunting discharge of weapons (see § 27.42 of this chapter).

16. We prohibit blocking of gates and roadways (see § 27.31(h) of this chapter).

17. You may take beaver, nutria, feral hog, and coyote during any daytime refuge hunt with weapons and ammunition legal for that hunt. There is no bag limit. We prohibit transportation of live hogs.

18. We allow retriever dogs.

19. We require you to unload and case firearms (see § 27.42(b) of this chapter) transported in any land vehicle, boat under power, or on horses. We define “loaded” as shells in the gun or cap on a muzzleloader.

B. Upland Game Hunting. We allow hunting of quail, squirrel, rabbit, raccoon, opossum, beaver, nutria, and coyote on designated areas of the refuge in accordance with State regulations subject to the following conditions:

1. Conditions A4 through A17 and A19 apply.

2. We allow hunting during State seasons (see State regulations for the appropriate zone) for the species listed above through January 31. We list specific hunting season dates annually in the refuge hunt brochure.

3. We do not open for the spring squirrel season and summer/fall racoon hunting season.

4. We prohibit possession of lead ammunition except that you may use rimfire rifle lead ammunition no larger than .22 caliber for upland game hunting. We prohibit possession of shot larger than that legal for waterfowl hunting.

5. You may use dogs for squirrel and rabbit hunting January 1 through 31. You may also use dogs for quail hunting and for raccoon/opossum hunting during open season. At other times, you must keep dogs and other pets on a leash or confined (see § 26.21(b) of this chapter).

C. Big Game Hunting. We allow hunting of white-tailed deer and turkey on designated areas of the refuge in accordance with State regulations subject to the following conditions:

1. We allow archery deer hunting on the refuge during the State season (see State regulations for appropriate zone) through January 31.

2. Conditions A5 through A11, A13 through A17, and A19 apply.

3. We allow muzzleloader deer hunting during the October State muzzleloader season for this zone (see State regulations for appropriate zone).

4. Bag limit for the October muzzleloader deer hunt is one buck and one doe.

5. We only allow portable deer stands. You may erect stands 2 days before each hunt, but you must remove them within 2 days after each hunt (see § 27.93 of this chapter).

6. We prohibit horses and mules during the muzzleloader deer hunt.

7. We allow spring archery turkey hunting during the State spring turkey season. see State regulations for appropriate zones.

8. We do not open for the fall turkey archery season and spring turkey gun season.

9. We do not open for the gun deer season and December muzzleloader deer season.

10. An adult age 21 or older must accompany and be within sight and normal voice contact of hunters age 15 and under. One adult may supervise no more than one youth hunter.

D. Sport Fishing. [Reserved]

Pond Creek National Wildlife Refuge

A. Migratory Game Bird Hunting. We allow hunting of duck, coot, and goose on designated areas of the refuge in accordance with State regulations subject to the following conditions:

1. We allow hunting of migratory game birds during the State duck seasons, except we close during scheduled quota refuge Gun Deer Hunts. Dates for quota deer hunts are typically in November, and we publish them annually in the refuge hunt brochure. We do not open for the September teal season.

2. Hunting ends at 12 p.m. (noon) each day.

3. We only allow portable blinds. You must remove portable blinds, boats, and decoys from the hunt area each day (see § 27.93 of this chapter).

4. No person will utilize the services of a guide, guide service, outfitter, club, organization, or other person who provides equipment, services, or assistance on Refuge System lands for compensation unless the guide, guide services, outfitter, club, organization, or person has obtained a Special Use Permit for commercial activities from the refuge. It is the responsibility of the hunter to verify that the guide has the required Special Use Permit; failure to comply with this provision subjects each hunter in the party to a fine if convicted of this violation.

5. We require a refuge hunt brochure permit; multiple copies of this permit are available at the refuge office, brochure dispensers at multiple locations throughout the refuge, and at area businesses. You must possess and carry a signed permit when hunting on the refuge.

6. We prohibit possession and/or use of herbicides (see § 27.51 of this chapter).

7. We prohibit marking trails with tape, ribbon, paint, or any other substance other than biodegradable materials.

8. We prohibit possession or use of alcoholic beverages while hunting (See § 32.2(j)). We prohibit consumption of alcoholic beverages in parking lots, on roadways, and in plain view in campgrounds.

9. All persons born after 1968 must possess a valid hunter education card in order to hunt.

10. All youth hunters age 15 and younger must remain within sight and normal voice contact of an adult age 21 or older, possessing a license. One adult may supervise no more than two youth hunters.

11. We only allow ATVs for wildlife-dependent activities such as hunting and fishing and restrict them to designated times and designated trails marked with signs and paint (see § 27.31 of this chapter). We identify these trails and the dates they are open for use in the refuge hunt brochure. You may use horses on roads and designated ATV trails (when open to motor vehicle use) (see § 27.31 of this chapter) as a mode of transportation on the refuge for wildlife-dependent activities.

12. We prohibit hunting within 150 feet (45 m) of roads and trails (see § 27.31 of this chapter) open to motor vehicle use (including ATV trails).

13. We prohibit target practice with any weapon or any nonhunting discharge of firearms (see § 27.42 of this chapter).

14. We only allow camping at designated primitive campground sites identified in the refuge hunt brochure. We restrict camping to the individuals involved in refuge wildlife-dependent activities. Campers may stay no more than 14 days during any consecutive 30-day period in a campground and must occupy the camps daily. We prohibit all disturbances, including use of generators, after 10 p.m. You must unload all weapons (see § 27.42(b) of this chapter) within 100 yards (90 m) of a campground.

15. You may take beaver, nutria, feral hog, and coyote during any daytime refuge hunt with weapons and ammunition allowed for that hunt. We prohibit the use of dogs. There is no bag limit. You may not transport live hogs.

16. We prohibit blocking of gates and roadways (see § 27.31(h) of this chapter).

17. We allow the use of retriever dogs.

18. You must unload and case firearms (see § 27.42(b) of this chapter) transported in any land vehicle, boat under power, or on horses. We define “loaded” as shells in the gun or cap on a muzzleloader.

B. Upland Game Hunting. We allow hunting of squirrel, rabbit, raccoon, opossum, and beaver on designated areas of the refuge in accordance with State regulations subject to the following conditions:

1. We allow hunting during State seasons (see State regulations for appropriate zone) for the species listed above through January 31. We annually list specific hunting season dates and quota Gun Deer Hunt dates in the refuge hunt brochure. We close upland game hunting during refuge quota Gun Deer Hunts.

2. We do not open to spring squirrel season and summer/early fall racoon season.

3. Conditions A4 through A16 and A18 apply.

4. We prohibit possession of lead ammunition, except that you may use rimfire rifle lead ammunition no larger than .22 caliber for upland game hunting. We prohibit possession of shot larger than that legal for waterfowl hunting.

5. You may use dogs for squirrel and rabbit hunting December 1 through January 31. You may also use dogs for raccoon/opossum hunting during open season on the refuge for these species. At other times you must keep dogs and other pets on a leash or confined (see § 26.21(b) of this chapter).

C. Big Game Hunting. We allow hunting of white-tailed deer and turkey on designated areas of the refuge in accordance with State regulations subject to the following conditions:

1. We allow archery deer hunting on the refuge from the opening of the State season through January 31 (see State regulations for appropriate zone).

2. Conditions A4, A5 (for archery deer and muzzle-loader deer hunts and spring archery turkey hunts), A6 through A9, A11 through A16, and A18 apply.

3. We close archery deer hunting during the quota Gun Deer Hunts.

4. We allow muzzleloader deer hunting during the October State muzzleloader season for this deer management zone. The bag limit for the October refuge muzzleloader hunt is one buck and one doe.

5. The refuge will conduct one 2-day quota Gun Deer Hunt (typically in November).

6. We restrict hunt participants for this quota Gun Deer Hunt to those drawn for a quota permit. Hunt dates and application procedures will be available at the refuge office in July. The permits are nontransferable.

7. The quota Gun Deer Hunt bag limit is one buck and one doe.

8. You must check all deer taken during the quota hunt at the refuge deer check station on the same day of kill. You must keep carcasses of deer taken intact (you may remove entrails) until checked.

9. We prohibit horses and mules during refuge muzzleloader and quota deer hunts.

10. We open spring archery turkey hunting during the State spring turkey season for this zone. The State bag limit for this turkey hunt applies. We do not open for fall archery turkey season.

11. We close spring archery turkey hunting during scheduled turkey quota permit gun hunts.

12. The refuge will conduct one 2-day, youth-only (age 15 and younger at the beginning of the spring turkey season) quota spring turkey hunt and one 3-day spring quota turkey hunt (typically in April). Specific hunt dates and application procedures will be available in January. We restrict hunt participants on these hunts to those drawn for a quota permit, except that during the youth hunt, a nonhunting adult age 21 or older must accompany the youth hunter.

13. We prohibit the use of buckshot for gun deer hunting.

14. You may only use portable deer stands erected 2 days before each hunt, but you must remove them within 2 days after each hunt (see § 27.93 of this chapter).

15. An adult age 21 or older must accompany and be within sight and normal voice contact of hunters age 15 and under. One adult may supervise no more than one youth hunter during big game hunts.

D. Sport Fishing. We allow fishing, frogging, and the taking of crawfish for personal use on designated areas of the refuge in accordance with State regulations subject to the following conditions:

1. You must reset trotlines when exposed by receding water levels.

2. Conditions A4, A6, A7, A11, A14, and A16 apply.

3. We prohibit consumption of alcoholic beverages in parking lots, on roadways, and in plain view in campgrounds (see § 32.2(j)).

Wapanocca National Wildlife Refuge

* * * * *

B. Upland Game Hunting. We allow hunting of squirrel, rabbit, raccoon, nutria, beaver, coyote, feral hog, and opossum in accordance with State regulations subject to the following conditions:

1. Conditions A1, A3, and A4 apply.

2. We allow shotguns using approved nontoxic shot (see § 32.2(k)) and .22 long-rifle caliber rifles. We prohibit possession of lead shot and .22 magnum caliber rifles.

3. We provide annual season dates for squirrel, rabbit, raccoon, and opossum hunting on the hunt brochure/permit.

4. You may take nutria, beaver, feral hog, and coyote during any refuge hunt with the firearm allowed for that hunt, subject to State seasons on these species.

5. We prohibit dogs except for raccoon hunting where we require them. We prohibit pleasure running or training of dogs.

6. We allow raccoon hunters to use horses/mules but prohibit their use by other refuge hunters and visitors.

7. We prohibit hunting from or within 50 yards (45 m) of graveled roads and within 150 yards (135 m) of refuge buildings.

C. Big Game Hunting. We allow hunting of big game on designated areas of the refuge in accordance with State regulations subject to the following conditions:

1. Conditions A1 and A4 and B4 apply.

* * * * *

3. We specify annual season dates, bag limits, and hunting methods on the annual hunting brochure/permit.

* * * * *

D. Sport Fishing. We allow fishing on designated areas of the refuge in accordance with State regulations subject to the following conditions:

1. We allow fishing from March 15 through October 31 from ½ hour before legal sunrise to ½ hour after legal sunset.

2. We prohibit fishing in Big Creek and other ditches that flow through the refuge.

3. We prohibit the possession or use of live carp, shad, buffalo, or goldfish for bait.

4. We prohibit the possession or use of yo-yos, jugs, or other floating containers, drops or limb lines, trotlines, or commercial fishing tackle.

5. We prohibit fishing within 100 yards (90 m) of any refuge building.

6. We allow bank fishing but you must park vehicles in designated parking areas.

7. We prohibit the taking of frogs, mollusks, and turtles (see § 27.21 of this chapter).

8. You must use the public boat ramp off Highway 77 to launch boats into Wapanocca Lake.

9. You must remove all boats daily from the refuge (see § 27.93 of this chapter). We prohibit airboats, personal watercraft, and hovercraft.

White River National Wildlife Refuge

A. Migratory Game Bird Hunting. We allow hunting of duck and coot on designated areas of the refuge in accordance with State regulations subject to the following conditions:

1. You must sign, possess, and carry a refuge permit.

2. We allow duck hunting from legal sunrise until 12 p.m. (noon).

3. We allow retriever dogs.

4. You must remove blinds, blind material, and decoys (see § 27.93 of this chapter) from the refuge by 1 p.m. each day.

5. North Unit waterfowl season and youth waterfowl hunts are concurrent with State season dates.

6. You may take coot, goose, and woodcock during the State season.

7. We restrict the South Unit waterfowl season to the Jack's Bay hunt area as indicated in the general user permit. It is open every Tuesday, Thursday, Saturday, and Sunday of the concurrent State season dates.

8. Waterfowl hunters may access the refuge no earlier than 4:30 a.m.

9. The following refuge users (age 16 or older) must sign and possess and carry a refuge general user permit and a refuge fee permit ($12.00): hunters, anglers, campers, and ATV users.

10. We prohibit boating December 1 through January 31 in the South Unit Waterfowl Hunt Area, except during designated waterfowl hunt days between 5 a.m. and 1 p.m.

11. We prohibit marking trails with materials other than biodegradable paper flagging or reflective tape/tacks.

12. We prohibit use and/or possession of alcoholic beverages while hunting (see § 32.2(j)).

13. We prohibit cutting of holes in or other manipulation of vegetation or hunting in such areas (see § 27.51 of this chapter).

14. We prohibit waterfowl hunting on Kansas Lake Area.

15. We prohibit loaded weapons in a vehicle or boat while under power (see § 27.42(b) of this chapter). We define “loaded” as a muzzleloader containing a cap or any type of ignition device, cartridges, or shells in a magazine, or cartridges or shells in a chamber of a weapon.

16. We allow duck hunting on specific scattered tracts of land, in accordance with the North Unit regulations. Consult the refuge office for further information.

B. Upland Game Hunting. We allow hunting of squirrel, rabbit, beaver, coyote, raccoon, and opossum on designated areas of the refuge in accordance with State regulations subject to the following conditions:

1. Conditions A1, A8, A10, A11, A12, and A14 apply.

2. You may hunt rabbit and squirrel on the North Unit during the concurrent State season dates until January 31.

3. We allow dogs for hunting of rabbit and squirrel December 1 through January 31 on the North Unit.

4. You may hunt rabbit and squirrel on the South Unit from the beginning of the concurrent State season through November 30.

5. We prohibit dogs on the South Unit for the purpose of squirrel or rabbit hunting.

6. You may only possess approved nontoxic shot when hunting upland game, except turkey (see § 32.2(k)). We allow the possession of lead shot for hunting turkey.

7. We close all upland game hunts during quota modern gun and quota muzzleloader deer hunts.

8. We allow spring squirrel hunting with the concurrent State spring season dates.

C. Big Game Hunting. We allow the hunting of white-tailed deer and turkey on designated areas of the refuge in accordance with State regulations subject to the following conditions:

1. Conditions A1, A8, A10, A11, A12, and A14 apply.

2. Archery deer and turkey seasons on the North Unit will begin with the concurrent State archery season and end January 31.

3. Archery deer and turkey seasons on the South Unit will begin with the concurrent State archery season and end November 30.

4. Modern gun quota deer season is the first 3 days of the State season for the North and South Units. We require a quota permit. You may take one deer of either sex.

5. The muzzleloader quota deer season is the first 3 days of the State season for the North and South units. We require a quota permit. You may take one deer of either sex.

6. We allow modern guns on the North Unit as per dates indicated in the general user brochure. We only allow take of one legal buck.

7. You may only hunt the North and South Unit by muzzleloader with a quota hunt permit. You may only take one deer of either sex. We list the season in the refuge hunt brochure/permit.

8. We allow muzzleloader guns on the North Unit for 6 consecutive days following the 3-day muzzleloader quota hunt.

9. State deer limits apply to archery hunting season except during the refuge muzzleloader and modern gun season.

10. We close all nonquota hunting during the quota deer hunts.

11. We do not open to the bear season on all refuge-owned lands, including those lands in Trusten Holder Wildlife Management Area.

12. If you harvest deer and turkey on the refuge, you must immediately record the zone 660 on your hunting license and later at an official check station.

13. We prohibit muzzleloader and modern gun deer hunting in the Kansas Lake Area after October 30 of each year.

14. We close refuge lands on the North Unit to all deer hunting and fall turkey hunting when the White River gauge reading at St. Charles reaches 23 feet (8.4 m), as reported by the National Weather Service in the Arkansas Democrat Gazette, and will reopen these lands when the same gauge reading in this newspaper falls to or below 21 feet (6.3 m).

15. We close refuge lands on the South Unit to all deer hunting and fall turkey hunting when the White River gauge reading at St. Charles reaches 23 feet (8.4 m) and the gauge at Lock and Dam #1 reaches 145 feet (43.5 m) simultaneously as reported by news release and will reopen these lands when the same gauge reading reaches 21 feet (6.3 m) and 143 feet (42.9 m), respectively, as reported by news release.

16. We restrict access and refuge use during quota hunts to quota permit holders. We require a quota permit for all use during quota deer hunts.

17. We prohibit hunting with the aid of bait, salt, or ingestible attractant (see § 32.2(h)).

18. We prohibit the use of dogs and/or horses other than specified in the general user permit.

19. We prohibit all forms of organized drives.

20. We prohibit firearm hunting from or across roadways, levees, and maintained utility rights-of-way for deer only.

21. We prohibit hunting from a tree in which a metal object has been driven to support a hunter.

22. We prohibit leaving a hunt stand after a hunt season.

23. We prohibit target practice or any nonhunting discharge of firearms (see § 27.42 of this chapter).

24. We prohibit modern gun and muzzleloader deer hunting on Kansas Lake Area after October 30.

25. You may take beaver, nutria, and feral hog incidental to any daytime refuge hunt with weapons allowed for that hunt.

D. Sport Fishing. We allow fishing and frogging on desigated areas of the refuge in accordance with State regulations subject to the following conditions:

1. Conditions A8 and A10 apply.

2. We allow fishing year-round in LaGrue, Essex, Prairie, Scrubgrass and Brooks Bayous, Big Island Chute, Moon and Belknap Lakes next to Arkansas Highway 1, Indian Bay, the Arkansas Post Canal and adjacent drainage ditches; those borrow ditches located adjacent to the west bank of that portion of the White River Levee north of the Arkansas Power and Light Company powerline right-of-way; and all refuge-owned waters located north of Arkansas Highway 1. We open all other refuge waters to sport fishing from March 1 through November 30 unless posted otherwise.

3. We require a refuge Special Use Permit to fish with any type tackle other than hook and line.

4. We allow frogging on all refuge-owned waters open for sport fishing as follows: we allow frogging on the South Unit from the beginning of the State season through November 30; we allow frogging on the North Unit for the entire State season.

5. We allow the use of bow and arrow for taking bullfrogs or fish by a refuge Special Use Permit.

6. We allow crawfishing.

7. We require a Special Use Permit for all commercial fishing and commercial turtling activities on the refuge in addition to compliance with State regulations governing commercial fishing and commercial turtling.

8. We allow commercial fishing and commercial turtling on the North Unit year-round.

9. We allow commercial fishing on the South Unit October 1 through November 30 and annually when the White River exceeds 23.5 feet (7 m) at the St. Charles, Arkansas gauge.

10. We prohibit take or possession of any freshwater mussels, and we do not open to mussel shelling.

11. You must reset trotlines when receding water levels expose them, and you cannot leave them unattended. The ends of trotlines must consist of a length of cotton line that extends from the points of attachment into the water.

10. Amend § 32.24 California, by:

a. Revising paragraphs A. and B. of “Colusa National Wildlife Refuge;”

b. Revising the introductory text of paragraph A., adding paragraphs A.10. and A.11., revising the introductory text of paragraph B., and adding paragraph B.8. of “Delevan National Wildlife Refuge;”

c. Revising “San Francisco Bay National Wildlife Refuge” to read “Don Edwards San Francisco Bay National Wildlife Refuge” and placing it in alphabetical order, and revising “Don Edwards San Francisco Bay National Wildlife Refuge;”

d. Revising paragraphs A.and D. of “Humboldt Bay National Wildlife Refuge;”

e. Revising paragraph A. of “Merced National Wildlife Refuge;”

f. Revising paragraphs A., B., and D. of “Modoc National Wildlife Refuge;”

g. Revising the introductory text of paragraph A., adding paragraphs A.10. and A.11., revising the introductory text of paragraph B., and adding paragraph B.8. of “Sacramento National Wildlife Refuge;”

h. Revising the introductory text of paragraph A., revising paragraph A.1., and adding paragraphs A.4. and A.5. of “Salinas River National Wildlife Refuge;”

i. Revising the introductory text of paragraphs A., revising paragraphs A.1., A.3., A.4., A.5., A.6., adding paragraph A.12, revising the introductory text of paragraph B., paragraphs B.1. and B.2., revising the introductory text of paragraph D., and revising paragraphs D.1. and D.2. of “San Luis National Wildlife Refuge;”

j. Revising paragraphs A. and B. of “San Pablo Bay National Wildlife Refuge;” and

k. Revising the introductory text of paragraph A., adding paragraphs A.7. and A.8., revising the introductory text of paragraph B., and adding paragraph B.7. of “Sutter National Wildlife Refuge.”

§ 32.24 California.

* * * * *

Colusa National Wildlife Refuge

A. Migratory Game Bird Hunting. We allow hunting of goose, duck, coot, moorhen, and snipe on designated areas of the refuge in accordance with State regulations subject to the following conditions:

1. You may only possess approved nontoxic shot while in the field (see § 32.2(k)).

2. Each hunter may not possess more than 25 shells while in the field.

3. Access to the hunt area is by foot traffic only. We prohibit bicycles and other conveyances.

4. We prohibit building or maintaining fires (see § 27.95 of this chapter), except in portable gas stoves.

5. You may only enter or exit at designated locations (see § 27.31 of this chapter).

6. Vehicles may only stop at designated parking areas (see § 27.31 of this chapter). We prohibit the dropping of passengers or equipment or stopping between designated parking areas.

7. We only allow overnight stays in vehicles, motor homes, and trailers at the check station parking area.

8. You must restrain dogs on a leash within all designated parking areas (see § 26.21(b) of this chapter).

B. Upland Game Hunting. We allow hunting of pheasant only in the free-roam areas of the refuge in accordance with State regulations subject to the following conditions:

1. Conditions A1 through A8 apply.

2. Mobility-impaired hunters should consult with the refuge manager for allowed conveyances.

* * * * *

Delevan National Wildlife Refuge

A. Migratory Game Bird Hunting. We allow hunting of goose, duck, coot, moorhen, and snipe on designated areas of the refuge in accordance with State regulations subject to the following conditions:

* * * * *

10. We only allow overnight stays in vehicles, motor homes, and trailers at the check station parking area.

11. You must restrain dogs on a leash within all designated parking areas (see § 26.21(b) of this chapter).

B. Upland Game Hunting. We allow hunting of pheasant only in the free-roam areas of the refuge in accordance with State regulations subject to the following conditions:

* * * * *

8. Conditions A10 and A11 apply.

* * * * *

Don Edwards San Francisco Bay National Wildlife Refuge

A. Migratory Game Bird Hunting. We allow hunting of goose, duck, and coot on designated areas of the refuge in accordance with State regulations subject to the following conditions:

1. We allow hunting in tidal areas, including salt marshes, sloughs, mudflats, and open waters of the San Francisco Bay. Unless posted in the field and/or noted below, we allow hunting by boat in all refuge tidal areas up to the mean high-water line. We close the following tidal areas to hunting and/or shooting:

i. Newark Slough to hunting and shooting from its source to Hetch-Hetchy Aqueduct, a distance of 3½ miles (5.6 km);

ii. Dumbarton Point Marsh to the Hetch-Hetchy Aqueduct (west side of Newark Slough); and

iii. The headwaters of Mallard Slough (Artesian Slough) in the vicinity of the Environmental Education Center to hunting, as designated by posted signs.

2. We allow hunting in the nine salt evaporation ponds listed below. These ponds are surrounded by levees and were formerly part of the San Francisco Bay. We have not opened any other ponds. You may access the salt ponds by pulling your boat across the levee from the Bay.

i. Ponds R-1 and R-2 in the Ravenswood Unit. These ponds are located on the west side of the Dumbarton Bridge between Ravenswood Slough and Highway 84. You may access these ponds by foot or bicycle from either of the two trailheads off Highway 84. We prohibit hunting within 300 feet (90 m) of Highway 84.

ii. Ponds M-1, M-2, M-3, M-4, M-5, M-6, and A-19 in the Mowry Slough Unit. These ponds are located on the east side of the Bay between Mowry Slough and Coyote Creek. You may only access the ponds by boat. You may land your boat at specific points on the Bay side of the levee as designated by refuge signs. We prohibit hunting within 300 feet (90 m) of the Union Pacific Railroad track.

3. We only allow walk-in hunting at the Ravenswood Unit northwest of the Dumbarton Bridge. You must only access all other areas by boat.

4. At the Ravenswood Unit only, we only allow portable blinds or construction of temporary blinds of natural materials that readily decompose. We prohibit collection of these natural materials from the refuge. You must remove portable blinds (see § 27.93 of this chapter) at the end of each day's hunt. Temporary blinds become available for general use on a first-come, first-served basis on subsequent days. We prohibit permanent blinds, pit blinds, or digging into the levees. We prohibit entry into closed areas of the refuge prior to hunting season in order to scout for hunting sites or to build blinds.

5. You must remove all decoys, boats, and other personal property from the refuge at the end of each day's hunt. You must remove all trash, including shotshell hulls, when leaving hunting areas (see §§ 27.93 and 27.94 of this chapter).

6. Hunters may enter closed areas of the refuge to retrieve downed birds, provided they leave all weapons in a legal hunting area. We encourage the use of retriever dogs. You must keep your dog(s) under the immediate control of the handler at all times (see § 26.21(b) of this chapter).

7. We prohibit target practice on the refuge or any nonhunting discharge of firearms (see § 27.42 of this chapter).

8. You may only possess approved nontoxic shot while in the field (see § 32.2(k)).

9. You must keep firearms unloaded (see § 27.42(b) of this chapter) until you are within the designated hunt area.

B. Upland Game Hunting. [Reserved]

C. Big Game Hunting. [Reserved]

D. Sport Fishing. We allow fishing on designated areas of the refuge in accordance with State regulations subject to the following conditions:

1. We allow fishing from land at the Coyote Creek Lagoon in Fremont, the Faber-Laumeister Unit in East Palo Alto, the Dumbarton Fishing Pier, and along the San Francisco Bay shoreline within ½ mile (0.8 km) of the Dumbarton Fishing Pier. We also allow fishing from boats in the Bay and major slough channels. We close Mallard Slough to boats from March 1 through August 31, and we close Mowry Slough from March 15 to June 15. We prohibit fishing in salt evaporation ponds or marshes.

2. We open fishing areas daily (except we close the Dumbarton Fishing Pier and adjacent shoreline on Thanksgiving, Christmas, and New Year's Day). We open the Dumbarton Fishing Pier from 7 a.m. to 6 p.m. November 1 through March 31 and 7 a.m. to 8 p.m. April 1 through October 31. We open Coyote Creek Lagoon and Faber-Laumeister Unit from legal sunrise to legal sunset.

3. We prohibit the collection of bait of any type from the refuge except from the Dumbarton Fishing Pier, where it is legal to collect bait for noncommercial purposes.

4. We prohibit the use of balloons to float hooks and bait farther than hand casting.

5. We prohibit personal watercraft (e.g., Jet Skis, waterbikes) on the refuge.

* * * * *

Humboldt Bay National Wildlife Refuge

A. Migratory Game Bird Hunting. We allow hunting of goose, duck, coot, common moorhen, and snipe on designated areas of the refuge in accordance with State regulations subject to the following conditions:

1. We require adults age 18 or older to accompany youth hunters age 16 and under. No more than three youth hunters may accompany one adult hunter.

2. You may only possess approved nontoxic shot while in the field (see § 32.2(k)).

3. We prohibit public access into or through closed areas and designate closed areas as nonretrieval zones.

4. You may only use portable blinds in the free-roam hunting areas (i.e., all hunt areas except Salmon Creek Unit).

5. You must remove all blinds, decoys, shell casings, and other personal equipment and refuse from the refuge at the end of each day's hunt (see §§ 27.93 and 27.94 of this chapter).

6. We require hunters to restrain dogs inside vehicles except when using them for authorized hunting purposes (see § 26.21(b) of this chapter).

7. On the Salmon Creek Unit, we allow hunting on Tuesdays and Saturdays (except Federal holidays), and hunters must possess and carry a valid daily refuge permit. We issue refuge permits prior to each hunt by random drawing conducted at the check station 1½ hours before legal shooting time.

8. On the Salmon Creek Unit, you may only possess approved nontoxic shotshells (see § 32.2(k)) in quantities of 25 or less per day.

9. On the Salmon Creek Unit, we restrict hunters to within 100 feet (30 meters) of the assigned hunt site except for placing and retrieving decoys, retrieving downed birds, or traveling to and from the parking area. You must unload firearms (see § 27.42(b) of this chapter) while transporting them between the parking lot and designated blind sites.

10. We open the waters of Hookton Slough (including Teal Island) and White Slough (including Egret Island) to hunting on Saturdays, Sundays, Wednesdays, Federal holidays, and the opening and closing day of the State waterfowl hunting season. We have not opened the portion of the Hookton Slough unit between the dike and Hookton Road to hunting and firearms. We have not opened the boat dock on the Hookton Slough Unit to hunting and firearms and restrict use to nonmotorized boats only.

11. We open the Table Bluff Unit (southwest corner of South Bay) to hunting.

12. We open portions of the Eureka Slough and Jacoby Creek Units to hunting. We designate the Eureka Slough and Jacoby Creek Units as boat access only. On the Eureka Slough and Jacoby Creek Units, we prohibit hunting within 100 yards (90 meters) of Highway 101.

* * * * *

D. Sport Fishing. We allow fishing on the refuge in accordance with State regulations subject to the following condition: We allow fishing from the designated shoreline trail and dock (for nonmotorized boats only) at the Hookton Slough Unit from legal sunrise to legal sunset, only using pole and line or rod and reel.

* * * * *

Merced National Wildlife Refuge

A. Migratory Game Bird Hunting. We allow hunting of goose, duck, coot, and moorhen on designated areas of the refuge in accordance with State regulations subject to the following conditions:

1. You must unload firearms (see § 27.42(b) of this chapter) before transporting them between parking areas and blind sites. Unloaded means that no ammunition is in the chamber or magazine of the firearm.

2. You may only possess approved nontoxic shotshells (see § 32.2(k)) in quantities of 25 or less per day after leaving the parking lot.

3. Each hunter must remain inside his or her assigned blind, except for placing decoys, retrieving downed birds, and traveling to and from the parking area. We prohibit shooting from outside the blind.

4. Dogs must remain under the immediate control of their owners at all times (see § 26.21(b) of this chapter).

* * * * *

Modoc National Wildlife Refuge

A. Migratory Game Bird Hunting. We allow hunting of goose, duck, coot, moorhen, and snipe on designated areas of the refuge in accordance with State regulations subject to the following conditions:

1. On the opening weekend of the hunting season, hunters must possess and carry a refuge permit issued through random drawing to hunters with advance reservations only.

2. After the opening weekend of the hunting season, we only allow hunting on Tuesdays, Thursdays, and Saturdays. Hunters must check-in and out of the refuge by using self-service permits. Hunters must completely fill out the “Refuge Hunt Permit” portion of the permit and deposit it in the drop box prior to hunting. The hunter must possess and carry the “Record of Kill” portion of the permit while on the refuge and turned in prior to exiting the hunting area.

3. In the designated spaced blind area, you must remain within 50 feet (15 m) of the established blind stake for the blind assigned to you.

4. We require adults age 18 or older to accompany youth hunters age 15 and under.

5. You may only possess approved nontoxic shotshells (see § 32.2(k)) in quantities of 25 or less after leaving the parking area.

6. In the free-roam hunting areas, you may only use portable blinds or blinds constructed of vegetation.

7. You must remove all blinds, decoys, shell casings, other personal equipment, and refuse from the refuge at the end of each day's hunt (see §§ 27.93 and 27.94 of this chapter).

8. Hunters must enter and exit the hunting area from the two designated hunt parking lots, which we open 1½ hours before legal sunrise and close 1 hour after legal sunset each hunt day.

9. We only allow access to the hunt area by foot, bicycle, and nonmotorized cart. We prohibit bicycles in the hunt area during the opening weekend of the hunting season.

B. Upland Game Hunting. We allow hunting of pheasant on designated areas of the refuge in accordance with State regulations subject to the following conditions:

1. We limit hunting to junior hunters only, age 15 or under, possessing a valid State Junior Hunting License and refuge Junior Pheasant Hunt Permit.

2. We require adults age 18 or older to accompany junior hunters.

3. You may only possess approved nontoxic shot while in the field (see § 32.2(k)).

4. Hunters must enter and exit the hunting area from the two designated hunt parking lots.

* * * * *

D. Sport Fishing. We allow fishing only on Dorris Reservoir in accordance with State regulations subject to the following conditions:

1. We prohibit fishing from October 1 through January 31.

2. We only allow fishing from legal sunrise to legal sunset.

3. We only allow walk-in access to Dorris Reservoir from February 1 through March 31.

4. We only allow use of boats on Dorris Reservoir from April 1 through September 30.

Sacramento National Wildlife Refuge

A. Migratory Game Bird Hunting. We allow hunting of goose, duck, coot, moorhen, and snipe on designated areas of the refuge in accordance with State regulations subject to the following conditions:

* * * * *

10. We only allow overnight stays in vehicles, motor homes, and trailers at the check station parking area.

11. You must restrain dogs on a leash within all designated parking areas (see § 26.21(b) of this chapter).

B. Upland Game Hunting. We allow hunting of pheasant only in the free-roam areas on the refuge in accordance with State regulations subject to the following conditions:

* * * * *

8. Conditions A10 and A11 apply.

* * * * *

Salinas River National Wildlife Refuge

A. Migratory Game Bird Hunting. We allow hunting of goose, duck, coot, and moorhen on a hunt area along the Salinas River on the southeast portion of the refuge, as designated by posted signs, in accordance with State regulations subject to the following conditions:

1. You may only possess approved nontoxic shotshells while on the refuge (see § 32.2(k)) in quantities of 25 or less.

* * * * *

4. We only allow dogs engaged in hunting activities on the refuge during the waterfowl season. Hunters must keep their dog(s) under their immediate control at all times (see § 26.21(b) of this chapter). We prohibit training of dogs on the refuge. We prohibit other domesticated animals or pets.

5. We prohibit target practice on the refuge or any nonhunting discharge of weapons (see § 27.42 of this chapter).

* * * * *

San Luis National Wildlife Refuge

A. Migratory Game Bird Hunting. We allow hunting of goose, duck, coot, moorhen, and snipe on designated areas of the refuge in accordance with State regulations subject to the following conditions:

1. You may only use portable blinds, temporary blinds constructed of natural materials, or existing concrete blinds. We prohibit cutting or breaking woody vegetation (see § 27.51 of this chapter).

* * * * *

3. You must dismantle any temporary blinds constructed of natural materials at the end of each day's hunt.

4. You may only hunt snipe within the free-roaming portion of the San Luis Unit waterfowl hunting area.

5. You may only possess approved nontoxic shotshells (see § 32.2(k)) in quantities of 25 or less after leaving your assigned parking lot or boat launch.

6. We prohibit dropping of passengers or equipment or stopping between designated parking areas. You must return your permits to the check stations immediately upon completion of your hunt and prior to using any tour routes or leaving the refuge vicinity.

* * * * *

12. Dogs must remain under the immediate control of their owners at all times (see § 26.21(b) of this chapter).

B. Upland Game Hunting. We allow hunting of pheasants on designated areas of the refuge in accordance with State regulations subject to the following conditions:

1. You may only possess approved nontoxic shotshells (see § 32.2(k)) in quantities of 25 or less while in the field.

2. Dogs must remain under the immediate control of their owners at all times (see § 26.21(b) of this chapter).

* * * * *

D. Sport Fishing. We allow fishing on designated areas of the refuge in accordance with State regulations subject to the following conditions:

1. We only allow fishing from legal sunrise to legal sunset, except on that portion of the San Joaquin River's south (left descending) bank within the West Bear Creek Unit designated as open for fishing 24 hours per day.

2. We only allow the use of pole and line or rod and reel to take gamefish, and anglers must attend their equipment at all times.

* * * * *

San Pablo Bay National Wildlife Refuge

A. Migratory Game Bird Hunting. We allow hunting of goose, duck, and coot on designated areas of the refuge in accordance with State regulations subject to the following conditions:

1. Unless posted in the field and/or noted below, we only allow hunting in the open waters of San Pablo Bay and its navigable sloughs. We have not opened the following areas to hunting:

i. Lower Tubbs Island;

ii. Lower Tubbs Setback;

iii. Cullinan Ranch Unit; and

iii. Within 300 feet (90 m) of Highway 37.

2. You may only hunt from a boat or a floating blind. We prohibit walk-in hunting on the refuge.

3. You may only possess approved nontoxic shotshells (see § 32.2(k)) in quantities of 25 or less while in the field.

4. You must remove all decoys, boats, and other personal property from the refuge at the end of each day's hunt (see § 27.93 of this chapter). Hunters must remove all trash, including shotshell hulls, when leaving hunting areas (see § 27.94 of this chapter).

5. We allow temporary floating blinds on the refuge subject to refuge manager approval. We allow blind installation beginning on October 1, but hunters must remove blinds (see § 27.93 of this chapter) by February 1. Temporary floating blinds become available for general use on a first-come, first-served basis on subsequent days. We prohibit entry to closed areas of the refuge prior to the hunting season in order to scout for hunting sites.

6. We only allow dogs engaged in hunting activities on the refuge during waterfowl season. We prohibit other domesticated animals or pets. Hunters must keep their dog(s) under their immediate control at all times (see § 26.21(b) of this chapter). We prohibit training of dogs on the refuge.

7. We prohibit digging into levees or slough channels.

8. We prohibit target practice on the refuge or any nonhunting discharge of firearms (see § 27.42 of this chapter).

9. We allow foot access through the refuge to the State's Tolay Creek Unit for waterfowl hunting. You must unload and either break down or case all shotguns (see § 27.42(b) of this chapter) while in transit through the refuge.

B. Upland Game Hunting. We allow hunting of pheasant only in areas of the Tolay Creek Unit designated by posted signs in accordance with State regulations subject to the following conditions:

1. You may only hunt on Wednesdays, Saturdays, and Sundays.

2. You may only possess approved nontoxic shotshells (see § 32.2(k)) in quantities of 25 or less while in the field.

3. You may only access the Tolay Creek Unit by foot or bicycle.

4. We only allow dogs engaged in hunting activities on the refuge during pheasant season. We prohibit other domesticated animals or pets.

* * * * *

Sutter National Wildlife Refuge

A. Migratory Game Bird Hunting. We allow hunting of goose, duck, coot, moorhen, and snipe on designated areas of the refuge in accordance with State regulations subject to the following conditions:

* * * * *

7. We only allow overnight stays in vehicles, motor homes, and trailers at the check station parking area.

8. You must restrain dogs on a leash within all designated parking areas (see § 26.21(b) of this chapter).

B. Upland Game Hunting. We only allow hunting of pheasant in the free-roam areas of the refuge in accordance with State regulations subject to the following conditions:

* * * * *

7. Conditions A7 and A8 apply.

* * * * *

11. Amend § 32.28 Florida by:

a. Revising “Arthur R. Marshall Loxahatchee National Wildlife Refuge;”

b. Revising “Cedar Keys National Wildlife Refuge;”

c. Revising “Hobe Sound National Wildlife Refuge;”

d. Revising paragraphs B., C., and D. of “Lower Suwannee National Wildlife Refuge;”

e. Revising paragraphs A. and D. of “Merritt Island National Wildlife Refuge;”

f. Revising “St. Marks National Wildlife Refuge;”

g. Revising paragraphs C. and D. of “St. Vincent National Wildlife Refuge;” and

h. Revising “Ten Thousand Islands National Wildlife Refuge” to read as follows:

§ 32.28 Florida.

* * * * *

Arthur R. Marshall Loxahatchee National Wildlife Refuge

A. Migratory Game Bird Hunting. We allow hunting of duck and coot on designated areas of the refuge in accordance with State regulations subject to the following conditions:

1. You must possess and carry a signed refuge waterfowl hunt permit while hunting.

2. We allow hunting in the interior of the refuge south of latitude line 26.27.130. We have not opened to hunting from the perimeter canal or levee and those areas posted as closed.

3. The refuge open waterfowl season is concurrent with the State season. The refuge does not participate in any early experimental seasons. Hunters may only take duck and coot.

4. We do not open to hunting on Mondays, Tuesdays, and Christmas Day.

5. Refuge hunting hours are from ½ hour before legal sunset to 1 p.m. Hunters may enter the refuge no earlier than 5 a.m. and must be off the refuge by 3 p.m.

6. Hunters must only enter and leave the refuge at the Headquarters Area (Boynton Beach) and the Hillsboro Area (Boca Raton) (see § 27.31 of this chapter).

7. Hunters must unload and case or dismantle firearms (see § 27.42(b) of this chapter) when outside of hunting area and when en route to or from the hunting area. Hunters may only use no greater than .10 gauge shotguns. We prohibit all other firearms or weapons (see §§ 27.42 and 27.43 of this chapter).

8. We only allow temporary blinds of native vegetation. We prohibit the taking, removing, or destroying of refuge vegetation (see § 27.51 of this chapter).

9. Hunters must remove decoys and other personal property (see § 27.93 of this chapter) from the hunting area following each day's hunt.

10. We encourage the use of dogs to retrieve dead or wounded waterfowl. Dogs must remain under the immediate control of the owner at all times (see § 26.21(b) of this chapter). We prohibit pets at all other times.

11. A hunter must complete a daily bag report card and place it in an entrance fee canister after each day's hunt.

12. All youth hunters age 15 and younger must remain within sight and normal voice contact of an adult age 21 or older, possessing a license. Youth hunters must have completed a hunter education course.

13. We only allow boats equipped with outboards or electric motors and nonmotorized boats. We prohibit airboats, Hovercraft, and personal watercraft (Go Devils, Jet Skis, jet boats, and Wave Runners). We recommend all boats operating within the hunt area fly a 12 inch by 12 inch (30 cm × 30 cm) orange flag, 10 feet (3 m) above the vessel's waterline.

14. We prohibit motorized vehicles of any type on the levees and undesignated routes (see § 27.31 of this chapter).

15. For emergencies or to report violations, contact law enforcement personnel at 561-936-4100.

B. Upland Game Hunting. [Reserved]

C. Big Game Hunting. [Reserved]

D. Sport Fishing. We allow fishing on designated areas of the refuge in accordance with State regulations subject to the following conditions:

1. We only allow fishing from legal sunrise to legal sunset.

2. Special black bass regulations are in effect within the boundaries of the refuge. The daily creel limit is five black bass per person, per day, where only one bass may be over 14 inches (35 cm) in length.

3. We allow fishing south of a line of latitude of 26.27.130 and in the rim canal in the rest of the refuge. We prohibit fishing in Management Compartments A, B, and C, and those areas posted as closed to fishing or the public.

4. We only allow the use of rods and reels and poles and lines, and anglers must attend them at all times.

5. We prohibit commercial fishing and the taking of frogs, turtles, and other wildlife (see § 27.21 of this chapter).

6. We prohibit the possession or use of cast nets, seines, trot lines, jugs, gigs, and other fishing devices.

7. Anglers may only launch boats at the Headquarters Area (Boynton Beach), the Hillsboro Area (Boca Raton), and 20 Mile Bend (West Palm Beach).

8. We only allow boats equipped with outboards or electric motors and nonmotorized boats. We prohibit airboats, Hovercraft, personal watercraft (Go Devils, Jet Skis, jet boats, and Wave Runners). We recommend that all boats operating within the hunt area fly a 12 inch by 12 inch (30 cm × 30 cm) orange flag, 10 feet (3 m) above the vessel's waterline.

9. We prohibit motorized vehicles of any type on the levees and undesignated routes (see § 27.31 of this chapter).

10. For emergencies or to report violations, contact law enforcement personnel at 561-936-4100. Law enforcement officers monitor VHF Channel 16.

Cedar Keys National Wildlife Refuge

A. Migratory Game Bird Hunting. [Reserved]

B. Upland Game Hunting. [Reserved]

C. Big Game Hunting. [Reserved]

D. Sport Fishing. You may fish in salt water year-round in accordance with State regulations subject to the following condition: We will close a 300 foot (90 m) buffer zone beginning at mean high tide line and extending into the waters around Seahorse Key to all public entry from March 1 through June 30.

* * * * *

Hobe Sound National Wildlife Refuge

A. Migratory Game Bird Hunting. [Reserved]

B. Upland Game Hunting. [Reserved]

C. Big Game Hunting. [Reserved]

D. Sport Fishing. We allow fishing on designated areas of the refuge in accordance with State regulations subject to the following conditions:

1. We only allow fishing from legal sunrise to legal sunset.

2. We allow salt water fishing along the Atlantic Ocean and Indian River Lagoon year-round in accordance with State regulations.

3. We prohibit commercial fishing and the taking of frogs, turtles, and other wildlife (see § 27.21 of this chapter).

4. We prohibit motorized vehicles of any type on the fire roads, undesignated routes, and areas posted as closed (see § 27.31 of this chapter).

5. For emergencies or to report violations, contact law enforcement personnel at 561-936-4100.

Law enforcement officers monitor VHF Channel 16.

* * * * *

Lower Suwannee National Wildlife Refuge

* * * * *

B. Upland Game Hunting. We allow hunting of gray squirrel, armadillo, opossum, rabbit, raccoon, coyote, and beaver on designated areas of the refuge in accordance with State regulations subject to the following conditions:

1. We require hunters to possess and carry signed refuge hunt permits for all hunts.

2. We designate open and closed refuge hunting areas on the map in the refuge hunt permit that the hunter must possess and carry.

3. You must park vehicles in a manner that does not block roads or gates (see § 27.31(h) of this chapter).

4. We prohibit the use of ATVs (see § 27.31(f) of this chapter).

5. We prohibit horses.

6. We prohibit possession of a loaded firearm or bow and arrow (see § 27.42(b) of this chapter) while on a refuge road right-of-way designated for motorized vehicle travel or in any vehicle or boat. We define “loaded” as shells in the chamber or magazine or percussion cap on a muzzleloader, or arrow notched in a bow.

7. We prohibit hunting from refuge roads open to public vehicle travel.

8. We prohibit construction of permanent blinds or stands.

9. In addition to State hunter education requirements, an adult (parent or guardian) age 21 or older must supervise and must remain within sight of and in normal voice contact of the youth hunter age 15 and under. Parents or adult guardians are responsible for ensuring that youth hunters do not engage in conduct that would constitute a violation of the refuge regulations. An adult can supervise no more than two youth hunters.

10. We prohibit all commercial activities, including guiding or participating in a guided hunt.

11. We prohibit target practice or any nonhunting discharge of firearms (see § 27.42 of this chapter).

12. We prohibit marking any tree or other refuge feature with flagging, litter, paint, or blaze.

13. We allow marking trails with reflective markers, but you must remove the markers (see §§ 27.93 and 27.94 of this chapter) at the end of the refuge deer-hunting season.

14. Hunters utilizing the refuge are subject to inspection of licenses, permits, hunting equipment, bag limits, vehicles, and their contents, during compliance checks by refuge or State law enforcement officers.

15. Hunters must be at their vehicles by 1 hour after legal shooting time.

16. The refuge upland game hunting season opens on the Monday after the Florida State Central Management Zone general gun (antlered deer and wild hog) season closes, and it ends on February 28.

17. You may only possess .22 caliber rimfire (but not .22 magnum caliber) firearms (see § 27.42 of this chapter) or shotguns with shot no larger than #4 common.

18. We allow night hunting in accordance with State regulations for raccoon and opossum on Friday and Saturday nights from legal sunset until legal sunrise during the month of February.

C. Big Game Hunting. We allow hunting of big game on designated areas of the refuge in accordance with State regulations subject to the following conditions.

1. Conditions B1 through B15 apply.

2. We prohibit use of hunting and tracking dogs.

3. We require quota hunt permits (issued through a random draw) for the limited deer gun hunt and limited youth Gun Deer Hunt. They cost the participants selected $12.50.

4. Quota hunt permits are nontransferable.

5. Hunters may only use archery equipment, in accordance with State archery regulations, during the refuge archery season.

6. Hunters may only use muzzleloading firearms (see § 27.42 of this chapter), in accordance with State muzzleloader regulations, during the refuge muzzleloader season.

7. We prohibit hunting from a tree in which a metal object has been driven.

8. You may leave temporary tree stands on the refuge starting on the last weekend of August, but you must remove them by the last day of the general gun-hunting season (see § 27.93 of this chapter).

9. All hunters (including all persons accompanying hunters) must wear a minimum of 500 square inches (3,250 cm²) of fluorescent orange visible above the waistline while hunting during all refuge deer gun hunts.

10. We prohibit the use of organized drives for taking or attempting to take game.

11. The refuge general gun season begins on the opening Saturday of the Florida State Central Management Zone General Gun season and ends on the following Friday. It reopens on the Monday after the refuge limited deer season and ends on the following Sunday. The refuge general gun season lasts 14 days.

12. The refuge limited either-sex deer hunt is on the second Saturday and Sunday of the State Central Management Zone General Gun season. This coincides with the opening of the State's either-sex hunt, deer-hunting season.

13. The youth limited Gun Deer Hunt is the Saturday and Sunday following the close of the refuge general gun season.

14. During the limited youth hunt, an adult age 21 or older must accompany the youth hunter but only the youth hunter may hunt and handle the firearm.

15. We confine the limited youth hunt to the Levy County portion of the refuge, and hunters must access the refuge from Levy County Road 347.

16. We allow hunting of deer (except spotted fawns), feral hog (no size or bag limit), gray squirrel, rabbit, armadillo, opossum, raccoon, beaver, and coyote during the archery season.

17. Hunters may take deer with one or more antlers at least 5 inches (12.5 cm) in length visible above the hairline and feral hog (no bag or size limit) during the muzzleloader and general-gun season.

18. Hunters may take one legal deer of either sex and hog (no size or bag limit) during the limited deer gun hunt and limited youth Gun Deer Hunt.

19. We prohibit all other public entry or use of the hunting area during the limited gun and youth deer hunts. During the limited gun hunt, the Dixie Mainline road will remain open to all public vehicles, but we prohibit firearms except for permit holders.

20. Hunters must check all game harvested during the limited deer gun hunt and limited youth Gun Deer Hunt at a refuge check station.

21. You may only take turkey during the State spring turkey hunting season.

22. You may only take bearded turkeys during the spring turkey hunt.

23. Shooting hours for spring turkey begin ½ hour before legal sunrise and end at 1 p.m.

24. We only allow shotguns with shot no larger than size 2 common shot or bows for spring turkey hunting.

D. Sport Fishing. We allow fishing in accordance with State regulations subject to the following conditions:

1. Anglers may only take game and nongame fish with pole and line or rod and reel.

2. We prohibit take of frogs and turtles (see § 27.21 of this chapter).

3. We prohibit leaving boats on the refuge overnight (see § 27.93 of this chapter).

4. We prohibit consumption of alcoholic beverages or possession of open alcohol containers in the public use areas of Shired Island boat launch/fishing and parking lot area and the Shell Mound fishing/recreational area (see § 32.2(j)).

Merritt Island National Wildlife Refuge

A. Migratory Game Bird Hunting. We allow hunting of duck and coot in accordance with State regulations subject to the following conditions:

1. You must possess and carry a current signed refuge permit at all times while hunting on the refuge.

2. You must purchase and possess and carry a quota permit if you are hunting in areas 1 or 4 from the beginning of the regular season through December 31.

3. You may hunt Wednesdays, Saturdays, Sundays and the following holidays: Thanksgiving, Christmas, and New Year's Day within the State waterfowl season.

4. You may hunt in four designated areas of the refuge as delineated in the refuge hunting regulations map. Hunters may not enter the restricted areas of the Kennedy Space Center.

5. You may hunt from ½ hour before legal sunrise until 1 p.m.

6. You may enter no earlier than 4 a.m. for the purpose of hunting.

7. We require all hunters to successfully complete a State-approved hunter education course.

8. We require an adult, age 18 or older, to supervise hunters under the age 18.

9. We prohibit accessing a hunt area from Black Point Wildlife Drive, Playalinda Beach Road, or Scrub Ridge Trail (see § 27.31 of this chapter).

10. We prohibit construction of permanent blinds (see § 27.92 of this chapter) or digging into dikes.

11. We prohibit hunting or shooting from any portion of a dike, road, or railroad grade.

12. We prohibit hunting within 150 yards (135 m) of SR 402 or SR 406.

* * * * *

D. Sport Fishing. We allow you to fish, crab, clam, oyster, or shrimp in designated areas of the refuge in accordance with State regulations subject to the following conditions:

1. You must possess and carry a current, signed refuge permit at all times while on the refuge.

2. We allow fishing at night in the waters of Mosquito Lagoon, Indian River Lagoon, Banana River, and Haulover Canal.

3. We allow launching boats at night from the following refuge boat ramps: Bairs Cove, Beacon 42, and Bio Lab.

4. We prohibit crabbing or fishing from Black Point Wildlife Drive or any side road connected to Black Point Wildlife Drive except L Pond Road.

5. We prohibit launching boats, canoes, or kayaks from Black Point Wildlife Drive or any side road connected to Black Point Wildlife Drive except L Pond Road.

6. Anglers and crabbers must attend their lines.

7. We prohibit harvesting or possession of horseshoe crabs.

8. We prohibit use of personal watercraft, air thrust boats, and hovercraft.

9. Vessels must not exceed idle speed in Bairs Cove and KARS Marina or slow speed/minimum wake in Haulover Canal.

10. We prohibit motorized vessels in the Banana River within the posted “No-Motor Zone,” including any vessel having an attached motor or a nonattached motor capable of use (including electric trolling motor).

11. We prohibit anglers entering the restricted areas of the Kennedy Space Center.

* * * * *

St. Marks National Wildlife Refuge

A. Migratory Game Bird Hunting. We allow hunting of duck and coot on designated areas of the refuge in accordance with State regulations subject to the following conditions:

1. We require refuge permits for hunting the Piney Island unit. Permits are available at no cost from the refuge office. Each hunter must possess and carry a signed hunt permit when using the hunt area.

2. You must remove blinds daily (see § 27.93 of this chapter).

3. Hunters may access the hunt area by boat.

4. We allow retriever dogs to recover game.

B. Upland Game Hunting. We allow hunting of grey squirrel, rabbit, raccoon, and feral hog in accordance with State regulations subject to the following conditions:

1. We require refuge permits for hunting upland game. Permits are available at no cost from the refuge office. Each hunter must possess and carry a signed permit while participating in a hunt.

2. Hunters must wear 500 square inches (3,250 cm²) of fluorescent orange above the waistline.

3. You may use .22 caliber rim-fired rifles, shotguns with nontoxic shot (see § 32.2(k)), or muzzleloaders. You may use shotgun slugs, buckshot, or archery equipment to take feral hogs. We prohibit the use or possession of other weapons. You must unload all firearms for transport in vehicles (uncap muzzleloaders) (see § 27.42 of this chapter).

4. We prohibit dogs in the hunt area.

5. There is no limit on the size or number of feral hogs that hunters may take.

6. We allow hunting on designated areas of the refuge. Contact the refuge office for specific dates.

7. We prohibit hunting from any named or numbered road.

8. We prohibit cleaning of game within 1,000 feet (300 m) of any developed public recreation area, game check station, or gate.

9. The refuge is only open to daylight use.

10. You must check out all game taken at a game check station.

C. Big Game Hunting. We allow hunting of white-tailed deer, feral hog, and bearded turkey in accordance with State regulations subject to the following conditions:

1. We require refuge permits, issued by lottery. Lottery applications are available at the refuge office each year beginning in July. There is a fee for permits. Permits are nontransferable. There is an additional fee for duplicate permits. Each hunter must possess and carry a signed permit when participating in a hunt.

2. Conditions B4, B5, B8, and B10 apply.

3. We prohibit hunting from any named or numbered road (with the exception of persons hunting in the mobility impaired hunt).

4. You may access the refuge hunt areas by vehicle for prehunt scouting 2 days prior to the hunt for which you are drawn. We prohibit weapons in the hunt area during the prehunt scouting (see § 27.42 of this chapter).

5. There is a two-deer limit per hunter as specified in C8 and C9 below. The limit for bearded turkey is one per day and two per hunt. There is no limit on feral hogs.

6. We prohibit the use of deer decoys.

7. We prohibit the use of flagging, paint, or blazes.

8. There are two fall archery hunts: hunters may harvest either sex deer, bearded turkey, or feral hogs during the fall archery hunts. There will be a fall archery hunt on the Panacea and Wakulla Units. We prohibit other weapons in the hunt area (see § 27.43 of this chapter). Contact the refuge office for specific dates.

9. There is a winter archery/muzzleloader hunt. Hunters may harvest doe deer, antlerless deer, bearded turkey, or feral hogs. We define “antlerless deer” as deer with antlers less than 1 inch above the hairline. We will give each hunter that harvests a doe deer a permit to harvest an antlered deer. Archery equipment and muzzleloaders must meet the requirements set by the State. We prohibit other weapons in the hunt area (see § 27.43 of this chapter). Contact the refuge office for specific dates.

10. There are two modern gun hunts. Modern guns must meet State requirements. We will hold one hunt on the Panacea Unit and one on the Wakulla Unit. Hunters may harvest doe deer or antlerless deer. See definition for “antlerless deer” in C9 above. We will give each hunter that harvests a doe deer a permit to harvest an antlered deer. You may also harvest one bearded turkey or feral hogs (no limit). Contact the refuge office for specific dates.

11. There is one mobility-impaired hunt on the Panacea Unit in the area west of Country Road 372. Hunters may harvest doe deer, antlerless deer, bearded turkey, or feral hogs. See definition for “antlerless deer” in C9 above. We will issue permits to those hunters that harvest a doe deer to harvest an antlered deer. Hunters may have an able-bodied hunter accompany them. You can transfer permits issued to able-bodied assistants. We limit those hunt teams to two deer per hunt. Contact the refuge office for specific dates.

12. There is one spring gobbler hunt. You may harvest one bearded turkey per day (with a limit of two turkey per hunt). You may only use shotguns to harvest turkey. Contact the refuge office for specific dates. You must unload and dismantle or case weapons (see § 27.42 of this chapter) after 1 p.m.

D. Sport Fishing. We allow fishing on designated areas of the refuge in accordance with State regulations subject to the following conditions:

1. We prohibit taking blue crabs from impoundments or canals on the St. Marks Unit.

2. We only allow fishing in refuge lakes, ponds, and impoundments from legal sunrise to legal sunset.

3. We allow fishing in tidal and coastal waters 24 hours per day year-round.

4. We prohibit use of boats with motors over 10 hp on any refuge lake, pond, or impoundment.

5. We allow use of boats on impoundments on the St. Marks Unit from March 15 through October 15 each year.

6. We prohibit taking of frogs or turtles (see § 27.21 of this chapter).

7. We prohibit use of cast nets, traps, or dip nets to take fish from any lake, pond, or impoundment on the refuge.

8. You must attend all fishing equipment.

9. We prohibit bow fishing on refuge lakes, ponds, and impoundments.

10. The interior ponds and lakes on the Panacea Unit are open year-round for bank fishing. We open vehicle access to these areas from March 15 through May 15 each year. Ponds and lakes that you can access from County Road 372 are open year-round for fishing and boating.

11. We prohibit commercial boats, air-thrust boats, and personal watercraft to launch at the saltwater boat ramp on the St. Marks Unit.

12. We prohibit air-thrust boats or personal watercraft to launch from Wakulla Beach.

13. All fish must remain in a whole condition when being transported from the refuge.

St. Vincent National Wildlife Refuge

* * * * *

C. Big Game Hunting. We allow hunting of white-tailed deer, sambar deer, raccoon, and feral hog on designated areas of the refuge in accordance with State regulations subject to the following conditions:

1. We require refuge permits. The permits are nontransferable and must be possessed and carried while hunting. Only signed permits are valid. We only allow people with a signed refuge hunt permit on the island during the hunt periods.

2. We restrict hunting to three hunt periods: Sambar deer, raccoons, and feral hog—November 13-15; and white-tailed deer, raccoon, and feral hog—December 18-20 and January 8-10. Hunters may check-in and set up camp sites and stands on November 12, December 17, and January 7. Hunters must leave the island and remove all equipment by 11 a.m. on November 16, December 21, and January 11 (see § 27.93 of this chapter).

3. Hunters must check-in at the check stations on the island. We restrict entry onto St. Vincent Island to the Indian Pass and West Pass campsites. We restrict entry during the sambar deer hunt to the West Pass Campsite. All access to hunt areas will be on foot or by bicycle from these areas.

4. We close to public entry all areas marked with eagle nesting area, shorebird closed area, or area closed signs.

5. Hunt hours are ½ hour before legal sunrise until 3 p.m. for the sambar deer hunt. All other hunt times will be in accordance with Florida Wildlife Commission regulations.

6. We restrict camping and fires (see § 27.95 of this chapter) to the two designated camping areas. We may restrict or ban fires during dry periods.

7. Hunters may set up camp after receiving their hunting permit. We allow camping beginning on the first day of the hunt period, and campers must remove all personal equipment (see § 27.93 of this chapter) from St. Vincent Island by 11 a.m. on Sunday of the hunt period.

8. You may only set up tree stands after you check-in, and you must remove them from the island at the end of the hunt (see § 27.93 of this chapter).

9. You may only retrieve game from the closed areas if accompanied by a refuge officer.

10. All youth hunters age 15 and younger must remain within sight and normal voice contact of an adult age 21 or older, possessing a license. Each adult may only supervise one youth hunter.

11. We will issue permits for the white-tailed deer December and January hunts beginning at legal sunrise on the first day of the hunt period. You must obtain permits at the check station prior to accessing the hunt area.

12. We issue permits for the sambar deer hunt by computer drawing. You may obtain applications after May 15 from the refuge office (P.O. Box 447, Apalachicola, FL 32329).

13. Primitive weapons hunters (sambar deer and January white-tailed deer hunt), when outside the campsite area, must wear a minimum of 500 square inches (3,250 cm²) of a solid, unbroken pattern of fluorescent orange-colored material visible above the waistline.

14. We limit weapons to muzzleloaders or bow and arrow on the sambar deer hunt and the January white-tailed deer hunt. We limit the December hunt to bow and arrow. Weapons must meet all State regulations.

15. We allow only stand, still, and stalk hunting. We prohibit man drives.

16. We prohibit the use of flagging material and/or bright eyes. We prohibit defacing of plants or trees (see § 27.51 of this chapter).

17. We prohibit target practice on the refuge (see § 27.42 of this chapter). You may discharge muzzleloaders at the designated discharge area between 5 a.m. and 9 p.m.

18. Nonmovement stand hours for all hunts will be from legal morning shooting time until 9 a.m.

19. We prohibit discharging of weapons (including cap firing) in campgrounds (see § 27.42 of this chapter).

20. Weapons must have the caps removed from muzzleloaders and arrows quivered before and after legal shooting hours.

21. Hunters must check out at the check station prior to leaving the refuge at the end of their hunt. A refuge staff member or volunteer must check the campsites before the hunters leave the refuge.

22. We prohibit motorized equipment, generators, or land vehicles (except bicycles).

23. Refuge personnel must check and tag game harvested before the hunter leaves the island.

24. We prohibit littering (see § 27.94 of this chapter) and cutting of live trees (see § 27.51 of this chapter). Only dead and downed wood may be cut.

25. Bag limits:

i. Sambar deer hunt—two sambar deer, no limit on feral hog or raccoon.

ii. Archery hunt—one white-tailed deer of either sex (no spotted fawns or spike bucks), no limits on feral hogs or raccoons.

iii. Primitive weapons hunt—one white-tailed deer buck having one or more forked antlers at least 5 inches (12.5 cm) in length visible above the hairline with points greater than 1 inch (12.5 cm) in length; we issue a limited number of either-sex permits. If you have an either-sex permit, the bag limit is one deer that may be antlerless or a buck legal antler configuration. There is no limit on feral hog or raccoon.

26. We prohibit bringing live game into the check station.

27. Hunters must observe quiet time in the campground between 9 p.m. and 5 a.m. We prohibit loud or boisterous behavior or activity.

D. Sport Fishing. We allow fishing on designated areas of the refuge in accordance with State regulations subject to the following conditions:

1. You may fish from legal sunrise to legal sunset.

2. We allow boats with electric motors. You must remove all other motors from the boats and secure them to a designated motor rack with a lock and chain.

3. We prohibit the use of live minnow as bait.

4. We allow fishing on Lakes 1 and 2 and Oyster Pond from April 1 through September 30.

5. We allow fishing in Lakes 3, 4, and 5 from May 15 through September 30.

6. We prohibit leaving boats and fishing gear on the refuge overnight (see § 27.93 of this chapter).

7. We prohibit commercial fishing or the taking of frog or turtle (see § 27.21 of this chapter).

8. We only allow the use of rods and reels or poles and lines. You must attend your fishing equipment at all times.

9. You may only take fish species and fish limits authorized by State regulations.

Ten Thousand Islands National Wildlife Refuge

A. Migratory Game Bird Hunting. We allow hunting of duck and coot in accordance with State regulations subject to the following conditions:

1. We allow hunting daily during the early wood duck/teal season.

2. We allow only hunting on Wednesdays, Saturdays, Sundays, Thanksgiving, Christmas, and New Year's Day within the regular State season.

3. You must possess and carry a valid, signed refuge hunt permit (free) at all times while hunting on the refuge.

4. We allow only hunting in the areas posted and shown on the refuge hunt brochure.

5. We post entry points with signs numbered 1, 2, and 3 along the south side of U.S. 41. Hunters may enter the refuge at 4 a.m. and shooting hours start ½ hour before legal sunrise. You must remove all decoys, guns, blinds, and other related equipment (see § 27.93 of this chapter) by 1 p.m. daily.

6. We prohibit hunting within 100 yards (90 m) of the south edge of U.S. 41 and the area signed around the small access road extending south from U.S. 41.

7. We prohibit pit blinds and permanent blinds (see § 27.92 of this chapter).

8. We allow and recommend prehunt scouting from legal sunrise to legal sunset.

9. You may only take duck and coot with a shotgun (no larger than a 10 gauge). We prohibit possession of handguns and long guns. We prohibit target practice on the refuge (see § 27.42 of this chapter).

10. We prohibit air-thrust boats, hovercraft, personal watercraft, and off-road vehicles at all times. We limit vessels to a maximum of a 25 hp outboard motor. We allow go-devil type motors.

11. We require all guides to purchase, possess, and carry a refuge Special Use Permit.

12. We allow and recommend use of dogs for waterfowl retrieval. Dogs must remain under the immediate control of their handlers at all times (see § 26.21(b) of this chapter). We allow dogs during prehunt scouting.

13. We allow youth hunt days in accordance with State regulations. Hunters under age 16 may hunt only with a nonhunting adult age 18 or older. Youth hunters must remain within sight and sound of the nonhunting adult.

B. Upland Game Hunting. [Reserved]

C. Big Game Hunting. [Reserved]

D. Sport Fishing. We allow fishing and crabbing on the refuge in accordance with State regulations subject to the following conditions:

1. We prohibit air-thrust boats, hovercraft, personal watercraft, and off-road vehicles in the freshwater and brackish marsh area south of U.S. 41. We limit vessels to a maximum of a 25 hp outboard motor. We allow go-devil-type motors.

2. We allow fishing in the freshwater and brackish marsh area of the refuge year-round from legal sunrise to legal sunset. You may fish the tidal and barrier island area of the refuge year-round 24 hours a day.

3. We only allow crabbing and crab pots for recreational use in the freshwater and brackish marsh area of the refuge. You may only use crab pots in accordance with State regulations. Abandoned or unchecked crab pots after 72 hours are subject to impoundment.

4. We prohibit commercial fishing and the taking of snake and frog in the freshwater and brackish marsh area of the refuge.

5. We prohibit the use of trotlines, gigs, spears, bush hooks, snatch hooks, crossbows, or bows and arrows of any type in the freshwater and brackish marsh area of the refuge.

12. Amend § 32.29 Georgia, by:

a. Revising “Banks Lake National Wildlife Refuge;”

b. Revising paragraph C. of “Blackbeard Island National Wildlife Refuge;”

c. Revising “Bond Swamp National Wildlife Refuge;”

d. Revising paragraph C. of “Harris Neck National Wildlife Refuge;”

e. Revising “Okefenokee National Wildlife Refuge;”

f. Revising “Piedmont National Wildlife Refuge;”

g. Revising paragraphs A., B., and C. of “Savannah National Wildlife Refuge;” and

h. Revising paragraph C. of “Wassaw National Wildlife Refuge” to read as follows:

§ 32.29 Georgia.

* * * * *

Banks Lake National Wildlife Refuge

A. Migratory Game Bird Hunting. [Reserved]

B. Upland Game Hunting. [Reserved]

C. Big Game Hunting. [Reserved]

D. Sport Fishing. We allow fishing on designated areas of the refuge in accordance with State regulations subject to the following condition: We only allow the use of pole and line or rod and reel. For more information, contact the Okefenokee National Wildlife Refuge at 912-496-7836.

Blackbeard Island National Wildlife Refuge

* * * * *

C. Big Game Hunting. We allow hunting of white-tailed deer and feral hog on designated areas of the refuge in accordance with State regulations subject to the following conditions:

1. Hunters must possess and carry signed refuge permits on their persons at all times. You may obtain information on permits and the hunt at the refuge headquarters in Savannah, Georgia.

2. Hunters must check-in no more than 1 day in advance of the opening day of each hunt. We prohibit check-in after legal sunset of the second hunt day.

3. Each hunter may place one stand on the refuge no earlier than 1 month prior to the opening day of each hunt but must remove the stand (see § 27.93 of this chapter) by the end of each hunt.

4. Hunters must check-in at the refuge dock prior to setting up camp. We require personal identification at check-in.

5. We confine hunters to the camping area until 12 p.m. (noon) of the first day of check-in; we will allow scouting from 12 p.m. (noon) until 5 p.m.

6. Within the refuge, you may only travel by foot or bicycle, except in the wilderness area where we allow only foot travel. We limit entry and exit points to the designated check stations or other specified areas. We prohibit hunters to leave by boat to reach other parts of the island.

7. You may only camp at the designated camping area.

8. You must confine fires (see § 27.95 of this chapter) to the camping area.

9. We prohibit flagging, blazing, or trail-marking devices to locate stands or for any other purpose.

10. We only allow bows. We prohibit crossbows or firearms (see §§ 27.42 and 27.43 of this chapter).

11. We prohibit the use of organized drives for taking or attempting to take deer.

12. You may take five deer of either sex and State bonus tags will be issued for two of these. There is no bag limit on feral hog.

13. Refuge personnel must check deer harvested during the scheduled hunt before hunters may remove them from the refuge.

14. Hunters must be on their stands from ½ hour before legal sunrise until 9 a.m. and from 2 hours before legal sunset until legal sunset.

15. We prohibit target practice except in designated areas (see § 27.42 of this chapter).

16. Hunters must be off the island by 12 p.m. (noon) on Sunday.

17. We close the refuge to the nonhunting public 1 day prior to and 1 day after the hunt period, as well as on hunt days.

* * * * *

Bond Swamp National Wildlife Refuge

A. Migratory Game Bird Hunting. [Reserved]

B. Upland Game Hunting. [Reserved]

C. Big Game Hunting. We allow hunting for white-tailed deer and feral hog on designated areas of the refuge in accordance with State regulations subject to the following conditions:

1. We coordinate hunting seasons and limits with the State and annually list them in the refuge hunting brochure.

2. We require you to possess and carry a signed refuge hunt permit while archery hunting. You may obtain this permit from the refuge office.

3. We require a refuge hunt permit and payment of a fee for the quota firearms hunts. You may obtain applications and information about the hunt drawing from the refuge office.

4. We require you to sign in once prior to each hunt at the refuge check station.

5. We allow access to the hunt area from 1 hour before legal sunrise to 1 hour after legal sunset. We prohibit overnight camping and/or parking.

6. We prohibit buckshot.

7. We prohibit flagging, blazing, painting, or any other trail-marking devices.

8. We prohibit hunting within 50 yards (45 m) of a road open to vehicle travel or within 200 yards (180 m) of a building.

9. We prohibit entry into the designated hunt area by nonhunters during the hunts.

10. We prohibit hunting or possession of weapons in public use or other areas posted “No Hunting Zone” or “Area Closed” or designated as no hunting areas on the hunt brochure map (see §§ 27.42 and 27.43 of this chapter).

11. We require you to bring any deer or hog you harvest to the refuge check station the day you kill it and before you leave the refuge.

12. We prohibit possession of field-dressed deer or hogs unless you have checked them at the refuge check station.

13. We prohibit possession of alcoholic beverages while on the refuge (see § 32.2(j)).

14. We prohibit target practice or any nonhunting discharge of firearms (see § 27.42 of this chapter).

15. We require each firearms hunter to wear at least 500 square inches (3,250 cm²) of hunter orange as an outer garment above the waist.

16. We prohibit walking or trespassing on the railroad tracks to access the refuge.

17. We prohibit removal of live hog from the refuge.

18. We prohibit the use of dogs.

19. We allow the use of ATVs on refuge roads to retrieve game (see § 27.31 of this chapter), but you must obtain permission from refuge staff before using the ATV.

20. We allow limited nonmotorized portable boat access at the Stone Creek parking area.

21. We prohibit the use of organized drives for taking or attempting to take game.

D. Sport Fishing. We allow fishing on designated areas of the refuge in accordance with State regulations subject to the following conditions:

1. We allow fishing from March 15 to October 15, except on the Ocmulgee River, which is open to fishing year-round.

2. We only allow access to the refuge and fishing from legal sunrise to legal sunset.

3. We only allow fishing with pole and line or rod and reel.

4. We prohibit boats on all refuge waters, except the Ocmulgee River, where we allow boats.

5. We prohibit leaving boats or other personal equipment on the refuge overnight (see § 27.93 of this chapter).

6. The minimum size limit for largemouth bass is 14 inches (490 cm).

* * * * *

Harris Neck National Wildlife Refuge

* * * * *

C. Big Game Hunting. We allow hunting of white-tailed deer and feral hog on designated areas of the refuge in accordance with State regulations subject to the following conditions:

1. Hunters must possess and carry a signed refuge permit on their person at all times. We require payment of a fee for the quota gun hunt only. You may obtain information on permits, quota hunt applications, and quota hunt drawings at the refuge headquarters in Savannah, Georgia.

2. Each hunter may place one stand on the refuge during the week (Monday through Friday only) preceding each hunt, but you must remove stands by the end of each hunt (see § 27.93 of this chapter).

3. Hunters must be on their stands from ½ hour before legal sunrise until 9 a.m. and from 2 hours before legal sunset until legal sunset.

4. We prohibit use of flagging, blazing, or trail-marking devices to locate stands or for any other purpose.

5. We prohibit hunting closer than 100 yards (90 m) to State Highway 131, the refuge entrance drive, refuge headquarters, Barbour River Landing, Barbour River Road, or Gould's Cemetery.

6. We require personal identification at check-in.

7. To hunt during the morning stand hours, bow hunters must enter the refuge through the refuge entrance gate only, between 5 a.m. and 6 a.m. We will allow hunters to exit and re-enter through the entrance gate only, from 9 a.m. until 4 p.m. After 4 p.m. we prohibit entry to the refuge.

8. During the archery hunt, we will restrict vehicles to the auto tour route (see § 27.31 of this chapter) and allow two-way traffic.

9. During the archery hunt, we only allow bows.

10. We require gun hunters to check-in at the refuge headquarters between 4 a.m. and 5 a.m. and park in designated areas prior to hunting. We prohibit entry by boat.

11. You may take three deer of either sex (State bonus deer tags will be issued for two of these). There is no bag limit on feral hog.

12. During the gun hunt, you must only use shotguns with slugs 20 gauge or larger.

13. We prohibit target practice or any nonhunting discharge of firearms (see § 27.42 of this chapter).

14. Gun hunters must wear an outer garment with a minimum of 500 square inches (3,250 cm²) of hunter-orange material above the waistline.

15. Refuge personnel must check deer harvested during refuge hunts before leaving the refuge.

16. We prohibit the use of organized drives for taking or attempting to take game.

17. We will close the refuge to the nonhunting public on all hunt days.

* * * * *

Okefenokee National Wildlife Refuge

A. Migratory Game Bird Hunting. [Reserved]

B. Upland Game Hunting. We allow the hunting of rabbit, squirrel, bobwhite quail, and turkey on the Cowhouse Unit of the refuge. The season will be consistent with the adjacent Dixon Memorial Wildlife Management Area and in accordance with State hunting regulations subject to the following conditions:

1. We only allow foot and bicycle traffic on the refuge portion of Cowhouse Island.

2. We only allow dogs to locate, point, and retrieve during quail hunts.

3. For more information, contact the refuge at 912-496-7836.

C. Big Game Hunting. We allow hunting of turkey only on the Cowhouse Island Unit of the refuge. We allow hunting of white-tailed deer and feral hog at the Suwannee Canal Recreation Area, the Pocket Unit, and Cowhouse Island Unit in accordance with State regulations subject to the following conditions:

1. In the Pocket Unit:

i. We only allow archery hunting and foot traffic.

ii. You must sign in and out.

iii. You must remove tree stands daily (see § 27.93 of this chapter).

iv. We prohibit dogs.

2. In the Suwannee Canal Unit:

i. We only allow two ½-day hunts (dates will be announced) and shotguns with slugs or muzzleloaders.

ii. We require a refuge permit through refuge lottery, which interested parties should enter before August 31 (fee will be announced).

iii. Hunters must remain on stands from 30 minutes before legal sunrise until 9 a.m.

iv. You must sign in and sign out.

v. You must tag your deer with special refuge tags. There is a limit of two deer of either sex.

vi. We only zone Chesser Island Hunt area to accommodate wheelchair hunters.

vii. Conditions B3, C1iii, and C1iv apply.

viii. We prohibit dogs.

3. In the Cowhouse Island Unit:

i. Dixon Memorial Wildlife Management Area rules, regulations, dates, and times apply.

ii. Conditions B1, B3, C1iii, and C1iv apply.

D. Sport Fishing. We allow fishing on designated areas of the refuge in accordance with State regulations subject to the following conditions:

1. We allow motorized boats with motors 10 hp or less.

2. We prohibit possession of live bait fish.

3. We only allow the use of pole and line or rod and reel.

4. In the Suwannee Canal unit:

i. We prohibit fishing in the boat basin.

ii. We prohibit fishing in ponds and canals along the Swamp Island Drive.

iii. We reserve the porch and canal area behind the visitor center for youth age 15 and under and physically disabled.

5. Condition B3 applies.

Piedmont National Wildlife Refuge

A. Migratory Game Bird Hunting. [Reserved]

B. Upland Game Hunting. We allow hunting of quail, squirrel, rabbit, raccoon, and opossum on designated areas of the refuge in accordance with State regulations subject to the following conditions:

1. We prohibit upland game hunting during refuge deer or turkey hunts.

2. We coordinate hunting seasons for raccoon and opossum with the State and annually list them in the refuge hunt brochure.

3. You must possess and carry a signed refuge hunt permit while hunting. You may obtain the permit from the refuge office.

4. We require a refuge hunt permit to hunt on the Hitchiti Experimental Forest in accordance with refuge hunting seasons and regulations.

5. We prohibit hunting or possessing weapons in areas posted “No Hunting Zone” or “Area Closed” or designated as no hunting areas on the hunt brochure map (see §§ 27.42 and 27.43 of this chapter).

6. The refuge is a day-use-only area, with the exception of legal hunting activities.

7. We allow access to the hunt area for quail, squirrel, and rabbit hunting from 1 hour before legal sunrise to 1 hour after legal sunset. We prohibit overnight camping and/or parking.

8. We allow hunting for raccoon and opossum from 6 p.m. to 6 a.m. on the days listed as open in the refuge hunt brochure.

9. We only allow .22 caliber rimfire firearms for raccoon and opossum.

10. You may use dogs on designated areas of the refuge in accordance with State regulations.

11. You must keep your dogs confined or on a leash except when hunting, and you must remove your dogs upon your departure from the refuge (see § 26.21(b) of this chapter).

C. Big Game Hunting. We allow hunting for white-tailed deer, turkey, and feral hog on designated areas of the refuge in accordance with State regulations subject to the following conditions:

1. Conditions B4, B5, and B6 apply.

2. We coordinate hunting seasons and limits with the State and annually list them in the refuge hunting brochure.

3. We require you to possess and carry a signed refuge permit while archery hunting. You may obtain this permit from the refuge office.

4. We require a refuge hunt permit and payment of a fee for the quota firearms hunts. You may obtain applications and information about the hunt drawing from the refuge office.

5. We have a special deer hunt for disabled hunters confined to wheelchairs. You may obtain information about this hunt from the refuge office.

6. We prohibit entry into designated hunt area by nonhunters during the hunts.

7. We allow access to the hunting area from 1 hour before legal sunrise to 1 hour after legal sunset. We prohibit overnight camping and/or parking except in the designated campground at Pippins Lake. You must have a refuge hunting permit to enter and use the campground.

8. We prohibit buckshot.

9. We only allow alcoholic beverages in the designated campground (see § 32.2(j)).

10. We prohibit flagging, blazing, painting, or any other trail-marking devices.

11. We prohibit hunting within 50 yards (45 m) of a road open to vehicle travel or within 200 yards (180 m) of a building.

12. You must bring any deer, turkey, or hog you harvest to the refuge check station intact, except entrails, the day you kill them and before you leave the refuge. We prohibit possession of dressed deer, turkey, or hog unless you have checked them at the refuge check station.

13. We prohibit ATVs on the refuge except by disabled hunters with a refuge Special Use Permit.

14. We prohibit target practice on the refuge, including the shooting of firearms or bows in the designated campground, or any nonhunting discharge of firearms (see § 27.42 of this chapter).

15. We prohibit audio equipment such as radios or other noise-making devices such as generators after 10 p.m. or before 6 a.m. in the campground (see § 27.72 of this chapter).

16. We prohibit dogs for hunting big game.

17. We prohibit the use of organized drives for taking or attempting to take game.

D. Sport Fishing. We allow fishing on designated areas of the refuge in accordance with State regulations subject to the following conditions:

1. We allow fishing from May 1 to September 30.

2. We only allow access to the refuge and fishing from legal sunrise to legal sunset.

3. You may keep the following numbers of fish each day: bass—5; channel catfish—5; sunfish or bream—15; all other species—State limit.

4. We only allow nonmotorized boats and boats with electric motors in Pond 2A and Allison Lake.

5. We limit fishing in Pond 21A to youths age 15 and under.

6. We only allow fishing with pole and line or rod and reel.

7. We prohibit leaving boats or other personal equipment on the refuge overnight (see § 27.93 of this chapter).

8. We prohibit the use of fish for bait.

9. We prohibit placing or throwing in the water feeds, grains, or other materials to chum or attract fish.

10. You must immediately release any grass carp you catch. We are using these fish to help combat an exotic weed invasion in some ponds.

Savannah National Wildlife Refuge

A. Migratory Game Bird Hunting. We allow hunting of duck and coot on designated areas north of Georgia Highway 25 of the refuge in accordance with State regulations subject to the following conditions:

1. You must possess and carry a signed refuge permit at all times while hunting on the refuge. We only require a fee for the quota youth waterfowl hunt on the Solomon Tract. Permits and quota hunt drawing information are available at the refuge headquarters in Savannah, Georgia.

2. We only allow temporary blinds. You must remove decoys and other personal property from the refuge daily (see § 27.93 of this chapter).

3. We prohibit hunting within 100 yards (90 m) of Georgia Highway 25; or in or on Middle and Steamboat Rivers and Houstown Cut, or closer than 50 yards (45 m) of the shoreline of these waterways.

B. Upland Game Hunting. We allow hunting of squirrel November 1 through November 30 on designated areas of the refuge in accordance with State regulations subject to the following conditions:

1. You must possess and carry a signed refuge permit at all times while hunting on the refuge. Permits and hunt information are available at the refuge headquarters in Savannah, Georgia.

2. We only allow .22 caliber rimfire rifles or shotguns with #2 shot or smaller for squirrel hunting.

3. We prohibit handguns.

4. We prohibit the use of dogs.

5. You may take feral hog with weapons legal for this hunt (no bag limit).

6. We require a refuge big game license.

7. We require hunters to wear an outer garment that contains a minimum of 500 square inches (3,250 cm²) of hunter-orange material above the waistline (except during the archery-only deer hunt, the turkey hunt, and the waterfowl hunt).

C. Big Game Hunting. We allow hunting of white-tailed deer, turkey, and feral hog on designated areas of the refuge in accordance with State regulations subject to the following conditions:

1. You must possess and carry a signed refuge permit at all times while hunting on the refuge. We require a fee for the wheelchair-dependent hunters' quota gun hunt for deer. Permits, quota hunt applications, and information about the quota hunt drawing are available at the refuge headquarters in Savannah, Georgia.

2. We allow archery hunting for deer and hog from October 1 through 31 on designated areas (consult the refuge brochure for the areas).

3. We only allow bows for deer and hog hunting during the archery hunt.

4. We allow gun hunting for deer and hog from November 1 through 30 on designated areas of the refuge. We also allow hog (only) hunting during a special 9-day hunt in March.

5. We only allow shotguns with slugs, muzzleloaders, and bows for deer and hog hunting throughout the designated hunt area. However, we only allow centerfire rifles of .22 caliber or larger north of Interstate Highway 95. We prohibit handguns.

6. You may take five deer, no more than three antlerless and two antlered. There is no bag limit on feral hog.

7. Doe days for refuge lands in Georgia will only coincide with doe days set by the Georgia Department of Natural Resources for Effingham County.

8. Condition B7 applies.

9. We allow turkey hunting during a special 16-day turkey hunt in April. Turkey hunters may only harvest three gobblers.

10. We only allow shotguns with #2 shot or smaller and bows for turkey hunting in accordance with State regulations. We prohibit possession of slugs or buckshot during turkey hunts.

* * * * *

Wassaw National Wildlife Refuge

* * * * *

C. Big Game Hunting. We allow hunting of white-tailed deer and feral hog on designated areas of the refuge in accordance with State regulations subject to the following conditions:

1. Hunters must carry a signed refuge permit on their person at all times. We only require payment of a fee for the quota gun hunt for deer. You may obtain information on permits, quota hunt applications, and quota hunt drawings at the refuge headquarters in Savannah, Georgia.

2. We prohibit flagging, blazing, or trail-marking devices to locate stands or for any other purpose.

3. We prohibit the use of organized drives for taking or attempting to take game.

4. Refuge personnel must check deer harvested during scheduled hunts before hunters leave the refuge.

5. You may take five deer of either sex (State bonus tags issued for two of these). There is no bag limit on feral hog.

6. Hunters must be on their stands from ½ hour before legal sunrise until 9 a.m. and from 2 hours before legal sunset until legal sunset.

7. We prohibit target practice or any nonhunting discharge of firearms (see § 27.42 of this chapter).

8. We allow bows and muzzleloading rifles during the primitive weapons hunt.

9. We allow shotguns, 20 gauge or larger (slugs only), centerfire rifles of .22 caliber or larger, bows, and primitive weapons during the gun hunt.

10. We prohibit mooring boats to the government dock except for loading or unloading purposes.

11. Hunters must check-in at the refuge dock prior to setting up camp. We require personal identification at check-in.

12. We only allow camping at the designated camping area. You must confine fires (see § 27.95 of this chapter) to the camping area.

13. Each hunter may place one stand on the refuge no earlier than 1 month prior to the opening day of each hunt, but you must remove all stands by the end of each hunt (see § 27.93 of this chapter).

14. We require hunters to wear an outer garment that contains a minimum of 500 square inches (3,250 cm²) of hunter-orange material above the waistline.

15. Hunters may check-in at the refuge dock no more than 1 day in advance of the opening day of the hunt. We will confine hunters to the camping area until 12 p.m. (noon) of the first day of check-in; we will allow scouting from 12 p.m. (noon) until 5 p.m.

16. Hunters must be off the island the day following the last day of the hunt.

17. Within the refuge, you may only walk or use a bicycle. We prohibit hunters to leave by boat to reach other parts of the island.

18. We will close the refuge to the nonhunting public 1 day prior to, and 1 day after, the hunt period as well as on the hunt days.

* * * * *

13. Amend § 32.31 Idaho by:

a. Revising paragraphs A., B., and D. of “Bear Lake National Wildlife Refuge”;

b. Revising paragraphs A. and B. of “Camas National Wildlife Refuge”;

c. Revising paragraph A. of “Grays Lake National Wildlife Refuge”; and

d. Revising paragraphs A., B., and D. of “Minidoka National Wildlife Refuge” to read as follows:

§ 32.31 Idaho.

* * * * *

Bear Lake National Wildlife Refuge

A. Migratory Game Bird Hunting. We allow hunting of duck, goose, coot, and snipe on designated areas of the refuge in accordance with State regulations subject to the following conditions:

1. We prohibit air-thrust boats.

2. We allow nonmotorized and motorized boats after September 20 within the designated hunting area. We prohibit air-thrust boats.

3. You may only use portable blinds or construct temporary blinds of natural vegetation. Blinds will be available for general use on a first-come, first-served basis. You must remove portable blinds from the refuge at the end of each day's hunt (see § 27.93 of this chapter).

4. You must remove all personal property, including decoys and boats, (see § 27.93 of this chapter) from the refuge at the end of each day's hunt.

B. Upland Game Hunting. We allow hunting of pheasant, grouse, partridge, and cottontail rabbit on designated areas of the refuge in accordance with State regulations subject to the following condition: You may only possess approved nontoxic shotshells while in the field (see § 32.2(k)).

* * * * *

D. Sport Fishing. We allow fishing on designated areas of the refuge in accordance with State regulations subject to the following conditions:

1. We prohibit boats in the fishing area.

2. We prohibit use and possession of lead weights or sinkers.

Camas National Wildlife Refuge

A. Migratory Game Bird Hunting. We allow hunting of duck, goose, coot, and snipe on designated areas of the refuge in accordance with State regulations subject to the following conditions:

1. We prohibit public entry onto the refuge prior to 1 hour before legal hunting hours.

2. You may only use portable blinds or construct temporary blinds of natural vegetation. Blinds will be available for general use on a first-come, first-served basis. You must remove portable blinds (see § 27.93 of this chapter) at the end of each day's hunt.

3. You may only transport firearms (see § 27.42 of this chapter) on the hunter access roads.

4. You must remove all personal property (see § 27.93 of this chapter), including decoys, from the refuge at the end of each day's hunt.

B. Upland Game Hunting. We allow hunting of pheasant, grouse, and partridge on designated areas of the refuge in accordance with State regulations subject to the following conditions:

1. You may only possess approved nontoxic shotshells while in the field (see § 32.2(k)).

2. You may only transport firearms (see § 27.42 of this chapter) on the hunter access roads.

* * * * *

Grays Lake National Wildlife Refuge

A. Migratory Game Bird Hunting. We allow hunting of duck, goose, coot, and snipe on designated areas of the refuge in accordance with State regulations subject to the following conditions:

1. We only allow nonmotorized boats.

2. You may only use portable blinds or construct temporary blinds of natural vegetation. Blinds will be available for general use on a first-come, first-served basis. You must remove portable blinds (see § 27.93 of this chapter) at the end of each day's hunt.

3. We only allow hunters and dogs to retrieve game in designated hunting areas.

4. You must remove all personal property, including decoys and boats, (see § 27.93 of this chapter) from the refuge at the end of each day's hunt.

* * * * *

Minidoka National Wildlife Refuge

A. Migratory Game Bird Hunting. We allow hunting of duck, goose, coot, and snipe on designated areas of the refuge in accordance with State regulations subject to the following conditions:

1. We only allow hunters and dogs to retrieve game in designated hunting areas.

2. You may only use portable blinds or construct temporary blinds of dead natural vegetation. Blinds will be available for general use on a first-come, first-served basis. You must remove portable blinds (see § 27.93 of this chapter) at the end of each day's hunt. We prohibit use of rock piles above the high-water mark for blind construction. We prohibit pit blinds (see § 27.92 of this chapter).

3. We only allow vehicle parking in designated parking lots.

4. On West Hunting Area (Lake Walcott), we allow hunting on the uplands and over water within 100 yards (90 m) of the shoreline. We only allow use of boats for retrieval of game.

5. On East Hunting Area (Tule Island), we allow boats during the waterfowl hunting season.

B. Upland Game Hunting. We allow hunting of pheasant, grouse, partridge, and cottontail rabbit on designated areas of the refuge in accordance with State regulations subject to the following condition: You may only possess approved nontoxic shotshells while in the field (see § 32.2(k)).

* * * * *

D. Sport Fishing. We allow fishing on the refuge in accordance with State regulations and subject to the following conditions:

1. We allow bank fishing year-round. We only allow vehicle access (see § 27.31 of this chapter) to shoreline fishing areas on designated routes.

2. We allow ice fishing in accordance with State regulations. We prohibit motor vehicles (see § 27.31 of this chapter) on the ice.

3. We restrict boat fishing to designated areas as specified below:

i. On Lake Walcott, we allow boats from April 1 through September 30 within the area marked by buoys and posted signs.

ii. On Gifford Springs, we allow boats within the area marked by posted signs during the open sport fishing season.

iii. On Smith Springs, we allow boats within the area marked by posted signs during the open sport fishing season.

4. We allow use of float tubes at all times and locations except south of the southern buoy line on Lake Walcott.

14. Amend § 32.32 Illinois by:

a. Adding paragraph A.4. of “Chautauqua National Wildlife Refuge;”

b. Revising “Cypress Creek National Wildlife Refuge;”

c. Revising “Great River National Wildlife Refuge;”

d. Revising “Middle Mississippi River National Wildlife Refuge;”

e. Revising “Port Louisa National Wildlife Refuge;”

f. Revising “Two Rivers National Wildlife Refuge;” and

g. Revising paragraph A.1., adding paragraphs A.6., A.7., revising paragraphs B.1., adding paragraph B.6., revising paragraph C.1., and adding paragraph D.3. of “Upper Mississippi River National Wildlife and Fish Refuge” to read as follows:

§ 32.32 Illinois.

* * * * *

Chautauqua National Wildlife Refuge

A. Migratory Game Bird Hunting. * * *

* * * * *

4. Hunters must remove boats, decoys, and portable blinds (see § 27.93 of this chapter) at the end of each day's hunt.

* * * * *

Cypress Creek National Wildlife Refuge

A. Migratory Game Bird Hunting. We allow hunting of duck, goose, coot, woodcock, dove, and snipe on designated areas of the refuge in accordance with State regulations subject to the following conditions:

1. We require hunters to possess and carry a free refuge hunting permit while hunting on the refuge.

2. We prohibit leaving boats on the refuge overnight (see § 27.93 of this chapter).

3. We prohibit outboard motors larger than 10 hp.

3. We prohibit the use of paint, flagging, reflectors, tacks, or other manmade materials to mark trails or hunting locations.

4. Dove hunting:

i. We allow dove hunting beginning on September 1 and continuing on the following Mondays, Wednesdays, and Saturdays throughout the State season.

ii. We only allow all dove hunting from field borders.

iii. We prohibit dove hunting within 100 yards (90 m) of roadways.

iv. We prohibit hunters from possessing guns while retrieving downed doves from field interiors.

5. We only allow the use of portable or temporary blinds. Hunters must remove all blinds and decoys (see § 27.93 of this chapter) from the refuge at the end of each day's hunt.

6. On the Bellrose Waterfowl Reserve:

i. We prohibit duck hunting.

ii. You may only hunt goose following the closure of the State duck hunting season.

iii. We only allow goose hunting on Tuesdays, Thursdays, Saturdays, and Sundays.

iv. We allow hunting from ½ hour before legal sunrise until 1 p.m.

v. Hunters must exit the Reserve by 2 p.m.

vi. We prohibit entry to the Reserve prior to 4:30 a.m.

vii. We prohibit hunting during the special snow goose seasons after closure of the regular goose seasons.

viii. We prohibit construction or use of pit blinds (see § 27.92 of this chapter).

ix. We prohibit hunting within 100 yards (90 m) of any private property boundary.

x. All hunting parties must be at least 200 yards (180 m) apart.

xi. All hunters must sign in and out and report daily harvest at the hunter registration station.

B. Upland Game Hunting. We allow hunting of squirrel, rabbit, bobwhite quail, raccoon, opossum, red fox, grey fox, and coyote on designated areas of the refuge in accordance with State regulations subject to the following conditions:

1. Conditions A1, A2, and A3 apply.

2. We prohibit hunting after legal sunset, except we only allow raccoon and opossum hunting after legal sunset on refuge lands north of Perks Road.

C. Big Game Hunting. We allow hunting of white-tailed deer and turkey on designated areas of the refuge in accordance with State regulations subject to the following conditions:

1. Conditions A1, A2, A3, and A5 apply.

D. Sport Fishing. We allow fishing on designated areas of the refuge in accordance with State regulations subject to the following conditions:

1. Condition A2 applies.

2. We prohibit the use of trotlines, jogs, yo-yos, nets, or any commercial fishing equipment except in areas where State regulation authorizes commercial tackle.

3. We prohibit the use of more than two poles per angler and more than two hooks or lures per pole.

4. We prohibit possession of bass less than 15 inches (37.5 cm) in length from refuge ponds.

5. We prohibit possession of more than six channel catfish from refuge ponds.

* * * * *

Great River National Wildlife Refuge

A. Migratory Game Bird Hunting. We allow hunting of waterfowl and coot on the Long Island Division of the refuge in accordance with State regulations subject to the following condition: We only allow hunting from blinds constructed on sites posted by the Illinois Department of Natural Resources.

B. Upland Game Hunting. We allow hunting of small game, furbearers, turkey, and game birds on Long Island Division and Fox Island of the refuge in accordance with State regulations subject to the following conditions:

1. You may only possess approved nontoxic shot while hunting for upland game except turkey (see § 32.2(k)). We allow possession of lead shot for hunting turkey.

2. We only open Long Island Division and Fox Island Division for upland game hunting from ½ hour before legal sunrise until ½ hour after legal sunset.

3. We only allow turkey hunting on the Fox Island Division during the State spring seasons, including youth season. We do not open to fall turkey hunting.

4. We close Fox Island Division to all hunting and nonhunting entry from October 16 through December 31, except the Division is open to deer hunting as described below in C2.

C. Big Game Hunting. We allow hunting of white-tailed deer on designated portions of the refuge in accordance with State regulations subject to the following conditions:

1. We only allow the use of portable stands, and hunters must remove them from the refuge at the end of each day's hunt (see § 27.93 of this chapter).

2. On the Fox Island Division, we only allow hunting during the “Antlerless-Only” portion of the State firearms deer season.

3. On the Delair Division, we only allow muzzleloader hunting subject to the following conditions:

i. You must possess and carry a refuge permit.

ii. We require hunters to check-in and out of the refuge each day.

iii. We require hunters to record all harvested deer with refuge staff before removing them from the refuge.

iv. Shooting hours end at 3 p.m. each day.

v. Hunters must park all vehicles only in designated parking areas.

D. Sport Fishing. We allow fishing on the Long Island and Fox Island Divisions of the refuge in accordance with State regulations subject to the following conditions:

1. We prohibit the taking of turtle and frog (see § 27.21 of this chapter).

2. On the Fox Island Division, we only allow bank fishing along any portion of the Fox River from January 1 through October 15.

* * * * *

Middle Mississippi River National Wildlife Refuge

A. Migratory Game Bird Hunting. We allow hunting of migratory game birds on the Meissner and Wilkinson Island Division in accordance with State regulations subject to the following conditions:

1. We only allow portable blinds.

2. Hunters must remove blinds, decoys, and other equipment (see § 27.93 of this chapter) from the refuge at the conclusion of each day's hunt.

B. Upland Game Hunting. We allow hunting of small game, furbearers, turkey, and nonmigratory game birds on the Meissner, Harlow, and Wilkinson Island Divisions in accordance with State regulations subject to the following conditions:

1. We only allow hunting of furbearers from legal sunrise to legal sunset.

2. You may only possess approved nontoxic shot while hunting upland game, except turkey (see § 32.2(k)).

C. Big Game Hunting. We allow hunting of white-tailed deer on the Harlow, Meissner, and Wilkinson Island Divisions in accordance with State regulations subject to the following conditions:

1. We only allow archery hunting on the Harlow and Meissner Divisions.

2. We only allow the use of portable stands, and hunters must remove them from the refuge at the end of each day's hunt (see § 27.93 of this chapter).

D. Sport Fishing. We allow fishing on the Harlow and Wilkinson Island Divisions in accordance with State regulations subject to the following conditions:

1. We prohibit the taking of turtle and frog (see § 27.21 of this chapter).

2. We only allow fishing from legal sunrise to legal sunset.

3. Anglers must remove all fishing devices (see § 27.93 of this chapter) at the end of each day's fishing.

Port Louisa National Wildlife Refuge

A. Migratory Game Bird Hunting. We allow hunting of migratory game birds on the Big Timber Division in accordance with State regulations subject to the following conditions:

1. Hunters must remove boats, decoys, and portable blinds (see § 27.93 of this chapter) at the end of each day's hunt.

2. We allow portable blinds on a daily basis at any location on first-come, first-served basis.

3. We prohibit hunting on the Louisa, Horseshoe Bend, and Keithsburg Divisions.

B. Upland Game Hunting. We allow hunting of upland game only on Big Timber, Keithsburg, and Horseshoe Bend Divisions in accordance with State regulations subject to the following conditions:

1. You may only possess approved nontoxic shot (see § 32.2(k)) while hunting upland game. You may use lead shot to hunt turkey. We allow shotgun slug or muzzleloading rifle for hunting coyotes.

2. We only allow squirrel hunting on the Keithsburg Division from the beginning of the State season to September 15.

3. We allow hunting on the Horseshoe Bend Division from September 1 until September 14 and from December 1 until February 28. We allow spring turkey hunting.

4. We allow hunting on the Big Timber Division from September 1 until February 28. We allow spring turkey hunting.

C. Big Game Hunting. We allow hunting of white-tailed deer only on Big Timber and Horseshoe Bend Divisions in accordance with State regulations subject to the following conditions:

1. We only allow the use of portable stands, and hunters must remove them at the end of each day's hunt (see § 27.93 of this chapter).

2. We close Horseshoe Bend Division to all public access from September 15 until December 1.

D. Sport Fishing. We allow fishing in accordance with State regulations subject to the following conditions:

1. We prohibit the taking of turtle or frog (see § 27.21 of this chapter).

2. We only allow fishing from legal sunrise to legal sunset.

3. We close the following Divisions to all public access: Louisa Division — September 14 until February 1; Horseshoe Bend Division — September 14 until December 1; Keithsburg Division — September 15 until January 1.

4. Anglers must remove boats and all other fishing devices (see § 27.93 of this chapter) at the end of each day's fishing.

5. We only allow motor boats on Horseshoe Bend Division for fishing during the periods when flood water enables access from the river over the levee.

Two Rivers National Wildlife Refuge

A. Migratory Game Bird Hunting. We allow hunting of migratory game birds only on the Apple Creek Division in accordance with State regulations subject to the following conditions:

1. We only allow portable blinds.

2. Hunters must remove boats, decoys, and portable blinds (see § 27.93 of this chapter) at the end of each day.

B. Upland Game Hunting. We allow upland game hunting only on the Apple Creek Division and the portion of the Calhoun Division east of the Illinois River Road in accordance with State regulations subject to the following conditions:

1. You may only possess approved nontoxic shot while hunting, except turkey (see § 32.2(k)). We allow possession of lead shot for turkey hunting.

2. We allow hunting from legal sunrise to legal sunset.

C. Big Game Hunting. We allow hunting of white-tailed deer on the Apple Creek Division and the portion of the Calhoun Division east of the Illinois River Road in accordance with State regulations subject to the following condition: We only allow the use of portable stands, and hunters must remove them at the end of each day's hunt (see § 27.93 of this chapter).

D. Sport Fishing. We allow fishing on the refuge in accordance with State regulations subject to the following conditions:

1. We prohibit the taking of turtle or frog (see § 27.21 of this chapter).

2. We only allow fishing from legal sunrise to legal sunset.

3. From October 15 through December 31, we close the Batchtown, Calhoun, Gilbert Lake, and Portage Island Divisions, and the portion of the Calhoun Division north and west of the Illinois River Road to all public access.

4. Anglers must remove boats and all other fishing devices (see § 27.93 of this chapter) at the end of each day.

5. We only allow boats on the Gilbert Lake Division for fishing during those periods when flood water enables access from the river over the levee.

Upper Mississippi River National Wildlife and Fish Refuge

A. Migratory Game Bird Hunting. * * *

1. In areas posted “Area Closed” or “No Hunting Zone,” we prohibit hunting of migratory game birds at all times. In addition to areas posted “No Hunting Zone,” we prohibit hunting within 50 yards (45 m) of the Great River Trail at Thomson Prairie, within 150 yards (135 m) of the Great River Trail at Mesquaki Lake, and within 400 yards (360 m) of the Potter's Marsh area in Pool 13.

* * * * *

6. For Pools 12, 13, and 14, we allow the following: hunting from boat blinds or scull boats; construction of permanent blinds from dimensional lumber (however, we prohibit use of nonbiodegradable materials such as metal, plastic, or fiberglass); and use of willow, cattail, bulrush, lotus, arrowhead vegetation, and dead wood on the ground for blind building and camouflage. We prohibit cutting or removing any other trees or vegetation (see § 27.51 of this chapter). Hunters must place an identification card with name, address, and telephone number inside the permanent blind. Blinds not occupied by ½ hour before legal sunrise are available on a first-come, first-served basis.

i. Iowa: Hunters may hunt from the shoreline or wade. You may build permanent blinds anytime during the year anywhere within the pools on the Iowa side.

ii. Illinois (excluding Potter's Marsh Management Zone): Hunters may select permanent blind sites with a blind site marker beginning at 8 a.m. on the first Saturday in August. We prohibit occupying, improving, building a blind, or placing building materials on the site or in the adjacent area prior to this time. The blind site marker must include the name, address, date, time and telephone number of person(s) selecting the site. Hunters must completely build and camouflage the blind by September 1 or must remove the site selection marker (see § 27.93 of this chapter). All blinds must be a minimum of 4 by 8 feet (120 by 240 cm) in size and at least 200 yards (180 m) from each other. Scull boat and boat blinds must be at least 200 yards (180 m) from permanent blinds. Only during the early teal or goose season do we allow hunters to hunt by standing or wading in the water.

7. We allow the use of hunting dogs, provided the dogs remain under the immediate control of the hunter at all times (see § 26.21(b) of this chapter).

B. Upland Game Hunting. * * *

1. In areas posted “No Hunting Zone,” we prohibit possession of firearms at all times (see § 27.42 of this chapter). In addition to areas posted “No Hunting Zone,” we prohibit hunting within 50 yards (45 m) of the Great River Trail at Thomson Prairie, within 150 yards (135 m) of the Great River Trail at Mesquaki Lake, and within 400 yards (360 m) of the Potter's Marsh area in Pool 13.

* * * * *

6. We allow the use of hunting dogs provided the dogs remain under the immediate control of the hunter at all times (see § 26.21(b) of this chapter).

C. Big Game Hunting. * * *

1. Condition B1 applies.

* * * * *

D. Sport Fishing. * * *

* * * * *

3. For the purpose of determining length limits, slot limits, and daily creel limits, the impounded areas of Spring Lake, Duckfoot Marsh, and Pleasant Creek in Pool 13 are part of the Mississippi River site-specific State regulations.

15. Amend § 32.33 Indiana by:

a. Revising paragraphs B., the introductory text of paragraph C., paragraph C.1., C.2., and C.5., adding paragraphs C.6., C.7., and C.8., and revising paragraph D. of “Muscatatuck National Wildlife Refuge;” and

b. Revising “Patoka River National Wildlife Refuge and Management Area” to read as follows:

§ 32.33 Indiana.

* * * * *

Muscatatuck National Wildlife Refuge

* * *

* * * * *

B. Upland Game Hunting. We allow hunting of quail, rabbit and turkey on designated areas of the refuge in accordance with State regulations subject to the following conditions:

1. We prohibit discharge of firearms (see § 27.42 of this chapter) within 100 yards (90 m) of an occupied dwelling.

2. We only allow hunting from legal sunrise to legal sunset.

3. We prohibit hunting from the beginning of the second State muzzleloader deer season through the end of the year.

4. You must possess and carry a refuge permit for turkey hunting.

5. We only allow turkey hunting on weekdays from ½ hour before legal sunrise until 12 p.m. (noon).

C. Big Game Hunting. We allow hunting of white-tailed deer on designated areas of the refuge in accordance with State regulations subject to the following conditions:

1. You must possess and carry a refuge permit during the second State muzzleloader season. We allow archery hunting following the second muzzleloader season.

2. We only allow bow and arrow and muzzleloaders, except that hunters with a State handicapped hunting license may use crossbows.

* * * * *

5. Refuge hours are 6 a.m. to 6 p.m. during the deer hunts.

6. Hunters may only take one deer per day from the refuge.

7. Refuge personnel must check deer harvested during scheduled hunts before hunters leave the refuge.

8. We prohibit entry into the designated hunt area by nonhunters during the second State muzzleloader season.

D. Sport Fishing. We allow fishing on designated areas of the refuge in accordance with State regulations subject to the following conditions:

1. We allow bank fishing by wading in the water and from nonmotorized boats on Stanfield Lake from May 15 through October 15. We prohibit the use of boats at other times and in other refuge waters.

2. We only allow fishing with rod and reel or pole and line.

3. We allow fishing on Richart Lake during periods as posted in the spring and fall.

4. The minimum size limit for large-mouth black bass taken from refuge waters is 14 inches (35 cm).

5. We allow ice fishing on Stanfield Lake and other fishing areas designated by signs and when ice conditions permit.

6. We allow fishing from legal sunrise to legal sunset.

7. You may take frog and turtle by hook and line from legal sunrise to legal sunset.

8. We allow “Belly boat”-type inflatables as long as the occupant's feet remain in contact with the bottom.

Patoka River National Wildlife Refuge and Management Area

A. Migratory Game Bird Hunting. We allow hunting of migratory game birds on designated areas of the refuge and the White River Wildlife Management Areas in accordance with State regulations subject to the following conditions:

1. We only allow the use of portable blinds or temporary blinds constructed of native vegetation. Hunters must remove all portable blinds and dismantle temporary blinds (see § 27.93 of this chapter) at the end of each day.

2. We only allow motorboats on Snakey Point Marsh east of the South Fork River and the Patoka River. You must operate motorboats at no-wake speed. We open other waters to hand-powered or battery-driven motors. We prohibit airboats.

3. You must remove boats and decoys (see § 27.93 of this chapter) at the end of each day's hunt.

4. We do not open Cane Ridge Wildlife Management Area to all hunting.

B. Upland Game Hunting. We allow hunting of bobwhite quail, cottontail rabbit, squirrel (grey and fox), pheasant, turkey (spring only), red and grey fox, coyote, opossum, and raccoon in accordance with State regulations subject to the following conditions:

1. You may only possess approved nontoxic shot while hunting, except while hunting for turkey (see § 32.2(k)).

2. You must possess and carry a refuge permit for furbearer hunting.

3. We allow dogs for hunting provided the dog is under the immediate control of the hunter at all times (see § 26.21(b) of this chapter).

C. Big Game Hunting. We allow hunting of white-tailed deer in accordance with State regulations subject to the following conditions:

1. We prohibit construction or use permanent tree stands or blinds (see § 27.92 of this chapter). We only allow portable stands.

2. Condition A4 applies.

D. Sport Fishing. We allow fishing in accordance with State regulations subject to the following conditions:

1. We allow fishing from legal sunrise to legal sunset, except on the Patoka River.

2. We only allow fishing with rod and reel or pole and line.

3. The minimum size limit for large-mouth bass on Snakey Point Marsh is 14 inches (35 cm).

4. You must possess and carry a refuge permit to take bait fish, crayfish, snapping turtle, and bull frog.

5. Condition A2 applies.

6. Anglers must remove boats (see § 27.93 of this chapter) at the end of each day.

16. Amend § 32.34 Iowa by:

a. Revising paragraph A., the introductory text of paragraph C., paragraph C.1., and adding paragraph D.8. of “Desoto National Wildlife Refuge;”

b. Revising paragraphs B. and C. of “Neal Smith National Wildlife Refuge;” and

c. Revising “Union Slough National Wildlife Refuge” to read as follows:

§ 32.34 Iowa.

* * * * *

DeSoto National Wildlife Refuge

A. Migratory Game Bird Hunting. [Reserved]

* * * * *

C. Big Game Hunting. We allow archery and muzzleloader hunting of white-tailed deer on designated areas of the refuge in accordance with State of Iowa and Nebraska regulations subject to the following conditions:

1. You must possess and carry refuge permits for archery hunting at all times while hunting.

* * * * *

D. Sport Fishing. * * *

* * * * *

8. We prohibit taking or possession of turtle or frog at any time (see § 27.21 of this chapter).

* * * * *

Neal Smith National Wildlife Refuge

* * * * *

B. Upland Game Hunting. We allow hunting of ring-necked pheasant, bobwhite quail, cottontail rabbit, and squirrel on designated areas of the refuge in accordance with State regulations subject to the following conditions:

1. You must possess and carry a refuge permit.

2. You may only possess approved nontoxic shot (see § 32.2(k)) while hunting for any permitted bird or other small game.

3. We allow hunting of upland game from 8 a.m. to 4:30 p.m. during the dates posted at the refuge.

4. All hunters must cover their head and chest with one or more of the following articles of visible, external, solid-blaze-orange clothing: a hat, vest, coat, jacket, sweatshirt, sweater, shirt, or coveralls.

C. Big Game Hunting. We allow hunting of white-tailed deer on designated areas of the refuge in accordance with State regulations subject to the following conditions:

1. You must possess and carry a refuge permit.

2. We only allow portable stands, and hunters must remove them at the end of each day's hunt (see § 27.93 of this chapter).

3. We only allow hunter access from ½ hour before legal sunrise until ½ hour after legal sunset.

* * * * *

Union Slough National Wildlife Refuge

A. Migratory Game Bird Hunting. We allow hunting of duck, goose, coot, rail (Virginia and sora only), woodcock, and snipe on the Buffalo Creek Bottoms and Schwob Marsh units of the refuge in accordance with State regulations subject to the following conditions:

1. We allow hunters on the refuge from 1 hour before legal sunrise until ½ hour after legal sunset.

2. You may only possess approved nontoxic shot while in the field (see § 32.2(k)).

3. We allow boats or other floating devices. We allow gasoline and electric motors. We prohibit the use of air-thrust boats. You may not leave boats unattended.

4. You may construct blinds using manmade materials or natural vegetation found on the refuge. We prohibit bringing plants or their parts onto the refuge (see § 26.52 of this chapter).

5. You must remove boats, decoys, and blinds (see § 27.93 of this chapter) from the refuge at the end of each day.

6. We allow the use of hunting dogs provided that the dogs remain under the immediate control of the hunter at all times (see § 26.21(b) of this chapter).

7. We prohibit entry into any closed area to retrieve downed game, unless the hunter has received written permission from the refuge manager.

8. We prohibit hunting on road rights-of-way on any portion of the refuge not open to hunting. The road right-of-way extends to the center of the road.

B. Upland Game Hunting. We allow hunting of pheasant, gray partridge, rabbit (cottontail and jack), squirrel (fox and gray), groundhog, raccoon, opossum, fox, coyote, and crow on Buffalo Creek Bottoms, Schwob Marsh, and the Core Area in accordance with State regulations subject to the following conditions:

1. We only allow hunting in the Core Area during the dates posted at the Refuge Headquarters.

2. You may only possess approved nontoxic shot while in the field (see § 32.2(k)). We prohibit possession of shotgun slugs.

3. Hunters may only enter the refuge from 8 a.m. until 4:30 p.m.

4. Conditions A6, A7, and A8 apply.

C. Big Game Hunting. We allow hunting of deer and turkey on Buffalo Creek Bottoms, Schwob Marsh, and the Core Area in accordance with State regulations subject to the following conditions:

1. Condition B1 and A8 apply.

2. Deer hunters in the Core Area must possess a valid State deer hunting license and an unfilled deer transportation tag.

3. We only allow deer hunters to enter the refuge from ½ hour before legal sunrise until ½ hour after legal sunset.

4. Deer hunters may only possess shot shells that shoot a single projectile (i.e., slugs).

5. We prohibit turkey hunting in the Core Area at all times.

6. We only allow turkey hunters to enter the refuge from ½ hour before legal sunrise until ½ hour after legal sunset.

7. Turkey hunters may only possess approved nontoxic shot while in the field.

8. We allow the use of temporary stands, blinds, platforms, or ladders. You may construct blinds using manmade materials or natural vegetation found on the refuge. We prohibit bringing plants or their parts onto the refuge (see § 27.52 of this chapter).

9. You must remove decoys, stands, blinds, platforms, and ladders from the refuge at the end of each day (see § 27.93 of this chapter).

10. We prohibit entry into any closed area to retrieve downed game, unless the hunter has received written permission from the refuge manager.

D. Sport Fishing. We allow sport fishing from the County Road A-40 right-of-way and in Buffalo Creek south of County Road 320th Street in accordance with State regulations subject to the following conditions:

1. We allow fishing from April 15 through September 30.

2. We allow fishing from legal sunrise to legal sunset.

3. We prohibit the use of boats, canoes, or other floating devices.

4. We prohibit the use or possession of lead terminal tackle.

* * * * *

17. Amend § 32.35 Kansas by:

a. Revising “Flint Hills National Wildlife Refuge;”

b. Revising “Kirwin National Wildlife Refuge;”

c. Revising “Marais des Cygnes National Wildlife Refuge;” and

d. Revising “Quivira National Wildlife Refuge” to read as follows:

§ 32.35 Kansas.

* * * * *

Flint Hills National Wildlife Refuge

A. Migratory Game Bird Hunting. We allow hunting of goose, duck, coot, mourning dove, rail, woodcock, and common snipe on designated areas of the refuge in accordance with State regulations subject to the following conditions:

1. We only allow waterfowl hunting on portions of the refuge on the south side of the Neosho River.

2. We prohibit hunting or possession of weapons on the Neosho River.

3. We prohibit shooting from or over roads and parking areas.

4. We only allow portable blinds and blinds made from natural vegetation. We prohibit the construction or use of permanent blinds and/or pits (see § 27.92 of this chapter).

5. We prohibit leaving decoys unattended at any time.

6. Dogs must be under the owner's immediate control at all times (see § 26.21(b) of this chapter).

7. We prohibit hunters or dogs retrieving game in areas closed to hunting.

8. We allow crow hunting on designated areas of the refuge subject to the following conditions:

i. We prohibit the use of centerfire rifles and pistols on the refuge;

ii. We close hunting areas on the north side of the Neosho River to all hunting from November 1 through March 1; and

iii. Conditions A2, A3, and A7 apply.

B. Upland Game Hunting. We allow hunting of pheasant, quail, prairie chicken, rabbit, and squirrel on designated areas of the refuge in accordance with State regulations subject to the following conditions:

1. Conditions A2, A3, A6, A7, A8i, and A8ii apply.

C. Big Game Hunting. We allow hunting of white-tailed deer and turkey on designated areas of the refuge in accordance with State regulations subject to the following conditions:

1. We only allow shotguns, muzzleloading firearms (see § 27.42 of this chapter), and archery equipment for deer hunting.

2. We prohibit the use of deer game tags on the refuge.

3. We do not open for deer hunting during the extended white-tailed deer antlerless season in January.

4. We require the use of approved nontoxic shot for turkey hunting (see § 32.2(k)).

5. Dogs used during the fall turkey season must be under the owner's immediate control at all times (see § 26.21(b) of this chapter).

6. Conditions A2, A3, A7, and A8ii apply.

D. Sport Fishing. We allow fishing on designated areas of the refuge in accordance with State regulations subject to the following conditions:

1. We do no open areas on the north side of the Neosho River to all fishing from November 1 through March 1, except for the Dove Roost pond and the Upper Burgess marsh.

2. We only allow fish bait collecting for personal use. We prohibit digging or habitat disturbance (see § 27.51 of this chapter).

Kirwin National Wildlife Refuge

A. Migratory Game Bird Hunting. We allow hunting of goose, duck, merganser, coot, mourning dove, and snipe on designated areas of the refuge in accordance with State regulations subject to the following conditions:

1. You may only possess six shells per day in the area from the Quillback Cove parking lot to the No Hunting Zone boundary east of Dogtown.

2. You may use natural vegetation to construct a temporary blind.

3. You may use portable hunting blinds.

4. We prohibit construction or use of any permanent blind.

5. We prohibit digging or using holes or pits for blinds.

6. We prohibit retrieval of waterfowl from an area closed to waterfowl hunting.

7. We only allow waterfowl hunting by boat in Bow Creek. You may not create a wake while in Bow Creek.

8. We only allow motorized vehicles on designated roads, parking lots, campgrounds, and boat ramps (see § 27.31 of this chapter).

9. We prohibit the use of ATVs or snowmobiles on the refuge (see § 27.31(f) of this chapter).

10. We prohibit commercial guiding on the refuge.

B. Upland Game Hunting. We allow hunting of pheasant, quail, prairie chicken, squirrel, and rabbit on designated areas of the refuge in accordance with State regulations subject to the following conditions:

1. You may only possess bow and arrow or shotguns no larger than 10 gauge on the refuge.

2. We only allow hunting of rabbit and squirrel during that portion of the State small game season that occurs during the State upland game season.

3. You may only possess six shells per day in the area from the Quillback Cove parking lot to the “Closed to Hunting” boundary east of Dogtown.

4. We prohibit retrieval of upland game from an area closed to upland game hunting.

5. Conditions A8, A9, and A10 apply.

C. Big Game Hunting. We allow hunting of deer and turkey on designated areas of the refuge in accordance with State regulations subject to the following conditions:

1. We only allow archery hunting of deer.

2. Deer hunters must obtain a free refuge permit and possess and carry a signed permit in the field while hunting.

3. You may use portable tree stands and hunting blinds provided that you install them no more than 7 days prior to the season and remove them no later than 2 days after the season (see § 27.93 of this chapter).

4. We prohibit construction or use of any permanent stand or blind (see § 27.92 of this chapter).

5. We prohibit digging or using holes or pits for blinds.

6. You may use natural vegetation to construct a temporary blind.

7. Archery hunters with a valid refuge permit may retrieve deer from an area closed to deer hunting. You must receive consent from a refuge employee prior to entering the closed area.

8. We prohibit retrieving turkey from an area closed to turkey hunting.

9. Conditions A8, A9, and A10 apply.

D. Sport Fishing. We allow fishing on the refuge in accordance with State regulations subject to the following conditions:

1. We allow access to Kirwin Reservoir by foot to bank or ice fish.

2. We only allow motorized vehicles on designated roads, parking lots, campgrounds, and boat ramps (see § 27.31 of this chapter). We prohibit motorized vehicles on the ice.

3. We allow motorized boating in the main body of Kirwin Reservoir and in Bow Creek. You must not create a wake in Bow Creek or within 100 yards (90 m) of any shoreline or island in the main body of Kirwin Reservoir. We prohibit motorized boats in the Solomon Arm of Kirwin Reservoir.

4. We allow motorless boats in the Solomon Arm of Kirwin Reservoir from August 1 through October 31.

5. We prohibit access within 100 yards (90 m) of a nesting endangered or threatened species.

6. We allow noncommercial collection of bait fish in accordance with State regulations.

7. You must obtain a free Special Use Permit prior to conducting a fishing tournament on the refuge.

8. We prohibit disposal of fish cleanings on the refuge (see § 27.94 of this chapter).

9. Conditions A9 and A10 apply.

Marais des Cygnes National Wildlife Refuge

A. Migratory Game Bird Hunting. We allow hunting of goose, duck, coot, rail, snipe, woodcock, and mourning dove on designated areas of the refuge in accordance with State regulations subject to the following conditions:

1. Hunters must remove decoys (see § 27.93 of this chapter) daily.

2. We restrict outboard motor use to the westernmost 5½ miles (8.8 km) of the Marais des Cygnes River. You may only use nonmotorized boats and electric trolling motors on remaining waters in designated areas of the refuge.

3. We prohibit discharge of firearms (see § 27.42 of this chapter) within 150 yards (135 m) of any residence or other occupied building.

B. Upland Game Hunting. We allow hunting of cottontail rabbit, squirrel, and bobwhite quail on designated areas of the refuge in accordance with State regulations subject to the following conditions:

1. Condition A3 applies.

2. We prohibit rimfire rifles and pistols.

C. Big Game Hunting. We allow hunting of white-tailed deer and turkey on designated areas of the refuge in accordance with State regulations subject to the following conditions:

1. Deer and spring turkey hunters must possess and carry a refuge permit.

2. We prohibit centerfire rifles and pistols.

3. Condition A3 applies.

D. Sport Fishing. We allow fishing on designated areas of the refuge in accordance with State regulations subject to the following condition: Condition A2 applies.

Quivira National Wildlife Refuge

A. Migratory Game Bird Hunting. We allow hunting of goose, duck, coot, Virginia and Sora rail, mourning dove, and common snipe on designated areas of the refuge in accordance with State regulations subject to the following conditions:

1. We open refuge hunting areas September 1 through February 28.

2. We may close refuge hunting areas to hunting without notice when whooping crane are present or emergencies arise.

3. We post refuge hunting areas as “Public Hunting Areas” and delineate them on the refuge hunting brochure map.

4. We allow hunters to enter the refuge 1 hour before legal shooting hours, and they must exit the refuge up to 1 hour past legal shooting hours.

5. We prohibit hunting from or across any road, trail, or parking area.

6. Hunters must park in designated parking areas.

7. We only allow portable devices or temporary blinds of natural vegetation. We prohibit construction of permanent blinds or pits (see § 27.92 of this chapter).

8. We prohibit the retrieval of game from areas closed to hunting.

9. We prohibit the use of boats, canoes, or other watercraft.

B. Upland Game Hunting. We allow hunting of pheasant, quail, squirrel, and rabbit on designated areas of the refuge in accordance with State regulations subject to the following conditions:

1. Conditions A1 through A6, and A8 apply.

2. We only allow shotguns for hunting on the refuge.

C. Big Game Hunting. [Reserved]

D. Sport Fishing. We allow fishing on all waters on the refuge in accordance with State regulations subject to the following conditions:

1. You may take fish species listed in the State fishing regulations. We prohibit taking of frog, snake, or any other wildlife (see § 27.21 of this chapter).

2. We prohibit the use of trotlines and setlines.

3. We prohibit the use of seines for taking bait.

4. We prohibit fishing from water control structures and bridges.

5. We restrict fishing in the designated “Kid's Pond,” approximately ¼ mile (.4 km) WSW of headquarters, to youth age 14 and under, and to a parent and/or guardian age 18 or older accompanying a youth.

6. The bag limit for the Kid's Pond is one fish per day.

7. We prohibit the use of boats, canoes, or other watercraft.

18. Amend § 32.36 Kentucky by:

a. Revising “Clarks River National Wildlife Refuge”; and

b. Revising “Reelfoot National Wildlife Refuge” to read as follows:

§ 32.36 Kentucky.

* * * * *

Clarks River National Wildlife Refuge

A. Migratory Game Bird Hunting. We allow hunting of mourning dove, woodcock, common snipe, Canada and snow goose, coot, and waterfowl listed in 50 CFR 10.13 under DUCKS on designated areas of the refuge in accordance with State regulations subject to the following conditions:

1. The refuge is a day-use area only, with the exception of legal hunting/fishing activities.

2. We prohibit the use of motorized off-road vehicles (e.g., ATVs) on the refuge (see § 27.31(f) of this chapter).

3. We prohibit target practice on refuge property (see § 27.42 of this chapter).

4. We prohibit the use of mules and horses on all refuge hunts.

5. You must possess and carry a valid refuge permit while hunting on the refuge.

6. To retrieve or track game from a posted closed area of the refuge, the hunter must first request permission from the refuge manager at 270-527-5770 or refuge officer at 1-888-261-2000.

7. We prohibit the use of flagging tape, reflective tacks, or other devices used to identify paths to and mark tree stands, blinds, or other areas.

8. We close those portions of abandoned railroad tracks within the refuge boundary to vehicle access (see § 27.31 of this chapter).

9. No person will discharge a firearm within 100 feet (90 m) of any public roadways running through or adjoining refuge property.

10. Waterfowl hunters must pick up decoys and equipment, unload firearms (see § 27.42(b) of this chapter), and be out of the field by 2 p.m. daily during the State waterfowl season.

11. You may only use portable or temporary blinds that must be removed (see § 27.93 of this chapter) from the refuge each day.

12. We close, as posted, the Sharpe-Elva Water Management Unit from November 1 through March 15 to all entry with the exception of drawn permit holders and their guests.

13. We only allow waterfowl hunting on the Sharpe-Elva Water Management Unit on Saturdays and Sundays during the State waterfowl season. We only allow hunting by individuals in possession of a refuge draw permit and their guests. State regulations and the following conditions apply:

i. Application procedures and eligibility requirements are available from the refuge office.

ii. We allow permit holders and up to three guests to hunt their assigned provided blind on the designated date. We prohibit guests in the blind without the attendance of the permit holder.

iii. We prohibit selling, trading, or bartering of permits. The permit is nontransferable.

iv. You may place decoys out Saturday morning at the beginning of the hunt, and you must remove them by Sunday at the close of the hunt (see § 27.93 of this chapter).

v. We prohibit watercraft in Sharpe-Elva Water Management Unit.

B. Upland Game Hunting. We allow hunting of squirrel, rabbit, quail, raccoon, opossum, crow, red and gray fox, bobcat, and coyote on designated areas of the refuge in accordance with State regulations subject to the following conditions:

1. Conditions A1 through A12 apply.

2. You may not kill or cripple a game animal without making a reasonable effort to retrieve the animal and include it in your daily bag limit.

3. You may only use rimfire rifles, shotguns, and legal archery equipment for taking upland game.

C. Big Game Hunting. We allow hunting of white-tailed deer and turkey on designated areas of the refuge in accordance with State regulations subject to the following conditions:

1. Conditions A1 through A9, A12, and B2 apply.

2. We only allow the use of portable and climbing stands. You may place stands in the field (not attached to trees—see § 32.2(i)) no earlier than 2 weeks prior to the opening of deer season, and you must remove them from the field within 1 week after the season closes (see § 27.93 of this chapter). The hunter's name and address must appear on all stands left in the field.

3. You must remove stands from the tree when not in use, or they will be subject to confiscation (see § 27.93 of this chapter). We prohibit the use of any tree stand left attached and unattended.

4. You must use safety belts at all times when occupying the tree stands.

5. We prohibit organized deer drives of two or more hunters. We define “drive” as: the act of chasing, pursuing, disturbing, or otherwise directing deer so as to make animals more susceptible to harvest.

D. Sport Fishing. We allow fishing on designated areas of the refuge subject to State regulations subject to the following conditions:

1. Conditions A1 through A9 and A12 apply.

* * * * *

Reelfoot National Wildlife Refuge

A. Migratory Game Bird Hunting. [Reserved]

B. Upland Game Hunting. We allow hunting of squirrel and raccoon on the refuge in accordance with State regulations subject to the following conditions:

1. The refuge is a day-use area only, with the exception of legal hunting/fishing activities.

2. We prohibit the use of motorized off-road vehicles (e.g., ATVs) on the refuge (see § 27.31(f) of this chapter).

3. We set season dates and bag limits annually and publish them in the refuge public use regulations available at the refuge office.

4. You must possess and carry a valid refuge permit and report game taken as specified within the permit.

5. We allow hunters to access the refuge no more than 2 hours before legal sunrise and no more than 2 hours after legal sunset with the exception of raccoon hunters, who we will allow access from 7 p.m. to 12 a.m. (midnight).

8. All youth hunters age 15 and younger must remain within sight and normal voice contact of an adult age 21 or older, possessing a license. One adult hunter may supervise no more than two youth hunters.

C. Big Game Hunting. We allow hunting for white-tailed deer and turkey on the refuge in accordance with State regulations subject to the following conditions:

1. Conditions B1 through B5, and B7 apply.

2. You may only participate in the refuge firearms deer and turkey hunts with a special quota permit issued through random drawing. You may obtain information on permit applications at the refuge headquarters.

3. You may only possess approved nontoxic shot while turkey hunting on the refuge (see § 32.2(k)).

4. We only allow the use of portable blinds and tree stands on the refuge. You must remove blinds, tree stands, and all other personal equipment from the refuge at the end of each day (see § 27.93 of this chapter).

5. All youth hunters age 15 and younger must remain within sight and normal voice contact of an adult age 21 or older, possessing a license. One adult hunter may supervise no more than one youth hunter.

D. Sport Fishing. We allow fishing on the refuge in accordance with State regulations subject to the following conditions:

1. We allow access to the Long Point Unit (north of Upper Blue Basin) for fishing from March 16 through November 14, and the Grassy Island Unit (south of Upper Blue Basin) for fishing from February 1 through November 14.

2. We allow fishing on the refuge from legal sunrise to legal sunset.

3. We prohibit taking of frog or turtle on the refuge (see § 27.21 of this chapter).

4. We prohibit airboats, hovercraft, or personal watercraft (Jet Skis) on any waters within the refuge boundary.

19. Amend § 32.37 Louisiana by:

a. Revising “Atchafalaya National Wildlife Refuge”;

b. Revising “Bayou Cocodrie National Wildlife Refuge”;

c. Revising paragraphs D.1., D.3., D.6., and adding paragraphs D.7. and D.8. of “Bayou Sauvage National Wildlife Refuge”;

d. Revising “Bayou Teche National Wildlife Refuge”;

e. Revising “Big Branch Marsh National Wildlife Refuge”;

f. Revising “Black Bayou Lake National Wildlife Refuge”;

g. Revising “Boque Chitto National Wildlife Refuge”;

h. Revising “Cameron Prairie National Wildlife Refuge”;

i. Revising “Cat Island National Wildlife Refuge”;

j. Revising “Catahoula National Wildlife Refuge”;

k. Revising “D'Arbonne National Wildlife Refuge”;

l. Revising “Delta National Wildlife Refuge”;

m. Revising “Grand Cote National Wildlife Refuge”;

n. Revising “Lacassine National Wildlife Refuge”;

o. Revising “Lake Ophelia National Wildlife Refuge”;

p. Revising “Mandalay National Wildlife Refuge”;

q. Adding “Red River National Wildlife Refuge”;

r. Revising “Sabine National Wildlife Refuge”;

s. Revising “Tensas River National Wildlife Refuge”; and

t. Revising “Upper Ouachita National Wildlife Refuge” to read as follows:

§ 32.37 Louisiana.

* * * * *

Atchafalaya National Wildlife Refuge

A. Migratory Game Bird Hunting. We allow hunting of goose, duck, coot, snipe, and woodcock on designated areas of the refuge subject to the following condition: Hunting must be in accordance with Sherburne Wildlife Management Area regulations.

B. Upland Game Hunting. We allow hunting of squirrel, rabbit, raccoon, opossum, nutria, muskrat, mink, fox, bobcat, beaver, and otter on designated areas of the refuge subject to the following condition: Hunting must be in accordance with Sherburne Wildlife Management Area regulations.

C. Big Game Hunting. We allow hunting of white-tailed deer and turkey on designated areas of the refuge subject to the following condition: Hunting must be in accordance with Sherburne Wildlife Management Area regulations.

D. Sport Fishing. We allow finfishing and shellfishing year-round in accordance with Sherburne Wildlife Management Area regulations subject to the following condition: We require refuge Special Use Permits for all commercial shellfishing.

Bayou Cocodrie National Wildlife Refuge

A. Migratory Game Bird Hunting. We allow hunting of duck, goose, coot, and woodcock on designated areas of the refuge in accordance with State regulations subject to the following conditions:

1. Hunters must possess and carry a signed refuge permit.

2. We allow migratory game bird hunting on Tuesdays, Thursdays, Saturdays, and Sundays until 12 p.m. (noon) during the State season. We do not open for the special teal season and State youth waterfowl hunt.

3. We prohibit hunting within 150 feet (45 m) of the maintained rights-of-way of roads, refuge road or designated trail, building, residence, or designated public facility.

4. You must remove temporary blinds (see § 27.93 of this chapter) used for duck hunting by 12 p.m. (noon) on the last day of the State waterfowl season. You must clearly mark any stand or blind left on the refuge with the name and address of the person using the stand or blind. You must remove decoys daily.

5. We only allow dogs to locate, point, and retrieve when hunting for migratory game birds.

6. Youth hunters under age 16 must have completed a hunter education course and possess and carry evidence of completion. An adult age 21 or older must closely supervise youth hunters (within sight and normal voice contact). One adult may supervise no more than two youth hunters while hunting migratory game birds.

7. We prohibit any person or group to act as a hunting guide, outfitter, or in any other capacity that any other individual(s) pays or promises to pay directly or indirectly for services rendered to any other person or persons hunting on the refuge, regardless of whether such payment is for guiding, outfitting, lodging, or club membership.

8. We prohibit use or possession of any type of trail-marking material.

9. Coyote, beaver, feral hog, and raccoon are incidental take species and, as such, you may take them during any open hunting season only with the weapon allowed for that season, if you are a hunter having the required licenses and permits. There is no bag limit on coyote and beaver. The feral hog bag limit is 10 per year, and the raccoon bag limit is 1 per day.

10. We prohibit entering the refuge from private property and/or hunt leases; you may use only designated entry sites.

11. You must check all game taken on the refuge before leaving the refuge at one of the self-clearing check stations indicated on the map in the refuge Hunting and Fishing Regulations Brochure.

12. You must use boats to access the refuge from Bayou Cocodrie or Cross Bayou. We prohibit entering the refuge from U.S. Highway 84. You must dock all boats used to access the refuge on the banks of the refuge. Boats used to cross “low water crossings” at Cross Bayou may be left for a maximum of 3 days, and you must clearly mark them with the name and address of the person responsible for the boat while it is on the refuge. We only allow outboard motors in Cocodrie Bayou and tributaries accessible therefrom.

13. We only allow ATVs on designated trails (see § 27.31 of this chapter) from September 1 through the hunting season. An all-terrain vehicle (ATV) is an off-road vehicle with factory specifications not to exceed the following: weight 750 pounds (337.5 kg), length 85 inches (2l2.5 cm), and width 48 inches (120 cm). We restrict ATV tires to those no larger than 25 x 12 with a maximum 1 inch (2.5 cm) lug height and a maximum allowable tire pressure of 7 psi as indicated on the tire by the manufacturer.

14. We require all refuge users to sign in at a designated check station upon entering the refuge and sign out upon their departure.

15. Hunters with mobility impairments must possess and carry a valid special access permit from the refuge to use special access ATV trails (see § 27.31 of this chapter). State requirements for “Mobility-Impaired” classification apply. Mobility-impaired hunters must present their State “Disabled Hunter” card at the refuge headquarters to apply for the refuge special access permit.

16. You may only possess approved nontoxic shot while hunting on the refuge (see § 32.2(k)). This requirement only applies to the use of shotgun ammunition.

B. Upland Game Hunting. We allow hunting of squirrel and rabbit on designated areas of the refuge in accordance with State regulations subject to the following conditions:

1. We allow squirrel and rabbit hunting during the State season except during the open youth hunt for deer, the youth lottery hunt, the muzzleloader hunt, and the lottery deer hunt.

2. Conditions A1, A3, and A7 through A16 apply.

3. We allow the use of dogs to hunt squirrel and rabbit during that portion of the season designated as “With/Without Dogs.” We list specific season dates in the refuge brochure.

4. While engaged in upland game hunting, we prohibit possession of firearms (see § 27.42 of this chapter) larger than .22 caliber rimfire, shotgun slugs, or buckshot.

5. Hunters must enter the refuge no earlier than 2 hours before legal sunrise and must exit the refuge within 2 hours after legal sunset.

6. Youth hunters under age 16 must have completed a hunter education course and possess and carry evidence of completion. An adult age 21 or older must closely supervise youth hunters (within sight and normal voice contact). One adult may supervise no more than one youth hunter while hunting upland game.

C. Big Game Hunting. We allow hunting of white-tailed deer on designated areas of the refuge in accordance with State regulations subject to the following conditions:

1. Conditions A1, A3, A7 through A16, and B5 apply.

2. The bag limit is one deer (of either sex) per day. The State season limit applies.

3. You must check all deer on the same day taken during lottery deer hunts at a staffed refuge check station.

4. Archery hunters must possess and carry proof of completion of the International Bowhunters Education Program.

5. We require a minimum of 400 square inches (2,600 cm2) of unbroken hunter orange on the outermost layer of clothing on the chest and back, and in addition, we require a hat or cap of unbroken hunter orange. You must wear the solid hunter-orange items while in the field.

6. You may place temporary stands no more than 2 days prior to the opening of the respective season, and you must remove them by the last day of archery season (see § 27.93 of this chapter). You must clearly mark any stand left on the refuge with the name and address of the person using the stand.

7. We only allow deer hunting with modern firearms during the lottery deer hunt. We require special limited permits for the lottery deer hunt. We only allow hunters with a valid lottery deer hunt permit (must possess and carry the permit) to use the refuge during the lottery deer hunt.

8. We open archery season on the Saturday closest to October 31, and keep it open until the end of the State season, except we close the refuge to archery hunting during the refuge youth hunt, youth lottery hunt, and lottery deer hunt.

9. We allow deer hunting with muzzleloaders subject to State regulations. Specific open dates will appear in the annual Refuge Hunting and Fishing Regulations Brochure.

10. We prohibit possession or use of buckshot.

11. We prohibit possession or use of climbing spikes.

12. We prohibit possession or distribution of bait or hunting with the aid of bait, including any grain, salt, minerals, or other feed or any nonnaturally occurring attractant on the refuge (see § 32.2(h)).

13. Youth hunters under age 16 must have completed a hunter education course and possess and carry evidence of completion. An adult age 21 or older must closely supervise youth hunters (within sight and normal voice contact). One adult may supervise no more than one youth hunter while hunting big game.

D. Sport Fishing. We allow fishing on the refuge in accordance with State regulations subject to the following conditions:

1. Conditions A11 through A15 apply.

2. You must tend trotlines daily. You must attach ends of trotlines by a length of cotton line that extends into the water.

3. We prohibit commercial fishing except by Special Use Permit. Recreational fishing using commercial gear (slat traps, etc.) requires a special refuge permit (that you must possess and carry) available at the refuge office.

4. We prohibit the taking of alligator snapping turtle (see § 27.21 of this chapter).

5. We only allow fishing during daylight hours.

Bayou Sauvage National Wildlife Refuge

* * * * *

D. Sport Fishing. We allow finfishing and shellfishing on designated areas of the refuge in accordance with State regulations subject to the following conditions:

1. The refuge is daylight use only.

* * * * *

3. We only allow sport fishing with hand-held rod and reel or hand-held rod and line. You may take bait shrimp with cast nets 8 feet (2.4 m) in diameter or less. You may take crawfish (up to 100 pounds (45 kg) per person) with wire nets up to 20 inches (50 cm) in diameter. We allow recreational crabbing with a limit of 12 dozen per person. You must attend all fishing, crabbing, and crawfishing equipment at all times.

* * * * *

6. We prohibit air-thrust boats, motorized pirogues, mud boats, and air-cooled propulsion engines on the refuge.

7. We prohibit feeding of any wildlife within the refuge.

8. We prohibit all commercial activity unless authorized by a Special Use Permit obtained from Southeast Louisiana Refuges Headquarters.

Bayou Teche National Wildlife Refuge

A. Migratory Game Bird Hunting. We allow hunting of migratory game birds on designated areas of the refuge in accordance with State regulations subject to the following conditions:

1. You must possess and carry a signed Public Use Permit while on the refuge. This permit is free and available on the front cover of the refuge's brochure.

2. We prohibit hunting in and/or shooting into or across any open field, roadway, or canal.

3. Youth hunters under age 16 must have completed a hunter education course and possess and carry evidence of completion. An adult age 21 or older must closely supervise youth hunters (within sight and normal voice contact). One adult can supervise no more than two youth hunters while hunting migratory game birds. All hunters and adult supervisors must possess and carry proof of completion of a State Hunter Education Course.

4. All hunters must have a refuge lottery hunting permit prior to hunting. You will find applications for refuge permits (that you must possess and carry) inside the refuge hunting, fishing, and public use brochures.

5. All hunters must check-in prior to hunting and check out after hunting at a refuge self-clearing check station. You must report all game taken on the refuge when checking out by using the check card.

6. We prohibit airboats and marsh buggies (tracked vehicles) on the refuge. We restrict motorized boat use to existing canals, ditches, trenasses, ponds, and from areas marked as nonmotorized areas only.

7. We prohibit parking, walking, or hunting within 150 feet (45 m) of any active oil well site, production facility, or equipment. We also prohibit hunting within 150 feet (45 m) of any public road, refuge road, trail, building, residence, or designated public facility.

8. We prohibit feeding of any wildlife within the refuge.

9. We allow hunting until 12 p.m. (noon). We allow hunters to enter the refuge up to 2 hours before legal sunrise.

10. We open the refuge to hunting of migratory game bird on Wednesdays, Thursdays, Saturdays, and Sundays of the State waterfowl season.

11. We allow hunting in the Centerville, Garden City, Bayou Sale, North Bend-East, and North Bend-West Units through November 30. After November 30, we allow hunting in the Centerville, Garden City, and Bayou Sale Units only. We open no other units to hunting of migratory game birds.

12. We only allow dogs to locate, point, and retrieve when hunting for migratory game birds.

13. You may only possess approved nontoxic shot while hunting on the refuge (see § 32.2(k)). This requirement only applies to the use of shotgun ammunition.

B. Upland Game Hunting. We allow hunting of squirrel and rabbit on designated areas of the refuge in accordance with State regulations subject to the following conditions:

1. We only allow hunting from the start of the State squirrel and rabbit seasons until the last day of State waterfowl season in the West Zone.

2. We prohibit upland game hunting on days corresponding with refuge deer gun hunts.

3. We allow hunters to enter the refuge up to 2 hours before legal sunrise, but they must leave the refuge 1 hour after legal sunset.

4. We allow hunting 7 days a week beginning with the opening of State seasons in the Centerville, Garden City, Bayou Sale, North Bend-East, and North Bend-West Units through November 30. After November 30, we only allow hunting on Wednesdays, Thursdays, Saturdays, and Sundays in the Centerville, Garden City, and Bayou Sale Units until 12 p.m. (noon). We open no other units to hunting of upland game.

5. We prohibit dogs.

6. Conditions A1 through A8 and A13 apply.

C. Big Game Hunting. We allow the hunting of white-tailed deer on designated areas of the refuge in accordance with State regulations subject to the following conditions:

1. We only allow hunting of deer with firearms (see § 27.42 of this chapter) during 7 specific days in November. A youth gun hunt will occur during the first weekend in November. The first of two general gun hunts will occur on the third weekend, and the final general gun hunt will occur during the final full weekend of November. These gun hunts include both Saturday and Sunday only, except the final general gun hunt will additionally include the Friday immediately before the weekend.

2. We allow hunting of deer with archery equipment from the start of the State archery season until the last day of November, except for those days that deer gun hunts occur.

3. All archery hunters must possess and carry proof of completion of the International Bowhunters Education Program.

4. We allow hunting in the Centerville, Garden City, Bayou Sale, North Bend-East, and North Bend-West Units only. We do not open the Bayou Sale Unit for all big game firearm hunts.

5. We only allow each hunter to possess 1 deer of either sex per day. State season limits apply.

6. You may take no other native or feral wildlife other than white-tailed deer while engaged in big game hunting (see § 27.21 of this chapter).

7. We prohibit possession of buckshot.

8. We require a minimum of 400 square inches (2,600 cm²) of unbroken hunter orange on the outermost layer of clothing on the chest and back, and, in addition, we require a hat or cap of unbroken hunter orange. You must wear the solid hunter-orange items while in the field.

9. Conditions A1 through A8 and B3 apply.

D. Sport Fishing. We allow fishing in all refuge waters in accordance with State regulations subject to the following conditions:

1. We only allow recreational fishing. We prohibit all commercial fishing activity unless authorized by a Special Use Permit.

2. We prohibit the use of unattended nets, traps, or lines (trot, jug, bush, etc.).

3. The refuge is daylight use only.

4. We prohibit the take of turtle (see § 27.21 of this chapter).

5. Conditions A1 and A5 through A8 apply.

Big Branch Marsh National Wildlife Refuge

A. Migratory Game Bird Hunting. You may hunt duck, coot, and goose on designated areas of the refuge during the State waterfowl season in accordance with State regulations subject to the following conditions:

1. We allow waterfowl hunting on Wednesdays, Thursdays, Saturdays, and Sundays, until 12 p.m. (noon), including the special teal season and youth waterfowl hunt.

2. We do not open the refuge to goose hunting for that part of the season that extends beyond the regular duck season.

3. You must remove blinds and decoys (see § 27.93 of this chapter) by noon.

4. We only allow dogs to locate, point, and retrieve when hunting for migratory game birds.

5. You must possess and carry a valid refuge hunt permit.

6. We prohibit air-thrust boats, motorized pirogues, mud boats, and air-cooled propulsion engines on the refuge.

7. Youth hunters under age 16 must have completed a hunter education course and possess and carry evidence of completion. An adult age 21 or older must closely supervise youth hunters (within sight and normal voice contact). One adult may supervise no more than two youth hunters while hunting migratory game.

8. We only open the refuge during daylight hours.

9. We prohibit possession of buckshot, slugs, rifles, or rifle ammunition.

10. We prohibit hunting within 150 feet (45 m) of the maintained rights-of-way of roads, refuge road, trail, building, residence, designated public facility, above-ground oil and gas or electrical facilities, or from across ATV trails (see § 27.31 of this chapter).

11. You may only possess approved nontoxic shot while hunting on the refuge (see § 32.2(k)).

B. Upland Game Hunting. We allow hunting of squirrel, rabbit, snipe, woodcock, quail, gallinule, and rail in accordance with State regulations subject to the following conditions:

1. We allow upland game hunting during the open State season using only approved nontoxic (see § 32.2(k)) shot size #4 or smaller.

2. You may only use dogs for squirrel and rabbit after the close of the State gun deer season.

3. We only allow dogs to locate, point, and retrieve when hunting for snipe, woodcock and quail.

4. Conditions A5 through A11 apply.

C. Big Game Hunting. We allow hunting of white-tailed deer and feral hog on designated areas of the refuge in accordance with State regulations subject to the following conditions:

1. We are open during the State season for archery hunting of deer.

2. We only allow portable stands.

3. We prohibit dogs and driving deer.

4. You may take deer of either sex for the entire archery deer season. The State season limits apply.

5. You must remove all deer stands within 14 days of the end of the refuge deer season (see § 27.93 of this chapter).

6. You may only take hogs during the refuge archery hunt with bow and arrow.

7. We prohibit possession or distribution of bait or hunting with the aid of bait, including any grain, salt, minerals or other feed or any nonnaturally occurring attractant on the refuge (see § 32.2(h)).

8. Conditions A5 through A11 apply.

9. Youth hunters under age 16 must have completed a hunter education course and possess and carry evidence of completion. An adult age 21 or older must closely supervise youth hunters (within sight and normal voice contact). One adult may supervise no more than one youth hunter while hunting big game.

D. Sport Fishing. We allow fishing in designated waters of the refuge in accordance with State regulations subject to the following conditions:

1. You may only fish during daylight hours.

2. You must only use rods and reel or pole and lines while fishing.

3. We prohibit trotlines, slat traps, jug lines, or nets.

4. We allow recreational crabbing.

5. We prohibit the taking of turtle (see § 27.21 of this chapter).

6. Condition A6 applies.

Black Bayou Lake National Wildlife Refuge

A. Migratory Game Bird Hunting. We allow hunting of duck, goose, coot, and woodcock on designated areas of the refuge in accordance with State regulations subject to the following conditions:

1. You must possess and carry a signed refuge hunt permit.

2. We allow hunting north of “cemetery pipeline” and east of the main body (permanent water) of Black Bayou Lake.

3. We allow waterfowl hunting until 12 p.m. (noon) during the State season except we do not open during the special teal season and State youth waterfowl hunt.

4. We prohibit accessing the hunting area by boat from Black Bayou Lake.

5. You may enter the refuge no earlier than 4 a.m.

6. We prohibit hunting within 150 feet (45 m) of the maintained rights-of-way of roads, from or across ATV trails (see § 27.31 of this chapter), and from above-ground oil or gas or electrical transmission facilities.

7. We prohibit leaving boats, blinds, and decoys unattended.

8. We only allow dogs to locate, point, and retrieve when hunting for migratory game birds.

9. Youth hunters under age 16 must successfully complete a State-approved hunter education course. While hunting, each youth must possess and carry a card or certificate of completion. Each youth hunter must remain within sight and normal voice contact of an adult age 21 or older. One adult may supervise two youth hunters.

10. We prohibit any person or group to act as a hunting guide, outfitter, or in any other capacity that any other individual(s) pays or promises to pay directly or indirectly for services rendered to any other person or persons hunting on the refuge, regardless of whether such payment is for guiding, outfitting, lodging, or club membership.

11. We only allow ATVs on trails (see § 27.31 of this chapter) designated for their use and marked by signs. We do not open ATV trails March 1 through August 31. An all-terrain vehicle (ATV) is an off-road vehicle with factory specifications not to exceed the following: weight 750 lbs. (337.5 kg), length 85 inches (212.5 cm), and width 48 inches (120 cm). We restrict ATV tires to those no larger than 25 x 12 with a maximum of 1 inch (2.5 cm) lug height and a maximum allowable tire pressure of 7 psi as indicated on the tire by the manufacturer.

B. Upland Game Hunting. We allow hunting of quail, squirrel, rabbit, raccoon, and opossum on designated areas of the refuge in accordance with State regulations subject to the following conditions:

1. Conditions A1, A2, A4, A6, A9, and A10 apply.

2. We prohibit possession of firearms (see § 27.42 of this chapter) larger than .22 caliber rimfire, shotgun slugs, and buckshot.

3. You may hunt raccoon and opossum from ½ hour before sunrise to ½ hour after sunset of rabbit and squirrel season and at night during December and January. You may use dogs for night hunting. We prohibit selling raccoon and opossum taken on the refuge for human consumption.

4. We allow use of dogs to hunt squirrel and rabbit after the refuge archery deer hunt.

5. We allow use of horses and mules to hunt raccoon and opossum at night only after obtaining a Special Use Permit at the refuge office.

6. We prohibit opossum and raccoon night hunters from using ATVs.

7. You may enter the refuge no earlier than 4 a.m. and must exit no later than 1 hour after legal shooting hours.

8. You may only possess approved nontoxic shot (see § 32.2(k)) while hunting on the refuge. This requirement only applies to the use of shotgun ammunition.

C. Big Game Hunting. We allow hunting of white-tailed deer on designated areas of the refuge in accordance with State regulations subject to the following conditions:

1. Conditions A1, A4, A6, A10, A11, and B7 apply.

2. We allow archery deer hunting during October, November, and December north of “cemetery pipeline” and east of the main body (permanent water) of Black Bayou Lake.

3. We prohibit gun deer hunting.

4. The daily bag limit is one deer of either sex. The State season limit applies.

5. Hunters must possess and carry proof of completion of the International Bowhunters Education Program.

6. We prohibit leaving deer stands, blinds, and other equipment unattended.

7. Youth hunters under age 16 must successfully complete a State-approved hunter education course. While hunting, each youth must possess and carry a card or certificate of completion. Each youth hunter must remain within sight and normal voice contact of an adult age 21 or older. One adult may supervise no more than one youth hunter.

D. Sport Fishing. We allow fishing on designated areas of the refuge in accordance with State regulations subject to the following conditions:

1. You may enter the refuge ½ hour before legal sunrise, and you must exit no later than ½ hour after legal sunset.

2. You may only launch boats at the concrete ramp adjacent to the visitor center. We prohibit launching boats with motors greater than 50 hp. We prohibit personal watercraft (Jet Skis).

3. We prohibit trotlines, limb lines, yo-yos, traps, or nets.

4. We prohibit commercial fishing.

5. We prohibit leaving boats or other equipment on the refuge overnight (see § 27.93 of this chapter).

6. We require a boat launch fee. You must pay launch fees and fill out and properly display your launch permit before launching boat.

7. We prohibit take of frog, turtle, and mollusk (see § 27.21 of this chapter).

8. We prohibit crossing the water hyacinth blooms in a boat.

Bogue Chitto National Wildlife Refuge

A. Migratory Game Bird Hunting. We allow hunting of duck, goose, coot, and woodcock on designated areas of the refuge in accordance with State regulations subject to the following conditions:

1. We allow hunting until 12 p.m. (noon).

2. We only allow woodcock hunting using approved nontoxic shot (see § 32.2(k)) size #4 or smaller.

3. Youth hunters under age 16 must successfully complete a State-approved hunter education course. While hunting, each youth must possess and carry a certificate of completion. Each youth hunter must remain within sight and normal voice contact of an adult age 21 or older. For waterfowl hunts, one adult may supervise two youth hunters.

4. We only allow dogs to locate, point, and retrieve when hunting for migratory game birds.

5. We require a signed refuge hunt permit.

6. We allow public hunting refuge-wide during the open State season for listed species, except for the east levee of the Pearl River Navigation Canal as indicated on refuge permit map.

7. We prohibit hunting within 150 feet (45 m) of any public road, refuge road, trail, building, residence, designated public facility or from or across above-ground oil or gas or electrical facilities.

8. We prohibit possession of slugs, buckshot, or rifle or pistol ammunition larger than .22 caliber rimfire.

B. Upland Game Hunting. We allow hunting of squirrel, rabbit, raccoon, and opossum on designated areas of the refuge in accordance with State regulations subject to the following conditions:

1. You may only possess approved nontoxic shot while hunting on the refuge (see § 32.2(k)). This requirement only applies to the use of shotgun ammunition.

2. You may use dogs for squirrel during a portion of the squirrel season, typically in November and from after the close of the refuge gun deer season until the end of the State squirrel season.

3. You may use dogs for rabbit during a portion of the squirrel season, typically in November and after the close of the State gun deer season.

4. You may use dogs for raccoon; the season is typically during the months of January and February.

5. We will close the refuge to hunting (except waterfowl) and camping when the Pearl River reaches 15.5 feet (4.65 m) on the Pearl River Gauge at Pearl River, Louisiana.

6. We prohibit the take of feral hog during any upland game hunts.

7. Condition A3 (upland game hunts), and A5 through A8 apply.

C. Big Game Hunting. We allow hunting of white-tailed deer, turkey, and feral hog on designated areas of the refuge in accordance with State regulations subject to the following conditions:

1. Conditions A3 (one adult can only supervise one youth hunter during refuge Gun Deer Hunts), A5 through A7, and B5 apply.

2. You must remove all deer stands within 14 days following the end of the refuge deer season (see § 27.93 of this chapter).

3. We typically open archery deer season (either sex) from October 1 through 31 and also for 1 to 2 weeks in January.

4. General Gun Deer Hunts are typically in November and December.

5. Primitive weapons season is typically open in December.

6. We prohibit the use of dogs.

7. We prohibit shotguns using larger shot than No. 2 during turkey season.

8. You may only take gobblers.

9. You may take hogs during refuge archery and general Gun Deer Hunts only. Additionally, you may take hogs typically during varying dates in January and February, and you must only take them with the aid of trained hog-hunting dogs during daylight hours.

10. You must kill all hogs prior to removal from the refuge.

11. We prohibit possession or distribution of bait or hunting with the aid of bait, including any grain, salt, minerals, or other feed or nonnaturally occurring attractant on the refuge (see § 32.2(h)).

D. Sport Fishing. We allow fishing year-round in accordance with State regulations subject to the following conditions:

1. We only allow cotton limb lines.

2. Condition B5 applies.

3. We close the fishing ponds at the Pearl River Turnaround to fishing during the months of April, May, and June.

4. We prohibit boats in the fishing ponds at the Pearl River Turnaround.

5. We prohibit the take of turtle (see § 27.21 of this chapter).

* * * * *

Cameron Prairie National Wildlife Refuge

A. Migratory Game Bird Hunting. We allow hunting of goose (except Canada goose), duck, coots, snipe, and dove on designated areas of the refuge in accordance with State regulations subject to the following conditions:

1. The waterfowl hunt is a youth hunt only. We set hunt dates in September, and you may obtain information from the refuge. We will accept permit applications September 1 through October 15 and limit applications to a choice of 2 dates. We will notify successful applicants.

2. Youth hunters under age 16 must successfully complete a State-approved hunter education course. While hunting, each youth must possess and carry a card or certificate of completion. Each youth hunter must remain within sight and normal voice contact of an adult age 21 or older. For waterfowl hunts, one adult may supervise two youth hunters.

3. We require every hunter to possess and carry signed refuge hunting regulations and permit.

4. You must complete a Hunter Information Card at a self-clearing check station after each hunt before leaving the refuge.

5. We allow dove hunting in designated areas on Tuesdays, Thursdays, Saturdays, and Sundays from 12 p.m. (noon) to legal sunset during the first split of State dove season only.

6. We allow snipe hunting in designated areas on Tuesdays, Thursdays, Saturdays, and Sundays from 12 p.m. (noon) to legal sunset for the remainder of the State season after closure of the waterfowl season.

7. We prohibit hunting within 150 feet (45 m) of any public road, refuge road, trail, building, residence, or designated public facility.

8. We prohibit any person or group to act as a hunting guide, outfitter, or in any other capacity that any other individual(s) pays or promises to pay directly or indirectly for services rendered to any other person or persons hunting on the refuge, regardless of whether such payment is for guiding, outfitting, lodging, or club membership.

B. Upland Game Hunting. [Reserved]

C. Big Game Hunting. We allow archery as the only form of hunting for white-tailed deer in designated areas of the refuge in accordance with State regulations subject to the following conditions:

1. You must possess and carry proof of completion of the International Bowhunters Education Program to bowhunt on the refuge.

2. Conditions A2 (for big game hunt, one adult may supervise no more than one youth hunter), A3, A4, A7, and A8 apply.

D. Sport Fishing. We allow fishing, boating, crabbing, and cast netting on designated areas of the refuge in accordance with State regulations subject to the following conditions:

1. You must fish with a rod and reel or a pole and line. We prohibit the possession of any other type of fishing gear, including limb lines, gill nets, jug lines, yo-yos or trotlines.

2. You may fish, crab, or cast net in the East Cove unit year-round from legal sunrise to legal sunset, except during the State waterfowl season and when we close the Grand Bayou Boat Bay.

3. We prohibit fishing, crabbing, or cast netting from or trespassing on refuge water control structures at any time.

4. We prohibit walking, wading, or climbing in or on the marsh, levees, or structures.

5. We allow sport fishing, crabbing, and cast netting in the Gibbstown Unit Bank Fishing Road waterways and adjacent borrow pits and the Outfall Canal from March 15 through October 15 only.

6. We only allow nonpowered boats in the Bank Fishing Road waterways.

7. We only allow recreational crabbing with cotton hand lines or dropnets up to 24 inches (60 cm) outside diameter.

8. You must attend all lines, nets, and bait and remove them from the refuge (see § 27.93 of this chapter) when you leave.

9. We allow a daily limit of five dozen crabs per boat or vehicle.

10. We allow recreational cast netting for shrimp during the Louisiana Inland Shrimp Season when we open the East Cove Unit for boats.

11. You may only use a cast net that does not exceed a 5 foot (12.5 cm) hanging radius.

12. We allow a daily limit of 5 gallons (19 L) of heads-on shrimp per boat.

13. We only allow recreational cast netting for bait year-round when we open the East Cove Unit for boats.

14. We prohibit the use of ATVs, air-thrust boats, personal motorized watercraft (Jet Skis), and air-cooled propulsion engines (go devil-style motors) in any refuge area (see § 27.31(f) of this chapter).

15. You may operate outboard motors in refuge canals, bayous, and lakes. We only allow trolling motors in the marsh.

16. Condition A8 applies.

17. We prohibit the taking of turtle (see § 27.21 of this chapter).

Cat Island National Wildlife Refuge

A. Migratory Game Bird Hunting. We allow hunting of duck, goose, coot, and woodcock on designated areas of the refuge as shown on the refuge hunt brochure map in accordance with State regulations subject to the following conditions:

1. We require hunters/anglers age 16 and older to purchase and carry a signed refuge hunting/fishing/ATV permit.

2. Each hunter must sign in at the refuge check station when entering and leaving the refuge.

3. The refuge opens at 4 a.m. and closes 1 hour after legal sunset.

4. We prohibit possession of firearms in areas posted as “No Hunting Zones.”

5. You may only enter and exit the refuge from designated parking areas.

6. Youth hunters under age 16 must successfully complete a State-approved hunter education course. While hunting, each youth must possess and carry a card or certificate of completion. Each youth hunter must remain within sight and normal voice contact of an adult age 21 or older. Each adult must possess and carry a refuge permit and may supervise no more than two youth hunters during waterfowl/upland game hunting.

7. We allow take of beaver, feral hog, nutria, raccoon, and coyote incidental to any refuge hunt with weapons legal for that hunt until you take the daily bag limit of game.

8. You must report all harvested game at the refuge check station upon leaving the refuge. If you harvest game at a time when the refuge is closed to vehicular traffic, you must report it to the refuge office.

9. We allow use of all-terrain vehicles on designated refuge trails (see § 27.31 of this chapter) for wildlife-dependent activities from the first Saturday in September to the last day of the State-designated rabbit season. An all-terrain vehicle (ATV) is an off-road vehicle with factory specifications not to exceed the following: weight 750 lbs. (337.5 kg), length 85 inches (212.5 cm) , and width 48 inches (120 cm). We restrict ATV tires to those no larger than 25 X 12 with a maximum 1 inch (2.5 cm) lug height and a maximum allowable tire pressure of 7 psi as indicated on the tire by the manufacturer.

10. We prohibit transport of loaded weapons on an ATV (see § 27.42(b) of this chapter).

11. We prohibit hunting within 150 feet (45 m) of any public road, refuge road, trail or ATV trail, building, residence, or designated public facility.

12. We prohibit the possession or use of nonbiodegradable flagging tape.

13. We prohibit horses or mules.

14. We only allow parking in designated parking areas.

15. We prohibit camping or overnight parking on the refuge.

16. We prohibit air-thrust boats on the refuge.

17. We prohibit all other hunting during the special youth and Gun Deer Hunts.

18. We allow waterfowl hunting on Tuesdays, Thursdays, Saturdays, and Sundays until 12 p.m. (noon) during the designated State duck season, except during the refuge quota deer hunts.

19. You must remove boats, blinds, and decoys (see § 27.93 of this chapter) daily.

20. We only allow dogs to locate, point, and retrieve when hunting for migratory game birds.

B. Upland Game Hunting. We allow hunting of squirrel and rabbit on designated areas of the refuge as shown on the refuge hunt brochure map in accordance with State regulations subject to the following conditions:

1. Conditions A1 through A17, and A19 apply.

2. We allow the use of .22 caliber or less rimfire rifles and 12 gauge or higher shotguns to hunt upland game.

3. We allow the use of squirrel and rabbit dogs from the day after the close of the State-designated deer rifle season to the end of the State-designated season. We allow up to two dogs per hunting party.

4. We require the owner's name and phone number on the collars of all dogs.

5. You may only possess approved nontoxic shot while hunting on the refuge (see § 32.2(k)). This requirement only applies to the use of shotgun ammunition.

C. Big Game Hunting. We allow hunting of white-tailed deer on designated areas of the refuge as shown on the refuge hunt brochure map in accordance with State regulations subject to the following conditions:

1. Conditions A1 through A17, and A19 apply. For A6 each adult may only supervise one youth hunter during big game hunts.

2. You must only hunt deer using bow and arrow during the State-designated deer season, except during the refuge quota deer hunts and the youth deer hunt.

3. You must possess and carry proof of completion of the International Bowhunter Education Course to archery hunt on the refuge.

4. You must only use portable deer stands. Deer stands must have the owner's name, address, and phone number clearly printed on the stand.

5. We prohibit the use of dogs to trail wounded deer.

6. You may only take one deer of either sex per day during the deer season. State season limits apply. During the deer quota hunts, you may only take one deer of either sex during the quota hunt weekend.

7. We require a minimum of 400 square inches (2,600 cm2) of unbroken hunter orange on the outermost layer of clothing on the chest and back, and in addition we require a hat or cap of unbroken hunter orange.

D. Sport Fishing. We allow fishing on designated areas of the refuge as shown on the refuge hunting and fishing brochure map in accordance with State regulations subject to the following conditions:

1. We prohibit commercial fishing or commercial crawfishing.

2. Conditions A1, A3, A4, A9 (on the open portions of Wood Duck ATV Trail for wildlife-dependent activities throughout the year), A13 through A16, and A19 apply.

3. We only allow hook and line to catch bait fish.

4. We prohibit slat traps or hoop nets on the refuge.

5. You may use trotlines and yo-yos on the refuge. The ends of trotlines must consist of a length of cotton line that extends from the points of attachment into the water. You must attend yo-yos (within sight) at all times.

6. We prohibit possession of cleaned or processed fish on the refuge.

7. We allow recreational crawfishing on the refuge with either traps or nets April 1 through July 31, according to State regulations regarding trap requirements and licensing. The harvest limit is 100 pounds (45 kg) per vehicle or boat per day.

8. You must attend all crawfish traps and nets at all times and may not leave them on the refuge overnight. We allow up to and not exceeding 20 traps per angler on the refuge.

9. We prohibit harvest of frog or turtle on the refuge (see § 27.21 of this chapter).

Catahoula National Wildlife Refuge

A. Migratory Game Bird Hunting. We allow hunting of migratory game birds only on designated areas of the Bushley Bayou Unit in accordance with State hunting regulations subject to the following conditions:

1. Hunters must possess and carry a signed refuge hunting permit. Prior to entering and leaving the hunt area, we require hunters to sign in and out at designated locations as indicated on the refuge hunt/fish permit.

2. We allow goose, duck, and coot hunting on the Bushley Bayou Unit on Tuesdays, Thursdays, Saturdays, and Sundays only, from ½ hour before official sunrise until 12 p.m. (noon).

3. We open the refuge to hunters 2 hours before official sunrise for migratory game bird hunting.

4. We allow ATVs on ATV trails (see § 27.31 of this chapter) designated on the refuge hunt/fish permit from September 1 through the end of rabbit season. We open Bushley Creek, Black Lake, Boggy Bayou, Round Lake, Dempsey Lake Roads, and that portion of Minnow Ponds Road at Highway 8 to Green's Creek Road and then south to Green's Creek Bridge to ATVs year-round. We only allow ATVs for wildlife-dependent activities. We define an ATV as an off-road vehicle (not legal for highway use) with factory specifications not to exceed the following: weight 750 lbs. (337.5 kg), length 85 inches (212.5 cm), and width 48 inches (120 cm). We restrict ATV tires to those no larger than 25 x 12 with a maximum 1 inch (2.5 cm) lug height and a maximum allowable tire pressure of 7 psi as indicated on the tire by the manufacturer.

5. We require hunters to remove all portable blinds, boats, decoys, and other personal equipment (see § 27.93 of this chapter) from the refuge by 1 p.m. daily.

6. We prohibit all migratory game bird hunting during deer-gun and muzzleloader hunts.

7. We prohibit hunting or shooting within 150 feet (45 m) of any public road, refuge road, ATV trail, building, residence, or designated public facility. We prohibit parking, walking, or hunting with 150 feet (45 m) of any active oil well site, production facility, or equipment.

8. We prohibit the use of air-thrust boats, inboard water-thrust boats, or personal watercraft. We only allow nonmotorized boats, boats with electric motors, or boats with a motor of 10 hp or less on Black Lake, Dempsey Lake, Long Lake, Rhinehart Lake, and Round Lake.

9. We prohibit the use of mules or horses.

10. Youth hunters under age 16 must successfully complete a State-approved hunter education course. While hunting, each youth must possess and carry a card or certificate of completion. Each youth hunter must remain within sight and normal voice contact of an adult age 21 or older. Each adult must possess and carry a refuge permit and may supervise no more than two youth hunters while hunting migratory game birds.

11. You may only possess approved nontoxic shot while in the field (see § 32.2(k)). This requirement only applies to the use of shotgun ammunition.

12. We prohibit the possession of buckshot, slugs, or rifle ammunition larger than .17-caliber rimfire while engaged in migratory game bird hunts.

13. We prohibit any person or group to act as a hunting guide, outfitter, or in any other capacity that any other individual(s) pays or promises to pay directly or indirectly for services rendered to any other person or persons hunting on the refuge, regardless of whether such payment is for guiding, outfitting, lodging, or club membership.

14. We prohibit marking areas or trails with tape, paint, paper, flagging, or any other material.

B. Upland Game Hunting. We allow hunting of squirrel, rabbit, raccoon, and feral hog on designated areas of the refuge in accordance with State regulations subject to the following conditions:

1. Conditions A1, A4 (at the Bushley Bayou Unit), and A7 through A13 apply. For A10, each adult must supervise no more than two youth hunters during upland game hunts.

2. At the Headquarters Unit, we only allow squirrel, rabbit, raccoon, and feral hog hunting from the first day of the State squirrel season through October 31.

3. At the Bushley Bayou Unit, we allow squirrel, rabbit, raccoon, and feral hog hunting in accordance with the State season.

4. We open the refuge to hunters from 2 hours before legal sunrise until 2 hours after legal sunset.

5. At the Headquarters Unit, we only allow ATV use year-round on the Muddy Bayou Road.

6. We prohibit squirrel, rabbit, and raccoon hunting during deer-gun and muzzleloader hunts.

7. We prohibit the use of airboats, inboard water-thrust boats, or personal watercraft. We only allow nonmotorized boats, boats with electric motors, or boats with a motor of 10 hp or less on Black Lake, Dempsey Lake, Long Lake, Rhinehart Lake, and Round Lake of the Bushley Bayou Unit and Duck Lake, Cowpen Bayou, Willow Lake, and the Highway 28 and 84 borrow pits of the Headquarters Unit.

8. At the Headquarters Unit, we close upland game hunting during high water conditions with an elevation of 42 feet (12.6 m) or above as measured at the Corps of Engineers river gauge at Archie or the center of the lake gauge on Catahoula Lake. At the Bushley Bayou Unit, we close upland game hunting during high water conditions with an elevation of 44 feet (13.2 m) or above as measured at the Corps of Engineers river gauge at Archie or center of the lake gauge on Catahoula Lake.

C. Big Game Hunting. We allow hunting of white-tailed deer and feral hog on designated areas of the refuge in accordance with State regulations subject to the following conditions:

1. Conditions A1, A4 (at the Bushley Bayou Unit), A7 through A10 (one adult may only supervise one youth hunter during big game hunts), A12, A13, and B4 through B8 (big game hunting) apply.

2. At the Bushley Bayou Unit, we allow deer-archery hunting during the State archery season, except when closed during deer-gun and deer-muzzleloader hunts. We allow either-sex muzzleloader hunting during the first segment of the State season for Area 1, weekdays only (Monday through Friday) and the third weekend in December. We allow either-sex, deer-gun hunting for the Friday, Saturday, and Sunday immediately following Thanksgiving Day and for the second weekend following Thanksgiving Day.

3. At the Headquarters Unit, we allow deer-archery hunting during the State archery season, except when closed during the deer-gun hunt south of the French Fork of the Little River. We only allow either-sex, deer-gun hunting on the Friday and Saturday immediately following Thanksgiving Day on the area south of the French Fork of the Little River.

4. We allow portable stands and climbing stands, but hunters must remove them from the refuge daily (see § 27.93 of this chapter).

5. We prohibit possession of buckshot.

6. We require a minimum of 400 square inches (2,600 cm²) of unbroken hunter orange on the outermost layer of clothing on the chest and back, and in addition we require a hat or cap of unbroken hunter orange. You must wear the solid hunter-orange items while in the field.

7. You may only take one deer per day during any refuge deer hunt. The State season limits apply.

8. We prohibit organized drives for deer and/or hog.

9. Archery hunters must possess and carry proof of completion of the International Bowhunters Education Program.

D. Sport Fishing. We allow fishing on designated areas of the refuge in accordance with State regulations subject to the following conditions:

1. Conditions A4 (at the Bushley Bayou Unit), A12 (as a fishing guide), B5, and B7 apply.

2. We require anglers to obtain and carry at all times a signed copy of a current refuge hunting/fishing permit.

3. At the Bushley Bayou Unit, we allow fishing and crawfishing year-round. We allow trotlines, but you must tend them at least once every 24 hours and reset them when receding water levels expose them. You must attach them with a length of cotton line that extends into the water. We allow yo-yos, but you must attend and only use them from 1 hour before legal sunrise until ½ hour after legal sunset. We only allow recreational gear (slat traps, wire nets, and hoop nets) by refuge Special Use Permit and only in Bushley Creek, Big Bushley Creek, and Little Bushley Creek.

4. At the Headquarters Unit, we allow year-round fishing on Cowpen Bayou and the Highway 28 borrow pits. We open fishing on the remainder of the Headquarters Unit including Duck Lake, Muddy Bayou, Willow Lake, and the Highway 84 borrow pits from March 1 through October 31. We only allow pole and line or rod and reel fishing. We prohibit snagging.

5. We allow fishing from 1 hour before legal sunrise until ½ hour after legal sunset.

6. At the Headquarters Unit, we only allow launching of trailered boats at designated boat ramps. You may launch small, hand-carried boats at nonboat ramp sites. We prohibit dragging boats or driving vehicles (see § 27.31 of this chapter) onto road shoulders to launch boats.

7. We prohibit the taking or possession of all snakes, frogs, turtles, salamanders, and mollusks by any means (see § 27.21 of this chapter).

D'Arbonne National Wildlife Refuge

A. Migratory Game Bird Hunting. We allow hunting of duck, goose, coot, and woodcock on designated areas of the refuge in accordance with State regulations subject to the following conditions:

1. Hunters must possess and carry a signed refuge permit.

2. We prohibit waterfowl hunting in the “Beanfield” area west of Bayou D'Arbonne and between Holland's Bluff Road and the “Big Powerline” east of Bayou D'Arbonne. We mark prohibited areas with blue paint and signs.

3. We prohibit woodcock hunting in the “Beanfield” area west of Bayou D'Arbonne.

4. We allow waterfowl hunting until 12 p.m. (noon) during the State season except when closed during the special teal season and State youth waterfowl hunt.

5. Hunters may enter the refuge no earlier than 4 a.m.

6. We prohibit hunting within 150 feet (45 m) of any public road.

7. We prohibit leaving boats, blinds, and decoys unattended.

8. We only allow dogs to locate, point, and retrieve when hunting for migratory game birds.

9. Youth hunters under age 16 must successfully complete a State-approved hunter education course. While hunting each youth must possess and carry a card or certificate of completion. Each youth hunter must remain within sight and normal voice contact of an adult age 21 or older. Each adult must possess and carry a refuge permit and may supervise no more than two youth hunters during waterfowl hunts.

10. We prohibit any person or group to act as a hunting guide, outfitter, or in any other capacity that any other individual(s) pays or promises to pay directly or indirectly for services rendered to any other person or persons hunting on the refuge, regardless of whether such payment is for guiding, outfitting, lodging, or club membership.

B. Upland Game Hunting. We allow hunting of quail, squirrel, rabbit, raccoon, and opossum on designated areas of the refuge in accordance with State regulations subject to the following conditions:

1. Conditions A1, A6, A9 (an adult may supervise no more than two youth hunters while upland game hunting), and A10 apply.

2. We prohibit hunting in the “Beanfield” area west of Bayou D'Arbonne after October 31.

3. We prohibit possession of firearms larger than .22 caliber rimfire, shotgun slugs, and buckshot while engaged in upland game hunting.

4. You may hunt raccoon and opossum during the daylight hours of rabbit and squirrel season and at night during December and January. You may use dogs for night hunting. You may take raccoon and opossum on the refuge, but we prohibit their sale for human consumption.

5. You may use dogs to hunt squirrel and rabbit after the last refuge Gun Deer Hunt.

6. You may only use horses and mules to hunt raccoon and opossum at night after obtaining a special permit at the refuge office.

7. Hunters may enter the refuge no earlier than 4 a.m. and must exit no later than 2 hours after legal shooting hours.

8. You may only possess approved nontoxic shot while in the field (see § 32.2(k)). This requirement only applies to the use of shotgun ammunition.

C. Big Game Hunting. We allow hunting of white-tailed deer on designated areas of the refuge in accordance with State regulations subject to the following conditions:

1. Conditions A1, A3 (for gun deer hunting), A6, A9 (an adult may supervise no more than one youth hunter while big game hunting), A10, and B7 apply.

2. We allow general gun deer hunting on the following days: the first consecutive Saturday and Sunday of November, the Friday, Saturday, and Sunday following Thanksgiving Day, and the second Saturday and Sunday after Thanksgiving Day. We allow archery deer hunting during the entire State season.

3. We allow a restricted Gun Deer Hunt for hunters with Class I Wheelchair Bound Permit issued by the Louisiana Department of Wildlife and Fisheries on the second consecutive Saturday and Sunday of November. Only permitted hunters may carry firearms (see § 27.42 of this chapter).

4. The daily bag limit is one antlered and one antlerless deer. The State season limit applies.

5. You must check all deer taken during general Gun Deer Hunts at a refuge check station between 7 a.m. and 7 p.m. on the same day taken unless stated otherwise in the annual refuge hunting brochure and permit.

6. Archery hunters must possess and carry proof of completion of the International Bowhunters Education Program.

7. We prohibit leaving deer stands, blinds, and other equipment unattended.

8. Deer hunters must wear hunter orange as per State deer hunting regulations on Wildlife Management Areas.

9. We prohibit hunters placing, or hunting from, stands on pine trees with white painted bands/rings.

D. Sport Fishing. We allow fishing on the refuge in accordance with State regulations subject to the following conditions:

1. We prohibit leaving boats and other personal property on the refuge unattended.

2. You must tend trotlines daily. You must attach ends of trotlines by a length of cotton line that extends into the water.

3. We prohibit commercial fishing. Recreational fishing using commercial gear (slat traps, etc.) requires a special refuge permit (that you must possess and carry) available at the refuge office.

4. We prohibit the taking of turtle (see § 27.21 of this chapter).

Delta National Wildlife Refuge

A. Migratory Game Bird Hunting. We allow hunting of duck, goose, and coot on designated areas of the refuge in accordance with State regulations subject to the following conditions.

1. We allow waterfowl hunting on Wednesdays, Thursdays, Saturdays, and Sundays until 12 p.m. (noon), including special teal season, youth waterfowl season, and “light goose” special conservation season.

2. We only allow temporary blinds. You must remove both blinds and decoys (see § 27.93 of this chapter) by 12 p.m. (noon).

3. We only allow dogs to locate, point, and retrieve when hunting for migratory game birds.

4. Hunters must possess and carry a valid refuge hunt permit.

5. We only allow hunting on those portions of the refuge that lie northwest of Main Pass and south of Raphael Pass.

6. You may only possess approved nontoxic shot while hunting on the refuge (see § 32.2(k)).

7. We prohibit air-thrust boats, motorized pirogues, mud boats, and air-cooled propulsion engines on the refuge.

8. We close all refuge lands between Raphael Pass and Main Pass to all entry during the State waterfowl hunting season.

9. We prohibit discharge of firearms (see § 27.42 of this chapter) within 250 yards (225 m) of buildings or worksites, such as oil or gas production facilities.

10. We prohibit possession of buckshot, slugs, rifles, or rifle ammunition.

11. We allow primitive camping year-round in designated areas (see refuge map). No person or party will remain camped, nor will any campsite remain established, in excess of 14 consecutive days.

12. Youth hunters under age 16 must successfully complete a State-approved hunter education course. While hunting, each youth must possess and carry a card or certificate of completion. Each youth hunter must remain within sight and normal voice contact of an adult age 21 or older. Each adult must possess and carry a refuge permit and may supervise no more than two youth hunters during waterfowl hunts.

13. We prohibit any person or group to act as a hunting guide, outfitter, or in any other capacity that any other individual(s) pays or promises to pay directly or indirectly for services rendered to any other person or persons hunting on the refuge, regardless of whether such payment is for guiding, outfitting, lodging, or club membership.

B. Upland Game Hunting. We allow hunting of rabbit on designated areas of the refuge in accordance with State regulations subject to the following conditions:

1. The refuge rabbit season opens the day after the State duck season closes and continues through the remainder of the State rabbit season.

2. We restrict hunting to shotgun only.

3. We allow dogs for rabbit hunting.

4. Conditions A4 through A12 (each adult may supervise no more than two youth hunters during upland game hunting), and A13 apply.

C. Big Game Hunting. We allow hunting of white-tailed deer and hog on designated areas of the refuge in accordance with State regulations subject to the following conditions:

1. For archery hunting of deer and hogs, conditions A4 through A11, A12 (each adult may supervise no more than one youth hunter during big game hunting), and A13 apply.

2. We allow archery deer hunting October 1 through 31 (either sex) and from the day after the close of the State duck season through the end of the State deer archery season.

3. Hunters must only use portable stands for archery deer hunting.

4. We prohibit dogs and driving of deer for archery deer hunting.

5. You may only take hog with archery equipment.

6. We prohibit possession or distribution of bait or hunting with the aid of bait, including any grain, salt, minerals or other feed or any nonnaturally occurring attractant on the refuge (see § 32.2(h)).

D. Sport Fishing. We allow recreational fishing and crabbing on designated areas of the refuge in accordance with State regulations subject to the following conditions:

1. We only allow recreational fishing and crabbing from legal sunrise to legal sunset.

2. We prohibit the use of trotlines, limblines, slat traps, jug lines, nets, or alligator lines.

3. Condition A8, A11, and A13 (fishing guide) applies.

4. We prohibit the taking of turtle (see § 27.21 of this chapter).

Grand Cote National Wildlife Refuge

A. Migratory Game Bird Hunting. We allow hunting of duck, goose, coot, mourning dove, and woodcock on designated areas of the refuge on designated areas (shown on the refuge hunting brochure map) in accordance with State regulations subject to the following conditions:

1. We require hunters/anglers age 16 and older to purchase and carry a signed refuge hunting/fishing/ATV permit.

2. Hunters must fill out a free daily “check-in” and “check out” refuge hunting permit obtained at designated check stations and must properly display the associated windshield permit while in parking lots.

3. The refuge opens at 4 a.m. and closes 1 hour after legal sunset.

4. Youth hunters under age 16 must successfully complete a State-approved hunter education course. While hunting, each youth must possess and carry a card or certificate of completion. Each youth hunter must remain within sight and normal voice contact of an adult age 21 or older. Each adult may supervise no more than two youth hunters during waterfowl hunts.

5. You may only enter and exit the refuge from designated parking lots.

6. We prohibit camping or parking overnight on the refuge.

7. We prohibit discharge of firearms (see § 27.42 of this chapter) except when hunting.

8. We prohibit marking of trails with nonbiodegradable flagging tape.

9. We allow use of ATVs on designated trails (see § 27.31 of this chapter) from the first Saturday in September to the last day of the State rabbit season. An ATV is an off-road vehicle with factory specifications not to exceed the following: weight 750 pounds (337.5 kg), length 85 inches (212.5 cm), and width 48 inches (120 cm). We restrict ATV tires to those no larger than 25 × 12 with a maximum 1 inch (2.5 cm) lug height and a maximum allowable tire pressure of 7 psi as indicated on the tire by the manufacturer.

10. We prohibit horses and mules.

11. We prohibit hunting within 150 feet (45 m) of any public road, refuge road, trail or ATV trail, building, residence, above-ground oil or gas or electrical transmission facilities, or designated public facility.

12. We prohibit transport of loaded weapons on an ATV (see § 27.42(b) of this chapter).

13. We prohibit blocking of gates or trails (see § 27.31(h) of this chapter) with vehicles or ATVs.

14. We prohibit ATVs on trails/roads (see § 27.31 of this chapter) not specifically designated by signs for ATV use.

15. We only allow nonmotorized boats.

16. We allow incidental take of raccoon, feral hog, beaver, nutria, and coyote while you are hunting migratory birds, upland game, or big game, with weapons legal for that hunt only.

17. We only allow waterfowl (duck, goose, coot) hunting on Wednesdays and Saturdays until 12 p.m. (noon) during the Statewide duck season.

18. We only allow the use of shotguns while waterfowl hunting.

19. We prohibit the construction or use of permanent blinds.

20. You must remove all decoys, portable blinds, and boats (see § 27.93 of this chapter) daily.

21. We only allow incidental take of mourning dove while migratory bird hunting on days open to waterfowl hunting.

22. We only allow dogs to locate, point, and retrieve when hunting for migratory game birds.

B. Upland Game Hunting. We allow hunting of rabbit on designated areas of the refuge as shown on the refuge hunting brochure map in accordance with State regulations subject to the following conditions:

1. Conditions A1 through A16 and A20 apply.

2. We allow rabbit hunting from December 1 until the end of the Statewide season.

3. We only allow use of shotguns during designated hunts.

4. We only allow rabbit dogs after the close of the State deer rifle season.

5. We require the owner's name and phone number on the collars of all dogs.

6. You may only possess approved nontoxic shot (see § 32.2(k)) for upland game hunting. This requirement only applies to the use of shotgun ammunition.

7. We allow the use of .22 caliber or less rimfire rifles and 12 gauge or higher shotguns to hunt upland game.

C. Big Game Hunting. We allow hunting of white-tailed deer on designated areas of the refuge as shown on the refuge hunting brochure map in accordance with State regulations subject to the following conditions:

1. Conditions A1 through A16 and A20 apply, except in A4 each adult may only supervise one youth hunter during big game hunts.

2. We allow archery-only deer hunting on the refuge from October 1 through October 31 in the Gremillion Unit, Island of the Owls Unit, and Concrete Bridge Unit (see refuge brochure).

3. The hunter must permanently attach their name, address, and phone number to all deer stands.

4. We prohibit hunters to drive deer or to use pursuit dogs. We prohibit the use of dogs to trail wounded deer.

5. We only allow archery equipment during designated seasons.

6. We require hunters to complete and possess and carry proof of completion of the International Bowhunters' Safety Course.

7. You may kill one deer of either sex per day during the deer season.

D. Sport Fishing. We allow fishing and seasonal take of crawfish in designated waters of the refuge as shown on the crawfish permit map in accordance with State regulations subject to the following conditions:

1. Conditions A1, A5, A6, A8, A10, A13 through A15, and A20 (remove boats [see § 27.93 of this chapter] daily) apply.

2. We only allow fishing in Coulee Des Grues along Little California Road.

3. We only allow fishing with pole and line.

4. We prohibit leaving parking areas to fish until legal sunrise.

5. We allow fishing and crawfishing from legal sunrise to legal sunset.

6. We allow crawfishing from April 1 through July 31, subject to available water in designated areas as depicted on the crawfish permit map available at refuge headquarters.

7. We require anglers to take crawfish using pyramid nets with webbing made of cotton or nylon. We prohibit wire traps.

8. You may harvest 100 lbs. (45 kg.) of crawfish per vehicle per day.

9. We prohibit sale of crawfish taken from the refuge.

10. We prohibit glass containers on the refuge.

11. You must remove all crawfishing gear (see § 27.93 of this chapter) from refuge property after each day's visit.

12. We prohibit possession of cleaned or processed fish on the refuge.

Lacassine National Wildlife Refuge

A. Migratory Game Bird Hunting. We allow hunting of goose, duck, gallinule, and coot on designated areas of the refuge in accordance with State regulations subject to the following conditions:

1. Hunters must possess and carry a refuge hunting permit.

2. We only allow hunting on designated areas of the refuge. These areas include the marshes south of the Intracoastal Waterway and the area east of the Lacassine Bayou excluding Unit B (lottery hunt area west of Streeter Road), Unit F, and the headquarters area along Streeter Road (see refuge map).

3. We allow hunting Wednesdays through Sundays of the State teal and duck seasons (Western Zone). We close the refuge to hunting during the “goose only” waterfowl season. State daily and season harvest limits apply.

4. We prohibit entering the hunting area earlier than 4 a.m., and shooting hours end at 12 p.m. (noon) each day.

5. We only allow firearms (see § 27.42 of this chapter) legal for waterfowl hunting in the refuge hunting area.

6. We prohibit all boat motors, including trolling motors, in refuge marshes. We prohibit air-thrust boats and ATVs on the refuge (see § 27.31(f) of this chapter).

7. We prohibit hunting closer than 150 feet (45 m) to a canal or waterway, and hunting parties must maintain a distance of no less than 150 yards (135 m) apart.

8. Youth hunters under age 16 must successfully complete a State-approved hunter education course. While hunting, each youth must possess and carry a card or certificate of completion. Each youth hunter must remain within sight and normal voice contact of an adult age 21 or older. Each adult must possess and carry a refuge permit and may supervise no more than two youth hunters during waterfowl hunts.

9. You must remove all hunting-related equipment (see § 27.93 of this chapter) immediately following each day's hunt.

10. Only selected lottery hunt applicants may hunt on the designated lottery hunt area (Unit B) of the refuge. We designate hunt days on the lottery hunt for seniors and youth of the second split of the State duck season (Western Zone). You must contact the refuge office concerning the application process.

11. We prohibit overnight camping on the refuge.

12. We prohibit possession of alcohol in the hunt areas during the hunting season (see § 32.2(j)).

B. Upland Game Hunting. [Reserved]

C. Big Game Hunting. We allow hunting of white-tailed deer on designated areas of the refuge in accordance with State regulations subject to the following conditions:

1. Conditions A1, A6, A8 (each adult may supervise no more than one youth hunter during big game hunts), A9, A11, and A12 apply.

2. We only allow archery hunting for white-tailed deer from October 1 through October 31.

3. We prohibit entrance to the hunting area earlier than 4 a.m. Hunters must leave no later than 1 hour after legal sunset.

4. Each bowhunter must possess and carry a Bowhunter Education Certificate indicating completion of the State bowhunter safety class.

5. The daily bag limit is one deer per day (either sex). The State season limits apply.

6. We prohibit hunting in the headquarters area along Nature Road and along the Lacassine Pool Wildlife Drive (see refuge map).

7. We only allow boats with motors of 25 hp or less in Lacassine Pool.

8. We prohibit boats in Lacassine Pool and Unit D from October 16 through March 14. We prohibit boats in Units A and C.

9. We restrict access in the Unit F area to walking only.

10. We prohibit firearms while deer hunting or scouting.

11. We allow the use of crossbows for hunters age 60 or older, or hunters with a State handicapped crossbow permit.

12. We prohibit possession or distribution of bait or hunting with the aid of bait, including any grain, salt, minerals, or other feed on any nonnaturally occurring attractant on the refuge (see § 32.2(h)).

D. Sport Fishing. We allow fishing on designated areas of the refuge in accordance with State regulations subject to the following conditions:

1. Conditions A11, C7, and C8 apply.

2. We allow fishing March 15 through October 15.

3. You may enter the refuge 1 hour before legal sunrise, and you must leave 1 hour after legal sunset.

4. We prohibit fishing in the headquarters display pond.

5. We prohibit bank fishing on the Lacassine Pool Wildlife Drive.

6. We prohibit air-thrust boats, ATVs, and Jet Skis on the refuge (see § 27.31(f) of this chapter).

7. We prohibit dragging or driving of boats over levees.

8. You must only launch trailered boats at the cement ramps at the public boat launches in Lacassine Pool.

9. We only allow boats powered by paddling or trolling motors in the Unit D impoundment within Lacassine Pool.

10. We prohibit motors in the refuge marshes outside of Lacassine Pool.

11. We only allow fishing with rod and reel or pole and line on refuge waters.

12. We prohibit the taking of turtle (see § 27.21 of this chapter).

Lake Ophelia National Wildlife Refuge

A. Hunting of Migratory Birds. We allow hunting of duck, goose, coot, woodcock, and snipe on designated areas of the refuge as shown on the refuge hunting brochure map in accordance with State regulations subject to the following conditions:

1. We require hunters/anglers age 16 and older to purchase and carry a signed refuge hunting/fishing/ATV permit.

2. Hunters must fill out a free daily “check-in” and “check out” refuge hunting permit obtained at designated check stations and must properly display associated windshield permit while in the parking lots.

3. The refuge opens at 4 a.m. and closes 1 hour after legal sunset.

4. Youth hunters under age 16 must successfully complete a State-approved hunter education course. While hunting, each youth must possess and carry a card or certificate of completion. Each youth hunter must remain within sight and normal voice contact of an adult age 21 or older. Each adult may supervise no more than two youth hunters during waterfowl hunts.

5. You may only enter and exit the refuge from designated parking lots.

6. We prohibit camping or parking overnight on the refuge.

7. We prohibit marking of trails with nonbiodegradable flagging tape.

8. We allow use of ATVs on designated trails (see § 27.31 of this chapter) from the first Saturday in September until the last day of refuge turkey season. We define ATV as an off-road vehicle with factory specifications not to exceed the following: weight 750 lbs. (337.5 kg), length 85 inches (212.5 cm), and width-48 inches (120 cm). We restrict ATV tires to those no larger than 25 by 12 with a maximum 1 inch (2.5 cm) lug height and a maximum allowable tire pressure of 7 psi (3.15 kg) as indicated on the tire by the manufacturer.

9. We prohibit horses or mules.

10. We prohibit hunting within 150 feet (45 m) of any designated road, ATV or hiking trail, or refuge facility.

11. We prohibit transport of loaded weapons on an ATV (see § 27.42(b) of this chapter).

12. We prohibit blocking of gates or trails (see § 27.31(h) of this chapter) with vehicles or ATVs.

13. We prohibit all other hunting during special youth and muzzleloader-quota deer hunts.

14. We allow incidental take of raccoon, feral hog, beaver, nutria, and coyote while migratory bird hunting, upland game hunting, and big game hunting with weapons legal for that hunt.

15. We allow motors up to 25 hp from the first Saturday in September through January 31 in Possum Bayou (North of Boat Ramp), Palmetto Bayou, and Nicholas Lake.

16. We only allow electric-powered or nonmotorized boats in Westcut Lake, Duck Lake, Dooms Lake, Point Basse Lakes, Lake Long, and Possum Bayou (South of Boat Ramp).

17. We only allow waterfowl (duck, goose, coot) hunting on Tuesdays, Thursdays, Saturdays, and Sundays until 12 p.m. (noon) during the Statewide duck season.

18. We only allow the use of shotguns while waterfowl hunting.

19. You must remove all decoys, portable blinds, and boats (see § 27.93 of this chapter) daily.

20. We only allow dogs to locate, point, and retrieve when hunting for migratory game birds.

B. Upland Game Hunting. We allow hunting of squirrel and rabbit on designated areas of the refuge as shown on the refuge hunting brochure map in accordance with State regulations subject to the following conditions:

1. Conditions A1 through A16 and A19 apply.

2. We allow squirrel and rabbit hunting in Hunt Unit 2B from November 1 through November 30.

3. We only allow squirrel and rabbit dogs after the close of the State deer rifle season. We allow no more than two dogs per hunting party.

4. Dog owners must place their name and phone number on the collars of all their dogs.

5. You may only possess approved nontoxic shot (see § 32.2(k)) for upland game hunting. This requirement only applies to the use of shotgun ammunition.

6. We allow the use of .22 caliber or less rimfire rifles and 12 gauge or higher shotguns to hunt upland game.

C. Big Game Hunting. We allow hunting of white-tailed deer and turkey on designated areas of the refuge as shown on the refuge hunting brochure map in accordance with State regulations subject to the following conditions:

1. Conditions A1 through A3, A5 through 16, and A19 apply.

2. We require hunters to permanently attach their name, address, and phone number to the deer stand.

3. We allow archery hunting from November 1 to the end of the State archery season, except during the youth and muzzleloader deer hunts, when we prohibit archery hunting.

4. We allow archery deer hunting in Hunt Units 1B and 2B from October 1 through November 30.

5. We allow youth deer hunting in all units during the State youth deer season.

6. We only allow portable deer stands.

7. We prohibit the use of organized drives for taking or attempting to take game or using pursuit dogs.

8. We only allow archery equipment during designated seasons.

9. Hunters must complete, possess, and carry proof of completion of the International Bowhunters' Safety Course.

10. We prohibit the use of dogs to trail wounded deer.

11. We allow nonmotorized boats in Lake Ophelia from November 1 through 30.

12. You may kill one deer of either sex per day during the deer season, except during the deer quota hunts, when you may only kill one deer of either sex during the entire quota hunt period.

13. We require a minimum of 400 square inches (2,600 cm²) of unbroken hunter orange on the outermost layer of clothing on the chest and back, and in addition we require a hat or cap of unbroken hunter orange during all deer gun hunts and the quota muzzleloaders deer hunts.

14. Youth hunters under age 16 must successfully complete a State-approved hunter education course. While hunting, each youth must possess and carry a card or certificate of completion. Each youth hunter must remain within sight and normal voice contact of an adult age 21 or older. Each adult may supervise one youth hunter during big game hunts.

D. Sport Fishing. We allow fishing in designated areas as described in the refuge hunting brochure in accordance with State regulations subject to the following conditions:

1. Conditions A1, A3, A5 through A9, A16, and A19 (remove boats [see § 27.93 of this chapter]) apply.

2. We allow sport fishing in Duck Lake, Westcut Lake, Possum Bayou, Lake Long, and the immediate vicinity of the Lake St. Agnes drainage culverts on the Red River.

3. We prohibit the use of gear or equipment other than hook and line to catch bait fish.

4. We allow fishing from March 1 through October 15 from legal sunrise to legal sunset.

5. You must attend yo-yos (within sight) at all times.

6. We prohibit possession of largemouth bass less than14 inches long (35 cm) and black and white crappie less than 10 inches long (25 cm).

8. We prohibit cleaned or processed fish on the refuge.

9. We allow use of ATVs on the Duck Lake ATV trail from March 15 through October 15.

Mandalay National Wildlife Refuge

A. Migratory Game Bird Hunting. We allow hunting of migratory game birds in designated areas of the refuge in accordance with State regulations subject to the following conditions:

1. We allow hunting of migratory game birds on Wednesdays and Saturdays until 12 p.m. (noon). Hunters may only enter the refuge after 4 a.m.

2. Prior to hunting, we must assign a refuge blind and issue a refuge lottery waterfowl permit to any person entering, using, or occupying the refuge for hunting migratory game birds. You may only hunt from your assigned blind.

3. Youth hunters under age 16 must successfully complete a State-approved hunter education course. While hunting, each youth must possess and carry a card or certificate of completion. Each youth hunter must remain within sight and normal voice contact of an adult age 21 or older. Each adult can supervise no more than two refuge-permitted youth hunters. We require all adult supervisors and hunters of migratory game birds to possess and carry a State Hunter Safety Course certificate.

4. All hunters must check-in and check out at a refuge self-clearing check station. Each hunter must list their name and certificate number on the self-clearing check station form and deposit the form at a refuge self-clearing check station prior to hunting. Hunters must report all game taken on the refuge when checking out by using the self-clearing check station form.

5. We allow no more than three hunters to hunt from a blind at one time.

6. We prohibit firearms (see § 27.42 of this chapter) other than those used to take migratory game birds in boats or in the possession of migratory game bird hunters.

7. We prohibit air-thrust boats or marsh buggies on the refuge. We restrict motorized boat use to existing canals, ditches, trenasses, and ponds.

B. Upland Game Hunting. [Reserved]

C. Big Game Hunting. We allow the hunting of white-tailed deer and feral hog on designated areas of the refuge in accordance with State regulations subject to the following conditions:

1. We open the refuge to hunting of deer and hog during the State deer season, except prior to 12 p.m. (noon) on Wednesdays and Saturdays during State waterfowl seasons, when we close areas north of the Intra-Coastal Waterway to hunting of big game.

2. Hunters may only enter the refuge after 4 a.m. and must exit by 1 hour after legal sunset.

3. You may take big game with archery equipment and in accordance with State law. You may only take one deer of either sex per day, and hunters may only possess one deer. The State season limits on deer apply. There is no daily or possession limit on the number of feral hogs.

4. All hunters must possess and carry proof of completion of the International Bowhunters' Education Program when hunting.

5. We prohibit possession or distribution of bait or hunting with the aid of bait, including any grain, salt, minerals or other feed, or any nonnaturally occurring attractant on the refuge (see § 32.2(h)).

6. Condition A7 applies.

D. Sport Fishing. We allow fishing in all refuge waters in accordance with State regulations subject to the following conditions:

1. We only allow recreational fishing. We prohibit commercial fishing on the refuge.

2. We prohibit the use of unattended nets, traps, or lines (trot, jog, bush, etc.).

3. We only allow fishing in refuge canals during the period of October 1 to January 31.

4. We close the refuge to any nighttime activities unless specifically stated.

5. Condition A7 applies.

6. We prohibit the taking of turtle (see § 27.21 of this chapter).

Red River National Wildlife Refuge

A. Migratory Game Bird Hunting. We allow hunting of duck, goose, coot, woodcock, and dove on designated areas of the refuge in accordance with State regulations subject to the following conditions:

1. Hunters must possess and carry a signed refuge permit.

2. We allow waterfowl and woodcock hunting on all refuge lands except the areas within the Headquarters Focus Area in Bossier Parish and north of Interstate 49 within the Spanish Lake Focus Area in Natchitoches Parish.

3. We only allow dove hunting during the first 3 days of the State season on all refuge lands except the areas within the Headquarters Focus Area in Bossier Parish and north of Interstate 49 within the Spanish Lake Focus Area in Natchitoches Parish.

4. We allow waterfowl hunting until 12 p.m. (noon) during the State season.

5. Hunters may enter the refuge no earlier than 3 a.m.

6. We prohibit hunting within 150 feet (45 m) of any public road, refuge road, trail or ATV trail, residence, building, aboveground oil or gas or electrical transmission facilities, or designated public facility.

7. We prohibit leaving boats, blinds, and decoys unattended.

8. We only allow dogs to locate, point, and retrieve when hunting for migratory game birds.

9. Youth hunters age 15 and under must successfully complete a State-approved hunter education course. While hunting, each youth must possess and carry a card or certificate of completion. Each youth hunter must remain within sight and normal voice contact of an adult age 21 or older. Each adult can supervise no more than two youth hunters during waterfowl hunts.

10. We prohibit any person or group to act as a hunting guide, outfitter, or in any other capacity that any other individual(s) pays or promises to pay directly or indirectly for services rendered to any other person or persons hunting on the refuge, regardless of whether such payment is for guiding, outfitting, lodging, or club membership.

B. Upland Game Hunting. We allow hunting of quail, squirrel, rabbit, raccoon, and opossum on designated areas of the refuge in accordance with State regulations subject to the following conditions:

1. Conditions A1, A7, A8, A9 (an adult may supervise no more than one youth hunter while hunting upland game) apply.

2. We allow hunting on all refuge lands except the areas within the Headquarters Focus Area in Bossier Parish and north of Interstate 49 within the Spanish Lakes Focus Area in Natchitoches Parish.

3. We prohibit the possession of firearms (see § 27.42 of this chapter) larger than .22 caliber rimfire, shotgun slugs, and buckshot.

4. We allow hunting of raccoon and opossum during the daylight hours of rabbit and squirrel season. We allow night hunting during December and January, and you may use dogs for night hunting. We prohibit selling of raccoon and opossum taken on the refuge for human consumption.

5. We allow use of dogs to hunt squirrel and rabbit after the last refuge Gun Deer Hunt.

6. If you want to use horses and mules to hunt raccoon and opossum at night, you must first obtain a special permit at the refuge office.

7. Hunters may enter the refuge no earlier than 3 a.m. and no later than 2 hours after legal shooting hours.

C. Big Game Hunting. We allow hunting of white-tailed deer on designated areas of the refuge in accordance with State regulations subject to the following conditions:

1. Conditions A1, A7, A8, A9 (an adult may supervise no more than one youth hunter while hunting big game) and B7 apply.

2. We only allow archery hunting.

3. We allow deer hunting on all refuge lands except the areas within the Headquarters Focus Area in Bossier Parish and north of Interstate 49 within the Spanish Lake Focus Area in Natchitoches Parish.

4. The daily bag limit is one deer of either sex. The State season limit applies.

5. Archery hunters must possess and carry proof of completion of the International Bowhunters' Education Program.

6. We prohibit leaving deer stands, blinds, and other equipment unattended.

7. We prohibit hunters placing stands or hunting from stands on pine trees with white painted bands/rings.

D. Sport Fishing. We allow fishing on designated areas of the refuge in accordance with State regulations subject to the following conditions:

1. We prohibit leaving boats and other personal property on the refuge unattended.

2. We prohibit boat launching with motors greater than 50 hp on all refuge waters.

3. You must tend trotlines daily. You must attach ends of trotlines by a length of cotton line that extends into the water.

4. We prohibit commercial fishing. Recreational fishing using commercial gear (slat traps, etc.) requires a special refuge permit (that you must possess and carry) available at the refuge office.

5. We prohibit the taking of alligator snapping turtle (see § 27.21 of this chapter).

Sabine National Wildlife Refuge

A. Migratory Game Bird Hunting. We allow hunting of duck, goose (except Canada goose), and coot on areas designated by signs stating “Waterfowl Hunting Only” and delineated on the refuge regulations and permit brochure map in accordance with State regulations subject to the following conditions:

1. We require all hunters to possess and carry a signed refuge permit.

2. We only allow waterfowl hunting on Wednesdays, Saturdays, and Sundays during the special teal season and during the regular waterfowl season.

3. We only allow hunters to enter the refuge and launch boats after 3 a.m. All participants must be out of the refuge hunt areas and back at West Cove Public Use Area by 12 p.m. (noon).

4. We prohibit hunting on Christmas Day or New Year's Day should these days fall on a designated hunt day.

5. Youth hunters age 17 and under must successfully complete a State-approved hunter education course. While hunting, each youth must possess and carry a card or certificate of completion. Each youth hunter must remain within sight and normal voice contact of an adult age 21 or older. Each adult may supervise no more than two refuge-permitted youth hunters.

6. We prohibit nonhunters entering the refuge hunt areas, with the exception of youth age 15 or under experiencing the hunt with their parent or guardian.

7. You may access the hunt areas via the boat launches at the West Cove Public Use Area, by vehicle on Vastar Road, and at designated turnouts within the refuge public hunt area along State Highway 27 (see § 27.31 of this chapter). We prohibit refuge entrance through adjacent private property or using the refuge to access private property or leases.

8. We only allow launching of boats on trailers at West Cove Public Use Area. We allow hand launching of small boats along Vastar Road (no trailers permitted).

9. We prohibit dragging boats across the levee.

10. We only allow operation of outboard motors in designated refuge canals and Old North Bayou. We allow trolling motors within the refuge marshes.

11. We prohibit air-thrust boats, personal motorized watercraft (e.g., Jet Skis), or boats with air-cooled propulsion engines (Go-Devil-type motors).

12. We prohibit hunting within 300 feet (90 m) of another hunter or within 150 feet (45 m) of refuge canals, public roads, buildings, above-ground oil or gas or electrical transmission facilities, or designated public facility.

13. You must only use portable blinds and those made of native vegetation. You must remove portable blinds, decoys, spent shells, and all other personal equipment (see §§ 27.93 and 27.94 of this chapter) each day.

14. We only allow dogs to locate, point, and retrieve when hunting for migratory game birds.

15. We require you to complete and return a waterfowl harvest data form to the check station or designated drop box after each hunt.

16. We prohibit any person or group to act as a hunting guide, outfitter, or in any other capacity that any other individual(s) pays or promises to pay directly or indirectly for services rendered to any other person or persons hunting on the refuge, regardless of whether such payment is for guiding, outfitting, lodging, or club membership.

17. We prohibit all-terrain vehicles (ATVs) (see § 27.31(f) of this chapter).

B. Upland Game Hunting. [Reserved]

C. Big Game Hunting. [Reserved]

D. Sport Fishing. We allow fishing, crabbing, and cast netting in designated areas of the refuge in accordance with State regulations subject to the following conditions:

1. Bank and wharf access for fishing are available year-round at the Public Use Areas along State Highway 27. You may only access the refuge by boat during the March 15 to October 15 open period.

2. We allow use of rod and reel, pole and line, or jug and line. We prohibit the use or possession of any other type of fishing gear, including limb lines, gill nets, or trot lines. We limit jug and line to 10 per boat, and you must attend them at all times. You must mark all jugs with the attendant's fishing license number and remove them (see § 27.93 of this chapter) from the refuge daily.

3. You must only launch boats with motors at the designated boat ramps at the Hog Island Gully and West Cove Public Use Areas.

4. You must launch nonmotorized boats at the 1A-1B Public Use Area.

5. We only allow operation of outboard motors in designated refuge canals, Old North Bayou, and Management Unit 3 (40 hp maximum in Unit 3). We allow trolling motors within the refuge marshes.

6. Conditions A9, A11, A16 (fishing guide), and A17 apply.

7. Crabbing: We allow crabbing in designated areas of the refuge subject to the following conditions:

i. You must only take crabs with cotton hand lines or drop nets with up to 24″ (60 cm) outside diameter.

ii. You must remove all hand lines, drop nets, and bait (see § 27.93 of this chapter) from the refuge upon leaving.

iii. We allow a daily limit on crabs of 5 dozen (60) per vehicle or boat.

8. Cast Netting: We only allow cast netting in designated areas of the refuge during the Louisiana Inland Shrimp Season subject to the following conditions:

i. We require each individual, regardless of age, to possess and carry a signed refuge cast-netting permit.

ii. An adult age 21 or older must directly supervise all youth hunters age 17 and under.

iii. We only allow cast netting from 12 p.m. (noon) to legal sunset.

iv. If you use a cast net, it must not exceed a 5 foot (1.5 m) hanging radius.

v. We only allow recreational cast netting for shrimp. You must immediately return all fish, crabs, or other incidental take (by catch) to the water before continuing to cast net.

vi. We allow a daily shrimp limit of 5 gallons (19 L) of heads-on shrimp per day, per vehicle, or per boat.

vii. Shrimp must remain in your actual custody while on the refuge.

viii. You must cast net from the bank and wharves at Northline, Hog Island Gully, and 1A-1B Public Use Areas or at sites along Hwy. 27 that provide safe access and that we do not post and sign as closed areas.

ix. We prohibit cast netting at or around the West Cove Public Use Area or on or around any boat launch.

x. You may cast net from a boat throughout the refuge except where posted and signed as closed.

xi. We prohibit reserving a place or saving a space for yourself or others by any means to include placing unattended equipment in designated cast-netting areas.

xii. We prohibit swimming in the refuge canals or wading into canals to cast net.

9. We prohibit the taking of turtle (see § 27.21 of this chapter).

Tensas River National Wildlife Refuge

A. Migratory Game Bird Hunting. We allow hunting of duck, coot, woodcock, and snipe on designated areas of the refuge in accordance with State regulations subject to the following conditions:

1. We allow hunting of duck and coot on Tuesdays, Thursdays, Saturdays, and Sundays until 12 p.m. (noon) during the State season. We prohibit migratory bird hunting during refuge gun hunts for deer.

2. We allow hunting of woodcock on designated areas of the refuge in accordance with State regulations.

3. We allow hunters to enter the refuge no earlier than 4 a.m.

4. In areas posted “Area Closed” or “No Hunting Zone,” we prohibit hunting of migratory birds at any time. We also close open fields, marked on the Public Use Regulations brochure map, to migratory bird hunting. You may obtain the Public Use Regulations brochure at the refuge headquarters in July.

5. We prohibit shooting to unload guns or muzzleloaders (see § 27.42(a) of this chapter) on the refuge at any time.

6. Hunters must remove all blind materials and decoys (see § 27.93 of this chapter) following each day's hunt.

7. We allow nonmotorized boats, electric motors, and boats with motors 10 hp or less in refuge lakes, streams, and bayous. We prohibit storage of boats on the refuge, and you must remove them (see § 27.93 of this chapter) daily.

8. We require all waterfowl hunters to report their game immediately after each hunt at the check station nearest to the point of take.

9. We prohibit possession or distribution of bait or hunting with the aid of bait, including any grain, salt, minerals or other feed, or any nonnaturally occurring attractant on the refuge (see § 32.2(h)).

10. We allow all-terrain vehicle travel on designated trails (see § 27.31 of this chapter) for access typically from September 15 to the last day of the State squirrel season. We open designated trails from 4 a.m. until no later than 2 hours after legal sunset unless otherwise specified. We define an ATV as an off-road vehicle (not legal for highway use) with factory specifications not to exceed the following: weight 750 pounds (337.5 kg), length 85 inches (212.5 cm), and width 48 inches (120 cm). We restrict ATV tires to those no larger than 25 × 12 with a maximum 1 inch (2.5 cm) lug height and a maximum allowable tire pressure of 7 psi as indicated on the tire by the manufacturer. We require an affixed refuge all-terrain vehicle permit obtained from the refuge headquarters (typically in July). Disabled hunters using the refuge handicapped all-terrain trails must possess and carry the State's Disabled Hunter Permit. Additional handicapped or disabled access information will be available at the refuge headquarters.

11. We prohibit hunting within 150 feet (45 m) of any public road, refuge road, trail or ATV trail, building, residence, above-ground oil or gas or electrical transmission facilities, or designated public facility.

12. We prohibit use and possession of any type of trail-marking material.

13. We prohibit use of organized drives for taking or attempting to take game.

14. We require a refuge access permit for all migratory bird hunts. You may find permits on the front of the Public Use Regulations brochure.

15. Youth hunters under age 16 must successfully complete a State-approved hunter education course. While hunting each youth must possess and carry a card or certificate of completion. Each youth hunter must remain within sight and normal voice contact of an adult age 21 or older. Each adult can supervise no more than two youth hunters during waterfowl hunts.

B. Upland Game Hunting. We allow hunting of raccoon, squirrel, and rabbit on designated areas of the refuge in accordance with State regulations subject to the following conditions:

1. We allow raccoon hunting beginning January 1 and typically ending the first week in February. We allow raccoon hunters to hunt from legal sunset to legal sunrise with the aid of dogs, horses, mules, and use of lights. We only allow such use of lights on the refuge at the point of kill. We prohibit all other use of lights for hunting on the refuge. Hunt dates will be available at refuge headquarters in July. We prohibit ATVs during the raccoon hunt.

2. We allow squirrel and rabbit hunting with and without dogs. We will allow hunting without dogs from the beginning of the State season and typically ending the day before the refuge deer muzzleloader hunt. We do not require wearing of hunter orange during the squirrel and rabbit hunt without dogs. Squirrel and rabbit hunting, with or without dogs, will begin the day after the refuge deer muzzleloader hunt and will conclude the last day of the State squirrel season.

3. We close squirrel and rabbit hunting during the following gun hunts for deer: refugewide youth hunt, muzzleloader hunt, and modern firearms hunts.

4. We allow hunters to enter the refuge after 4 a.m., and they must depart no later than 2 hours after legal sunset unless they are participating in the refuge raccoon hunt.

5. Conditions A5, A7, A8 (all upland game hunters), A9, A10, A11, A12, A14 (upland game hunts), and A15 (upland game hunts) apply.

6. In areas posted “Area Closed” or “No Hunting Zone,” we prohibit upland game hunting at any time.

7. We allow .22 caliber rimfire weapons for upland game. You may only possess approved nontoxic shot while on the refuge (see § 32.2(k)). This requirement only applies to the use of shotgun ammunition.

C. Big Game Hunting. We allow hunting of white-tailed deer and turkey on designated areas of the refuge in accordance with State regulations subject to the following conditions:

1. Deer archery season will begin the first Saturday in November and will conclude on the last day of the State archery season (typically January 31). We require that archery hunters, including crossbow hunters, possess and carry proof of completion of the International Bowhunters Safety course. We prohibit archery hunting during the following: refuge and youth gun hunt, muzzleloader hunt, and modern firearms hunt.

2. Deer muzzleloader season lasts 3 days, on a Friday, Saturday, and Sunday between the two refuge modern firearms hunts. We allow in-line muzzleloaders and magnified scopes.

3. We will conduct two 2-day quota modern firearms hunts for deer, typically in the months of November and December. Hunt dates and permit application procedures will be available at refuge headquarters in July. Hunters may use a muzzleloader during this hunt.

4. We will conduct a 2-day population control quota youth deer hunt in the Greenlea Bend area typically in December. Hunt dates and permit application procedures will be available at the refuge headquarters in July.

5. We will conduct a refugewide youth deer hunt the weekend before Thanksgiving Day. Each participating youth hunter must be age 8 to15 and supervised by an adult who is at least age 21.

6. You may only take one deer per day during refuge deer hunts. The State season limit applies.

7. We allow turkey hunting the first 16 days of the State turkey season. We will conduct a youth turkey hunt the Saturday and Sunday before the regular State turkey season. You may harvest two bearded turkeys per season. We allow the possession of lead shot while turkey hunting on the refuge (see § 32.2(k)). You may use nonmotorized bicycles on designated all-terrain vehicle trails (see § 27.31 of this chapter).

8. Conditions A5, A7, A8 (deer and turkey hunters), A9 through A14 (deer and turkey hunters), A15 (each adult can supervise no more than one youth hunter during big game hunts), and B4 apply.

9. In areas posted “Area Closed” or “No Hunting Zone,” we prohibit big game hunting at all times. We close open fields, which we mark on the Public Use Regulations brochure map, during the deer muzzleloader and deer modern firearms hunts; but we open those fields for deer archery hunting. We prohibit shooting into or across any open field with a gun.

10. We allow shotguns equipped with a single piece magazine plug that allows the gun to hold no more than two shells in the magazine and one in the chamber.

11. We only allow shotgun hunters to use rifled slugs when hunting deer.

12. We prohibit possession of buckshot while on the refuge.

13. You must remove all stands, blind materials, and decoys from the refuge following each day's hunt (see § 27.93 of this chapter).

14. We require a minimum of 400 square inches (2,600 cm²) of unbroken hunter orange on the outermost layer of clothing on the chest and back, and in addition we require a hat or cap of unbroken hunter orange. You must wear the solid hunter-orange items while in the field.

15. We prohibit possession or distribution of bait or hunting with the aid of bait, including any grain, salt, minerals or other feed, or any nonnaturally occurring attractant on the refuge (see § 32.2(h)).

D. Sport Fishing. We allow fishing on designated areas of the refuge in accordance with State regulations subject to the following conditions:

1. We allow trotlines attached with a length of cotton line that extends into the water. You must tend the trotlines at least once every 24 hours and reset them when receded waters expose them.

2. Conditions A7, A10 (the only exceptions are the Rainey Lake and Mower Woods all-terrain trails (see § 27.31 of this chapter), which are open year-round with the same time restrictions as the seasonal all-terrain trails), A12, and B4 (anglers) apply.

3. We prohibit the taking of turtle (see § 27.21 of this chapter).

Upper Ouachita National Wildlife Refuge

A. Migratory Game Bird Hunting. We allow hunting of duck, goose, coot, woodcock, and dove on designated areas of the refuge in accordance with State regulations subject to the following conditions:

1. Hunters must possess and carry a signed refuge permit.

2. We allow waterfowl hunting on the west side of the Ouachita River north of RCW Road. We allow waterfowl hunting on the east side of the Ouachita River outside the Mollicy levee, west of Kelby Road, and south of School Board South Road within the levee.

3. We allow woodcock hunting west of the Ouachita River. We allow woodcock hunting on the east side of the Ouachita River outside the Mollicy levee, west of Kelby Road, and south of School Board South Road within the levee.

4. We only allow dove hunting during the first 3 days of the State season east of the Ouachita River outside the Mollicy levee, west of Kelby Road, and south of School Board South Road within the levee.

5. We allow waterfowl hunting until 12 p.m. (noon) during the State season.

6. We will hold a limited lottery hunt during the State Youth Waterfowl Hunt. Application instructions are available at the refuge office.

7. Hunters may enter the refuge no earlier than 3 a.m.

8. We prohibit hunting within 150 feet (45 m) of any public road, refuge road, building, residence, above-ground oil, gas, or public facility and within 50 feet (15 m) of ATV trails (see § 27.31 of this chapter).

9. We prohibit leaving boats, blinds, and decoys unattended.

10. We only allow dogs to locate, point, and retrieve when hunting for migratory game birds.

11. Youth hunters under age 16 must successfully complete a State-approved hunter education course. While hunting, each youth must possess and carry a card or certificate of completion. Each youth hunter must remain within sight and normal voice contact of an adult age 21 or older. Each adult may supervise no more than two youth hunters during waterfowl hunts.

12. We prohibit any person or group to act as a hunting guide, outfitter, or in any other capacity that any other individual(s) pays or promises to pay directly or indirectly for services rendered to any other person or persons hunting on the refuge, regardless of whether such payment is for guiding, outfitting, lodging, or club membership.

B. Upland Game Hunting. We allow hunting of quail, squirrel, rabbit, raccoon, and opossum on designated areas of the refuge in accordance with State regulations subject to the following conditions:

1. Conditions A1, A8, A9, A11 (each adult may supervise no more than one youth hunter while hunting upland game), and A12 (to hunt upland game) apply.

2. We allow hunting west of the Ouachita River. We allow hunting on the east side of the Ouachita River outside the Mollicy levee, west of Kelby Road, and south of School Board South Road within the levee.

3. We prohibit possession of firearms (see § 27.42 of this chapter) larger than .22 caliber rimfire, shotgun slugs, and buckshot.

4. We allow hunting of raccoon and opossum during the daylight hours of rabbit and squirrel season. We allow night hunting during December and January, and you may use dogs for night hunting. We prohibit selling of raccoon and opossum taken on the refuge for human consumption.

5. We allow use of dogs to hunt squirrel and rabbit after the last refuge Gun Deer Hunt.

6. If you want to use horses and mules to hunt raccoon and opossum at night, you must first obtain a special permit at the refuge office.

7. Hunters may enter the refuge no earlier than 3 a.m. and must exit no later than 2 hours after legal shooting hours.

C. Big Game Hunting. We allow hunting of white-tailed deer on designated areas of the refuge in accordance with State regulations subject to the following conditions:

1. Conditions A1, A8, A9, A11 (an adult may supervise no more than one youth hunter while hunting big game), A12 (to hunt big game), and B7 apply.

2. We allow general gun deer hunting on the following days: the first consecutive Saturday and Sunday of November; the Friday, Saturday, and Sunday following Thanksgiving Day; and the second Saturday and Sunday after Thanksgiving Day. We allow archery deer hunting during the entire State season.

3. We allow deer hunting west of the Ouachita River. We allow deer hunting on the east side of the Ouachita River outside the Mollicy levee, west of Kelby Road, and south of School Board South Road within the levee.

4. The daily bag limit is one deer of either sex. The State season limit applies.

5. During general Gun Deer Hunts, you must check all deer on the day taken during general Gun Deer Hunts at a refuge check station between 7 a.m. and 7 p.m. unless stated otherwise in the annual refuge hunting brochure and permit.

6. Archery hunters must possess and carry proof of completion of the International Bowhunters' Education Program.

7. We prohibit leaving deer stands, blinds, and other equipment unattended.

8. Deer hunters must wear hunter orange as per State deer hunting regulations on Wildlife Management Areas.

9. We prohibit hunters placing stands or hunting from stands on pine trees with white-painted bands/rings.

D. Sport Fishing. We allow fishing on designated areas of the refuge in accordance with State regulations subject to the following conditions:

1. We allow sport fishing year-round except within the Mollicy levee. We allow fishing in the Wigeon Ponds and Reservoir March 1 through October 15, from 30 minutes before legal sunrise until 30 minutes after legal sunset.

2. We prohibit outboard motors in the Wigeon Ponds. We prohibit boat launching with motors greater than 50 hp in the Reservoir.

3. We prohibit leaving boats and other personal property on the refuge unattended.

4. You must tend trotlines daily. You must attach ends of trotlines by a length of cotton line that extends into the water.

5. We prohibit commercial fishing. Recreational fishing using commercial gear (slat traps, etc.) requires a special refuge permit (that you must possess and carry) available at the refuge office.

6. We prohibit the taking of turtle (see § 27.21 of this chapter).

20. Amend § 32.38 Maine by:

a. Revising “Lake Umbagog National Wildlife Refuge;”

b. Revising “Moosehorn National Wildlife Refuge;”

c. Revising “Petit Manan National Wildlife Refuge;” and

d. Revising “Rachel Carson National Wildlife Refuge” to read as follows:

§ 32.38 Maine.

* * * * *

Lake Umbagog National Wildlife Refuge

A. Migratory Game Bird Hunting. We allow hunting of duck, goose, American crow, and woodcock in accordance with State regulations, seasons, and bag limits subject to the following conditions:

1. You must wear two articles of hunter-orange clothing or material. One article must be a solid-colored hunter-orange hat; the other must cover a major portion of the torso, such as a jacket, vest, coat, or poncho and must be a minimum of 50 percent hunter orange in color (such as orange camouflage) except when hunting waterfowl.

2. We will provide permanent refuge blinds at various locations that you may reserve. You may make reservations for blinds up to 1 year in advance, for a maximum of 1 week, running Monday through Sunday during the hunting season. You may make reservations for additional weeks up to 1 week in advance, on a space-available basis. We prohibit other permanent blinds. You must remove temporary blinds, boats, and decoys (see § 27.93 of this chapter) from the refuge following each day's hunt.

3. You may use trained dogs to assist in the retrieval of harvested birds (see § 26.21(b) of this chapter).

4. We open the refuge to hunting during the hours stipulated under each State's hunting regulations but no longer than from ½ hour before legal sunrise to ½ hour after legal sunset. We close the refuge to night hunting. You must unload all firearms (see § 27.42 of this chapter) outside of legal hunting hours.

5. We prohibit the use of all-terrain vehicles (ATVs or OHRVs) (see § 27.31(f) of this chapter).

B. Upland Game Hunting. We allow hunting of coyote, fox, raccoon, woodchuck, red and eastern gray squirrel, porcupine, skunk, snowshoe hare, ring-necked pheasant, ruffed grouse, and northern bobwhite in accordance with State regulations, seasons, and bag limits subject to the following conditions:

1. We prohibit night hunting.

2. You may only possess approved nontoxic shot (see § 32.2(k)) while on the refuge.

3. We open the refuge to hunting during the hours stipulated under State hunting regulations, but no longer than from ½ hour before legal sunrise to ½ hour after legal sunset. We close the refuge to night hunting. You must unload all firearms (see § 27.42 of this chapter), and nock no arrows outside of legal hunting hours.

4. We prohibit the use of all-terrain vehicles (ATVs or OHRVs) (see § 27.31(f) of this chapter).

5. You must wear two articles of hunter-orange clothing or material. One article must be a solid-colored hunter-orange hat; the other must cover a major portion of the torso, such as a jacket, vest, coat, or poncho and must be a minimum of 50 percent hunter orange in color (such as orange camouflage) except when hunting turkey.

6. We allow hunting of coyote and snowshoe hare with dogs during State hunting seasons. Hunting with trailing dogs on the refuge will be subject to the following regulations:

i. You must equip all dogs used to hunt coyote with working radio-telemetry collars, and you must be in possession of a working radio-telemetry receiver that can detect and track the frequencies of all collars used. We do not require radio-telemetry collars for dogs used to hunt snowshoe hare.

ii. We prohibit training during or outside of dog season for coyote or hare.

iii. We allow a maximum of four dogs per hunter.

iv. You must pick up all dogs the same day you release them.

C. Big Game Hunting. We allow hunting of bear, white-tailed deer, and moose in accordance with State regulations, seasons, and bag limits subject to the following conditions:

1. We open the refuge to hunting during the hours stipulated under State hunting regulations but no longer than from ½ hour before legal sunrise to ½ hour after legal sunset. We close the refuge to night hunting. You must unload all firearms (see § 27.42 of this chapter) and nock no arrows outside of legal hunting hours.

2. We allow bear hunting with dogs during State hunting seasons. Hunting with trailing dogs on the refuge will be subject to the following regulations:

i. You must equip all dogs used to hunt bear with working radio-telemetry collars, and hunters must be in possession of a working radio-telemetry receiver that can detect and track the frequencies of all collars used.

ii. We prohibit training during or outside of dog season for bear.

iii. We allow a maximum of four dogs per hunter.

iv. You must pick up all dogs the same day you release them.

3. We allow prehunt scouting of the refuge; however, we prohibit dogs and firearms (see § 27.42 of this chapter) during prehunt scouting.

4. Each hunter must wear two articles of hunter-orange clothing or material. One article must be a solid-colored hunter-orange hat; the other must cover a major portion of the torso, such as a jacket, vest, coat, or poncho and must be a minimum of 50 percent hunter orange in color (i.e., orange camouflage).

5. We prohibit the use of all-terrain vehicles (ATVs or OHRVs) (see § 27.31(f) of this chapter).

6. We allow temporary tree stands and blinds, but hunters must remove them by the end of the season (see § 27.93 of this chapter). We prohibit nails, screws, or screw-in climbing pegs to build or access a stand or blind (see § 32.2(i)).

D. Sport Fishing. [Reserved]

Moosehorn National Wildlife Refuge

A. Migratory Game Bird Hunting. [Reserved]

B. Upland Game Hunting. [Reserved]

C. Big Game Hunting. We allow hunting of white-tailed deer on designated areas of the refuge in accordance with State regulations subject to the following conditions:

1. You may enter the refuge ½ hour before legal shooting hours, and you must leave the refuge by ½ hour past legal shooting hours.

2. During firearms big game season, you must wear in a conspicuous manner on head, chest and back a minimum of 400 square inches (2,600 cm²) of solid-colored, hunter-orange clothing or material.

3. You must only use portable tree stands, blinds, and ladders. We prohibit the use of nails, screws, or bolts to attach them to trees (see § 32.2(i)). You must clearly label any tree stand, blind, or ladder left on the refuge overnight with your name, address, phone number, and hunting license number. You must remove all tree stands, blinds, and ladders from the refuge on the last day of the muzzleloader deer season (see § 27.93 of this chapter).

4. You may only use a long, recurved or compound bow to hunt during the archery season.

5. We prohibit hunting in the following areas:

i. The South Magurrewock Area: The boundary of this area begins at the intersection of the Charlotte Road and U.S. Route 1; it follows the Charlotte Road in a southerly direction to the fishing pier and observation blind, where it turns in an easterly direction, crosses the East Branch of the Magurrewock Stream, and proceeds in a northerly direction along the upland edge of the Upper and Middle Magurrewock Marshes to U.S. Route 1 where it follows Route 1 in a southerly direction to the point of origin.

ii. The North Magurrewock Area: The boundary of this area begins where the northern exterior boundary of the refuge and Route 1 intersect; it follows the boundary line in a westerly direction to the railroad grade where it follows the boundary in a southwest direction to the upland edge of the Lower Barn Meadow Marsh; it then follows the upland edge of the marsh in a southerly direction to U.S. Route 1, where it follows Route 1 to the point of origin.

iii. The posted safety zone around the Refuge Headquarters Complex: The boundary of this area starts where the southerly edge of the Horse Pasture Field intersects with the Charlotte Road. The boundary follows the southern edge of the Horse Pasture Field, across the abandoned Maine Central Railroad grade, where it intersects with the North Fireline Road. It follows the North Fireline Road to a point near the northwest corner of the Lane Construction Tract. The line then proceeds along a cleared and marked trail in a northwesterly direction to the northern upland edge of Dudley Swamp. The line follows the shore of Dudley Swamp to the Barn Meadow Road. It proceeds south along the Barn Meadow Road to the intersection with the South Fireline Road, where it follows the South Fireline Road across the Headquarters Road to the intersection with the Mile Bridge Road. It then follows the Mile Bridge Road in a southerly direction to the intersection with the Lunn Road, then along the Lunn Road leaving the road in an easterly direction at the site of the old crossing, across the abandoned Maine Central Railroad grade to the Charlotte Road. The line follows the Charlotte Road in a northerly direction to the point of origin.

iv. The Southern Gravel Pit: The boundary of this area starts at a point where Cranberry Brook crosses the Charlotte Road and proceeds south along the Charlotte Road to the Baring/Charlotte Town Line, along the Town Line to a point where it intersects the railroad grade where it turns in a northerly direction, and follows the railroad grade to Cranberry Brook and the point of origin.

D. Sport Fishing. We allow fishing on designated areas of the refuge in accordance with State regulations subject to the following conditions:

1. We prohibit motorized boats on Bearce and Conic Lakes.

2. We only allow fishing during daylight hours.

3. We allow fishing in the following areas on the Baring Division of the refuge:

i. Bearce Lake, Conic Lake, James Pond, Ledge Pond, and Vose Pond;

ii. Clark Brook and the West Branch of the Magurrewock Stream from the outlet of the Howard Mill Flowage water control structure to the handicapped-accessible fishing pier located off the Charlotte Road; and

iii. Barn Meadow Brook, Cranberry Brook, Mahar Brook, and Moosehorn Stream.

4. We allow fishing in the following areas on the Edmunds Division of the refuge: Hobart Lake, Hobart Stream, Cranberry Brook, Crane Meadow Brook, Crane Mill Stream, and Crane Mill Flowage.

5. We prohibit fishing on the stretch of Moosehorn Stream on the Baring Division that lies west of the Charlotte Road and east of the Mile Bridge Road between March 31 and July 14.

6. We prohibit trapping of bait fish on the refuge.

Petit Manan National Wildlife Refuge

A. Migratory Game Bird Hunting. We allow hunting of duck, goose, woodcock, rail, gallinule, and snipe on designated areas of the refuge in accordance with State regulations subject to the following conditions:

1. We prohibit erection of permanent waterfowl blinds.

2. You must remove all temporary blinds, concealment materials, boats, and decoys (see § 27.93 of this chapter) following each day's hunt.

B. Upland Game Hunting. We allow hunting of upland game on designated areas in accordance with State regulations subject to the following conditions:

1. You may only possess approved nontoxic shot while in the field (see § 32.2(k)).

2. We prohibit the use of pursuit or trailing dogs.

3. We prohibit the hunting of crows.

4. You may hunt coyotes from November 1 to March 31.

C. Big Game Hunting. We allow hunting of white-tailed deer and bear on designated areas of the refuge in accordance with State regulations subject to the following conditions:

1. Condition B2 applies.

2. We only allow black bear hunting during the firearm season for white-tailed deer.

3. You must remove all tree stands by the last day of the white-tailed deer hunting season (see § 27.93 of this chapter).

4. We normally close the refuge to all visitors from legal sunset to legal sunrise. However, during hunting season, we allow hunters to enter the refuge ½ hour prior to legal sunrise and remain on the refuge ½ hour after legal sunset.

D. Sport Fishing. [Reserved]

Rachel Carson National Wildlife Refuge

A. Migratory Game Bird Hunting. We allow hunting of duck, coot, woodcock, and snipe on designated areas of the Brave Boat Harbor, Lower Wells, Upper Wells, Mousam River, Goose Rocks, and Spurwink River Divisions of the refuge in accordance with State regulations subject to the following conditions:

1. Prior to entering designated refuge hunting areas, you must obtain a refuge hunting permit, pay a recreation fee, and sign and carry the permit at all times.

2. You may only take sea duck when the State sea duck season coincides with the regular duck season.

3. You may take waterfowl by falconry during State seasons.

4. We open Designated Youth Hunting Areas to hunters age 17 and under who possess and carry a refuge hunting permit. Each youth hunter must remain within sight and normal voice contact of an adult age 21 or older. The accompanying adult must possess and carry a refuge hunting permit and may also hunt.

5. We allow seasonal blinds and require a Special Use Permit. A permitted seasonal blind is available to all permitted hunters on a first-come, first-served basis. The permit holder for the blind is responsible for the removal of the blind at the end of the season and compliance with all conditions of the Special Use Permit.

6. We close the Moody, Little River, Biddeford Pool, and Goosefare Brook divisions of the refuge to all migratory bird hunting.

B. Upland Game Hunting. We allow hunting of pheasant and grouse on designated areas of the Brave Boat Harbor, Lower Wells, Upper Wells, Mousam River, Goose Rocks, Goosefare Brook, and Spurwink River Divisions of the refuge in accordance with State regulations subject to the following conditions:

1. Condition A1 applies.

2. You may take pheasant and grouse by falconry during State seasons.

3. We close the Moody, Little River, and Biddeford Pool Divisions of the refuge to all upland game hunting.

C. Big Game Hunting. We allow hunting of white-tailed deer on designated areas of the Brave Boat Harbor, Lower Wells, Upper Wells, Mousam River, Goose Rocks, Little River, Goosefare Brook, and Spurwink River Divisions of the refuge in accordance with State regulations subject to the following conditions:

1. Conditions A1 and A4 apply.

2. We only allow hunting of deer with shotgun and archery. We prohibit rifles and muzzleloading firearms.

3. We allow portable, climbing, or ladder stands.

4. We close the Moody and Biddeford Pool Division of the refuge to white-tailed deer hunting.

5. We only allow archery on those areas of the Little River division open to hunting.

6. We only allow hunting of fox and coyote during daylight hours of the State firearm deer season.

7. Bow hunters with refuge permits (you must possess and carry) may apply for the special “Wells Hunt.” We must receive letters of interest by November 1 for consideration in a random drawing. Selected hunters must comply with regulations as set by the State.

8. You must report any harvested deer to the refuge office within 48 hours.

D. Sport Fishing. We allow recreational fishing along the shoreline on the following designated areas of the refuge in accordance with State regulations and seasons subject to the following conditions:

1. At the Brave Boat Harbor Division on the north side (York) of the stream crossing under Route 103, you may fish beginning at Route 103 then downstream to the first railroad trestle.

2. At the Moody Division on the north side of the Ogunquit River and downstream of Route 1, you may fish beginning at the refuge boundary then downstream a distance of 500 feet (150 m).

3. At the Moody Division on the east side of Stevens Brook and downstream of Bourne Avenue, you may fish beginning at Bourne Avenue then downstream to where the refuge ends near Ocean Avenue.

4. At the Lower Wells Division on the west side of the Webhannet River downstream of Mile Road, you may fish from Mile Road north to the first creek.

5. At the Upper Wells Division on the south side of the Merriland River downstream of Skinner Mil Road, you may fish beginning at the refuge boundary and then east along the oxbow to the woods.

6. At the Mousam River Division on the north side of the Mousam River downstream of Route 9, you may fish beginning at the refuge boundary and then east to a point opposite Great Hill Road. Access is from the Bridle Path along the first tidal creek.

7. At the Goosefare Brook Division on the south side of Goosefare Brook, you may fish where it flows into the Atlantic Ocean.

8. At the Spurwink River Division on the west side (Scarborough) of the Spurwink River upstream of Route 77, you may fish beginning at Route 77 and then upstream approximately 1,000 feet (300 m) to a point near the fork in the river.

9. You may launch car-top boats during daylight hours at Brave Boat Harbor Division on Chauncey Creek at the intersection of Cutts Island Road and Sea Point Road.

10. You may launch car-top boats during daylight hours at the Spurwink River Division on the upstream side of Route 77 at the old road crossing.

11. We allow fishing from legal sunrise to legal sunset.

12. We require the use of nonlead jigs and sinkers.

13. Anglers must attend their lines at all times.

14. We prohibit the collection of bait fish on the refuge.

* * * * *

21. Amend § 32.39 Maryland by:

a. Revising “Blackwater National Wildlife Refuge;”

b. Revising “Eastern Neck National Wildlife Refuge;” and

c. Revising “Patuxent Research Refuge” to read as follows:

32.39 Maryland.

* * * * *

Blackwater National Wildlife Refuge

A. Migratory Game Bird Hunting. [Reserved]

B. Upland Game Hunting. [Reserved]

C. Big Game Hunting. We allow hunting of deer on designated areas of the refuge in accordance with State regulations subject to the following conditions:

1. We require refuge permits for all hunters regardless of age. We require that permits must be in the hunter's possession along with a valid Maryland State hunting license, any required stamps, and a photo identification. Permits are nontransferable.

2. We require that hunters obtain deer hunt permits only through the mail, by mailing an application and administration fee to the refuge after applications are available in July. To obtain an application and regulations leaflet (including designated areas and map, dates of hunts, bag limits, and permit fees) for archery, youth, muzzleloader, and shotgun hunts, we require hunters to contact the refuge hunt coordinator or refuge Visitor Center, which is open from 9 a.m. to 4 p.m. daily.

3. We allow archery hunters to obtain a permit; permits are available at the Visitor Center, after the first week of September until the end of the archery season.

4. We allow walk-in youth hunters to obtain a permit at the check station on the day of the hunt.

5. A licensed or exempt-from-licensed unarmed adult, age 21 or older, must accompany youth hunters (at least age 12 but less than age 16) at all times in the field.

6. We require a physician to certify “wheelchair-bound” permanently disabled hunters; and an assistant, who must not use a firearm, must accompany these hunters. We require the permanently disabled certification to accompany the hunters' permit application.

7. We only allow participants possessing authorized permits to enter the hunt areas.

8. Beginning at 5 a.m., we require check-in for the youth hunts, muzzleloader hunts, and shotgun hunts.

9. At the refuge check station on the day of the kill for all firearm hunts, we require hunters to properly tag and present for examination all deer killed.

10. We require hunters to seek refuge employee assistance to retrieve deer from closed areas.

11. We do not require check-in or check out at the refuge for the archery hunt, but we require hunters to register harvested deer at one of the State check stations designated by the refuge.

12. We only allow weapons that meet State regulations (bows and arrows for archery, shotguns with slugs and/or No. 1 buckshot or larger for youth hunts and shotgun hunts, and muzzleloading rifles and muzzleloading shotguns only for muzzleloader hunts). We prohibit handguns and breech-loading rifles.

13. We only allow access to hunt areas on designated roads and parking areas indicated on hunt maps in the regulations leaflet (obtained with application by mail or at the Visitor Center) (see § 27.31 of this chapter). The only other access we allow is walk-in or bicycles. We prohibit access by boats or ATVs.

14. We only allow scouting on designated days listed in the regulations for permitted hunters.

15. We do not require check-in or check out for scouting.

16. We prohibit firearms or other weapons on the refuge when scouting.

17. We require adult hunters, age 21 or older, to accompany permitted youth hunters while scouting.

18. We require a minimum of 400 square inches (2,600 cm²) of solid-colored daylight fluorescent-orange clothing to be worn on the head, chest, and back of all hunters during the youth, muzzleloader, and shotgun hunts.

19. We require the use of a tree stand that elevates the hunter a minimum of 8 feet (240 cm) above the ground for hunting Area B2 (except disabled hunters). We allow temporary, removable, ladder, fixed, and climbing-type tree stands that do not damage trees in all other areas (see § 32.2(i)).

20. We prohibit screw-in steps, spikes, or other objects that may damage trees.

21. We prohibit hunting from a permanently constructed tree stand.

22. We allow hunters to preinstall tree stands during the scouting days for use during selected hunts and to leave the tree stands in the hunting area at the hunter's discretion. We require hunters to remove all stands the last day of the refuge hunting season (we are not responsible for damage, theft, or other hunter occupancy) (see § 27.93 of this chapter).

23. We prohibit pets in hunt areas.

24. We prohibit hunting from or shooting across a roadway where we allow vehicle traffic.

25. We prohibit driving deer during youth hunts.

26. We prohibit commercialized guiding.

D. Sport Fishing. We allow fishing and crabbing on designated areas of the refuge in accordance with State regulations subject to the following conditions:

1. We only allow fishing and crabbing from April 1 through September 30 during daylight hours.

2. We restrict fishing and crabbing to boats and the Key Wallace roadway across the Little Blackwater River.

3. We require a valid State sport fishing license. We do not require a refuge permit.

4. We require anglers to attend all fish and crab lines.

5. We prohibit boat launching from refuge lands except for canoes/kayaks at the canoe/kayak ramp located near the Blackwater River Bridge on Route 335. A public launching ramp is available at Shorter's Wharf.

6. We prohibit the use of air boats on refuge waters.

Eastern Neck National Wildlife Refuge

A. Migratory Game Bird Hunting. [Reserved]

B. Upland Game Hunting. [Reserved]

C. Big Game Hunting. We allow hunting of white-tailed deer and turkey on designated areas of the refuge in accordance with State hunting regulations subject to the following conditions:

1. We require hunters to carry a signed refuge hunt permit when scouting on the designated scouting days and when hunting. Hunters must turn in their hunt permit at the end of the hunt day or when leaving the refuge during the hunt day at the check-in station.

2. We only allow use of bow and arrows, shotguns, and muzzleloaders for deer hunting and shotguns for turkey hunting.

3. We prohibit possession of a loaded weapon (see § 27.42(b) of this chapter) on or within 50 feet (15 m) of any graveled, dirt, or paved refuge road or any designated parking area.

4. You must wear in a conspicuous manner on head, chest, and back a minimum of 400 square inches (2,600 cm²) of solid hunter-orange clothing or material when deer hunting.

5. You must wear a hunter-orange cap or hat when moving to or from your blind or stand when turkey hunting.

6. Each youth hunter (age 15 or under) must remain within sight and normal voice contact of an adult age 18 or older. Children must be at least age 10 to hunt on the refuge.

7. We only allow parking in designated parking areas.

8. We prohibit hunting in the No Hunting Zones; however, you may walk through these areas with an unloaded weapon (see § 27.42(b) of this chapter) (no shells in the chamber or magazine cap off of the muzzleloader).

9. For deer hunting, the legal shooting hours are from legal sunrise to legal sunset.

10. For turkey hunting, the legal shooting hours are from ½ hour before legal sunrise to 12 p.m. (noon).

11. We prohibit entry to the refuge by boats during refuge hunts.

12. We only allow persons possessing a refuge hunt permit to be on the refuge during hunting days.

13. We prohibit the use of ATVs during refuge hunts (see § 27.31(f) of this chapter).

14. We allow the use of marking tape, reflective pins, or other removable materials to mark trails to and from stands. You must remove the marking material (see § 27.93 of this chapter) at the end of your hunt day. We prohibit paint or any other permanent marker to mark trails to and from hunt stands.

D. Sport Fishing. We allow fishing and crabbing in designated areas of the refuge in accordance with State regulations subject to the following conditions:

1. We allow fishing and crabbing from Eastern Neck Island bridge.

2. We only allow fishing and crabbing from April 1-September 30 during daylight hours at the Ingleside Recreation Area.

3. We only allow fishing from the Boxes Point and Duck Inn Trails during daylight hours.

4. We allow fishing and crabbing from boardwalk located adjacent to the Eastern Neck Island bridge.

Patuxent Research Refuge

A. Migratory Game Bird Hunting. We allow hunting of goose, duck, and dove on the North Tract in accordance with State regulations subject to the following conditions:

1. We require a hunting permit.

2. We require hunters age 17 years of age or younger to have a parent or guardian countersign to receive a hunting permit. An adult, age 21 or older possessing a hunting permit, must accompany hunters age 15 and younger in the field.

3. You must check-in and out at the Hunter Control Station (HCS) and exchange your hunting permit for a daily hunting pass and a vehicle pass every time you enter or exit the refuge.

4. We will restrict you to the selected area and activity until you check out at the HCS.

5. You may only carry one shotgun in the field. We prohibit additional firearms.

6. You must wear at least a fluorescent-orange hat or cap when walking from your vehicle to your hunting site. “Jump Shooters” must wear at least a fluorescent-orange hat or cap while hunting. If you stop and stand, you may replace the orange hat or cap with a camouflage one.

7. We only allow the taking of Canada goose during the special September season for resident Canada goose.

8. We prohibit hunting of duck or goose during the deer firearm seasons and the early deer muzzleloader seasons that occur in October.

9. We prohibit hunting quail or dove during any deer muzzleloader or firearms seasons.

10. We require waterfowl hunters to use retrievers on any impounded waters. Retrievers must be of the traditional breeds, such as Chesapeake Bay, Golden, Labrador, etc.

11. We require dogs to be under the immediate control of their owner at all times (see § 26.21(b) of this chapter). Law enforcement officers may seize dogs running loose or unattended.

B. Upland Game Hunting. We allow hunting of turkey, bobwhite quail, grey squirrel, eastern cottontail rabbit, and woodchuck on the North Tract and turkey on the Central Tract in accordance with State regulations subject to the following conditions:

1. We require a fee hunting permit.

2. Conditions A2 and A4 apply.

3. We require hunters to check-in and out at the Hunter Control Station every time they enter or exit the refuge and exchange their hunting permit for a daily hunting pass and vehicle pass.

4. You must wear a minimum of 400 square inches (2,600 cm²) of fluorescent orange on your head, chest, and back while hunting upland game except for turkey hunting. We encourage turkey hunters to wear fluorescent orange.

5. We prohibit hunting of upland game during the firearms and muzzleloader seasons.

6. We select turkey hunting permits by computerized lottery. We will generate a computerized lottery list for the youth, disabled, mobility impaired, and general public. We require documentation for disabled and mobility-impaired hunters.

7. We require each turkey hunter to attend a turkey clinic. See the refuge office for further information.

C. Big Game Hunting. We allow hunting of white-tailed deer in accordance with State regulations subject to the following conditions:

1. We require you to pass a proficiency test with each weapon that you desire to use prior to issuing you a hunting permit.

2. Conditions A1 through A4 apply.

3. You must wear a minimum of 400 square inches (2,600 cm²) of fluorescent orange on your head, chest, and back while hunting. Bow hunters must follow this requirement when moving to and from the deer stand while tracking. We do not require bow hunters to wear the fluorescent orange when positioning to hunt except during the deer muzzleloader season.

4. You must use established roads, park within the selected boundary, and not block traffic.

5. We prohibit hunting on or across any road, within 50 yards (45 m) of a road, within 150 yards (135 m) of any occupied structure, or within 25 yards (22.5 m) from any designated “No Hunting” area. Only those with a State “Hunt from a Vehicle Permit” may hunt from the roadside.

6. We prohibit using dogs to hunt or track wounded deer.

7. We publish the daily and yearly bag limits and hunting dates for the North, Central, and South Tracts in July and will include them with each hunting permit.

8. North Tract: We allow shotgun, muzzleloader, and bow hunting.

i. You must use a portable tree stand equipped with a safety belt. The stand must be at least 10 feet (3 m) off the ground. You must wear the safety belt while in the tree stand. You must remove tree stands daily from the refuge (see § 27.93 of this chapter).

9. Central Tract: We allow shotgun and bow hunting in accordance with the following regulations:

i. We allow bow hunters to hunt on the Schaefer Farm.

ii. We will select hunters interested in the Central Tract hunt by a computerized lottery and assign them to a specific hunting location.

iii. Shotgun hunters must use portable tree stands with safety belts. The stand must be at least 10 feet (3 m) off the ground.

iv. You must carry a flashlight, whistle, and a compass while hunting.

10. South Tract: We allow shotgun, muzzleloader, and bow hunting in accordance with the following regulations:

i. We prohibit entry on internal fire roads.

ii. Conditions 8i and 9iv apply.

11. You must check out at the Hunter Control Station no later than 1½ hours after legal sunset.

12. All deer harvested will have a jaw extracted before leaving the refuge.

13. If you wish to track wounded deer beyond 1½ hours after legal sunset, you must report in person to the HCS or if you are hunting on the refuge's South Tract, call the HCS. The HCS will call a refuge law enforcement officer to gain consent to track. We prohibit tracking later than 2½ hours after legal sunset. We may revoke your hunting privilege if you wound a deer and do not make a reasonable effort to retrieve it. This may include next-day tracking.

D. Sport Fishing. We allow sport fishing in accordance with State hook and line fishing regulations subject to the following conditions:

1. We allow the use of earthworms as the only source of live bait.

2. We prohibit harvesting bait on the refuge.

3. You must attend all fishing lines.

4. We prohibit fishing from any bridge.

5. North Tract: We allow sport fishing at Lake Allen, Rieve's Pond, New Marsh, Cattail Pond, Bailey Bridge Marsh, and Little Patuxent River (downstream only from Bailey's Bridge) in accordance with the following regulations:

i. We require a free refuge permit (you must possess and carry) to access North Tract. If you are age 17 or younger, you must have a parent or guardian countersign to receive an access permit. A parent or legal guardian must accompany those age 15 and younger.

ii. You may take the following species: catfish, chain pickerel, black crappie, eels, sunfish, golden shiner, and large and smallmouth bass. Bass limit is one per day.

iii. You may fish year-round at Lake Allen, New Marsh, Cattail Pond, Bailey Bridge Marsh, and Little Patuxent River (downstream only from Bailey Bridge) except during the white-tailed deer firearm hunting season and the waterfowl hunting season. We also reserve the right to close Lake Allen at any time.

iv. You may fish at Rieve's Pond from February 1 to August 31 and on Sundays from September 1 to January 31.

v. We allow wading, for fishing purposes only, downstream from Bailey Bridge on the Little Patuxent River. We prohibit wading in other bodies of water.

vi. We prohibit use of any type of watercraft.

6. South Tract: We allow sport fishing at Cash Lake in accordance with the following regulations:

i. We require a free refuge fishing permit. You must carry a copy of the permit with you at all times while fishing. Organized groups may request a group permit. The group leader must carry a copy of the permit and stay with the group at all times while fishing.

ii. You must park your vehicle in the parking lot located behind Refuge Gate 8 off Maryland Highway 197 (see § 27.31 of this chapter). You must prominently display your fishing permit on your vehicle's dashboard.

iii. You may fish on Cash Lake except areas designated as closed on the fishing permit map and by posted signs stating “No fishing beyond this point.”

iv. You may take the following fish species: catfish, black crappie, eels, sunfish, golden shiner, and chain pickerel. Chain pickerel limit is one per day.

v. You must catch and release all bass.

vi. You may fish from mid-June until mid-October.

vii. You may fish between the hours of 6 a.m. until legal sunset. We open the refuge trails (see § 27.31 of this chapter) from 8 a.m. until 5:30 p.m. daily.

viii. The permit holder may take one additional licensed adult or two youths age 15 or younger to fish on Cash Lake. The permit holder must be present for guests to fish.

ix. We prohibit boat trailers.

x. You may use watercraft for fishing in accordance with the State boating laws subject to the following conditions: You may use car-top boats 14 feet (4.2 m) or less and canoes. You may only use electric motors, 4 HP or less. We prohibit sailboats, kayaks, or inflatables.

22. Amend § 32.40 Massachusetts by:

a. Revising “Monomoy National Wildlife Refuge;”

b. Revising “Nantucket National Wildlife Refuge;”

c. Revising “Oxbow National Wildlife Refuge;” and

d. Revising paragraph C. of “Parker River National Wildlife Refuge” to read as follows:

§ 32.40 Massachusetts.

* * * * *

Monomoy National Wildlife Refuge

A. Migratory Game Bird Hunting. [Reserved]

B. Upland Game Hunting. [Reserved]

C. Big Game Hunting. [Reserved]

D. Sport Fishing. We allow fishing in designated areas of the refuge in accordance with State regulations subject to the following conditions:

1. We allow fishing on the portions of the Monomoy Islands that we do not post as closed to public use from legal sunrise to legal sunset.

2. We allow surf fishing from the Morris Island shore 24 hours a day.

Nantucket National Wildlife Refuge

A. Migratory Game Bird Hunting. [Reserved]

B. Upland Game Hunting. [Reserved]

C. Big Game Hunting. [Reserved]

D. Sport Fishing. We allow fishing in accordance with State regulations subject to the following conditions:

1. We close the western refuge shoreline and beach area to surf fishing during the period of April 15 through July 31 annually, and you may not operate a vehicle on the west-facing beach and shoreline (see § 27.31 of this chapter). We only allow surf fishing on the northeast-facing shoreline during this period of time.

2. We may close the northeast-facing shoreline and beach if piping plover nesting is occurring in this portion of the refuge.

3. We require a permit for the use of over-the-sand, surf-fishing vehicles.

4. If we do not otherwise close an area because of these conditions, we allow fishing 24 hours a day.

Oxbow National Wildlife Refuge

A. Migratory Game Bird Hunting. We allow shotgun hunting of woodcock and snipe on the portion of the refuge located south of Massachusetts Route 2 and west of the Boston and Maine Railroad tracks in accordance with State regulations subject to the following conditions:

1. We restrict vehicles to the designated parking area accessible from the Still River Depot Road (see § 27.31 of this chapter). We prohibit entry by routes other than Still River Depot Road.

2. You may only possess approved nontoxic shot while in the field (see § 32.2(k)).

B. Upland Game Hunting. We allow hunting of upland game birds, turkey, and small game on the portion of the refuge located south of Massachusetts Route 2 and west of the Boston and Maine Railroad tracks in accordance with State regulations subject to the following conditions:

1. We only allow shotguns.

2. We restrict vehicles to the designated parking area that is accessible from the Still River Depot Road (see § 27.31 of this chapter). We prohibit entry by routes other than Still River Depot Road.

3. You may only possess approved nontoxic shot while in the field, except while hunting turkey (see § 32.2(k)).

C. Big Game Hunting. [Reserved]

D. Sport Fishing. We allow fishing along the banks of the Nashua River in accordance with State regulations.

Parker River National Wildlife Refuge

* * * * *

C. Big Game Hunting. We allow hunting of white-tailed deer on designated areas of the Plum Island portion of the refuge in accordance with State hunting regulations. You may hunt deer on designated day(s) during the regular State shotgun season subject to the following conditions:

1. We require that all hunters have a valid State hunting license, applicable deer tags, and firearms identification card (FID) or license to carry (LTC). The FID and LTC only apply to Massachusetts residents. All hunters regardless of age must possess and carry a refuge permit. This is a quota hunt, and we will randomly select a limited number of hunters from those that apply. You may apply by mail from September 1 until October 1.

2. If selected from the random drawing, you must attend a refuge-specific hunter orientation session prior to the hunt.

3. We only allow shotguns (slugs only) and shoulder-fired muzzleloaders (single projectile only) for our deer hunt.

4. You must check-in and out at the refuge entrance gatehouse.

5. We prohibit alcoholic beverages (See § 32.2 (j)).

6. We prohibit hunting from the North Pool or Stage Island Observation towers.

7. We prohibit loaded firearms (see § 27.42 of this chapter) on or within 150 feet (45 m) of the refuge road.

8. You must bring all deer to the refuge deer check station located at our subheadquarters 2.5 miles (4 km) south of the refuge entrance gate. This site is an official State check station.

9. We will only allow permitted refuge hunters or those individuals hunting at Sandy Point State Reservation at the southern end of Plum Island access to the refuge or Sandy Point on the day(s) of the deer hunt.

10. We prohibit vehicular travel (emergency excepted) on refuge roads from ½ hour before legal sunrise until 8:30 a.m. We prohibit accessing the refuge after 2:30 p.m. during the deer hunt.

11. Parking regulations are subject to change and will be determined based on the number of permitted hunters and available hunt areas. We will provide this information in detail to all permitted hunters attending the required hunter-orientation session.

* * * * *

23. Amend § 32.41 Michigan by:

a. Revising paragraphs A., B., D.2., D.5., D.6., D.7., and removing paragraph D.8. of “Seney National Wildlife Refuge;” and

b. Revising paragraphs A., C., and D. of “Shiawassee National Wildlife Refuge” to read as follows:

§ 32.41 Michigan.

* * * * *

Seney National Wildlife Refuge

A. Migratory Game Bird Hunting. We only allow hunting of woodcock and snipe on designated areas of the refuge in accordance with State regulations.

B. Upland Game Hunting. We allow hunting of ruffed grouse and snowshoe hare on designated areas of the refuge in accordance with State regulations subject to the following conditions:

1. We allow hunting of snowshoe hare on Unit B during the entire State season.

2. We only allow hunting of snowshoe hare on Unit A from December 1 through March 31.

* * * * *

D. Sport Fishing. * * *

* * * * *

2. We allow ice fishing from January 1 through the end of February from legal sunrise to legal sunset.

* * * * *

5. We allow fishing on designated refuge pools, and the Creighton, Driggs, and Manistique Rivers from May 15 through September 30 from legal sunrise to legal sunset.

6. We prohibit boats and flotation devices on the refuge pools.

7. We prohibit motorized boats on the Creighton and Driggs Rivers.

Shiawassee National Wildlife Refuge

A. Migratory Game Bird Hunting. We allow hunting of goose on designated areas in accordance with State regulations subject to the following conditions:

1. You must possess and carry a refuge permit.

2. We allow goose hunting on designated cropland fields until 12 p.m. (noon) with a required checkout time of 1 p.m.

3. You may only possess approved nontoxic shotgun shells (see § 32.2(k)) in quantities of 10 or less.

4. We require hunters to stay within 50 feet (15 m) of posted site.

* * * * *

C. Big Game Hunting. We allow hunting of white-tailed deer on designated areas of the refuge in accordance with State regulations subject to the following conditions:

1. You must possess and carry a refuge permit.

2. Hunters must wear in a conspicuous manner on head, chest, and back a minimum of 400 square inches (2,600 cm²) of solid-colored hunter orange clothing or material.

3. We require that portable blinds must display solid-colored, hunter-orange material on the outside.

4. During muzzleloader hunts we require only guns capable of firing one round before reloading.

5. We allow hunters with a State medical permit to use crossbows.

D. Sport Fishing. We allow sport fishing on designated areas in accordance with State regulations subject to the following conditions:

1. We allow fishing by boat in navigable waterways but not within any managed refuge units.

2. We allow bank fishing from legal sunrise to legal sunset only at designated sites along the Spaulding Drain and the Tittabawassee and Cass Rivers.

24. Amend § 32.42 Minnesota by:

a. Revising the introductory text of paragraph C. and adding paragraphs C.3. and C.4. of “Agassiz National Wildlife Refuge;”

b. Revising “Fergus Falls Wetland Management District;”

c. Revising the introductory text of paragraph A., adding paragraphs A.3. and A.4., and revising paragraphs B., the introductory text of paragraph C., and revising paragraph D. of “Litchfield Wetland Management District;”

d. Adding paragraphs B.3., C.5., and C.6. of “Minnesota Valley National Wildlife Refuge;”

e. Revising “Morris Wetland Management District;”

f. Revising the introductory text of paragraphs A. and B. and adding paragraph B.2. of “Rice Lake National Wildlife Refuge;”

g. Revising paragraph A.5. and adding paragraphs B.2., C.3., and C.4. of “Sherburne National Wildlife Refuge;”

h. Revising paragraphs A.1., B.1., B.2., C.1., and D. of “Tamarac National Wildlife Refuge” to read as follows:

§ 32.42 Minnesota.

* * * * *

Agassiz National Wildlife Refuge

* * * * *

C. Big Game Hunting. We allow hunting of white-tailed deer and moose on designated areas of the refuge in accordance with State regulations subject to the following conditions:

* * * * *

3. We allow the use of wheeled, nonmotorized conveyance devices (i.e., bikes, retrieval carts) except we prohibit them in the Wilderness Area.

4. We prohibit entry into the “Closed Area”.

* * * * *

Fergus Falls Wetland Management District

A. Migratory Game Bird Hunting. We allow hunting of migratory game birds throughout the district (except that we allow no hunting on the Townsend, Headquarters, Mavis, and Gilmore Waterfowl Production Areas (WPA) in Otter Tail County, and Larson WPA in Douglas County) in accordance with State regulations subject to the following conditions:

1. We prohibit the use of motorized boats.

2. You must remove boats, decoys, blinds, and blind materials (see § 27.93 of this chapter) brought onto the WPAs at the end of each day's hunt.

3. We allow the use of hunting dogs provided the dog is under the immediate control of the hunter at all times (see § 26.21(b) of this chapter).

B. Upland Game Hunting. We allow upland game hunting throughout the district (except that we allow no hunting on the Townsend, Headquarters, Mavis, and Gilmore WPAs in Otter Tail County, and Larson WPA in Douglas County) in accordance with State regulations subject to the following condition: Condition A3 applies.

C. Big Game Hunting. We allow big game hunting throughout the district (except that we allow no hunting on the Townsend, Headquarters, Mavis, and Gilmore WPAs in Otter Tail County, and Larson WPA in Douglas County) in accordance with State regulations subject to the following conditions:

1. We prohibit the construction or use of permanent blinds, platforms, or ladders.

2. You must remove all portable hunting stands and blinds from the area at the end of each day's hunt (see § 27.93 of this chapter).

D. Sport Fishing. We allow sport fishing throughout the district (except that we allow no fishing on the Townsend, Headquarters, Mavis, and Gilmore WPAs in Otter Tail County and Larson WPA in Douglas County) in accordance with State regulations subject to the following conditions:

1. Condition A1 applies.

2. You must remove all ice fishing structures, devices, and personal property (see § 27.93 of this chapter) brought onto the area following each day of fishing.

Litchfield Wetland Management District

A. Migratory Game Bird Hunting. We allow hunting of migratory game birds throughout the district except we prohibit hunting on the Phare Lake Waterfowl Production Area in Renville County. All hunting is in accordance with State regulations subject to the following conditions:

* * * * *

3. We prohibit the use of motorized boats.

4. We allow the use of hunting dogs, provided the dog is under the immediate control of the hunter at all times (see § 26.21(b) of this chapter).

B. Upland Game Hunting. We allow upland game hunting throughout the district, except we prohibit hunting on the Phare Lake Waterfowl Production Area in Renville County. Hunting is in accordance with State regulations subject to the following condition: Condition A4 applies.

C. Big Game Hunting. We allow big game hunting throughout the district, except we prohibit hunting on the Phare Lake Waterfowl Production Area in Renville County. Hunting is in accordance with State regulations subject to the following conditions:

* * * * *

D. Sport Fishing. We allow sport fishing throughout the district in accordance with State regulations subject to the following conditions:

1. We prohibit the use of motorized boats.

2. You must remove all ice fishing structures, devices, and personal property (see § 27.93 of this chapter) brought onto the area following each day of fishing.

Minnesota Valley National Wildlife Refuge

* * * * *

B. Upland Game Hunting. * * *

* * * * *

3. We allow the use of .22 caliber rimfire rifles on designated areas of the refuge.

C. Big Game Hunting. * * *

* * * * *

5. We prohibit the possession of centerfire rifles or handguns on the refuge.

6. We allow the use of shotguns and muzzleloaders on designated areas.

* * * * *

Morris Wetland Management District

A. Migratory Game Bird Hunting. We allow hunting of migratory game birds throughout the district except that we prohibit hunting on the designated portions of the Edward-Long Lake Waterfowl Production Area (WPA) in Stevens County in accordance with State regulations subject to the following conditions:

1. We prohibit the use of motorized boats.

2. You must remove boats, decoys, blinds, and blind materials (see § 27.93 of this chapter) brought onto the WPAs at the end of each day's hunt.

3. We allow the use of hunting dogs, provided the dog is under the immediate control of the hunter at all times (see § 26.21(b) of this chapter).

B. Upland Game Hunting. We allow hunting of upland game except that we prohibit hunting on the designated portions of the Edward-Long Lake Waterfowl Production Area in Stevens County in accordance with State regulations subject to the following condition: Condition A3 applies.

C. Big Game Hunting. We allow hunting of deer throughout the district except that we prohibit hunting on the designated portions of the Edward-Long Lake Waterfowl Production Area in Stevens County in accordance with State regulations subject to the following conditions:

1. We prohibit the construction or use of permanent blinds, platforms, or ladders.

2. You must remove all portable hunting stands and blinds from the area at the end of each day's hunt (see § 27.93 of this chapter).

D. Sport Fishing. We allow fishing throughout the district except that we prohibit fishing on the designated portions of the Edward-Long Lake Waterfowl Production Area (WPA) in Stevens County in accordance with State regulations subject to the following conditions:

1. Condition A1 applies

2. You must remove all ice fishing structures, devices, and personal property (see § 27.93 of this chapter) brought onto the WPA at the end of each day's fishing.

* * * * *

Rice Lake National Wildlife Refuge

A. Migratory Game Bird Hunting. We allow hunting of woodcock and common snipe on designated areas in accordance with State regulations subject to the following conditions:

* * * * *

B. Upland Game Hunting. We allow hunting of ruffed grouse, spruce grouse, gray and fox squirrels, cottontail rabbit, and snowshoe hare on designated areas of the refuge in accordance with State regulations subject to the following conditions:

* * * * *

2. We require that the visible portion of at least one article of clothing worn above the waist be blaze orange.

* * * * *

Sherburne National Wildlife Refuge

A. Migratory Game Bird Hunting. * * *

* * * * *

5. We prohibit hunting during the State Special Goose Hunt (the early September and late December Canada goose hunting seasons).

B. Upland Game Hunting. * * *

* * * * *

2. We prohibit field possession of upland game species on areas closed to upland game hunting.

C. Big Game Hunting. * * *

* * * * *

3. You must dismantle hunting blinds, platforms, and ladders made from natural vegetation at the end of each day's hunt.

4. We prohibit the possession of firearms or archery equipment on areas closed to white-tailed deer hunting.

* * * * *

Tamarac National Wildlife Refuge

A. Migratory Game Bird Hunting. * * *

1. Hunting by tribal members is in accordance with White Earth Reservation regulations on those portions of the Reservation that are a part of the refuge.

* * * * *

B. Upland Game Hunting. * * *

1. Hunting by tribal members is in accordance with White Earth Reservation regulations on those parts of the Reservation that are part of the refuge.

2. You may only hunt red fox, raccoon, and striped skunk from ½ hour before legal sunrise until legal sunset from September 1 through the last day of February.

* * * * *

C. Big Game Hunting. * * *

1. Hunting by tribal members is in accordance with White Earth Reservation regulations on those parts of the Reservation that are part of the refuge.

* * * * *

D. Sport Fishing. We allow fishing on designated areas of the refuge between the hours of 5 a.m. and 10 p.m. in accordance with State regulations subject to the following conditions:

1. We allow fishing in North Tamarac Lake, Wauboose Lake, and Two Island Lake all year in accordance with State and/or White Earth Reservation regulations.

2. We allow fishing in Blackbird Lake and Lost Lake from the first day of the State walleye season through Labor Day under State and/or White Earth Reservation regulations.

3. We only allow bank fishing in an area 50 yards (45 m) on either side of the Ottertail River Bridges on County Roads #26 and #126 during State seasons.

4. We allow fishing in Pine Lake from December 1 until March 31.

* * * * *

25. Amend § 32.43 Mississippi by:

a. Revising “Dahomey National Wildlife Refuge;”

b. Revising paragraphs A., B., and C. of “Grand Bay National Wildlife Refuge;”

c. Revising “Hillside National Wildlife Refuge;”

d. Revising “Mathews Brake National Wildlife Refuge;”

e. Revising “Morgan Brake National Wildlife Refuge;”

f. Revising “Panther Swamp National Wildlife Refuge;”

g. Revising “St. Catherine Creek National Wildlife Refuge;”

h. Revising “Tallahatchie National Wildlife Refuge;” and

i. Revising “Yazoo National Wildlife Refuge” to read as follows:

§ 32.43 Mississippi.

* * * * *

Dahomey National Wildlife Refuge

A. Migratory Game Bird Hunting. We allow hunting of migratory waterfowl, coot, snipe, and woodcock on designated areas of the refuge in accordance with State regulations subject to the following conditions:

1. Youth hunters age 15 and under must possess and carry a hunter safety course card or certificate. Each youth hunter must remain within sight and normal voice contact of an adult age 21 or older. All hunters must possess and carry a valid, signed refuge hunting permit certifying that you understand and will comply with all regulations, and hunters must carry a State license and a signed Federal and State duck stamp on their person while hunting on the refuge. Hunters born after January 1, 1972, also must carry a Hunter Education Safety Course card or certificate. You may obtain permits at North Mississippi Refuges Complex Headquarters, 2776 Sunset Drive, Grenada, Mississippi 38901, or at the Dahomey National Wildlife Refuge Office, Box 831, Highway 446, Boyle, Mississippi 38730, or by mail from the above addresses.

2. All users may enter the refuge 2 hours before legal sunrise and must exit the refuge no later than 2 hours after legal sunset. We prohibit entering or remaining on the refuge before or after hours.

3. We only allow hunting of migratory game birds on Wednesdays, Saturdays, and Sundays, from ½ hour before legal sunrise to 12 p.m. (noon). Hunters must remove all decoys, blind material (see § 27.93 of this chapter), and harvested waterfowl from the area no later than 1 p.m. each day. After duck, merganser, and coot season closes, you may hunt goose daily from ½ hour before legal sunrise until legal sunset.

4. Each hunter must obtain a daily User Information Card (pink) available at each refuge information station and follow the printed instructions on the card. Hunters must place the card in plain view on the dashboard of their vehicle so the personal information is readable. Prior to leaving the refuge, you must complete the reverse side of the card and deposit it at one of the hunter information stations. Include all game harvested, and if there is none, report “0.”

5. We may close certain areas of the refuge for sanctuary or administrative purposes. We will mark such areas with “No Hunting” or “Area Closed” signs.

6. We prohibit handguns of all kinds.

7. Waterfowl hunters may leave boats meeting all State registration requirements on refuge water bodies throughout the waterfowl season. You must remove boats (see § 27.93 of this chapter) within 72 hours after the season closes.

8. We restrict motor vehicle use to roads designated as vehicle access roads on the refuge map (see § 27.31 of this chapter). We prohibit blocking access to any road or trail entering the refuge (see § 27.31(h) of this chapter).

9. All hunters or persons on the refuge for any reason during any open refuge hunting season must wear a minimum of 500 square inches (3,250 cm²) of visible, unbroken, fluorescent orange-colored material above the waistline. Waterfowl hunters must comply while walking/boating to and from actual hunting area. Waterfowl hunters may remove the fluorescent orange while actually hunting.

10. We only allow dogs on the refuge when specifically authorized for hunting. We encourage the use of dogs to retrieve dead or wounded waterfowl. Dogs must remain in the immediate control of their handlers at all times (see § 26.21(b) of this chapter).

11. You must remove decoys, blinds, other personal property, and litter (see §§ 27.93 and 27.94 of this chapter) from the hunting area following each morning's hunt. We prohibit cutting or removing trees and other vegetation (see § 27.51 of this chapter). We prohibit the use of flagging, paint, blazes, tacks, or other types of markers.

12. We prohibit ATVs (see § 27.31(f) of this chapter), horses, and mules on the refuge.

B. Upland Game Hunting. We allow hunting of quail, squirrel, rabbit, beaver, nutria, raccoon, coyotes, and opossum on designated areas of the refuge in accordance with State regulations subject to the following conditions:

1. Conditions A1, A4, A5, A8, and A12 apply.

2. We restrict all public use to the period beginning 2 hours before legal sunrise and ending 2 hours after legal sunset. We prohibit entering or remaining on the refuge before or after hours. We establish special provisions for raccoon hunting; contact the refuge office for details.

3. You may only possess shotguns with approved nontoxic shotgun shot (see § 32.2(k)) and .22 caliber rifles. We prohibit all handguns.

4. All hunters or persons on the refuge for any reason during any open refuge hunting season must wear a minimum of 500 square inches (3,250 cm²) of visible, unbroken, fluorescent orange-colored material above the waist line.

5. We only allow dogs on the refuge after the general Gun Deer Hunt. Dogs must remain in the immediate control of their handlers at all times (see § 26.21(b) of this chapter).

6. We prohibit cutting or removing trees and other vegetation (see § 27.51 of this chapter). We prohibit the use of flagging, paint, blazes, tacks, or other types of markers.

C. Big Game Hunting. We allow hunting of white-tailed deer, turkey, and feral hog on designated areas of the refuge in accordance with State regulations subject to the following conditions:

1. Conditions A1, A4, A5, A6, A8, and A12 apply.

2. We restrict all public use to 2 hours before legal sunrise until 2 hours after legal sunset. We prohibit entering or remaining on the refuge before or after hours.

3. All hunters or persons on the refuge for any reason during any open refuge hunting season must wear a minimum of 500 square inches (3,250 cm²) of visible, unbroken, fluorescent orange-colored material above the waistline. We do not require this for turkey hunting.

4. We prohibit dogs for any big game hunt.

5. We prohibit use or possession of any drug or device for employing such drug for hunting.

6. We prohibit organized drives for deer.

7. We prohibit hunting or shooting across any open, fallow, or planted field from ground level or on or across any public road, public highway, railroad, or their right-of-way during all general gun and primitive weapon hunts.

8. You may erect portable deer stands (see § 32.2i)) 2 weeks prior to the opening of archery season on the refuge, and you must remove them by January 31 (see § 27.93 of this chapter). We prohibit cutting or removing trees and other vegetation (see § 27.51 of this chapter). We prohibit the use of flagging, paint, blazes, tacks, or other types of markers.

D. Sport Fishing. We allow fishing on designated areas of the refuge in accordance with State regulations subject to the following conditions:

1. All anglers must possess and carry a valid, signed refuge fishing permit certifying that you understand and will comply with all regulations.

2. We close the refuge to fishing from October 1 through February 28.

3. We prohibit possession of any weapon (see § 27.42 of this chapter) while fishing on the refuge.

4. We prohibit possession or use of jugs, seines, nets, hand-grab baskets, slat traps/baskets, or any other similar devices and commercial fishing of any kind.

5. We allow trotlines, yo-yos, limb lines, crawfish traps, or any other similar devices for recreational use only. You must tag or mark these devices with your full name, full residence address including zip code, written with waterproof ink, legibly inscribed or legibly stamped on the tag. You must attend these devices a minimum of once a day. If you do not attend these devices (see § 27.93 of this chapter), you must remove them from the refuge.

6. We prohibit snagging or attempting to snag fish.

7. We allow crawfishing.

8. We only allow the taking of frog by Special Use Permit.

* * * * *

Grand Bay National Wildlife Refuge

A. Migratory Game Bird Hunting. We allow hunting of goose, duck, coot, and mourning dove on designated areas of the refuge in accordance with State regulations subject to the following conditions:

1. We allow hunting from 30 minutes before legal sunrise until 12 p.m. (noon) on Saturdays, Sundays, Wednesdays, and Thursdays. Hunters may enter the refuge 2 hours before legal sunrise. Hunters must remove all decoys, blind material (see § 27.93 of this chapter), and harvested waterfowl from the area no later than 1 p.m. each day.

2. You must only use portable or temporary blinds.

3. You may only possess approved nontoxic shot (see § 32.2(k)) while hunting waterfowl in the field.

4. The refuge is a day-use area only with the exception of legal hunting activities.

5. We prohibit the use of all-terrain vehicles on all refuge hunts.

6. We prohibit target practice on refuge property.

7. We prohibit mules and horses on refuge hunts.

8. We allow retrievers for waterfowl hunting. We require all dogs to wear a collar displaying the owner's name, address, and telephone number.

9. You must unload and case or dismantle firearms (see § 27.42(b) of this chapter) before transporting them in a vehicle or boat within the boundaries of the refuge or along rights-of-way for public or private land within the refuge.

10. Each hunter must possess and carry a current, signed copy of the refuge hunting permit while participating in refuge hunts.

11. Youth hunters under age 16 must possess and carry a State-approved hunter safety course card or certificate. Each youth hunter must remain within sight and normal voice contact of an adult age 21 or older. An adult may supervise no more than two youths during small game hunts and one youth during big game hunts.

B. Upland Game Hunting. We allow hunting of squirrel on designated areas of the refuge in accordance with State regulations subject to the following conditions:

1. Conditions A4 through A7 and A9 through A11 apply.

2. You may only possess approved nontoxic shot while hunting on the refuge (see § 32.2(k)). All shotgun ammunition must meet legal shot-size requirements. We only allow .22 caliber rimfire.

3. We prohibit the use of dogs.

C. Big Game Hunting. We allow hunting of white-tailed deer and feral hog on designated areas of the refuge in accordance with State regulations subject to the following conditions:

1. Conditions A4 through A7, A9 through A11, and B3 apply.

2. We only allow hunting with bow and arrow. We prohibit the use of poisonous arrows. We prohibit firearms.

3. We prohibit the use or construction of any permanent tree stand. We allow portable and climbing stands, but you must remove them from the tree when not in use or they will be subject to confiscation (see § 27.93 of this chapter).

4. We prohibit hunting by organized deer drives of two or more hunters. We define “drive” as the act of chasing, pursuing, disturbing, or otherwise directing deer so as to make the animals more susceptible to harvest.

5. We prohibit hunting with the aid of bait (see § 32.2(h)).

* * * * *

Hillside National Wildlife Refuge

A. Migratory Game Bird Hunting. We allow hunting of goose, duck, merganser, coot, and dove in accordance with State regulations subject to the following conditions:

1. We are open for hunting during the State season except during the muzzleloader deer hunt.

2. There is no early teal season.

3. We allow hunting from ½ hour before legal sunrise until 12 p.m. (noon).

4. Hunters must remove all decoys, blind material (see § 27.93 of this chapter), and harvested waterfowl from the area no later than 1 p.m. each day.

5. Youth hunters age 15 and under must possess and carry a hunter safety course card or certificate. Each youth hunter must remain within sight and normal voice contact of an adult age 21 or older. Hunters age 16 and older must possess and carry a valid signed refuge Public Use Permit certifying that he or she understands and will comply with all regulations. One adult may supervise no more than one youth hunter.

6. Each day before hunting, all hunters must obtain a daily User Information Card (pink) available at the hunter information stations (see refuge brochure map) and follow the printed instructions on the card. You must display this card in plain view on the dashboard of your vehicle while hunting or fishing so that the personal information is readable. Prior to leaving the refuge, you must complete the reverse side of the card and deposit it at one of the refuge information stations.

7. Failure to display the User Information Card will result in the loss of the hunter's refuge annual Public Use Permit.

8. We prohibit hunting or entry into areas designated as “CLOSED” (see refuge brochure map).

9. We prohibit possession of alcoholic beverages (see § 32.2(j)).

10. We prohibit plastic flagging tape.

11. We prohibit handguns.

12. You must unload and case guns (see § 27.42(b) of this chapter) transported in/on vehicles, ATVs, and boats under power.

13. You must park vehicles in such a manner as to not obstruct roads, gates, turnrows, or firelanes (see § 27.31(h) of this chapter).

15. Valid permit holders may take the following furbearers in season incidental to other refuge hunts with legal firearms used for that hunt: raccoon, opossum, coyote, beaver, bobcat, and nutria.

16. We only allow ATVs on designated trails (see § 27.31 of this chapter) (see refuge brochure map).

17. We open for dove hunting the first and second State season. Contact the refuge headquarters for specific dates and open areas.

18. You may only take dove with shotguns shooting approved nontoxic shot.

19. You may only possess approved nontoxic shot (see § 32.2(k)) while in the field.

B. Upland Game Hunting. We allow hunting of squirrel, rabbit, quail, and raccoon on designated areas of the refuge in accordance with State regulations subject to the following conditions:

1. Conditions A1 and A5 through A15 apply.

2. We only allow shotguns with approved nontoxic shot (see § 32.2(k)) and .22 caliber rimfire rifles for taking small game (we prohibit .22 caliber magnums).

3. We only allow dogs for rabbit and quail hunting typically during the last 2 weeks in February. Hunt dates are available at the refuge headquarters and printed in the refuge brochure. We restrict hunting to the waterfowl hunting area (see refuge brochure map).

4. During the rabbit-with-dog and quail hunts, any person hunting or accompanying another person hunting must wear at least 500 square inches (3,250 cm²) of unbroken flourescent-orange material visible above the waistline as an outer garment.

5. Beginning the first day after the deer muzzleloader hunt, we restrict hunting to the designated waterfowl hunting area (see refuge brochure map).

6. We prohibit horses.

C. Big Game Hunting. We allow hunting of white-tail deer on designated areas of the refuge in accordance with State regulations subject to the following conditions:

1. Hunts and hunt dates are available at the refuge headquarters in July, and we post them in the refuge brochure.

2. We only allow ATVs on designated trails (see § 27.31 of this chapter) beginning the second Saturday in September through February 28 (see refuge brochure map).

3. Beginning the first day after the muzzleloader hunt, we restrict hunting to the designated waterfowl hunting area (see refuge brochure map).

4. Conditions A5 through A7 and B6 apply.

5. During all gun and muzzleloader deer hunts: all participants must wear at least 500 square inches (3,250 cm²) of unbroken flourescent-orange material visible above the waistline as an outer garment while hunting and enroute to and from hunting areas; we prohibit hunting from tripods and other free-standing platforms in fields and tree plantations (during muzzleloader deer hunt); and we prohibit all other public use on the refuge.

6. We prohibit organized drives for deer.

7. We prohibit hunting from or shooting across open fields from ground level.

8. We only allow crossbows in accordance with State law.

9. You must unload guns (see § 27.42(b) of this chapter) while standing beside, in, or walking across any portion of a field, tree plantation, road, pipeline, or powerline right-of-way. We define “a loaded gun” as shells in the gun or percussion caps on muzzleloaders.

10. Stands adjacent to fields and tree plantations must be a minimum of 10 feet (300 cm) above ground.

11. We prohibit attaching stands to any power or utility pole.

12. You may place stands on the refuge 7 days prior to and must remove them (see § 27.93 of this chapter) by day 7 after the close of the refuge deer season.

13. You must remove stands in the January/February closed area by the last day of the muzzleloader hunt.

14. You must field-dress deer.

15. We designate check station dates and requirements in the refuge brochure.

D. Sport Fishing. We allow fishing on designated areas of the refuge in accordance with State regulations subject to the following conditions:

1. We close all refuge waters during the muzzleloader deer hunt.

2. We allow fishing in the borrow ponds along the north levee (see refuge brochure map) throughout the year except during the muzzleloader Gun Deer Hunt.

3. We open all other refuge waters March 1 through November 15.

4. We prohibit trot lines, limb lines, jugs, seines, and traps.

5. We prohibit fishing from bridges.

6. We allow frogging during the State bullfrog season.

7. We only allow ATVs on designated trails (see § 27.31 of this chapter) (see refuge brochure map) September 15 through February 28.

Mathews Brake National Wildlife Refuge

A. Migratory Game Bird Hunting. We allow hunting of goose, duck, merganser, and coot in accordance with State regulations subject to the following conditions:

1. We allow hunting during the open State season.

2. There is no early teal season.

3. Beginning the opening day of duck season, we restrict hunting to the designated waterfowl hunt area only (see refuge brochure map).

4. Youth hunters age 15 and under must possess and carry a hunter safety course card or certificate. Each youth hunter must remain within sight and normal voice contact of an adult age 21 or older.

5. During the refuge youth hunts, scheduled the first 2 weekends in January, both youth and accompanying adult may hunt. Only one adult may accompany each youth hunter.

6. We allow hunting from ½ hour before legal sunrise until 12 p.m. (noon).

7. Hunters must remove all decoys, blind material (see § 27.93 of this chapter), and harvested waterfowl from the area no later than 1 p.m. each day.

8. If you are a hunter age 16 or older, you must possess and carry a valid, signed refuge Public Use Permit certifying that you understand and will comply with all regulations.

9. Each day before hunting, each hunter must obtain a daily User Information Card (pink) available at the hunter information stations (see refuge brochure map) and follow the printed instructions on the card. You must display this card on the dashboard of your vehicle while hunting or fishing so that the personal information is readable. Prior to leaving the refuge, you must complete the reverse side of the card and deposit it at one of the refuge information stations.

10. Failure to display the User Information Card will result in the loss of the hunter's refuge annual Public Use Permit.

11. We prohibit hunting or entry into areas designated as “CLOSED” (see refuge brochure map).

12. We prohibit possession of alcoholic beverages (see § 32.2(j)).

13. We prohibit plastic flagging tape.

14. We prohibit handguns.

15. You must unload and case guns (see § 27.42(b) of this chapter) transported in/on vehicles and boats under power.

16. We prohibit parking vehicles in such a manner as to obstruct roads, gates, turnrows, or firelanes (see § 27.31(h) of this chapter).

17. Valid permit holders may take the following furbearers in season incidental to other refuge hunts with legal firearms used for that hunt: raccoon, opossum, coyote, beaver, bobcat, and nutria.

B. Upland Game Hunting. We allow hunting of squirrel, rabbit, and raccoon on designated areas of the refuge in accordance with State regulations subject to the following conditions:

1. Conditions A4 applies.

2. We only allow shotguns with approved nontoxic shot (see § 32.2(k)) and .22 caliber rimfire rifles for taking small game (we prohibit .22 caliber magnums).

3. We only allow dogs for rabbit hunting typically the last 2 weeks in February. Hunt dates are available at the refuge headquarters and printed in the refuge brochure. We restrict hunting to the waterfowl hunting area (see refuge brochure map).

4. During the rabbit-with-dog hunt, any person hunting or accompanying another person hunting must wear at least 500 square inches (3,250 cm²) of unbroken flourescent-orange material visible above the waistline as an outer garment.

5. We prohibit horses.

C. Big Game Hunting. We allow archery hunting of white-tailed deer on designated areas of the refuge in accordance with State regulations subject to the following conditions:

1. We only allow archery hunting October 1 through January 31.

2. State bag limits apply.

3. Beginning the first day of duck season, we restrict hunting to the designated waterfowl hunt area only (see refuge brochure map).

4. Conditions A7 through A9 and B5 apply.

5. We prohibit organized drives for deer.

6. We only allow crossbows in accordance with State law.

7. We prohibit attaching stands to any power or utility pole.

8. You may place stands on the refuge 7 days prior to and must remove them (see § 27.93 of this chapter) by day 7 after the close of the refuge deer season.

D. Sport Fishing. We allow fishing on designated areas of the refuge in accordance with State regulations subject to the following conditions:

1. We allow fishing in all refuge waters throughout the year, except in the waterfowl sanctuary, which we close from the first day of duck season through March 15 (see refuge brochure map).

2. We prohibit trot lines, limb lines, jugs, seines, and traps.

3. We allow frogging during the State bullfrog season.

Morgan Brake National Wildlife Refuge

A. Migratory Game Bird Hunting. We allow hunting of goose, duck, merganser, and coot on the refuge in accordance with State regulations subject to the following conditions:

1. We open for hunting during the State season, except we close during the muzzleloader deer hunt.

2. There is no early teal season.

3. We allow hunting from ½ hour before legal sunrise until 12 p.m. (noon).

4. Hunters must remove all decoys, blind material (see § 27.93 of this chapter), and harvested waterfowl from the area no later than 1 p.m. each day.

5. Youth hunters age 15 and under must possess and carry a hunter safety course card or certificate. Each youth hunter must remain within sight and normal voice contact of an adult age 21 or older. If you are a hunter age 16 or older you must possess and carry a valid, signed refuge Public Use Permit certifying that you understand and will comply with all regulations.

6. Each day before hunting, all hunters must obtain a daily User Information Card (pink) available at each refuge information station (see refuge brochure map) and follow the printed instructions on the card. You must display this card in plain view on the dashboard of your vehicle while hunting or fishing so the personal information is readable. Prior to leaving the refuge, you must complete the reverse side of the card and deposit it at one of the refuge information stations.

7. Failure to display the User Information Card will result in the loss of the hunter's refuge annual Public Use Permit.

8. We prohibit hunting or entry into areas designated as “CLOSED” (see refuge brochure map).

9. We prohibit possession of alcoholic beverages (see § 32.2(j)).

10. We prohibit plastic flagging tape.

11. We prohibit handguns at all times.

12. You must unload and case guns (see § 27.42(b) of this chapter) transported in/on vehicles, ATVs, and boats under power.

13. We prohibit parking of vehicles in such a manner as to obstruct roads, gates, turnrows, or firelanes (see § 27.31(h) of this chapter).

14. We allow take by valid permit holders of the following in-season furbearers, incidental to other refuge hunts with legal firearms used for that hunt: raccoon, opossum, coyote, beaver, bobcat, and nutria.

15. We only allow ATVs on designated trails (see § 27.31 of this chapter) (see refuge brochure map).

16. You may only possess approved nontoxic shot while hunting on the refuge (see § 32.2(k)).

B. Upland Game Hunting. We allow hunting of squirrel, rabbit, quail, and raccoon on designated areas of the refuge in accordance with State regulations subject to the following conditions:

1. Conditions A1 and A5 (we only allow one adult per youth hunter), and A6 through A14 apply.

2. We only allow shotguns shooting approved nontoxic shot (see § 32.2(k)) and .22 caliber rimfire rifles for taking small game (we prohibit .22 caliber magnums).

3. We only allow dogs for rabbit and quail hunting typically during the last 2 weeks in February. Hunt dates are available at the refuge headquarters and printed in the refuge brochure. We restrict hunting to the waterfowl hunting area (see refuge brochure map).

4. During the rabbit and quail-with-dog hunt, any person hunting or accompanying another person hunting must wear at least 500 square inches (3,250 cm²) of unbroken flourescent-orange material visible above the waistline as an outer garment.

5. Beginning the first day after the deer muzzleloader hunt, we restrict hunting to the designated waterfowl hunting area (see refuge brochure map).

6. We prohibit horses.

C. Big Game Hunting. We allow hunting of white-tail deer on designated areas of the refuge in accordance with State regulations subject to the following conditions:

1. Hunt information and dates are available both at the refuge headquarters in July and posted in the refuge brochure.

2. We only allow ATVs on designated trails (see § 27.31 of this chapter) beginning the second Saturday in September through February 28 (see refuge brochure map).

3. Beginning the first day after the muzzleloader hunt, we restrict hunting to north of Providence Road and the area west and south of Spring Branch (see refuge brochure map).

4. During all gun and muzzleloader deer hunts, all participants must wear at least 500 square inches (3,250 cm²) of unbroken flourescent-orange material visible above the waistline as an outer garment while hunting and enroute to and from hunting areas.

5. During muzzleloader deer hunts, we prohibit all other public use.

6. We prohibit organized drives for deer.

7. We prohibit hunting from or shooting across open fields from ground level.

8. We only allow crossbows in accordance with State law.

9. We define a loaded gun as shells in the gun or percussion caps on muzzleloaders.

10. You must unload guns (see § 27.42(b) of this chapter) while standing beside, in, or walking across any portion of a field, tree plantation, road, pipeline, or powerline right-of-way.

11. During the muzzleloader deer hunt, we prohibit hunting from tripods and other free-standing platforms in fields and tree plantations.

12. Stands adjacent to fields and tree plantations must be a minimum of 10 feet (3 m) above ground.

13. We prohibit attaching stands to any power or utility pole.

14. You may place stands on the refuge 7 days prior to and must remove them (see § 27.93 of this chapter) by day 7 after the close of the refuge deer season.

15. You must remove stands in the January/February closed area by the last day of the muzzleloader hunt.

16. Hunters must field-dress their deer.

17. We designate check station dates and requirements in the refuge hunt brochure.

18. Conditions A5 through A7 and B6 apply.

D. Sport Fishing. We allow fishing on designated areas of the refuge in accordance with State regulations subject to the following conditions:

1. We close all refuge waters during the muzzleloader deer hunt.

2. We only allow fishing in refuge waters north of Providence Road throughout the year except during the muzzleloader deer hunt.

3. We open all other refuge waters March 1 through November 15.

4. We prohibit trot lines, limb lines, jugs, seines, and traps.

5. We prohibit fishing from bridges.

6. We allow frogging during the State bullfrog season.

7. We only allow ATVs on designated trails (see § 27.31 of this chapter) (see refuge brochure map) September 15 through February 28.

8. We will post separate fishing regulations for Providence Ponds on Morgan Brake at the Morgan Brake office.

* * * * *

Panther Swamp National Wildlife Refuge

A. Migratory Game Bird Hunting. We allow hunting of goose, duck, merganser, and coot in accordance with State regulations subject to the following regulations:

1. We allow hunting during the open State season except we close during all Limited Permit Hunts.

2. Youth hunters age 15 and under must possess and carry a hunter safety course card or certificate. Each youth hunter must remain within sight and normal voice contact of an adult age 21 or older. Both youth and accompanying adult may hunt. Only one adult may accompany each youth hunter.

3. There is no early teal season.

4. We allow hunting from ½ hour before legal sunrise until 12 p.m. (noon).

5. Hunters must remove all decoys, blind material (see § 27.93 of this chapter), and harvested waterfowl from the area no later than 1 p.m. each day.

6. Each hunter age 16 and older must possess and carry a valid, signed refuge Public Use Permit certifying that they understand and will comply with all regulations.

7. Each day before hunting, all hunters must obtain a daily User Information Card (pink) available at the hunter information stations (see refuge brochure map) and follow the printed instructions on the card. You must display this card in plain view on the dashboard of your vehicle while hunting or fishing so that the personal information is readable. Prior to leaving the refuge, you must complete the reverse side of the card and deposit it at one of the refuge information stations.

8. Failure to display the User Information Card will result in the loss of the hunter's refuge annual Public Use Permit.

9. You may obtain hunt dates both at the refuge headquarters in July and posted in the refuge brochure.

10. We prohibit hunting or entry into areas designated as “CLOSED” (see refuge brochure map).

11. We prohibit possession of alcoholic beverages (see § 32.2(j)).

12. We prohibit plastic flagging tape.

13. We prohibit handguns at all times.

14. You must unload and case guns (see § 27.42(b) of this chapter) transported in/on vehicles, ATVs, and boats under power.

15. We prohibit parking of vehicles in such a manner as to obstruct roads, gates, turnrows, or firelanes (see § 27.31(h) of this chapter).

16. We allow take by valid permit holders of the following furbearers in season, incidental to other refuge hunts with legal firearms used for that hunt: raccoon, opossum, coyote, beaver, bobcat, and nutria.

17. We only allow ATVs, beginning the second Saturday in September through February 28, on designated trails (see § 27.31 of this chapter) (see refuge brochure map).

B. Upland Game Hunting. We allow hunting of squirrel, rabbit, quail, and raccoon on designated areas of the refuge in accordance with State regulations subject to the following conditions:

1. We allow hunting during the open State season except we close during limited refuge deer hunts. You may obtain information on the hunts and hunt dates both at the refuge headquarters in July and posted in the refuge brochure.

2. Conditions A2 (squirrel hunting), A6 through A8, and A10 through A17 apply.

3. We only allow shotguns with approved nontoxic shot (see § 32.2(k)) and .22 caliber rimfire rifles for taking small game (we prohibit .22 caliber magnums). We prohibit possession of toxic shot, buckshot, and slugs.

4. We only allow dogs for rabbit hunting typically the last 2 weeks in February. You may obtain hunt dates both at the refuge headquarters and printed in the refuge brochure (see refuge brochure map for open areas).

5. During the rabbit-with-dog and quail hunts, any person hunting or accompanying another person hunting must wear at least 500 square inches (3,250 cm²) of unbroken flourescent-orange material visible above the waistline as an outer garment.

6. Beginning the first day after the last Limited Deer Gun Hunt, we restrict hunting to the designated waterfowl hunting area (see refuge brochure map).

7. We prohibit horses.

C. Big Game Hunting. We allow hunting of white-tail deer and turkey on designated areas of the refuge in accordance with State regulations subject to the following conditions:

1. Conditions A7, A8, A9, A17, B6, and B7 apply.

2. We may require a Limited Hunt Permit for spring turkey hunting, regular gun deer, and muzzleloader deer hunting. We issue the Limited Hunt Permit by random computer drawing. If we draw your name, there is a fee for each permit. Limited Hunt Permits are not transferable and are nonrefundable. Contact the refuge headquarters for specific requirements. The regular gun deer and muzzleloader deer hunts require a Limited Hunt Permit that we assign by random computer drawing. If we draw your name, there is a fee for each permit. Limited Hunt Permits are not transferable and nonrefundable. Contact the refuge headquarters for specific requirements, hunt, and application dates.

3. We may designate dates for youth (ages 12 to 15) turkey hunting. Contact the refuge headquarters or see the refuge brochure for youth hunt dates. Youth hunters age 15 and under must possess and carry a hunter safety course card or certificate. Each youth hunter must remain within sight and normal voice contact of an adult age 21 or older (one youth per adult).

4. During spring turkey season we only allow ATVs on Southern Natural Gas pipeline, from Cotton's access to Tupelo Brake Duck Club boundary (see refuge brochure map).

5. You must immediately tag all harvested turkeys prior to moving them.

6. We only allow shotguns shooting approved nontoxic shot (see § 32.2(k)) and archery while turkey hunting.

7. You must immediately tag all game harvested prior to moving it during limited hunts; we provide the tags.

8. We designate check station dates and requirements in the refuge hunt brochure.

9. If you are a hunter age 16 or older, you must possess and carry a valid, signed refuge Public Use Permit or Limited Hunt Permit certifying that you understand and will comply with all regulations.

10. During all gun or muzzleloader deer hunts, all participants must wear at least 500 square inches (3,250 cm²) of unbroken flourescent-orange material visible above the waistline as an outer garment while hunting and enroute to and from hunting areas.

11. We prohibit all other public use on the refuge during all gun and muzzleloader deer hunts.

12. We prohibit organized drives for deer.

13. We prohibit hunting from or shooting across open fields from ground level.

14. During all Limited Permit Hunts, each hunter must possess and carry only their own current permit and/or tags.

15. We only allow crossbows in accordance with State law.

16. We define a loaded gun as shells in the gun or percussion caps on muzzleloaders.

17. You must unload guns (see § 27.42(b) of this chapter) while standing beside, in, or walking across any portion of a field, tree plantation, road, pipeline, or powerline right-of-way.

18. During muzzleloader, rifle, and youth Gun Deer Hunts, we prohibit hunting from tripods and other free-standing platforms in fields and tree plantations.

19. Stands adjacent to fields and tree plantations must be a minimum of 10 feet (3 m) above ground.

20. We prohibit attaching stands to any power or utility pole.

21. You may place stands on the refuge 7 days prior to and must remove them (see § 27.93 of this chapter) by day 7 after the close of the refuge deer season.

22. You must remove stands in the January/February closed area by the last day of the muzzleloader hunt.

24. You must field-dress deer.

D. Sport Fishing. We allow fishing on designated areas of the refuge in accordance with State regulations subject to the following conditions:

1. We close all refuge waters during limited deer gun hunts.

2. We open waters between the East and West levee, the Landside Ditch, and the portion of Panther Creek adjacent to the West Levee year-round except during limited Gun Deer Hunts.

3. We open all other refuge waters March 1 through November 15.

4. We prohibit trot lines, limb lines, jugs, seines, and traps.

5. We allow frogging during the State bullfrog season.

6. We only allow ATVs for fishing access on designated gravel roads when we close such roads to vehicular traffic.

St. Catherine Creek National Wildlife Refuge

A. Migratory Game Bird Hunting. We allow hunting of duck, goose, and coot during the State season in accordance with State regulations subject to the following conditions:

1. We allow hunting in Butler Lake, Salt Lake, and Gilliard Lake from ½ hour before legal sunrise until 12 p.m. (noon) on Tuesdays, Thursdays, and Saturdays.

2. If you are a hunter age 16 or older you must possess and carry a valid, signed refuge Public Use Permit certifying that you understand and will comply with all regulations.

3. We will close waterfowl hunting in Butler Lake and Salt Lake after the Natchez River gauge reaches 28 feet (8.4 m) or higher.

4. We will close waterfowl hunting in Gilliard Lake when the Natchez River gauge reaches 32 feet (9.6 m) or higher.

5. We restrict access to Butler Lake waterfowl hunting only to Butler Lake Road.

6. Hunters must remove decoys, blind material (see § 27.93 of this chapter), and harvested waterfowl from the area no later than 1 p.m. each day.

7. You may only possess approved nontoxic shot while in the field (see § 32.2(k)).

8. You must use portable blinds.

9. All users must obtain a daily use reporting card and place it in plain view on the dashboard of their vehicle so that the personal information is readable. Users must return cards to a refuge kiosk upon departure from the refuge.

10. Hunters may enter the refuge 2 hours before legal sunrise and must exit the refuge no later than 2 hours after legal sunset. We prohibit entering or remaining on the refuge before or after hours.

11. All persons in all underway boats must wear U.S. Coast Guard-approved personal flotation devices.

12. You must hand-launch boats except at designated boat ramps, where you may trailer-launch them.

13. We only open ATV trails (see § 27.31 of this chapter) to ATV traffic during scheduled hunts and scouting periods.

14. Hunters must be age 16 or older to operate an ATV on the refuge.

15. We allow use of retrievers.

16. State bag limits apply.

17. We prohibit hunting on Thanksgiving Day, Christmas Eve, Christmas Day, and New Year's Day.

18. We prohibit the following acts: possession of alcohol (see § 32.2(j)); entering the refuge from private property; hunters entering from public waterways; overnight parking; parking or hunting within 150 feet (45 m) of any petroleum facility or equipment, or refuge residences and buildings; parking by hunters in refuge headquarters parking lot; and possession of hand guns on the refuge.

B. Upland Game Hunting. We allow hunting of squirrel, rabbit, raccoon, opossum, and woodcock in designated areas of the refuge in accordance with State regulations subject to the following conditions:

1. We only allow shotguns, .22 caliber long rifles, and muzzleloading rifles under .38 caliber shooting patched round balls.

2. You must wear a hunter-orange hat and upper garment when hunting in open fields or reforested areas.

3. We prohibit use of motorized boats after the Natchez River gauge reaches 28 feet (8.4 m) or higher.

4. We only allow raccoon hunting during the month of February from legal sunset to legal sunrise with the following conditions:

i. We require dogs.

ii. We prohibit hunting along/from Carthage-Linwood Road.

iii. We prohibit the use of boats and ATVs.

iv. You may only use .22 caliber rimfire rifles (no magnums).

5. You may take beaver, nutria, coyote, and bobcat incidental to the hunt.

6. Conditions A2, A7 through A14, and A16 through A18 apply.

7. We prohibit the following acts: possession of .22 caliber magnum rifles; target practice; marking trails with tape, paper, paint, or any other artificial means; riding horses or mules; and possession of slugs, buckshot, or rifle ammunition larger than .22 caliber rimfire.

C. Big Game Hunting. We allow deer, hog, and lottery youth turkey hunting in accordance with State regulations subject to the following conditions:

1. We only allow still hunting.

2. You may only take one deer per day: we allow residents to take one deer of either sex per day; however, we prohibit nonresidents from harvesting antlerless deer.

3. We require hunters to wear a hunter-orange hat and upper garment at all times during all muzzleloader hunts and during the youth gun hunt.

4. During late muzzleloader (after December 25) hunts, the following specific conditions apply: You may only take bucks with a minimum of 14-inch (35 cm) inside antler spread.

5. During traditional primitive weapon season, the following specific conditions apply:

i. You must only use flintlock and sidelock percussion muzzleloaders with iron sights and patched-round balls.

ii. We prohibit in-line muzzleloaders, electronic sights, scopes, fiber optic sights, and conical bullets.

iii. You must use recurve and long bows without sights.

6. Youth hunters age 15 and under must possess and carry a hunter safety course card or certificate. Each youth hunter must remain within sight and normal voice contact of an adult age 21 or older.

7. We must receive all applications for the limited youth lottery draw turkey hunt by February 28 of each year.

8. Youth (ages 10 to15) gun deer and waterfowl hunts will coincide with designated State youth hunts each year. Youth deer hunters may use any weapon deemed legal by the State except for buckshot, which we prohibit.

9. We prohibit insertion of metal objects into trees or hunting from trees that contain inserted metal objects (see § 32.2(i)).

10. We prohibit the use or possession of climbing spurs.

11. You must dismantle blinds and tripods, and you must remove stands from the tree after each day's hunt. You must remove all stands, blinds, and tripods (see § 27.93 of this chapter) from the refuge before February 7 of each year.

12. You may only take feral hog with bow and arrow and muzzleloading rifles during and incidental to archery and primitive weapon deer seasons.

13. You must check all deer harvested on the refuge at one of the three self-clearing, mandatory deer check stations.

14. You must immediately field-dress all deer upon harvest.

15. State season bag limits apply.

16. Conditions A2, A7 through A14, A17, A18, B3, B5, and B7 apply.

D. Sport Fishing. We allow fishing during daylight hours only from March 1 through the last day of archery season each year in accordance with State regulations subject to the following conditions:

1. We require a public use permit for all anglers between the ages of 16 and 65.

2. We prohibit the use of ATVs (see § 27.31(f) of this chapter).

3. On the Sibley Unit, we prohibit boats north of the Ring Levee, except you may hand-launch boats in Swamp Lake during nonflood conditions.

4. An adult age 21 or older must supervise youth age 15 and under who may fish in the Kids Pond. We prohibit adults from fishing in this pond.

5. We allow bow fishing. Bow anglers must abide by State law.

6. We allow nighttime bow fishing on the refuge but only through a Special Use Permit issued by the refuge manager.

7. We prohibit the following acts: possession of alcohol (see § 32.2(j)); entering the refuge from private property; overnight parking; target practice; riding horses or mules; possession or use of commercial fishing or trotline equipment, including limb lines, nets, traps, yo-yos, or jugs; and possession of any firearms (see § 27.42 of this chapter).

8. Conditions A9, A11, and A12 apply.

Tallahatchie National Wildlife Refuge

A. Migratory Game Bird Hunting. We allow hunting of migratory waterfowl, coots, snipe, and woodcock on designated areas of the refuge in accordance with State regulations subject to the following conditions:

1. Youth hunters age 15 and under must possess and carry a hunter safety course card or certificate. Each youth hunter must remain within sight and normal voice contact of an adult age 21 or older. Hunters born after January 1, 1972, also must carry a Hunter Education Safety Course card or certificate. All hunters must possess and carry a valid, signed refuge Hunting Permit certifying that he or she understands and will comply with all regulations. You may obtain permits at North Mississippi Refuges Complex Headquarters, 2776 Sunset Drive, Grenada, Mississippi 38901, or at the Dahomey National Wildlife Refuge Office, Box 831, Highway 446, Boyle, Mississippi 38730, or by mail from the above addresses.

2. We restrict all public use to the period beginning 2 hours before legal sunrise and ending 2 hours after legal sunset except during the raccoon hunt. We prohibit entering or remaining on the refuge before or after hours.

3. We only allow hunting of migratory game birds on Wednesdays, Saturdays, and Sundays from ½ hour before legal sunrise and ending at 12 p.m. (noon). Hunters must remove all decoys, blind material (see § 27.93 of this chapter), and harvested waterfowl from the area no later than 1 p.m. each day. After duck, merganser, and coot season closes, we allow hunting of goose daily, during the period beginning ½ hour before legal sunrise and ending at legal sunset.

4. We prohibit public hunting north of Mississippi Highway 8.

5. Each hunter must obtain a daily User Information Card (pink) available at each refuge information station and follow the printed instructions on the card. You must display the card in plain view on the dashboard of your vehicle so that the personal information is readable. Prior to leaving the refuge, you must complete the reverse side of the card and deposit it at one of the refuge information stations. Include all game harvested, and if you harvest no game, report “0.”

6. We may close certain areas of the refuge for sanctuary or administrative purposes. We will mark such areas with “No Hunting” or “Area Closed” signs.

7. We prohibit all handguns.

8. Waterfowl hunters may leave boats meeting all State registration requirements on refuge water bodies throughout the waterfowl season. You must remove boats (see § 27.93 of this chapter) within 72 hours after the season closes.

9. We restrict motor vehicle use to roads designated as vehicle access roads on the refuge map (see § 27.31 of this chapter). We prohibit blocking access to any road or trail entering the refuge (see § 27.31(h) of this chapter).

10. All hunters or persons on the refuge for any reason during any open refuge hunting season must wear a minimum of 500 square inches (3,250 cm²) of visible, unbroken, fluorescent orange-colored material above the waistline. Waterfowl hunters must comply while walking/boating to and from actual hunting area. Waterfowl hunters may remove the fluorescent orange while actually hunting.

11. We only allow dogs on the refuge when specifically authorized for hunting. We encourage the use of dogs to retrieve dead or wounded waterfowl. Dogs must remain in the immediate control of their handlers at all times (see § 26.21(b) of this chapter).

12. You must remove decoys, blinds, other personal property, and litter (see §§ 27.93 and 27.94 of this chapter) from the hunting area following each morning's hunt. We prohibit cutting or removing trees and other vegetation (see § 27.51 of this chapter). We prohibit the use of flagging, paint, blazes, tacks, or other types of markers.

13. We prohibit ATVs (see § 27.31(f) of this chapter), horses, and mules on the refuge.

B. Upland Game Hunting. We allow hunting of quail, squirrel, rabbit, beaver, nutria, raccoon, coyote, and opossum on designated areas of the refuge in accordance with State regulations subject to the following conditions:

1. Conditions A1, A4, A5, A6, A9, and A13 apply.

2. We restrict all public use to the period beginning 2 hours before legal sunrise and ending 2 hours after legal sunset. We prohibit entering or remaining on the refuge before or after hours. We establish special provisions for raccoon hunting; contact the refuge office for details.

3. We only allow shotguns with approved nontoxic shotgun shot (see § 32.2(k)) and .22 caliber rifles. We prohibit all handguns.

4. All hunters or persons on the refuge for any reason during any open refuge hunting season must wear a minimum of 500 square inches (3,250 cm²) of visible, unbroken, fluorescent orange-colored material above the waistline.

5. We only allow dogs on the refuge after the general Gun Deer Hunt. Dogs must remain in the immediate control of their handlers at all times (see § 26.21(b) of this chapter).

6. We prohibit the cutting or removal of trees and other vegetation (see § 27.51 of this chapter). We prohibit the use of flagging, paint, blazes, tacks, or other types of markers.

C. Big Game Hunting. We allow hunting of white-tailed deer, turkey, and feral hog on designated areas of the refuge in accordance with State regulations subject to the following conditions:

1. Conditions A1, A4, A5, A6, A7, A9, and A13 apply.

2. We restrict all public use to 2 hours before legal sunrise and to 2 hours after legal sunset. We prohibit entering or remaining on the refuge before or after hours.

3. All hunters or persons on the refuge for any reason during any open refuge hunting season must wear a minimum of 500 square inches (3,250 cm²) of visible, unbroken, fluorescent orange-colored material above the waistline. We do not require this for turkey hunting.

4. We prohibit dogs for any big game hunt.

5. We prohibit use or possession of any drug or device for employing such drug for hunting.

6. We prohibit organized drives for deer.

7. We prohibit hunting or shooting across any open, fallow, or planted field from ground level or on or across any public road, public highway, railroad, or their rights-of-way during all general gun and primitive weapon hunts.

8. You may erect portable deer stands 2 weeks prior to the opening of archery season on the refuge, and you must remove them (see § 27.93 of this chapter) by January 31. We prohibit the cutting or removal of trees and other vegetation (see § 27.51 of this chapter). We prohibit the use of flagging, paint, blazes, tacks, or other types of markers.

D. Sport Fishing. We allow fishing on designated areas of the refuge in accordance with State regulations subject to the following conditions:

1. All anglers must possess and carry a valid, signed refuge fishing permit certifying that you understand and will comply with all regulations. You may obtain permits at North Mississippi Refuges Complex Headquarters, 2776 Sunset Drive, Grenada, Mississippi 38901, or at the Dahomey National Wildlife Refuge Office, Box 381, Highway 446, Boyle, Mississippi 38730, or by mail to the above addresses.

2. We close the refuge to fishing from October 1 through February 28.

3. We only allow bank or boat sport fishing south of Mississippi Highway 8.

4. We prohibit possession of any weapon (see § 27.42 of this chapter) while fishing on the refuge.

5. We prohibit possession or use of jugs, seines, nets, hand-grab baskets, slat traps/baskets, or any other similar devices and commercial fishing of any kind.

6. We only allow trotlines, yo-yos, limb lines, crawfish traps, or any other similar devices for recreational use. You must tag or mark them with the angler's full name and full residence address, including zip code written with waterproof ink, legibly inscribed or legibly stamped on the tag; and attend the devices a minimum of once daily. When not attended, you must remove these devices (see § 27.93 of this chapter) from the refuge.

7. We prohibit snagging or attempting to snag fish.

8. We allow crawfishing.

9. We only allow take of frog by Special Use Permit.

Yazoo National Wildlife Refuge

A. Migratory Game Bird Hunting. We allow hunting of dove and snow goose on the refuge in accordance with State regulations subject to the following conditions:

1. If you are a hunter age 16 or older, you must possess and carry a valid, signed refuge Public Use Permit that certifies that you understand and will comply with all regulations.

2. Each day before hunting, all hunters must obtain a daily User Information Card (pink) available at each refuge information station (see refuge brochure map) and follow the printed instructions on the card. You must display this card in plain view on the dashboard of your vehicle while hunting or fishing so that the personal information is readable. Prior to leaving the refuge, you must complete the reverse side of the card and deposit it at one of the refuge information stations.

3. Failure to display the User Information Card may result in the loss of the hunter's refuge annual Public Use Permit.

4. We only allow hunting of snow goose by Special Use Permit. Contact the refuge office for details.

5. Hunt dates are available at the refuge headquarters in July and posted in the refuge brochure.

6. Youth hunters age 15 and under must possess and carry a hunter safety course card or certificate. Each youth hunter must remain within sight and normal voice contact of an adult age 21 or older. We only allow one adult per youth hunter.

7. We prohibit hunting or entry into areas designated as “CLOSED” (see refuge brochure map).

8. We prohibit possession of alcoholic beverages (see § 32.2(j)).

9. We prohibit plastic flagging tape.

10. We prohibit handguns at all times.

11. You may only possess approved nontoxic shot while hunting on the refuge (see § 32.2(k)).

12. You must unload and case guns (see § 27.42(b) of this chapter) transported in/on vehicles, ATVs, and boats under power.

13. We prohibit parking of vehicles in such a manner as to obstruct roads, gates, turnrows, or firelanes (see § 27.31(h) of this chapter).

14. We allow valid permit holders to take the following furbearers in season, incidental to other refuge hunts with legal firearms used for that hunt: raccoon, opossum, coyote, beaver, bobcat, and nutria.

B. Upland Game Hunting. We allow hunting of squirrel, rabbit, and raccoon on designated areas of the refuge in accordance with State regulations subject to the following conditions:

1. Conditions A1, A2, A3, A5 through10, and A12 through A14 apply.

2. We only allow shotguns with approved nontoxic shot (see § 32.2(k)) and .22 caliber rimfire rifles (we prohibit .22 caliber magnums).

3. During the rabbit-with-dog hunt, any person hunting or accompanying another person hunting must wear at least 500 square inches (3,250 cm²) of unbroken flourescent-orange material visible above the waistline as an outer garment.

4. We prohibit horses.

5. We allow hunting for rabbit on the Herron Tract, Brown Tract (east of the Sunflower River), Middleton-Miller-Zepponi Tracts, and Carter Tract. Contact refuge headquarters for hunt dates, maps, and additional information.

C. Big Game Hunting. We allow hunting of white-tailed deer on designated areas of the refuge in accordance with State regulations subject to the following conditions:

1. Conditions A2, A3, A5, B4, and B5 (we allow archery except on the Carter Tract) apply.

2. If you are a hunter age 16 or older, you must possess and carry a valid refuge annual Public Use Permit or Limited Hunt Permit that certifies that you understand and will comply with all regulations. Permits are not transferable and are nonrefundable.

3. The youth regular gun deer, muzzleloader deer, and senior citizen Gun Deer Hunts require a Limited Hunt Permit assigned by random computer drawing. If we draw your name, there is a fee for each permit. Contact the refuge headquarters for specific requirements, hunt, and application dates.

4. During all gun or muzzleloader deer hunts, all participants must wear at least 500 square inches (3,250 cm²) of unbroken flourescent-orange material visible above the waistline as an outer garment while hunting and enroute to and from hunting areas.

5. We prohibit all other public use during all gun and muzzleloader deer hunts.

6. We prohibit organized drives for deer.

7. We prohibit hunting from or shooting across open fields from ground level.

8. During all Limited Permit Hunts, each hunter shall possess and carry only their own current permit and/or tags.

9. We only allow crossbows in accordance with State law.

10. We define a loaded gun as shells in the gun or percussion caps on muzzleloaders.

11. You must unload guns (see § 27.42(b) of this chapter) while standing beside, in, or walking across any portion of a field, tree plantation, road, pipeline, or powerline right-of-way.

12. We prohibit hunting from tripods and other free-standing platforms during muzzleloader, rifle, and youth Gun Deer Hunts in fields and tree plantations.

13. Stands adjacent to fields and tree plantations must be a minimum of 10 feet (3m) above ground. We prohibit attaching stands to any power or utility pole. You may place stands on the refuge 7 days prior to and must remove them (see § 27.93 of this chapter) by day 7 after the close of the refuge deer season. You must remove stands in the January/February closed area by day 7 after the last deer hunt.

14. You must field dress and check all deer at refuge headquarters.

D. Sport Fishing. [Reserved]

26. Amend § 32.44 Missouri by:

a. Revising “Big Muddy National Wildlife Refuge;”

b. Revising paragraphs C. and D. of “Clarence Cannon National Wildlife Refuge;” and

c. Revising “Mingo National Wildlife Refuge” to read as follows:

§ 32.44 Missouri.

* * * * *

Big Muddy National Fish and Wildlife Refuge

A. Migratory Game Bird Hunting. We allow hunting of migratory game birds on designated areas of the refuge subject to posted regulations in accordance with State regulations subject to the following conditions:

1. You must remove all your blinds, boats, and decoys (see § 27.93 of this chapter) from the refuge following each day's hunt except for blinds made entirely of marsh vegetation.

2. We prohibit cutting of woody vegetation (see § 27.51 of this chapter) on the refuge for blinds.

B. Upland Game Hunting. We allow upland game hunting on designated areas of the refuge in accordance with State regulations subject to the following condition: You may only possess approved nontoxic shot (see § 32.2(k)) while hunting for upland game, except turkeys. You may use lead shot while hunting for turkey.

C. Big Game Hunting. We allow big game hunting on designated areas of the refuge accordance with State regulations subject to posted regulations and the following conditions:

1. We prohibit use of tree spikes to assist in climbing trees for the purpose of hunting on the refuge (see § 32.2(i)).

2. We prohibit the construction or use of permanent blinds, platforms, or ladders at any time.

3. We prohibit hunting over or placing on the refuge any salt or other mineral blocks (see § 32.2(h)).

4. We only allow portable tree stands from September 15 through January 31. You must place your full name and address on your stands.

5. We only allow archery hunting in the portion of Boone's Crossing unit within the City of Chesterfield.

D. Sport Fishing. We allow fishing on designated areas of the refuge in accordance with State regulations subject to the following condition: You must operate all motorized boats at no-wake speed.

Clarence Cannon National Wildlife Refuge

* * * * *

C. Big Game Hunting. We allow hunting of white-tailed deer on designated areas of the refuge in accordance with State regulations subject to the following conditions:

1. We only allow hunting during the State-designated Managed Deer Hunt.

2. We require hunters to check-in and out of the refuge each day.

3. We prohibit shooting at deer that are on any portion of the main perimeter levee.

4. We only allow the use of portable stands, and hunters must remove them (see § 27.93 of this chapter) at the end of each day's hunt.

5. We close the area south of Bryants Creek to deer hunting.

6. We require hunters to have all harvested deer checked by refuge personnel before removing them from the refuge.

7. You must park all vehicles in designated parking areas (see § 27.31 of this chapter).

D. Sport Fishing. We allow fishing in accordance with State regulations subject to the following conditions:

1. We prohibit the taking of turtle or frog (see § 27.21 of this chapter).

2. We only allow fishing from a boat. We prohibit bank fishing.

* * * * *

Mingo National Wildlife Refuge

A. Migratory Game Bird Hunting. We allow waterfowl hunting on Pool 8 in accordance with State regulations subject to the following conditions:

1. We allow the use of hunting dogs, but the hunter must leash the dog or have it under strict voice command at all times (see § 26.21(b) of this chapter).

2. We allow hunting from ½ hour before legal sunrise until 1 p.m.

B. Upland Game Hunting. We allow hunting of squirrel only in the Public Hunting Area of the refuge in accordance with State regulations subject to the following conditions:

1. The refuge is open from 1½ hours before legal sunrise until 1½ hours after legal sunset.

2. We require that all hunters register at the Hunter Sign-In/Sign Out Stations and record the number of hours hunted and squirrels harvested.

3. We prohibit hunting of all other species.

4. We prohibit the use of dogs for squirrel hunting.

5. We allow squirrel hunting from the State opening day through September 30.

6. We only allow shotguns and .22 caliber rimfire rifles.

7. Shotgun hunters may only possess approved nontoxic shot while in the field (see § 32.2(k)).

C. Big Game Hunting. We allow big game hunting in the Public Hunting Area in accordance with State regulations subject to the following conditions:

1. Condition B1 applies.

2. We require that all hunters register at the Hunter Sign-In/Sign Out Stations and record the number of hours hunted and deer harvested.

3. We allow archery hunting for deer and turkey during the fall season. We prohibit the use or possession of firearms during these seasons.

4. You must possess and carry a refuge permit for the special muzzleloader deer season.

5. We allow spring turkey hunting. We only allow shotguns with approved nontoxic shot (see § 32.2(k)).

D. Sport Fishing. We allow fishing in designated areas of the refuge in accordance with State “impounded waters” regulations subject to the following conditions:

1. We prohibit fishing in all areas between Ditch 2 and Ditch 6 (including Ditches 3, 4, and 5) plus the moist soil units, and Monopoly Marsh from October 1 through March 1.

2. We only allow fishing in May Pond and Fox Pond with rod and reel or pole and line. Anglers may only take bass greater than 12 inches (30 cm) in length from May Pond.

3. We prohibit the use or possession of gasoline-powered boat motors. We allow the use of electric trolling motors, except that we prohibit all motors within the Wilderness Area.

4. Anglers must remove watercraft (see § 27.93 of this chapter) from the refuge at the end of each day's fishing.

5. Anglers may take nongame fish by nets and seines for personal use only from March 1 through September 30.

6. Anglers must attend trammel and gill nets at all times and plainly label them with the owners's name, address, and phone number.

7. We only allow the use of trotlines, throwlines, limb lines, bank lines, and jug lines from 1 hour before legal sunrise until 1 hour after legal sunset. Anglers must remove all fishing lines (see § 27.93 of this chapter) from the refuge at the end of each day's fishing. Anglers must mark each line with their name, address, and phone number.

8. We only allow personal use take of common snapping turtle and soft-shelled turtle using pole and line from 1 hour before legal sunrise until 1 hour after legal sunset. We require that all anglers release all alligator snapping turtle (see § 27.21 of this chapter).

* * * * *

27. Amend § 32.45 Montana by:

a. Revising paragraphs A. and B. of “Benton Lake National Wildlife Refuge;”

b. Revising “Lee Metcalf National Wildlife Refuge;” and

c. Revising “Red Rock Lakes National Wildlife Refuge” to read as follows:

§ 32.45 Montana.

* * * * *

Benton Lake National Wildlife Refuge

A. Migratory Game Bird Hunting. We allow hunting of duck, goose, swan, and coot in designated areas of the refuge in accordance with State regulations subject to the following conditions (consult refuge manager prior to hunting to learn of changes or updates):

1. We prohibit access to refuge hunting areas from other than authorized refuge parking areas. We prohibit hunting on or within 25 yards (22.5 m) of dikes or roads except the marked portion of the dike between Marsh Units 5 and 6. Hunters must have a means of bird retrieval, using a boat, boots, or a trained dog, while hunting on this dike (see § 26.21(b) of this chapter).

2. We allow hunting with the opening of waterfowl season and close November 30.

3. Hunters with a documented mobility disability may reserve an accessible blind in advance by contacting a refuge officer or calling the refuge office.

4. We only allow nonmotorized boats on refuge waters.

5. We allow hunting from temporary portable blinds or blinds made from natural vegetation.

6. We prohibit the retrieval of downed game from areas closed to hunting.

7. You must unload and case all firearms (see § 27.42(b) of this chapter) when outside of the refuge hunt area.

B. Upland Game Hunting. We allow hunting of pheasant, sharp-tailed grouse, and gray partridge in designated areas of the refuge in accordance with State regulations subject to the following conditions (consult refuge manager prior to hunting to learn of changes or updates):

1. Conditions A2, A6, and A7 apply.

2. We prohibit access to refuge hunting areas from other than authorized refuge parking areas.

3. We prohibit hunting on or within 25 yards (22.5 m) of dikes or roads except the marked portion of the dike between Marsh Units 5 and 6.

* * * * *

Lee Metcalf National Wildlife Refuge

A. Migratory Game Bird Hunting. We allow hunting of duck, goose, and coot from established blinds in designated areas of the refuge in accordance with State regulations subject to the following conditions (consult refuge manager prior to hunting to learn of changes or updates):

1. Hunting Access: We have numbered the blinds and assigned them to a single access point designated in the refuge hunting leaflet. Hunters must park at this access point and at the numbered parking space corresponding to a blind. Hunters must walk to the blind along mowed trails designated in the hunting leaflet. We open the access point to hunters who intend to immediately hunt on the refuge. We prohibit wildlife observation, scouting, and loitering at the access point.

2. Hunting Hours: We open the hunting area, defined by the refuge boundary fence, 2 hours before and require departure 2 hours after legal waterfowl hunting hours, as defined by the State.

3. Registration: Each hunter must record the date, his or her name, Automated License System number, date of birth, and the time checking into the hunt area at the appropriate register before hunting; must set the appropriate blind selector before and after hunting; and must record hunting data (hours hunted, the number of shots fired, and birds harvested) at the appropriate register before departing the hunting area.

4. Blind selection is on a first-come, first-served basis with the exception of the opening weekend of waterfowl season. We will distribute blind permits for the opening weekend by a public drawing. We will announce the drawing time and place in local newspapers.

5. We prohibit attempting to “reserve” a blind for use later in the day by depositing a vehicle or other equipment on the refuge. A hunter must be physically present in the hunting area in order to use a blind.

6. We prohibit blocking access to refuge gates (see § 27.31(h) of this chapter).

7. Hunters with a documented mobility disability may reserve an accessible blind in advance by contacting a refuge officer.

8. No more than four hunters or individuals may use a blind at one time.

9. You may only possess approved nontoxic shotshells (see § 32.2(k)) in quantities of 25 or less.

10. You must conduct all hunting from within 10 feet (3 m) of a blind.

11. All hunters must have a visible means of retrieving waterfowl such as a float tube, waders, or a dog capable of retrieving.

12. We prohibit falconry hunting.

13. We prohibit boats, fishing gear, and fires (see § 27.95 of this chapter).

14. We require dogs be on a leash at the hunter access point and when walking to and from the hunt area/blind (see § 26.21(b) of this chapter).

15. We require hunters to unload shotguns (see § 27.42(b) of this chapter) at the hunter access point and when walking to and from the hunt area/blind.

B. Upland Game Hunting. [Reserved]

C. Big Game Hunting. We allow archery hunting of white-tailed deer on designated areas of the refuge in accordance with State regulations subject to the following conditions (consult refuge manager prior to hunting to learn of changes or updates):

1. Hunting Access: Hunters must enter and exit the hunt areas through designated archery hunting access points. We open access points to hunters intending to immediately hunt on the refuge. We prohibit wildlife observation, scouting, and loitering at access points and parking areas.

2. Condition A2 applies.

3. Registration: Each hunter must record the date, his or her name, Automated License System number, and date of birth at the appropriate register before hunting and must record hunting data (hours hunted, the number of arrows released, and deer harvested) at the appropriate register before departing the hunting area.

4. Tree Stands and Blinds: We only allow portable tree stands and blinds. We prohibit leaving tree stands or ground blinds on the refuge overnight (see § 27.93 of this chapter).

5. We prohibit preseason entry or scouting.

6. Hunters may not enter or retrieve deer from closed areas of the refuge without the consent of a refuge officer.

7. We prohibit boats, fishing gear, fires (see § 27.95 of this chapter), and firearms.

8. Hunters with a documented mobility disability may access designated locations in the hunting area to hunt from ground blinds. To access these areas, hunters must contact the refuge manager in advance to obtain a Special Use Permit.

9. We prohibit the use of any mechanized vehicle to enter or exit the hunt area; this includes bicycles.

D. Sport Fishing. We allow fishing on designated areas (Wildlife Viewing Area) of the refuge in accordance with State regulations in effect on the Bitterroot River from Tucker Crossing to Florence Bridge.

* * * * *

Red Rock Lakes National Wildlife Refuge

A. Migratory Game Bird Hunting. We allow hunting of goose, duck, and coot on designated areas of the refuge in accordance with State hunting regulations subject to the following conditions:

1. We only allow hunting on Lower Red Rock Lake and that portion of the River Marsh located directly north of Lower Red Rock Lake. We close all other areas of the refuge to hunting of goose, duck, and coot.

2. Hunters must remove all blinds, decoys, shell casings, and other personal equipment (see §§ 27.93 and 27.94 of this chapter) from the refuge following each day's hunt.

3. We only allow nonmotorized boats in the hunt area east of the Lower Red Rock Lake dam. We allow boats with motors 10 hp or less west of Lower Red Rock Lake dam.

B. Upland Game Hunting. [Reserved]

C. Big Game Hunting. We allow hunting of deer, elk, moose, and pronghorn antelope on designated areas of the refuge in accordance with State hunting regulations subject to the following conditions:

1. Moose hunting on the refuge portion of Montana moose hunt zone 334 opens October 15 and runs through the end of the State moose season.

2. We restrict moose hunting to the willow bog area south of Elk Springs Creek and nearby foothills at the southeast corner of the refuge. We prohibit moose hunting in all other areas of the refuge.

3. You may hire outfitters or ranchers for the retrieval of big game.

4. We only allow retrieval of game in closed areas of the refuge with the consent of a refuge employee.

5. We prohibit use of wheeled game carts or other mechanical transportation devices for game retrieval on portions of the refuge designated as Wilderness Area.

6. We prohibit horses north of Red Rock Pass Road except for the retrieval of big game. We only allow horses for back-country access to the Centennial Mountains south of Red Rock Pass Road. We require the use of certified weed-free hay or pellets.

D. Sport Fishing. We allow fishing on designated areas of the refuge in accordance with State fishing regulations subject to the following conditions:

1. We allow fishing from the third Saturday in May through November 30 on Odell Creek, Red Rock Creek, and Elk Springs Creek west of Elk Lake Road.

2. We allow fishing from July 15 through September 30 on Widgeon Pond, Culver Pond, MacDonald Pond, Picnic Creek, and Elk Springs Creek east of Elk Lake Road.

3. We prohibit fishing on all other refuge waters.

4. We allow fishing in open areas from ½ hour before legal sunrise to ½ hour after legal sunset.

5. You must only use pole and line or rod and reel to fish on the refuge.

6. You must use artificial lures or flies when fishing refuge waters; we prohibit bait fishing.

7. We prohibit the use or possession of lead sinkers or any lead fishing product while fishing.

8. We prohibit tubes and other flotation devices used for fishing unless posted at refuge parking areas as open.

* * * * *

28. Amend § 32.46 Nebraska by:

a. Revising paragraphs C. and D. of “Boyer Chute National Wildlife Refuge;”

b. Revising “Crescent Lake National Wildlife Refuge;” and

c. Revising “Fort Niobrara National Wildlife Refuge” to read as follows:

§ 32.46 Nebraska.

* * * * *

Boyer Chute National Wildlife Refuge

* * * * *

C. Big Game Hunting. We allow hunting of white-tailed deer in accordance with State regulations subject to the following condition: We require a refuge hunt permit.

D. Sport Fishing. We allow fishing on designated areas of the refuge in accordance with State regulations subject to the following conditions:

1. We allow personally attended hook and line fishing and archery fishing (rough fish only) from ½ hour before legal sunrise to ½ hour after legal sunset.

2. We only allow fishing from the shoreline. We prohibit all watercraft in the Boyer Chute waterway.

3. We prohibit floating lines, limblines, trotlines, crossbows, snagging devices, nets, and spears.

4. We prohibit ice fishing.

5. We prohibit digging or netting bait, frogging, or collecting mussels.

Crescent Lake National Wildlife Refuge

A. Migratory Game Bird Hunting. We allow hunting of waterfowl and coot in designated areas of the refuge in accordance with State regulations subject to the following conditions:

1. We close the refuge to the general public from legal sunrise to legal sunset. However, hunters may enter the designated hunting area 2 hours before legal sunrise and must be back to their vehicle in the process of leaving the refuge 2 hours after legal sunset. Official shooting hours are ½ hour before legal sunrise and ½ hour after legal sunset for deer, coyote, and furbearer hunters; and ½ hour before legal sunrise until legal sunset for all other hunters.

2. We only allow you to unleash dogs used to locate, point, and retrieve upland and small game and migratory birds on the refuge while hunting (see § 26.21(b) of this chapter).

3. We open the refuge to hunting from September 1 through January 31 in accordance with State regulations.

4. We allow decoys, but hunters must remove them (see § 27.93 of this chapter) at the end of each day.

5. We restrict vehicles to roads that are open to the public (see § 27.31 of this chapter). We prohibit hunters taking vehicles off of approved roads to set up blinds, decoys, or to retrieve game or for any other purposes other than emergencies. We allow parking within one vehicle length of the road.

6. We prohibit publicly organized hunts unless authorized under a Special Use Permit.

7. We only allow temporary blinds and stands, and hunters must remove them (see § 27.93 of this chapter) at the end of each day.

8. We only allow floating blinds on Island Lake. We prohibit all boats (including a floating device of any kind) on all other refuge lakes.

B. Upland Game Hunting. We allow hunting of cottontail rabbit, jack rabbit, furbearer, coyote, ring-necked pheasant, and sharp-tailed grouse on designated areas of the refuge in accordance with State regulations subject to the following conditions:

1. Conditions A1 through A6 apply.

2. We prohibit baiting. We allow electronic calls for coyote and furbearer hunting.

3. Coyotes and all furbearers or their parts, if left in the field, must be left out of view of the public. Otherwise hunters must remove them from the refuge and properly dispose of them.

C. Big Game Hunting. We allow hunting of white-tailed deer and mule deer on designated areas of the refuge in accordance with State regulations subject to the following conditions:

1. Conditions A1, A4, A5, A6, and A7 apply.

2. We prohibit tree stands that cause damage to the tree by penetrating into the bark and tree climbing spikes or screw-in steps that penetrate beyond the outer bark of a tree (see § 32.2(i)).

D. Sport Fishing. We allow fishing on designated areas of the refuge in accordance with State regulations subject to the following conditions:

1. We close the refuge to the general public from legal sunset to legal sunrise. However, anglers may enter the refuge 1 hour before legal sunrise and remain until 1 hour after legal sunset.

2. We open Island Lake to fishing year-round and open Smith and Crane Lakes to fishing seasonally from November 1 through February 15. We close all other refuge lakes.

3. We prohibit the possession or use of live or dead minnows and the possession of any fish not taken lawfully from one of the refuge lakes open to fishing.

4. We only allow boating and float tubes on Island Lake. We prohibit use of internal combustion motors for boats on Island Lake; we close all other refuge lakes to boating or float tubing.

5. We prohibit leaving temporary shelters used for fishing overnight on the refuge.

* * * * *

Fort Niobrara National Wildlife Refuge

A. Migratory Game Bird Hunting. [Reserved]

B. Upland Game Hunting. [Reserved]

C. Big Game Hunting. [Reserved]

D. Sport Fishing. We allow fishing on designated areas of the refuge in accordance with State regulations subject to the following conditions:

1. We only allow fishing on the portions of the Minnechaduza Creek and downstream from Cornell Dam along the Niobrara River that flows through the refuge.

2. We prohibit the use of limb or set lines.

* * * * *

29. Amend § 32.47 Nevada by:

a. Revising the introductory text of paragraph A., revising paragraph A.2., adding paragraphs A.3., and A.4., by revising the introductory text of paragraph B., and by revising paragraphs B.1. and B.2. of “Ash Meadows National Wildlife Refuge;”

b. Revising the introductory text of paragraph A., revising paragraph A.2., adding paragraph A.3., revising the introductory text of paragraph B., adding paragraphs B.1., and B.2., and revising paragraph D. of “Pahranagat National Wildlife Refuge;”

c. Revising “Sheldon National Wildlife Refuge;” and

d. Revising “Stillwater National Wildlife Refuge” to read as follows:

§ 32.47 Nevada.

* * * * *

Ash Meadows National Wildlife Refuge

A. Migratory Game Bird Hunting. We allow hunting of goose, duck, coot, moorhen, snipe, and dove on designated areas of the refuge in accordance with State regulations subject to the following conditions:

* * * * *

2. We only allow motorless boats or boats with electric motors on the refuge hunting area during the migratory waterfowl hunting season.

3. We open the refuge to the public from 1 hour before legal sunrise until 1 hour after legal sunset.

4. You may only possess approved nontoxic shot while in the field (see § 32.2(k)).

B. Upland Game Hunting. We allow hunting of quail and rabbit on designated areas of the refuge in accordance with State regulations subject to the following conditions:

1. Conditions A3 and A4 apply.

2. We only allow hunting on designated days.

* * * * *

Pahranagat National Wildlife Refuge

A. Migratory Game Bird Hunting. We allow hunting of goose, duck, coot, moorhen, snipe, and dove on designated areas of the refuge in accordance with State regulations subject to the following conditions:

* * * * *

2. We only allow motorless boats or boats with electric motors on the refuge hunting area during the migratory waterfowl hunting season.

3. You may only possess approved nontoxic shot while in the field (see § 32.2(k)).

B. Upland Game Hunting. We allow hunting of quail and rabbit on designated areas of the refuge in accordance with State regulations subject to the following conditions:

1. We only allow hunting on designated days.

2. Conditions A3 applies.

* * * * *

D. Sport Fishing. We allow fishing on designated areas of the refuge in accordance with State regulations subject to the following conditions:

1. We allow fishing year-round with the exception of the North Marsh that we close October 1 to February 1.

2. We only allow motorless boats or boats with electric motors on the Upper Lake, Middle Pond, and Lower Lake.

3. We prohibit the use of boats, rubber rafts, or other flotation devices on the North Marsh.

* * * * *

Sheldon National Wildlife Refuge

A. Migratory Game Bird Hunting. We allow hunting of goose, duck, and coot on the refuge in accordance with State regulations subject to the following conditions:

1. We prohibit hunting on the following waters: Big Spring Reservoir, Catnip Reservoir, Dunfurrena Ponds, and the “Little Sheldon” portion of the refuge.

2. Hunters may only use boats with electric motors.

3. We only allow portable blinds and temporary blinds constructed of synthetic material.

B. Upland Game Hunting. We allow hunting of quail, grouse, and chukar on the refuge except in the following areas: the “Little Sheldon” portion of the refuge and around the Dunfurrena Ponds in accordance with State regulations subject to the following condition: We allow sage grouse hunting and require a State permit.

C. Big Game Hunting. We allow hunting of deer, antelope, and bighorn sheep on the refuge except in the following areas: the “Little Sheldon” portion of the refuge and around Dunfurrena Ponds in accordance with State regulations subject to the following conditions:

1. We allow ground blinds, and you must not construct them earlier than 1 week prior to the opening day of the legal season for which you have a valid permit.

2. You must remove blinds (see § 27.93 of this chapter) within 24 hours of harvesting an animal or at the end of the permittee's legal season.

3. You must tag blinds with the owner's name and permit number.

4. We prohibit destruction of native vegetation (see § 27.51 of this chapter) or below-ground excavation.

D. Sport Fishing. We allow fishing in Big Spring Reservoir, Catnip Reservoir, and in the Dunfurrena Ponds in accordance with State regulations subject to the following conditions:

1. We only allow boats with electric motors.

2. We only allow individuals who are age 12 or under, age 65 or older, or disabled to fish in McGee Pond.

Stillwater National Wildlife Refuge

A. Migratory Game Bird Hunting. We allow hunting of migratory game birds on designated areas of the refuge in accordance with State regulations subject to the following conditions.

1. We prohibit hunting inside the posted no hunting zone around the residence of the former Alves property.

2. We prohibit hunting inside the posted no hunting zone located south of Division Road as shown in the refuge brochure.

3. We prohibit loaded weapons (see § 27.42(b) of this chapter) inside the posted retrieval zone. The zone begins on the north edge of Division Road and extends 200 yards (180 m) northward.

4. We allow persons to transport rifles and pistols through the refuge only when unloaded and cased (see § 27.42(b) of this chapter).

5. We prohibit boating outside of the waterfowl and youth waterfowl hunting season except on Swan Check Lake where we allow nonmotorized boating all year.

6. We prohibit boats on Swan Lake, the northeast corner of North Nutgrass Lake, and the north end of Pintail Bay. We allow the use of nonmotorized carts, sleds, floating blinds, and other floating devices in these areas to transport hunting equipment and to conceal hunters, but not to transport hunters.

7. We only allow outboard motor boats on Lead Lake, Tule Lake, Goose Lake, South Nutgrass Lake, the southeast corner of North Nutgrass Lake, and south end of Pintail Bay.

8. We only allow air-thrust boats on Goose Lake, South Nutgrass Lake, the southeast corner of North Nutgrass Lake, and the south end of Pintail Bay.

9. We prohibit air-thrust boats from operating until 1 hour after the legal shooting time on opening day of waterfowl season.

10. We require air-thrust boat owners to get a Special Use Permit from the refuge manager and to display a number on their airboats.

11. We allow nonmotorized boats on all lakes and bays except Swan Lake, the northeast corner of North Nutgrass Lake, and the north end of Pintail Bay.

12. We prohibit all-terrain vehicles on the refuge (see § 27.31(f) of this chapter).

13. We only allow parking on boat landings and designated parking areas.

14. We only allow camping in designated areas.

15. We prohibit campfires (see § 27.95 of this chapter).

B. Upland Game Hunting. We allow hunting of upland game species on designated areas of the refuge in accordance with State regulations subject to the following conditions:

1. Conditions A1, A2, A4, A12, A13, A14, and A15 apply.

2. Hunters must only use shotguns and approved nontoxic shot (see § 32.2(k)).

C. Big Game Hunting. We allow hunting of mule deer on designated areas of the refuge in accordance with State regulations subject to the following conditions:

1. Conditions A1, A2, A12, A13, A14, and A15 apply.

2. Hunters must only use shotguns, muzzleloading weapons, or bow and arrow.

3. We allow persons to transport centerfire rifles and pistols through the refuge only when unloaded and cased (see § 27.42(b) of this chapter).

D. Sport Fishing. [Reserved]

* * * * *

30. Amend § 32.48 New Hampshire by:

a. Revising “Great Bay National Wildlife Refuge;” and

b. Revising “Lake Umbagog National Wildlife Refuge” to read as follows:

§ 32.48 New Hampshire.

* * * * *

Great Bay National Wildlife Refuge

A. Migratory Game Bird Hunting. We allow hunting of waterfowl in accordance with State regulations subject to the following conditions:

1. We do not require a separate Federal permit for waterfowl hunting.

2. We only allow hunting from the immediate shoreline of Great Bay.

3. We only allow portable blinds. You must remove all decoys, blinds, and boats (see § 27.93 of this chapter) after each day's hunt.

4. Waterfowl hunters may only access shorelines by boat from launching areas outside the refuge and must not retrieve birds beyond refuge signs from shoreline.

B. Upland Game Hunting. [Reserved]

C. Big Game Hunting. We allow hunting of white-tailed deer on designated areas of the refuge in accordance with State regulations subject to the following conditions:

1. The deer hunt will be the first weekend of the State's either-sex season for Wildlife Management Unit M, usually held in November.

2. We close the refuge to all other public use during the hunt weekend.

3. We require refuge permits (you must possess and carry) for the deer hunt for a fee of $20.00. By lottery we draw 20 hunters for each day, for a total of 40. We also draw 20 alternate hunters.

4. A licensed and permit-holding adult who is at least age 18 must accompany youth hunters up to age 16 when hunting. We charge no refuge permit fee to youth hunters.

5. Youth hunters must have successfully completed a State hunter education course.

6. We require deer hunters to wear in a conspicuous manner on the head, chest, and back, a minimum of 400 square inches (2,600 cm²) of solid-colored, blaze-orange clothing or material.

7. We only allow shotgun hunting with slugs. We prohibit other firearms, including handguns, at any time while on the refuge.

8. You must unload shotguns (see § 27.42(b) of this chapter) outside of legal State hunting hours and while traveling through any designated safety zone.

9. We only allow portable tree stands that hunters must remove (see § 27.93 of this chapter) at the end of the day.

10. Two weeks prior to the hunt, we will allow selected hunters a refuge permit (you must possess and carry) to scout for 4 days. Scout days are Wednesdays through Saturdays during daylight hours only.

11. You must possess and carry the refuge permit with you at all times while scouting and hunting the refuge.

12. You must check-in at the refuge electronic gate between 4:30 a.m. and 5:30 a.m. on your assigned hunt day.

13. We open the entire refuge to deer hunting, with the exception of designated safety zones and the former Weapons Storage Area.

14. In order to protect bald eagles from disturbance, we may, on a daily basis, close Woodman Point to deer hunting if significant numbers of roosting bald eagles are using the area.

15. You must park in designated parking areas and along roads up to barricades; from there, hunters must only travel by foot.

16. You must take killed deer to the refuge office before leaving.

17. The refuge is located in Newington, New Hampshire, along the eastern shoreline of Great Bay. McIntyre Road borders the refuge to the east. The southern boundary begins approximately ¼ mile (.4 km) north of the intersection of Fabyan Point Road and McIntyre Road and continues west to the shoreline of Great Bay. The northern boundary begins approximately 150 feet (45 m) south of the intersection of McIntyre Road and Little Bay Road and continues west to the shoreline of Great Bay. The western boundary is the shoreline of Great Bay.

D. Sport Fishing. [Reserved]

Lake Umbagog National Wildlife Refuge

A. Migratory Game Bird Hunting. We allow hunting of duck, goose, American crow, and woodcock in accordance with State regulations, seasons, and bag limits subject to the following conditions:

1. You must wear two articles of hunter-orange clothing or material. One article must be a solid-colored hunter-orange hat; the other must cover a major portion of the torso, such as a jacket, vest, coat, or poncho and must be a minimum of 50 percent hunter orange in color (such as orange camouflage) except when hunting waterfowl.

2. We will provide permanent refuge blinds that are available by reservation. You may make reservations for particular blinds up to 1 year in advance, for a maximum of 1 week, running Monday through Sunday during the hunting season. You may make reservations for additional weeks up to 1 week in advance, on a space-available basis. We prohibit other permanent blinds. You must remove temporary blinds, boats, and decoys (see § 27.93 of this chapter) from the refuge following each day's hunt.

3. You may use trained dogs (see § 26.21(b) of this chapter) to assist in the retrieval of harvested birds.

4. We open the refuge to hunting during the hours stipulated under each State's hunting regulations but no longer than from ½ hour before legal sunrise to ½ hour after legal sunset. We close the refuge to night hunting. Hunters must unload all firearms (see § 27.42 of this chapter) outside of legal hunting hours.

5. We prohibit the use of all-terrain vehicles (ATVs or OHRVs) on refuge land (see § 27.31(f) of this chapter).

B. Upland Game Hunting. We allow hunting of coyote, fox, raccoon, woodchuck, red and eastern gray squirrel, porcupine, skunk, snowshoe hare, ring-necked pheasant, ruffed grouse, and northern bobwhite in accordance with State regulations, seasons, and bag limits subject to the following conditions:

1. We prohibit night hunting.

2. You may only possess approved nontoxic shot while in the field (see § 32.2(k)).

3. We open the refuge to hunting during the hours stipulated under State hunting regulations but no longer than from ½ hour before legal sunrise to ½ hour after legal sunset. We close the refuge to night hunting. Hunters must unload all firearms (see § 27.42 of this chapter), and nock no arrows outside of legal hunting hours.

4. We prohibit the use of all-terrain vehicles (ATVs or OHRVs) on refuge land (see § 27.31(f) of this chapter).

5. You must wear two articles of hunter-orange clothing or material. One article must be a solid-colored hunter-orange hat; the other must cover a major portion of the torso, such as a jacket, vest, coat, or poncho and must be a minimum of 50 percent hunter orange in color (such as orange camouflage) except when hunting turkey.

6. We allow hunting of coyotes and snowshoe hare with dogs during State hunting seasons. Hunting with trailing dogs on the refuge will be subject to the following regulations:

i. You must equip all dogs used to hunt coyote with working radio-telemetry collars, and you must be in possession of a working radio-telemetry receiver that can detect and track the frequencies of all collars used. We require no radio-telemetry collars for dogs used to hunt snowshoe hare.

ii. We prohibit training during or outside of dog season for coyote or hare.

iii. We allow a maximum of four dogs per hunter.

iv. You must pick up all dogs the same day you release them (see § 26.21(b) of this chapter).

C. Big Game Hunting. We allow hunting of bear, white-tailed deer, and moose in accordance with State regulations, seasons, and bag limits subject to the following conditions:

1. Conditions B3 and B4 apply.

2. We allow bear hunting with dogs during State hunting seasons. Hunting with trailing dogs on the refuge will be subject to the following conditions:

i. You must equip all dogs used to hunt bear with working radio-telemetry collars, and you must be in possession of a working radio-telemetry receiver that can detect and track the frequencies of all collars used.

ii. We prohibit training during or outside of dog season for bear.

iii. We allow a maximum of four dogs per hunter.

iv. You must pick up all dogs the same day you release them (see § 26.21(b) of this chapter).

3. We allow prehunt scouting of the refuge; however, we prohibit dogs and firearms during prehunt scouting.

4. Each hunter must wear two articles of hunter-orange clothing or material. One article must be a solid-colored hunter orange hat; the other must cover a major portion of the torso, such as a jacket, vest, coat, or poncho and must be a minimum of 50 percent hunter orange in color (such as orange camouflage).

5. We allow temporary tree stands and blinds, but you must remove them (see § 27.93 of this chapter) by the end of the season. We prohibit nails, screws, or screw-in climbing pegs to build or access a stand or blind (See § 32.2(i)).

D. Sport Fishing. [Reserved]

31. Amend § 32.49 New Jersey by:

a. Revising “Cape May National Wildlife Refuge;”

b. Revising “Edwin B. Forsythe National Wildlife Refuge;”

c. Revising “Great Swamp National Wildlife Refuge;” and

d. Revising “Wallkill River National Wildlife Refuge” to read as follows:

§ 32.49 New Jersey.

* * * * *

Cape May National Wildlife Refuge

A. Migratory Game Bird Hunting. We allow hunting of waterfowl, coot, moorhen, rail, common snipe, and woodcock in accordance with State regulations subject to the following conditions:

1. We only allow hunting on those refuge tracts located west of Route 47 in the Delaware Bay Division and on those tracts north of Route 550 in the Great Cedar Swamp Division. We prohibit hunting on the Two Mile Beach Unit.

2. While hunting migratory game birds, except waterfowl, you must wear in a conspicuous manner on your head, chest, and back a minimum of 400 square inches (2,600 cm²) of solid-colored, hunter-orange clothing or material.

3. You must remove all hunting blind materials, boats, and decoys (see § 27.93 of this chapter) at the end of each hunting day. We prohibit permanent or pit blinds.

4. The common snipe season on the refuge begins with the start of the State early woodcock south zone season and continues through the end of the State common snipe season.

5. You may only possess approved nontoxic shot while in the field (see § 32.2(k)).

B. Upland Game Hunting. [Reserved]

C. Big Game Hunting. We allow hunting of white-tailed deer in accordance with State regulations subject to the following conditions:

1. We prohibit hunting on the following areas:

i. The posted “Closed Area” of Tract 200 in the Delaware Bay Division;

ii. The posted “Closed Area” in Tract 334 in the Delaware Bay Division; and

iii. The Two Mile Beach Unit.

2. During the firearms big game seasons, you must wear, in a conspicuous manner on head, chest, and back, a minimum of 400 square inches (2,600 cm²) of solid-colored, hunter-orange clothing or material.

D. Sport Fishing. [Reserved]

Edwin B. Forsythe National Wildlife Refuge

A. Migratory Game Bird Hunting. We allow hunting of waterfowl, coot, moorhen, and rail on designated areas of the refuge in accordance with State regulations subject to the following conditions:

1. You must remove all hunting blind materials, boats, and decoys (see § 27.93 of this chapter) at the end of each hunting day. We prohibit permanent or pit blinds.

2. You may use trained dogs for the retrieval of authorized game birds (see § 26.21(b) of this chapter).

3. You may not possess more than 25 approved nontoxic shotshells per day in all hunting units of the Barnegat Division and not more than 50 approved nontoxic shotshells per day in Unit 1 of the Brigantine Division (see § 32.2(k)).

4. In Hunting Unit B of the Barnegat Division, we restrict hunting to designated sites, with each site limited to one party of hunters.

5. In Hunting Units B, D, E, and F of the Barnegat Division, we require a minimum of six decoys, and we prohibit jump shooting.

6. Access is by boat only in all Units of the Barnegat Division except Unit A South and Unit F. You may access these units by foot or boat. Access is by boat only in all Units of the Brigantine Division.

7. You may not occupy hunt Units before 4 a.m.

8. No person including, but not limited to, a guide, guide service, outfitter, club, or other organization, will provide assistance, services, or equipment on the refuge to any other person for compensation unless such guide, guide service, outfitter, club, or organization has obtained a Special Use Permit from the refuge for a fee.

B. Upland Game Hunting. [Reserved]

C. Big Game Hunting. We allow hunting of white-tailed deer in New Jersey Deer Management Zones 56, 57, and 58 in accordance with State regulations subject to the following conditions:

1. We require persons hunting on the refuge for the first time to attend one of the four refuge-specific hunter-orientation sessions conducted during the fall.

2. We require a State permit for the appropriate State Deer Management Zone. You must have this permit stamped and validated in person at the Brigantine or Barnegat office. Hunters will receive maps of the refuge-specific zones upon validation.

3. Hunters may enter the refuge no earlier than 2 hours before shooting time and must leave no later than 1 hour after the end of shooting time. Refuge hunting hours are consistent with State hunting hours.

4. During firearm big game season, hunters must wear in a conspicuous manner on head, chest, and back a minimum of 400 square inches (2,600 cm²) of solid-colored, hunter-orange clothing or material.

5. You may scout on the 2 Sundays prior to the opening day of your respective zone permit.

D. Sport Fishing. We allow fishing at the Holgate Unit, Little Beach Island, Graveling Point, Lily Lake, and the posted fishing areas along the south side of Parkertown Dock Road, North side of Cedar Run Dock Road, end of Stafford Avenue, and the middle branch of the Forked River in accordance with State regulations subject to the following conditions:

1. We close the Holgate unit and Little Beach Island during the migratory bird nesting season. We may extend the closure of the bay side portion of the Holgate Unit through October.

2. We require a Special Use Permit to fish from Little Beach Island. You may obtain permits from the refuge headquarters.

3. We only allow car-top launches at Lily Lake.

4. We prohibit use of internal combustion engines on Lily Lake.

5. We will close the Forked River fishing area during zone 58 big game hunting season.

6. We will open Forked River and Lily Lake from legal sunrise until legal sunset.

7. We prohibit fishing, clamming, and crabbing from any waters within tract 122X, locally known as the AT&T properties. We close this tract to all public use.

Great Swamp National Wildlife Refuge

A. Migratory Game Bird Hunting. [Reserved]

B. Upland Game Hunting. [Reserved]

C. Big Game Hunting. We allow hunting of deer on designated areas of the refuge in accordance with State regulations subject to the following conditions:

1. We require a State permit for the appropriate New Jersey Deer Management Zone.

2. In addition to the State permit, we require a Deer Hunting Permit (along with a fee) issued by the refuge. This permit must be stamped for validation.

3. We require refuge hunters to pass a written examination before allowing them to hunt on the refuge.

4. Hunters must wear in a conspicuous manner on head, chest, and back a minimum of 400 square inches (2,600 cm²) of solid-colored hunter-orange clothing or material.

5. Hunters must be in possession of refuge and State hunting permits at all times while hunting on the refuge.

6. Refuge hunting regulations, as listed in the “Great Swamp National Wildlife Refuge Public Deer Hunt Map,” and found in the examination, will be in effect.

D. Sport Fishing. [Reserved]

* * * * *

Wallkill River National Wildlife Refuge

A. Migratory Game Bird Hunting. We allow hunting of all migratory bird species on designated areas of the refuge in accordance with State regulations subject to the following conditions:

1. You must possess and carry a signed refuge hunt permit at all times while scouting and hunting on the refuge. We charge a fee for all hunters except youth age 16 and younger.

2. We issue one companion permit at no charge to each hunter. We allow companions to observe and call, but they cannot shoot a firearm or bow. Companion and hunters must set up in the same location.

3. We have seven hunting areas on the refuge. We allow migratory bird hunting in Areas A, D, E, and G. We close Areas C and F to migratory bird hunting. We close Area B to migratory bird hunting except we open 119 Owens Station Road to State-licensed disabled hunters. We provide maps with the refuge permit (you must possess and carry) that show these areas in detail.

4. We provide you with hunt parking areas and issue parking permits that you must clearly display in your vehicle. Hunters who park on the refuge must park in identified hunt parking areas.

5. You must wear, in a conspicuous manner, a minimum of 400 square inches (2,600 cm²) of solid-color, hunter-orange clothing or material on the head, chest, and back, except when hunting duck and goose.

6. You may only possess approved nontoxic shotgun shells (see § 32.2(k)) in quantities of 25 or less daily.

7. We prohibit use or erection of permanent or pit blinds. You must remove all hunting blind material, boats, and decoys (see § 27.93 of this chapter) from the refuge at the end of each hunting day.

8. We prohibit the use of all terrain vehicles (ATVs) on the refuge (see § 27.31(f) of this chapter), except if you have a State of New Jersey-disabled hunting license, have received a disabled hunting permit from the refuge, have a certificate of ATV safety class completion, and are hunting in the disabled hunter area located at 119 Owens Station Road.

9. We allow prehunt scouting, and we allow the use of dogs while hunting. However, we prohibit dogs during prehunt scouting.

10. We limit the number of dogs per hunting party to no more than two dogs.

11. We allow hunters to enter the refuge 2 hours before shooting time, and they must leave no later than 2 hours after the end of shooting time.

12. We prohibit the hunting of crows on the refuge.

B. Upland Game Hunting. [Reserved]

C. Big Game Hunting. We allow hunting of white-tailed deer, turkey on designated areas of the refuge in accordance with State regulations subject to the following conditions:

1. Conditions A1, A2, A4, A8, A9, and A11 apply.

2. We have seven hunting areas on the refuge. We allow white-tailed deer and turkey hunting in Areas A, D, E, F, and G. Area B is open for big game hunting east of the abandoned railroad bed. Also in Area B, we only allow State-licensed, disabled hunters to hunt at 119 Owens Station Road. We close Area C to big game hunting. We provide maps with the refuge permit (you must possess and carry) that show these areas in detail.

3. We require firearms hunters to wear, in a conspicuous manner, a minimum of 400 square inches (2,600 cm²) of solid-color, hunter-orange clothing or material on the head, chest, and back. Bow hunters must meet the same requirements when we open the firearm season. We do not require turkey hunters to wear orange at any time.

4. You must remove all stands and other hunting material (see § 27.93 of this chapter) from the refuge at the end of each hunting day.

D. Sport Fishing. We allow fishing in designated sections of the refuge in both New York and New Jersey in accordance with State regulations subject to the following conditions:

1. We allow fishing in and along the banks of the Wallkill River and in the pond at refuge headquarters.

2. We require that anglers park in designated parking areas to access the Wallkill River through the refuge.

3. You may launch canoes, kayaks, or small boats at designated river access locations.

4. We allow fishing from legal sunrise to legal sunset.

5. We prohibit commercial fishing on the refuge.

6. We prohibit the taking of frog and turtle (see § 27.21 of this chapter).

32. Amend § 32.50 New Mexico by:

a. Revising paragraphs A., B., and C. of “Bitter Lake National Wildlife Refuge;”

b. Revising “Bosque Del Apache National Wildlife Refuge;” and

c. Revising paragraph A. of “Las Vegas National Wildlife Refuge” to read as follows:

§ 32.50 New Mexico.

* * * * *

Bitter Lake National Wildlife Refuge

A. Migratory Game Bird Hunting. We allow hunting of goose, duck, coot, mourning dove, and sandhill crane on designated areas of the refuge in accordance with State regulations subject to the following conditions:

1. On the North Tract (including Salt Creek Wilderness Area and the portion of the refuge located north of U.S. Highway 70) all hunting must be in accordance with State seasons and regulations. On the Middle Tract (the portion of the refuge located between U.S. Highway 70 and U.S. Highway 380), we restrict hunting to goose, duck, sandhill crane, and American coot (no dove) in the designated public hunting area in the southern portion of the Tract that never approaches closer than 100 yards (90 m) to the public auto tour route only; we limit hunting to Tuesdays, Thursdays, and Saturdays during the period when the State seasons for that area are open simultaneously for ALL these species; and all hunting must cease at 1 p.m. (local time) on each hunt day. On the South Tract (the portion of the refuge located south of U.S. Highway 380), we only allow hunting during Special Hunts (Youth hunters [17 years of age and younger] and/or Physically Impaired) as per State seasons and regulations.

2. You may only possess approved nontoxic shot while in the field (see § 32.2(k)).

3. We prohibit pit or permanent blinds and require daily removal of all waterfowl decoys and all temporary blinds/stands (see § 27.93 of this chapter).

4. We only allow unleashed hunting/retrieving dogs on the refuge when hunters are legally present in areas where we allow hunters, only if the dogs are under the immediate control of hunters at all times (see § 26.21(b) of this chapter), and only to pursue species legally in season at that time.

5. We do not require refuge or other special hunt permits other than those required by the State (e.g., sandhill crane permits).

B. Upland Game Hunting. We allow hunting of pheasant, quail, cottontail, and jack rabbit on designated areas of the refuge in accordance with State regulations subject to the following conditions:

1. On the North Tract (including Salt Creek Wilderness Area and the portion of the refuge located north of U.S. Highway 70), all hunting must be in accordance with State seasons and regulations. On the Middle Tract (the portion of the refuge located between U.S. Highway 70 and U.S. Highway 380), we only allow pheasant hunting and restrict hunting to the designated public hunting area in the southern portion of the Tract that never approaches closer than 100 yards (90 m) from the public auto tour route; we limit hunting to Tuesdays, Thursdays, and Saturdays during the State season for the Middle Tract; and all hunting must cease at 1 p.m. (local time) on each hunt day. On the South Tract (the portion of the refuge located south of U.S. Highway 380) we only allow public hunting during Special Hunts (Youth hunters [17 years of age and younger] and/or Physically Impaired) as per State seasons and regulations.

2. Conditions A2 and A4 apply.

3. We do not require refuge or other special hunt permits other than those required by the State.

C. Big Game Hunting. We allow hunting of mule deer, white-tailed deer, and feral hog on designated areas of the refuge in accordance with State regulations subject to the following conditions:

1. We restrict all hunting to the North Tract (including Salt Creek Wilderness Area and the portion of the refuge located north of U.S. Highway 70) in accordance with State seasons and regulations, with the specification that we only allow hunt and take of feral hog (no bag limit) during deer hunts for that area and only with the weapon legal for deer on that day in that area.

2. Condition B3 applies.

3. We only allow use of portable blinds or stands, and require daily removal of all blinds and stands (see § 27.93 of this chapter).

* * * * *

Bosque Del Apache National Wildlife Refuge

A. Migratory Game Bird Hunting. We allow hunting of mourning and white-winged dove and light goose on designated areas of the refuge in accordance with State regulations subject to the following conditions:

1. You must possess and carry a refuge permit for hunting of light goose. The permit is available through a lottery drawing, and we must receive applications for the permit by November 30 of each year along with a $6.00 nonrefundable application fee.

2. We allow hunting of light goose on Monday, Wednesday, and Friday during the second full week of January. Hunters must report to the refuge headquarters by 4:45 a.m. each hunt day. Legal hunting hours will extend from 6:45 a.m. to 10 a.m. local time.

3. We allow the use of hunting dogs for bird retrieval. You must keep dogs on a leash when not hunting (see § 26.21(b) of this chapter).

4. We prohibit hunters and dogs from retrieving dead or wounded birds in closed areas.

5. All State and Federal hunting and fishing regulations regarding methods of take, dates, bag limits, etc., apply to all hunting and fishing on the refuge, in addition to these refuge-specific regulations.

6. We prohibit canoeing, boating, or floating through the refuge on the Rio Grande.

7. We prohibit hunting any species on the Rio Grande within the refuge.

8. We prohibit falconry on the refuge.

B. Upland Game Hunting. We allow hunting of quail and cottontail rabbit on designated areas of the refuge in accordance with State regulations subject to the following conditions:

1. We only allow shotguns and bows and arrows.

2. Conditions A5 through A8 apply.

C. Big Game Hunting. We allow hunting of mule deer and oryx on designated areas of the refuge in accordance with State regulations subject to the following conditions:

1. Refer to the refuge map for designated areas.

2. Hunting on the eastside of the Rio Grande is by foot or horseback only.

3. We allow oryx hunting from the east bank of the Rio Grande and east to the refuge boundary. We will allow hunters possessing a valid State special off-range permit to hunt oryx on the refuge during the concurrent State deer season. We also may establish special hunt dates each year for oryx. Contact the refuge manager for special dates.

4. Conditions A5 through A8 apply.

D. Sport Fishing. We allow fishing on designated areas of the refuge in accordance with State regulations subject to the following conditions:

1. We allow fishing on all canals within the refuge boundaries (Interior Drain, Riverside Canal, and Low Flow Conveyance Channel), and unit 25AS either from the boardwalk or from shore.

2. We allow fishing from April 1 through September 30.

3. We allow fishing from 1 hour before legal sunrise until 1 hour after legal sunset.

4. We prohibit trotlines, bows and arrows, boats or other floatation devices, seining, dip netting, traps, using bait taken from the refuge, taking of turtle (see § 27.21 of this chapter), littering, and all other activities not expressly allowed.

5. Access to the canals is via the tour loop. We prohibit fishing in closed areas of the refuge, with the exception of the Low Flow Conveyance Channel.

6. We allow frogging for bullfrog on the refuge from June 1 through August 15 in areas that are open to fishing. We only allow frogging from 1 hour before legal sunrise to 1 hour after legal sunset. Interested persons must obtain a free Special Use Permit at the refuge visitor center.

7. All State and Federal fishing regulations regarding methods of take, dates, creel limits, etc., apply to all fishing on the refuge, in addition to these refuge-specific regulations.

8. We prohibit fishing for any species on the Rio Grande within the refuge.

9. Condition A6 applies.

Las Vegas National Wildlife Refuge

A. Migratory Game Bird Hunting. We allow hunting of mourning dove and Canada goose on designated areas of the refuge in accordance with State regulations subject to the following conditions:

1. You must possess and carry a refuge permit and pay a fee.

2. You may only possess approved nontoxic shot while in the field (see § 32.2(k)).

3. Youth hunters age 17 and under must hunt under the supervision of an adult age 21 or older.

4. We prohibit hunters and dogs from entering closed areas to retrieve birds.

5. We only allow Canada goose hunting on designated day(s) of the week as identified on the permit.

6. Shooting hours for Canada goose are from ½ hour before legal sunrise to 1 p.m. local time.

7. The bag limit for Canada goose is two.

8. For Canada goose hunting, you may only possess approved nontoxic shells (see § 32.2(k)) while in the field in quantities of six or less.

* * * * *

33. Amend § 32.51 New York by:

a. Revising “Iroquois National Wildlife Refuge;” and

b. Revising paragraphs A., C., and D. of “Montezuma National Wildlife Refuge” to read as follows:

§ 32.51 New York.

* * * * *

Iroquois National Wildlife Refuge

A. Migratory Game Bird Hunting. We allow hunting of goose, duck, rail, coot, gallinule, snipe, and woodcock on designated areas of the refuge in accordance with State regulations subject to the following conditions:

1. For hunting of goose, duck, and coot (only allowed on Tuesdays, Thursdays, and Saturdays):

i. We require refuge waterfowl hunting permits. We allocate permits by random drawing at the Waterfowl Hunter Check Station on Route 77 on hunt days, except that we conduct a mail-in lottery for permits issued for opening day and the first two Saturdays of the regular waterfowl season. Permits allow up to three hunters to hunt. We charge a daily fee. A hunt stand is available for physically challenged hunters possessing a Golden Access Passport. We will allocate the hunt stand in a separate random draw for opening day and by first-come, first-served basis for other hunt days. The permit will allow one helper who may also hunt.

ii. You must possess and carry a valid New York State Waterfowl Education Certificate of Qualification.

iii. You must provide and use a minimum of six decoys.

iv. We only allow hunting from ½ hour before legal sunrise to 12 p.m. (noon). All hunters must check out no later than 1 p.m. by returning the Harvest Report portion of your permit to the Waterfowl Hunter Check Station.

v. You may only possess approved nontoxic shotshells (see § 32.2(k)) in the field in quantities of 20 or less.

vi. You must hunt within 100 feet (30 m) of your designated stand unless actively pursuing crippled birds.

2. For hunting of rail, gallinule, snipe, and woodcock:

i. We require refuge daily small-game hunt permits and reports. You may obtain these self-issued permits at several kiosks located around the refuge. The hunter must complete and sign Part “A” and possess and carry Part “B” while hunting, then complete and return Part “B” to one of the kiosks at the end of the hunt day.

ii. You may only possess approved nontoxic shot in the field (see § 32.2(k)).

iii. We only allow hunting east of Sour Springs Road.

3. We allow youths ages 12 to 17 to hunt goose and duck on the first Sunday of the regular waterfowl season subject to the following conditions:

i. Each youth hunter must preregister at the refuge office.

ii. Each youth hunter must participate in the prehunt orientation and education program.

iii. Each youth must hunt with a preapproved, nonhunting adult (for ages 12 and 13 the parent and/or guardian must be age 21 or older; for ages 14 and up the parent and/or guardian must be age 18 or older) who must be a licensed parent or adult participating in the program.

iv. Conditions 1iv, 1v, and 1vi above apply.

B. Hunting of Upland Game. We allow hunting of ruffed grouse, gray squirrel, cottontail rabbit, pheasant, coyote, fox, raccoon, skunk, and opossum on designated areas of the refuge in accordance with State regulations subject to the following conditions:

1. We require refuge daily small-game hunt permits and reports. You may obtain these self-issued permits at several kiosks located around the refuge. You must complete and sign Part A and possess and carry Part B while hunting, then complete and return Part B to one of the kiosks at the end of the hunt day.

2. We only allow hunting from legal sunrise to legal sunset. We prohibit night hunting.

3. We allow hunting only between October 1 and the last day of February.

4. You must only possess approved nontoxic shot (see § 32.2(k)) while in the field if hunting with a shotgun.

5. You must wear in a conspicuous manner on head, chest, and back a minimum of 400 square inches (2,600 cm²) of solid-colored, hunter-orange clothing or material during any firearms deer season.

C. Big Game Hunting. We allow hunting of white-tailed deer and turkey on designated areas of the refuge in accordance with State regulations subject to the following conditions:

1. White-tailed deer:

i. We require refuge daily deer hunt permits and reports. These self-issued permits are available at several kiosks located around the refuge. You must complete and sign Part A and possess and carry Part B while hunting, then complete and return Part B to one of the kiosks at the end of the hunt day.

ii. All hunters must wear in a conspicuous manner on head, chest, and back a minimum of 400 square inches (2,600 cm²) of solid-colored, hunter-orange clothing or material during any firearms deer season.

iii. If you use portable tree stands, blinds, and decoys, you must remove all equipment (see § 27.93 of this chapter) from the refuge at the end of the hunt day.

2. Turkey (only allowed during the spring season):

i. We require refuge spring turkey hunting permits. We select permittees, except youth permittees as designated below, from a mail-in, random drawing for available permits. We charge a nonrefundable application processing fee.

ii. Only youth hunters 12 to 17 years of age, accompanied by a properly licensed, preapproved nonhunting adult (for youths aged 12 and 13 the parent and/or guardian must be age 21 or older; for youths ages 14 and up, the parent and/or guardian must be age 18 or older), may hunt on the refuge on the first Sunday of the season. All youth hunters must register at the refuge headquarters and attend a mandatory orientation.

iii. You may use portable blinds and decoys, but you must remove all equipment (see § 27.93 of this chapter) at the conclusion of each hunt day.

iv. You may only scout during the 7 days immediately preceding the season. You must possess and carry your permit when scouting. We prohibit calling or possessing a call of any kind while scouting.

D. Sport Fishing. We allow fishing and frogging on designated areas of the refuge in accordance with State regulations subject to the following conditions:

1. You may only fish or frog from legal sunrise to legal sunset.

2. We allow fishing or frogging in Oak Orchard Creek east of Route 63 and on other designated areas of the refuge year-round during the State season.

3. We only allow ice fishing on Ringneck Marsh from December 15 through the last day of February.

4. We allow frogging in areas open for public fishing. We prohibit guns or archery equipment to kill or capture frog.

5. We prohibit wading or the use of boats or other flotation devices, with the exception that you may use nonmotorized boats on Oak Orchard Creek east of Route 63.

6. We require that anglers remove boats, structures, or other equipment (see § 27.93 of this chapter) from the refuge after the completion of the day's fishing activities.

Montezuma National Wildlife Refuge

A. Migratory Game Bird Hunting. We allow hunting of waterfowl on designated areas of the refuge in accordance with State regulations subject to the following conditions:

1. We require daily refuge permits (you must possess and carry)/reservations.

2. We only allow hunting on Tuesdays, Thursdays, and Saturdays during the established refuge season set within the State western zone season.

3. We take telephone reservations from 8 a.m. to 8:30 a.m. on Tuesdays, Thursdays, and Saturdays for the next hunt day (except for opening day).

4. We take opening day reservations between 8 a.m. and 8:30 a.m. on the day immediately before the season opener.

5. The reservation telephone number is 315-568-4136.

6. All telephone reservations are available on a first-come, first-served basis.

7. Persons with a reservation may bring one companion.

8. Hunters reserve the parking area of their choice when making their reservations.

9. All hunters with reservations and their companions must check-in at the Route 89 Hunter Check Station at least 1 hour before legal shooting time or forfeit their reservation.

10. Forfeited reservations become available on a first-come, first-served basis to standby hunters at the Route 89 Hunter Check Station.

11. We require $10.00 per reservation fee. Hunters with either Golden Age or Access Passports receive a 50 percent discount.

12. We require motorless boats to hunt and limit hunters to one boat per reservation.

13. We select hunting sites in a free-roam system.

14. You may only possess approved nontoxic shells (see § 32.2(k)) while in the field in quantities of 15 or less.

15. We prohibit shooting from the dike.

16. Hunting ends at 12 p.m. (noon), and all hunters must check out by 1 p.m.

17. We require successful completion of the New York State Waterfowl Identification Course, the Montezuma Nonresident Waterfowl Identification Course, or a suitable nonresident State Waterfowl Identification Course to hunt the refuge.

* * * * *

C. Big Game Hunting. We allow hunting of white-tailed deer on designated areas of the refuge in accordance with State regulations subject to the following conditions:

1. We only allow hunting of white-tailed deer on designated portions of the refuge by archery, firearms (see § 27.42 of this chapter), or muzzleloaders during established refuge seasons set within the general State white-tailed deer season.

2. We prohibit Sunday hunting.

3. Each hunter must possess, carry, and return at day's end a valid daily hunt permit card.

4. Daily hunt permits are available at the Route 89 Hunter Check Station on a first-come, first-served basis, issued by refuge personnel or available on a self-service basis.

5. We make available 150 firearms hunt permit cards each day on a first-come, first-served basis.

6. Hunters must fill out Part A of the daily hunt permit card at check-in and leave it with refuge personnel or deposit it in the Part A box at the Route 89 Hunter Check Station.

7. The hunter must carry Part B of the daily hunt permit card while hunting the refuge.

8. The hunter must complete Part B and deposit it in the Part B box at the Route 89 Hunter Check Station by the end of the hunt day.

9. Successful opening day archery hunters must bring their deer to the Route 89 Hunter Check Station.

10. Successful firearms hunters must bring their deer to the Route 89 Hunter Check Station on the days we staff it.

11. Firearms hunters must wear in a conspicuous manner on the head, chest, and back a minimum of 400 square inches (2,600 cm²) of solid-blaze orange.

12. We only allow shotguns and muzzleloaders during the firearms (see § 27.42 of this chapter) season. We prohibit handguns.

13. Hunters must have all guns unloaded (see § 27.42 of this chapter) between legal sunset and legal sunrise.

14. Hunters must disassemble, lock, or case all bows after legal sunset and before legal sunrise.

15. We prohibit advance scouting.

16. We prohibit boats and canoes on refuge pools. We prohibit hunting on the open water portions of the refuge pools.

17. We prohibit ATVs (see § 27.31(f) of this chapter).

18. Hunters may only use portable tree stands and must remove them (see § 27.93 of this chapter) from the refuge each day.

19. We prohibit screw-in tree steps (see § 32.2(i)).

20. We allow firearms hunters to be on the refuge during the period that begins 1 hour before legal sunrise and ends 1 hour after legal sunset.

21. We allow archery hunters to be on the refuge during the period that begins 1 hour before legal sunrise (except for opening day) and ends 1 hour after legal sunset.

22. On opening day, we allow archery hunters on the refuge during the period that begins 2 hours before legal sunrise and ends 1 hour after legal sunset.

D. Sport Fishing. Anglers may only access the New York State Barge Canal System Waters at two sites on the refuge: the Seneca River Fishing Access Site and the May's Point Fishing Area. Anglers may either bank fish or boat fish in accordance with State regulations.

* * * * *

34. Amend § 32.52 North Carolina by:

a. Revising “Alligator River National Wildlife Refuge;”

b. Revising paragraph A. of “Cedar Island National Wildlife Refuge;”

c. Revising paragraph A. of “Currituck National Wildlife Refuge;”

d. Revising paragraph C. of “Mackay Island National Wildlife Refuge;”

e. Revising “Mattamuskeet National Wildlife Refuge;”

f. Revising paragraph D. of “Pea Island National Wildlife Refuge;”

g. Revising “Pee Dee National Wildlife Refuge;”

h. Revising “Pocosin National Wildlife Refuge;” and

i. Revising “Swanquarter National Wildlife Refuge” to read as follows:

§ 32.52 North Carolina.

* * * * *

Alligator River National Wildlife Refuge

A. Hunting of Migratory Birds. We allow hunting of migratory game birds on designated areas of the refuge in accordance with State regulations subject to the following conditions:

1. Hunters must possess and carry a valid refuge hunting permit.

2. We prohibit construction or use of a permanent blind.

3. We close the Farming Area to waterfowl hunting.

4. Each youth hunter must remain within sight and normal voice contact of an adult age 21 or older. An adult may directly supervise (up to two) youth hunters (age 15 and under), who must have successfully completed a State-approved hunter safety course and possess and carry proof of certification.

5. We allow retrieving dogs in designated areas. We prohibit the use of dogs in the Gum Swamp Unit.

B. Upland Game Hunting. We allow upland game hunting on designated areas of the refuge in accordance with State regulations subject to the following conditions:

1. Conditions A1 and A4 apply.

2. You may only possess approved nontoxic shot in the field (see § 32.2(k)).

3. We only allow dog training during the corresponding hunting season.

4. We require a Special Use Permit to hunt raccoon or opossum from ½ hour after legal sunset until ½ hour before legal sunrise.

5. We allow retrieving, pointing, and flushing dogs in designated areas. We prohibit the use of dogs in the Gum Swamp Unit.

C. Big Game Hunting. We allow hunting of white-tailed deer on designated areas of the refuge in accordance with State regulations subject to the following conditions:

1. Conditions A1, A4 (an adult may only supervise one youth hunter), and B3 applies.

2. We allow lead shot (buckshot and slugs only).

3. We close the Hyde County portion of the refuge during State bear seasons.

4. We only allow pursuit/trailing dogs in designated areas as shown in the Hunting Regulations and Permit Map. We prohibit the use of dogs in the Gum Swamp, Parched Corn Bay/Long Shoal River, and North Stumpy Point Units.

5. Unarmed hunters may walk to retrieve stray dogs from closed areas and “no dog hunting” areas.

D. Sport Fishing. We allow fishing and frogging in accordance with State regulations subject to the following conditions:

1. We only allow fishing from legal sunrise to legal sunset.

2. We only allow pole and line, rod and reel, or cast net.

3. We require a Special Use Permit for fishing or frogging between legal sunset and legal sunrise.

4. You must only take frog by use of frog gigs.

Cedar Island National Wildlife Refuge

A. Migratory Game Bird Hunting. We allow hunting of tundra swan, Canada and snow goose, brant, duck, and coot on designated areas of the refuge in accordance with State regulations subject to the following conditions:

1. We allow hunting on 400 acres (160 ha) of marsh located along the southern border of West Bay and the eastern border of West Thorofare Bay between the John Day Ditch and the Thorofare Ditch. The hunt area extends 300 feet (90 m) from the shoreline into the marsh.

2. We allow portable blinds, but you must remove them (see § 27.93 of this chapter) following each day's hunt.

3. Hunters/hunt parties must not hunt closer than 150 yards (135 m) apart.

4. You may use decoys but you must remove them (see § 27.93 of this chapter) daily upon completion of your hunting.

5. We only allow hunting during the State waterfowl seasons occurring in November, December, and January.

* * * * *

Currituck National Wildlife Refuge

A. Hunting of Migratory Birds. We allow hunting of swan, goose, duck, and coot on designated areas of the refuge in accordance with State regulations subject to the following conditions:

1. We require a North Carolina Waterfowl Hunt Permit or a Refuge Hunt Permit. You must carry a permit while hunting on the refuge.

2. You must hunt from assigned blind location.

3. We allow hunting on Wednesdays and Saturdays during the State waterfowl season.

4. We allow hunting from ½ hour before legal sunrise to 1 p.m.

5. We allow access 1½ hours before legal shooting time, and all parties must be off the refuge by 2 p.m.

6. All hunters holding a North Carolina Waterfowl Hunt Permit must check-in at the Knotts Island Market by 5:15 a.m. on the morning of the hunt. We require no check-in for hunters holding Snow Goose Hunt Permits.

7. All guides must obtain and carry a refuge Special Use Permit to conduct guided hunts on the refuge.

* * * * *

Mackay Island National Wildlife Refuge

* * * * *

C. Big Game Hunting. We allow hunting of deer on designated areas of the refuge in accordance with State regulations subject to the following conditions:

1. We require a Refuge Deer Hunting Permit that hunters must sign and carry while hunting on the refuge.

2. We allow the use of shotguns, muzzleloading rifles/shotguns, and bows. We prohibit the use of all other rifles and pistols.

3. We allow access to hunting areas from 5 a.m. until 8 p.m.

4. We prohibit carrying a loaded firearm on or within 50 feet (15 m) of gravel roads.

5. We prohibit the marking of trees or vegetation (see § 27.51 of this chapter) with blazes, flagging, or other marking devices.

* * * * *

Mattamuskeet National Wildlife Refuge

A. Migratory Game Bird Hunting. We allow the hunting of tundra swan, snow goose, duck, and coot on designated areas of the refuge in accordance with State regulations subject to the following conditions:

1. We require refuge-issued permits that you must validate at the refuge headquarters, sign, possess, and carry while hunting.

2. Each hunt participant must pay a $12.50 daily user fee.

3. We restrict hunting to designated blinds assigned by refuge personnel.

4. Hunters may only shoot crippled waterfowl from outside the assigned blind.

5. There is a 30-shell limit per blind hunter per day.

6. You may use decoys, but you must remove them (see § 27.93 of this chapter) daily upon completion of your hunt.

7. All waterfowl hunters must check out at the assigned station prior to leaving the refuge.

8. Shooting hours are from ½ hour before legal sunrise until 12 p.m. (noon). Hunting hours on the first day of the youth hunt are from 1 p.m. until legal sunset.

9. We allow the use of retrieving dogs, but dogs must be under voice command at all times (see § 26.21(b) of this chapter).

10. You must unload guns (see § 27.42(b) of this chapter) during transport through the refuge.

11. We only allow the taking of Canada goose during the State September Canada goose season subject to the following conditions:

i. We allow hunting Monday through Saturday during the State season, and we require refuge-issued permits that you must obtain at the refuge office, sign, possess, and carry while hunting.

ii. We close the following areas to hunting of Canada goose: Impoundments MI-4, MI-5, and MI-6; in Rose Bay Canal, Outfall Canal, Lake Landing Canal and Waupoppin Canal; 150 feet (45 m) from the mouth of the canals where they enter Lake Mattamuskeet; and 150 yards (135 m) from State Route 94.

iii. We allow portable blinds, but you must remove them (see § 27.93 of this chapter) daily.

12. Each youth hunter (age 16 and under) must remain within sight and normal voice contact of an adult age 21 or older. Youth hunters must have completed a State-certified hunter safety course and possess and carry the form or certificate.

B. Upland Game Hunting. [Reserved].

C. Big Game Hunting. We allow the hunting of white-tailed deer on designated areas of the refuge in accordance with State regulations subject to the following conditions:

1. The hunter must possess and carry a signed, refuge-issued permit while hunting.

2. We close to hunting areas along the Entrance Road, MI-4 impoundment, signed areas along State Route 94, areas around the refuge headquarters, and refuge residence area.

3. Hunters may take one antlered deer and one antlerless deer per day, or two antlerless deer per day.

4. Hunters may take deer with shotgun, bow and arrow, or muzzleloading rifle/shotgun.

5. We allow hunters on the refuge from 1 hour before legal shooting time until 1 hour after legal shooting time.

6. Hunters can use boats to access hunt areas, but we prohibit hunting from a boat.

7. You must check all deer taken at the check station near refuge headquarters.

8. We prohibit erecting portable blinds and tree stands prior to the hunt, and you must remove them (see § 27.93 of this chapter) from the refuge after each day's hunt.

9. Hunters must wear a minimum of 500 square inches (3,250 cm²) of hunter-orange material above the waist that is visible from all directions.

10. An adult may only supervise one youth hunter. The youth hunter must be within sight and normal voice contact of the adult.

D. Sport Fishing. We allow fishing for game and nongame fish and the catching of blue crabs on designated areas of the refuge in accordance with State regulations subject to the following conditions:

1. We are open to sport fishing, bow fishing, and crabbing from March 1 through November 1 from ½ hour before legal sunrise to ½ hour after legal sunset, except we allow bank fishing and crabbing year-round from:

i. State Route 94;

ii. The north bridge and south of the north bridge at Lake Landing;

iii. The Outfall Canal water control structure;

iv. The Central Canal bridge on Wildlife Drive; and

v. Along the west main and east main canal between Entrance Road metal bridge and Number One East Canal as posted.

2. We allow bank fishing and crabbing from the North Carolina Highway 94 causeway 24 hours per day, year-round.

3. We allow fishing boats and motors March 1 through November 1. We prohibit airboats, sailboats, Jet Skis, and windboards.

4. We prohibit bank fishing along the Entrance Road from State Route 94 to the Entrance Road metal bridge.

5. We prohibit herring dipping.

6. We allow crabbing subject to the following conditions:

i. We only allow five handlines and hand-activated traps per person. Owners must be in attendance.

ii. We prohibit crab pots.

iii. You may only possess 12 crabs per person per day.

Pea Island National Wildlife Refuge

* * * * *

D. Sport Fishing. We allow fishing and crabbing in accordance with State regulations subject to the following conditions:

1. We require a nighttime fishing permit for surf fishing between ½ hour after legal sunset and ½ hour before legal sunrise.

2. We prohibit fishing and crabbing North Pond, South Pond, and New Field Pond Impoundments.

Pee Dee National Wildlife Refuge

A. Migratory Game Bird Hunting. We allow hunting of mourning dove on designated dates and areas of the refuge in accordance with State regulations subject to the following conditions:

1. We require all hunters to possess and carry a signed Refuge General Hunt Permit and government-issued picture ID while in the field.

2. Legal shooting hours are 12 p.m. (noon) until legal sunset.

3. Validly licensed adults, age 21 or older, holding applicable permits must accompany and supervise, remaining in sight and voice contact at all times, any youth hunters (under age 16). Each adult may supervise no more than two youth hunters. Youth hunters must possess and carry evidence of successful completion of a State-approved hunter education course.

4. We prohibit possession of a loaded firearm within 100 feet (30 m) of any vehicle or road open to vehicle traffic. We define a loaded firearm as a firearm with ammunition in the magazine or chamber, or a percussion cap in place on a muzzleloader.

5. We prohibit the discharge of a weapon (see § 27.42 of this chapter) on or across a road open to vehicle traffic.

6. We prohibit entering or crossing a “No Hunting Zone” or “Closed Area”. We prohibit the discharge of a weapon (see § 27.42 of this chapter) within, into, or across a “No Hunting Zone” or “Closed Area”. We require consent from refuge personnel to enter a “No Hunting Zone” or “Closed Area” for the purpose of tracking and/or retrieving legally taken game animals.

7. We prohibit the discharge of a weapon (see § 27.42(a) of this chapter) for a purpose other than to take or attempt to take legal game animals during established hunting seasons.

8. We prohibit waterfowl hunting. By virtue of and pursuant to the Migratory Bird Treaty Act of July 3, 1918, we close the following area to the pursuing, hunting, taking, capturing, or killing of migratory birds or attempting to take, capture, or kill migratory birds: All the area consisting of the bed of the Pee Dee River, bank to bank, submerged or exposed including the water thereof, from the confluence of Pressley Creek and the Pee Dee River to approximately 5 miles (8 km) downstream to the confluence of Brown Creek and the Pee Dee River. Included also are the waters surrounding Buzzard Island and that part of the Pee Dee River on the northeast side of Leak Island beginning approximately ¼ mile (.4 km) downstream from the head of Leak Island (at the head of a small unnamed island), and continuing downstream to the main channel of the Pee Dee River and containing, in all, a total of 220 acres (88 ha).

B. Upland Game Hunting. We allow hunting of quail, rabbit, squirrel, raccoon, and opossum on designated dates and areas of the refuge in accordance with State regulations subject to the following conditions:

1. Conditions A1 and A3 through A7 apply.

2. We prohibit raccoon hunters from entering or remaining on the refuge from 1 hour before legal sunrise until 1 hour after legal sunset on established hunt dates.

3. We prohibit raccoon hunters from hunting on the night prior to the opening of a firearms deer hunt and on the nights during the deer hunt except the last night.

4. We require dogs on raccoon/opossum hunts. All dogs must wear a collar displaying the owner's name, address, and phone number.

C. Big Game Hunting. We allow hunting of white-tailed deer on designated dates and areas of the refuge in accordance with State regulations subject to the following conditions:

1. Conditions A1 and A3 through A7 apply (for A3, adults may supervise no more than one youth hunter).

2. We require each person participating in a quota deer hunt to possess and carry a refuge Quota Deer Hunt Permit for the hunt in which he or she will be participating. Quota Deer Hunt Permits are nontransferable.

3. During deer hunts we prohibit hunters from entering the refuge earlier than 4 a.m., and they must leave the refuge no later than 2 hours after legal sunset.

4. We prohibit adults from possessing or discharging a firearm during the youth deer hunt.

5. During refuge firearms deer hunts, all participants must wear at least 500 square inches (3,250 cm²) of unbroken, fluorescent-orange material above the waist as an outer garment while hunting and while en route to and from hunting areas.

6. During State firearms deer seasons, all archery hunters must wear at a minimum a fluorescent-orange hat while hunting and while en route to and from hunting areas.

7. We prohibit man driving for deer. We define a “man drive” as an organized hunting technique involving two or more individuals where hunters attempt to drive game animals from cover or habitat for the purpose of shooting, killing, or moving such animals toward other hunters.

8. We prohibit placing a tree stand on the refuge more than 3 days prior to the opening day of the deer hunt in which you will be participating. You must remove the tree stands (see § 27.93 of this chapter) by the last day of that hunt.

9. You must wear a safety belt or harness at all times when using any tree stand or climbing equipment.

10. You must check all deer killed on refuge quota deer hunts at the refuge check station on the date of kill prior to removing the animal from the refuge.

11. We prohibit the use of dogs for deer hunting.

12. We prohibit the use of plastic flagging.

13. We prohibit the use of all-terrain vehicles (ATVs) or off-highway vehicles (OHVs) (see § 27.31(f) of this chapter).

14. During refuge firearms deer hunts, we prohibit all other public use on the refuge.

D. Sport Fishing. We allow fishing on designated dates and areas of the refuge in accordance with State regulations subject to the following conditions:

1. We prohibit boats utilizing gasoline-powered motors.

2. You must unload and load boats by hand on all waters except those having designated launch ramps.

3. We prohibit possession or use of trotlines, set hooks, gigs, jug lines, limblines, snagging devices, nets, seines, fish traps, or other special devices.

4. We prohibit taking or attempting to take frog and turtle (see § 27.21 of this chapter).

5. We prohibit swimming.

Pocosin Lakes National Wildlife Refuge

A. Migratory Game Bird Hunting. We allow hunting of duck, goose, swan, dove, woodcock, rail, and snipe in accordance with State regulations subject to the following conditions:

1. We prohibit hunting on the Davenport and Deaver tracts (which include the area surrounding the Headquarters/Visitor Center and the Scuppernong River Interpretative Boardwalk), the Pungo Shop area, New Lake, refuge lands between Lake Phelps and Shore Drive, and that portion of the Pinner Tract east of SR 1105.

2. We allow you to retrieve game from closed areas listed above with consent from a refuge employee, but we prohibit possession of any type of weapon (see § 27.42 of this chapter) in a closed area.

3. We require all hunters to possess and carry a signed, self-service refuge general hunting permit while hunting on the refuge.

4. We open the refuge for daylight-use only, except that we allow hunters to enter and remain in open hunting areas from 1½ hours before legal shooting time until 1½ hours after legal shooting time.

5. We only allow the use of all terrain vehicles (ATVs) on designated ATV trails (see § 27.31 of this chapter) and only to transport hunters and their equipment to hunt and scout. We only allow ATV use on the ATV trails at the following times:

i. When we open the ATV trail and surrounding area to hunting;

ii. One week prior to the ATV trail and surrounding area opening to hunting; and

iii. On Sundays, when we open the ATV trail and surrounding area for hunting the following Monday.

6. You must unload and case or dismantle all weapons (see § 27.42(b) of this chapter) transported via a motorized vehicle or boat under power.

7. We only allow the use of biodegradable-type flagging. We prohibit affixing plastic flagging, dots, glow tacks, reflectors, or other materials to refuge vegetation (see § 27.51 of this chapter).

8. We prohibit migratory game bird hunting on the Pungo Unit.

9. You may only possess approved nontoxic shot (see § 32.2(k)) while migratory game bird hunting west of Evans Road.

10. We only allow the use of portable blinds and temporary blinds constructed of natural materials, but we prohibit the cutting of any live vegetation on the refuge (see § 27.51 of this chapter). You must remove portable blinds (see § 27.93 of this chapter) at the end of each day's hunt.

11. We allow the use of dogs to point and retrieve migratory game birds, but they must be under your immediate control at all times (see § 26.21(b) of this chapter).

12. While hunting, we require youth hunters age 16 or younger to possess and carry proof that they successfully passed a State-approved hunter education course. Youth hunters may only hunt under the direct supervision of a licensed hunter over age 21. One licensed hunter over age 21 may supervise up to two migratory game bird youth hunters at a time.

B. Upland Game Hunting. We allow the hunting of quail, squirrel, raccoon, opossum, rabbit, beaver, nutria, and fox in accordance with State regulations subject to the following conditions:

1. Conditions A1 through A7 apply.

2. We prohibit upland game hunting on the Pungo Unit.

3. We only allow the taking of beaver and nutria with firearms (see § 27.42 of this chapter) and only during those times when we open the area hunted to hunting of other game animals with firearms.

4. We prohibit the hunting of raccoon and opossum during, 5 days before, and 5 days after the State bear seasons. Outside of these periods, we allow the hunting of raccoon and opossum at night but only while possessing a special Refuge Nighttime Raccoon and Opossum Hunting Permit.

5. We only allow the use of shotguns and .22 caliber rim-fire rifles for hunting. We also allow disabled hunters to use crossbows while possessing the required State permit.

6. You may only possess approved nontoxic shot (see § 32.2(k)) while hunting upland game west of Evans Road.

7. We allow the use of dogs for pointing and retrieving upland game and for chasing rabbit (but not fox). The dogs must be under your immediate control at all times (see § 26.21(b) of this chapter), and we prohibit possession of buckshot or slugs while hunting with dogs.

8. You must wear 500 square inches (3,250 cm²) of fluorescent-orange material above the waist that is visible from all sides when hunting upland game.

9. While hunting, we require that youth hunters under age 16 must possess and carry proof that they successfully passed a State-approved hunter education course. Youth hunters may only hunt under the direct supervision of a licensed hunter age 21 or older. A licensed hunter age 21 or older may directly supervise up to two upland game youth hunters at a time.

C. Big Game Hunting. We allow the hunting of deer, turkey, and boar in accordance with State regulations subject to the following conditions:

1. Conditions A1 through A7 apply.

2. You may only hunt spring turkey if you possess and carry a valid refuge turkey hunting permit. The permits are valid only for the dates and areas shown on the permit. We require an application and a fee for these permits and hold a drawing, when necessary, to select the permittees.

3. We only allow the use of shotguns, muzzleloaders, and bow and arrow for deer and wild boar hunting. We allow disabled hunters to use crossbows but only while possessing the required State permit.

4. You may only possess approved nontoxic shot (see § 32.2(k)) while hunting turkeys west of Evans Road and on the Pungo Unit. You may use slugs, buckshot, and muzzleloader ammunition containing lead for deer and wild boar hunting in these areas.

5. We only allow deer hunting with shotguns and muzzleloaders on the Pungo Unit while possessing a special Pungo Deer Gun-Hunt Permit issued by the refuge. These permits are valid only for the designated 2-day period shown on the permit. We set the dates of these special 2-day hunts following the publication of the State deer seasons. We require an application and a fee for these permits and hold a drawing, when necessary, to select the permittees.

6. During the special Pungo Deer Gun-Hunts, we only allow permitted hunters on the Pungo Unit. We only allow permitted hunters on the Pungo Unit from 1 hour before legal shooting time until 1 hour after legal shooting time. You must take any deer harvested during a Pungo Deer Gun-Hunt to the deer check station located at the Pungo Shop for harvest reporting and data collection.

7. We allow deer hunting with bow and arrow on the Pungo Unit during all State deer seasons prior to December 1; however, we prohibit hunting on the Pungo Unit on the designated Pungo Deer Gun-Hunts referred to above without a valid Pungo Deer Gun-Hunt Permit.

8. You must wear 500 square inches (3,250 cm²) of fluorescent-orange material above the waist that is visible from all sides while hunting deer and wild boar in any area open to hunting these species with firearms.

9. We only allow the use of portable tree stands and require that you remove them (see § 27.93 of this chapter) at the end of each day's hunt, except that hunters with a valid Pungo Deer Gun-Hunt Permit may install a stand on the Pungo Unit the day before the start of their hunt and leave it until the end of the 2nd day of their 2-day hunt. You must tag stands left overnight on the refuge with the hunter's name, address, and telephone number.

10. While hunting, we require youth hunters (under age 16) to possess and carry proof that they successfully passed a State-approved hunter education course. Youth hunters may only hunt under the direct supervision of a licensed hunter age 21 and older. A licensed hunter age 21 and older may only supervise one big game youth hunter at a time.

D. Sport Fishing. We allow fishing in accordance with State regulations subject to the following conditions.

1. We only allow fishing in Pungo Lake and New Lake from March 1 through October 31, except that we close Pungo Lake and the entire Pungo Unit to fishing during the special 2-day Pungo Deer Gun Hunts in late September and October.

2. We only allow fishing from the bank in the Pungo Unit; we prohibit use of boats in this area. We prohibit leaving a boat anywhere on the refuge overnight.

3. We only allow fishing from legal sunrise to legal sunset.

* * * * *

Swanquarter National Wildlife Refuge

A. Migratory Game Bird Hunting. We allow the hunting of tundra swan, snow goose, brant, duck, and coot on designated areas of the refuge in accordance with State regulations subject to the following conditions:

1. We allow hunting on refuge marshlands that include Great Island, Marsh Island, and all of the refuge marshlands adjacent to Juniper Bay eastward to West Bluff Bay.

2. We prohibit hunting within the 27,000 acre (10,800 ha) Presidential Proclamation Area as posted.

3. We allow portable blinds. You must remove blinds (see § 27.93 of this chapter) following each day's hunt.

4. We prohibit hunters/hunt parties from hunting closer than 150 yards (135 m) apart.

5. You may use decoys, but you must remove them (see § 27.93 of this chapter) daily upon completion of your hunt.

6. We allow hunting during the State waterfowl season occurring in November, December, and January.

B. Upland Game Hunting. [Reserved]

C. Big Game Hunting. [Reserved]

D. Sport Fishing. [Reserved]

35. Amend § 32.53 North Dakota by:

a. Revising “Arrowwood National Wildlife Refuge;”

b. Revising “Audubon National Wildlife Refuge;”

c. Revising paragraph C. of “Chase Lake National Wildlife Refuge;”

d. Adding “Devils Lake Wetland Management District;”

e. Revising “J. Clark Salyer National Wildlife Refuge;”

f. Revising paragraph B. of “Lake Alice National Wildlife Refuge;”

g. Revising “Lake Ilo National Wildlife Refuge;”

h. Revising “Lake Nettie National Wildlife Refuge;”

i. Revising “Long Lake National Wildlife Refuge;”

j. Revising “Slade National Wildlife Refuge;”

k. Revising “Stewart Lake National Wildlife Refuge;”

l. Revising paragraphs B., C., and D. of “Tewaukon National Wildlife Refuge;” and

m. Revising “Upper Souris National Wildlife Refuge” to read as follows:

§ 32.53 North Dakota.

* * * * *

Arrowwood National Wildlife Refuge

A. Migratory Game Bird Hunting. [Reserved]

B. Upland Game Hunting. We allow hunting of pheasant, sharp-tailed grouse, partridge, cottontail rabbit, and fox on designated areas of the refuge in accordance with State regulations subject to the following conditions:

1. We allow hunting beginning the day after the State general firearms deer season through the end of the regular upland bird season. Cottontail rabbit and fox seasons close March 31.

2. You may only possess approved nontoxic shot while in the field (see § 32.2(k)).

3. All State regulations/limits apply. We require a State-issued hunting license and stamp.

4. Access is by foot only.

5. We allow dogs, but they must be under the immediate control of the hunter at all times (see § 26.21(b) of this chapter).

6. The entire refuge is open to upland hunting except the area surrounding the refuge headquarters area and wildlife observation area.

7. We prohibit open fires (see § 27.95 of this chapter) and camping on the refuge.

8. We close the area surrounding the refuge headquarters and wildlife observation area to all hunting and entry. The boundary of the closed area includes Section 25 and the west ¼ of section 30, T144N, R64W. Maps are available at refuge headquarters or from refuge employees.

C. Big Game Hunting. We allow hunting of deer on designated areas in accordance with State regulations subject to the following conditions:

1. We require a State license and State-issued unit permit, and we restrict hunters to the species and type on permit.

2. We prohibit entering the refuge before legal shooting hours on the opening day of the firearms deer season. Thereafter, hunters may enter, but not shoot, 1½ hours prior to legal hours and must be off the refuge 1 hour after legal shooting hours end.

3. All firearms deer hunters must wear blaze-orange clothing. Legal orange clothing is a head covering and outer garment above the waistline of solid daylight, fluorescent-orange color, totaling at least 400 square inches (2,600 cm2). Hunters may not enter the refuge after harvesting a deer unless unarmed and wearing blaze orange.

4. We only allow vehicles on refuge roads and established access trails (see § 27.31 of this chapter) to retrieve deer during the following times: 9:30 to10 a.m., 1:30 to 2 p.m., and ½ hour after legal sunset for 1 hour.

5. Hunters participating in the State Youth Deer Season should check with refuge employees for open area information and special regulations.

6. Bow hunters must wear blaze orange during the regular deer gun season.

7. We allow temporary tree stands, but hunters must remove them (see § 27.93 of this chapter) from the refuge daily. We prohibit use of nails, screws, or devices inserted into the tree to hang stands or provide steps to the stands (see § 32.2(i)).

8. We prohibit open fires (see § 27.95 of this chapter) and camping on the refuge.

9. We close the area surrounding the refuge headquarters and wildlife observation area to all hunting and entry. The boundary of the closed area includes Section 25 and the west ¼ of section 30, T144N, R64W. Maps are available at refuge headquarters or from refuge employees.

D. Sport Fishing. We allow fishing in accordance with State regulations subject to the following conditions:

1. We restrict boats (maximum of 25 hp) to Arrowwood and Jim Lakes only from May 1 through September 30 of each fishing year.

2. We allow bank fishing along the major road rights-of-way during the entire North Dakota State fishing season.

3. We allow bank fishing on interior portions of the refuge from May 1 through September 30 of each fishing year. We only allow walk-in access, except for designated areas.

4. Access to water control structures is walk-in only along established trails.

5. We allow fishing in refuge impoundment bypass channels during the regular State fishing season. We allow walk-in access along maintenance trails from June 1 through September 30 of each fishing year.

6. We only allow bow fishing for rough fish along road rights-of-way in accordance with State regulations from May 1 through September 30 of each fishing year. We prohibit crossbows.

7. We open Arrowwood Lake, Jim Lake, and the South ⅓ of Mud Lake to winter fishing in accordance with State regulations.

8. We allow fish houses and vehicles on the ice as conditions allow. Anglers must remove fish houses (see § 27.93 of this chapter) by March 15. Anglers may use portable houses after March 15, but you must remove them daily.

9. We prohibit snowmobiles and ATVs on the refuge (see § 27.31(f) of this chapter).

10. We prohibit water activities not related to fishing (sailing, skiing, tubing, etc.).

11. We prohibit open fires (see § 27.95 of this chapter) and camping on the refuge.

Audubon National Wildlife Refuge

A. Migratory Game Bird Hunting. [Reserved]

B. Upland Game Hunting. We allow hunting of ring-necked pheasant, gray partridge, and sharp-tailed grouse on designated areas of the refuge in accordance with State regulations subject to the following conditions:

1. We annually open to upland bird hunting on the day following the close of the regular deer gun season. The hunting seasons continue until the State season closes. The refuge has designated open and closed areas for hunting.

2. We prohibit driving vehicles on refuge roads while hunting or to access hunting areas. Hunters must park at the refuge boundary and walk in.

3. Hunters may retrieve game up to 100 yards (90 m) inside the refuge boundary fence and closed areas of the refuge. Retrieval time must not exceed 10 minutes, and hunters may use dogs. We prohibit firearms while retrieving game.

4. We prohibit hunting on all refuge islands.

C. Big Game Hunting. We allow hunting of white-tailed and mule deer on designated areas of the refuge in accordance with State regulations subject to the following conditions:

1. The refuge gun, muzzleloader, and bow deer hunting seasons open and close according to State regulations. The refuge has designated opened and closed areas for deer hunting.

2. We close the refuge to the State special youth deer hunting season.

3. We prohibit driving vehicles on refuge roads while hunting or to access hunting areas. All hunters must park at the refuge boundary and walk in. Hunters may use designated refuge roads to retrieve downed deer.

4. Hunters must only use portable tree stands that they install and remove (see § 27.93 of this chapter) each day. We prohibit permanent tree stands.

5. We prohibit hunting on all refuge islands.

D. Sport Fishing. We allow ice fishing on the refuge in accordance with State regulations subject to the following conditions:

1. The refuge ice fishing season opens when ice is present and closes on March 31.

2. We restrict vehicle use to refuge roads and designated ice access points (see § 27.31 of this chapter).

Chase Lake National Wildlife Refuge

* * * * *

C. Big Game Hunting. We allow hunting of deer on designated areas of the refuge in accordance with State regulations subject to the following conditions:

1. We allow hunting of deer beginning with the start of the State deer gun season.

2. Hunters may only enter the refuge on foot.

* * * * *

Devils Lake Wetland Management District

A. Migratory Game Bird Hunting. We allow hunting of migratory game birds throughout the district in accordance with State regulations except in the following waterfowl production areas (WPAs): Little Goose and Lambs Lake WPAs in Nelson County; Pleasant Lake WPA in Benson County; and Hart, Nelson, and Vold WPAs in Grand Forks County. We prohibit hunting on portions of the Kellys Slough WPA in Grand Forks County as posted.

B. Upland Game Hunting. We allow hunting of upland game throughout the district except as listed in A. above. We prohibit hunting on portions of the Kellys Slough WPA in Grand Forks County as posted. All hunting is in accordance with State regulations subject to the following condition: You may only possess approved nontoxic shot (see § 32.2(k)) while in the field.

C. Big Game Hunting. We allow hunting of big game throughout the district except as noted in A, above. We prohibit hunting on portions of the Kellys Slough WPA in Grand Forks County as posted. All hunting is in accordance with State regulations subject to the following conditions:

1. You must possess and carry a “Lake Alice Refuge Permit” in order to hunt white-tailed deer with a firearm on the Tarvasted WPA in Ramsey County.

2. We prohibit the construction or use of permanent stands or platforms (see § 27.93 of this chapter).

D. Sport Fishing. We allow sport fishing throughout the district in accordance with State regulations except for Kellys Slough, Hart, Nelson, and Vold WPAs in Grand Forks County.

J. Clark Salyer National Wildlife Refuge

A. Hunting Migratory Game Birds. We allow hunting of goose, duck, and coot on nine designated Public Hunting Areas of the refuge in accordance with State regulations subject to the following conditions:

1. We open the refuge daily from 5 a.m. to 10 p.m.

2. We allow waterfowl retrieval without a firearm within 100 yards (90 m) of the interior boundary of Public Hunting Areas and within 100 yards (90 m) of the exterior refuge boundary.

B. Upland Game Hunting. We allow hunting of grouse, partridge, turkey, pheasant, and fox on designated areas of the refuge in accordance with State regulations subject to the following conditions:

1. We open the refuge daily from 5 a.m. to 10 p.m.

2. We allow hunting for sharp-tailed grouse, partridge, and pheasant on nine designated Public Hunting Areas.

3. We allow hunting for sharp-tailed grouse, partridge, ruffed grouse, and turkey south of the Upham-Willow City Road.

4. We open to hunting annually for sharp-tailed grouse, partridge, and pheasant on the remainder of the refuge, except the closed area around the refuge headquarters, on the day following the close of the firearm deer season and close as per the State seasons.

5. Fox hunting opens annually on the day following the close of the firearm deer season and closes March 31. We allow hunting from ½ hour before legal sunrise until ½ hour after legal sunset.

C. Big Game Hunting. We allow hunting of white-tailed deer on designated areas of the refuge in accordance with State regulations subject to the following conditions:

1. We open the refuge daily from 5 a.m. to 10 p.m.

2. We open the entire refuge, except the closed area around the refuge headquarters, for hunting during the State's youth, muzzleloader, and archery seasons.

3. We open nine Public Hunting Areas on the refuge for deer hunting during the regular firearms season without a refuge permit.

4. You must possess and carry a refuge permit to hunt on the refuge outside the nine Public Hunting Areas during the regular firearms season.

5. Hunters must remove blinds and stands (see § 27.93 of this chapter) daily.

D. Sport Fishing. We allow fishing on 14 designated areas (listed below) of the refuge in accordance with State regulations subject to the following conditions:

1. We open the refuge daily from 5 a.m. to 10 p.m.

2. We open all refuge waters to ice fishing between December 15 and the end of the State fishing season.

3. We only allow boat fishing in designated areas.

4. We close to boat fishing the last Friday of September.

5. We only allow nonmotorized boats or boats with electric motors.

6. We allow fishing at the following locations:

i. Nelson Bridge, from both banks downstream (northwest) 1/4 mile (.4 km) and upstream (south) to the refuge boundary;

ii. Souris River-Scenic Canoe Route, from both banks and boats, 100 feet upstream (30 m) (east) from Johnson Bridge and downstream (northwest) 13 miles (20.8 km) to the end of the Canoe Route at Dam 1, including Sandhills Slough;

iii. Dam 1, on the north bank downstream (west) 100 yards (90 m). We prohibit entry to or fishing from the dam;

iv. Dam 2, from both banks 50 feet (15 m) downstream from the water control structure;

v. Dam 320, from the bank starting 300 feet (90 m) east of the dam for 1/4 mile (.4 km) upstream (east);

vi. Old Freeman Bridge, from both banks or boat, downstream (west) 1 ½ mile (2.4 km) from Dam 320;

vii. Cutbank Culvert on Highway 14, from the highway right-of-way 50 feet (15 m) either side of the culvert;

viii. Highway 14 Bridge, from both banks 1/4 mile (.4 km) downstream (north) and 1/4 mile (.4 km) upstream (south) from the bridge;

ix. Russell-Kramer Road, from both banks or boat, upstream (south) 200 feet (60 km) from the bridge and downstream (north) from the bridge to the Soo Line railroad bridge;

x. Newburg Road, from the road right-of-way 100 feet (30 km) on either side of the bridge;

xi. Scheflo Bridge, from the road right-of way on either side of the bridge and upstream (south) on the east bank to the downstream (north) side of the water control structure;

xii. Highway 5, from the highway right-of way 100 feet (30 km) on either side of the bridge;

xiii. Westhope-Landa Road, from the road right-of-way 150 feet (45 km) on either side of the bridge, or from a boat downstream (north) 2 miles (3.2 km) from the road; and

xiv. Below Dam 357, from both banks or boat on all waters downstream (north) of the dam to the Canadian border.

Lake Alice National Wildlife Refuge

* * * * *

B. Upland Game Hunting. We allow upland game and furbearer hunting on designated areas of the refuge in accordance with State regulations subject to the following conditions:

1. Consult the refuge brochure for season dates.

2. You may only possess approved nontoxic shot while in the field (see § 32.2(k)).

* * * * *

Lake Ilo National Wildlife Refuge

A. Migratory Game Bird Hunting. [Reserved]

B. Upland Game Hunting. [Reserved]

C. Big Game Hunting. [Reserved]

D. Sport Fishing. We allow fishing on designated areas of the refuge in accordance with State regulations subject to the following conditions:

1. We open the refuge all year for fishing from legal sunrise to legal sunset. The refuge has designated open and closed areas for fishing.

2. We open the refuge to boating from May 1 through September 30.

3. We open the refuge to ice fishing from October 1 through March 31.

4. We restrict vehicle use to refuge roads, designated boat ramps, and ice access points (see § 27.31 of this chapter).

5. We prohibit fishing and public use on refuge islands and concrete dam spillways.

Lake Nettie National Wildlife Refuge

A. Migratory Game Bird Hunting. [Reserved]

B. Upland Game Hunting. [Reserved]

C. Big Game Hunting. We allow hunting of white-tailed and mule deer on designated areas of the refuge in accordance with State regulations subject to the following conditions:

1. We open portions of the refuge to gun, muzzleloader, bow, and the special youth deer hunting seasons according to State regulations. The refuge has designated open and closed areas for deer hunting.

2. We close all refuge roads to vehicle use for hunting and retrieval of deer. Hunters must park vehicles at the refuge boundary and walk in.

3. Hunters may walk in to retrieve deer in areas marked with no hunting zone signs. We prohibit firearms while retrieving deer from these areas.

4. Hunters must only use portable tree stands that they install and remove (see § 27.93 of this chapter) each day. We prohibit permanent tree stands.

D. Sport Fishing. [Reserved]

* * * * *

Long Lake National Wildlife Refuge

A. Migratory Game Bird Hunting. [Reserved]

B. Upland Game Hunting. We allow hunting of ring-necked pheasant, sharp-tailed grouse, and grey partridge on designated areas of the refuge in accordance with State regulations subject to the following conditions:

1. You may only possess approved nontoxic shot while in the field (see § 32.2(k)).

2. The upland game bird season opens annually on the day following the close of the firearm deer season and runs through the close of the State season.

3. We close to upland game hunting those areas marked with yellow closed to hunting signs.

4. We prohibit hunters and dogs from entering closed areas to retrieve game.

C. Big Game Hunting. We allow hunting of deer on designated areas of the refuge in accordance with State regulations subject to the following conditions:

1. Hunters must only enter the refuge on foot.

2. We allow archery hunting. We restrict open archery areas to those areas of the refuge open to firearms during the firearm season.

3. We close to deer hunting during the firearm deer season those areas marked with yellow closed to hunting signs. We also close this area to muzzleloader hunters during muzzleloader season.

4. We prohibit hunters entering closed areas to retrieve game.

D. Sport Fishing. We allow fishing on designated areas of the refuge in accordance with State regulations subject to the following conditions:

1. We restrict bank fishing to public use areas on Unit 1 and Long Lake Creek.

2. We restrict boat fishing to Long Lake Creek.

3. We restrict boats to 25 hp maximum.

4. We restrict boats to the period from May 1 through September 30.

5. We restrict ice fishing to Unit 1 and Long Lake Creek.

6. We prohibit motorized vehicles on ice (see § 27.31 of this chapter).

7. We only allow fishing from legal sunrise to legal sunset.

8. Anglers must park vehicles in designated parking areas.

* * * * *

Slade National Wildlife Refuge

A. Migratory Game Bird Hunting. [Reserved]

B. Upland Game Hunting. [Reserved]

C. Big Game Hunting. We allow hunting of deer in accordance with State regulations subject to the following condition: Hunters must only enter the refuge on foot.

D. Sport Fishing. [Reserved]

Stewart Lake National Wildlife Refuge

A. Migratory Game Bird Hunting. [Reserved]

B. Upland Game Hunting. [Reserved]

C. Big Game Hunting. [Reserved]

D. Sport Fishing. We allow ice or shore fishing in accordance with State regulations subject to the following condition: We restrict vehicle use to the refuge road (see § 27.31 of this chapter).

Tewaukon National Wildlife Refuge

* * * * *

B. Upland Game Hunting. We allow ring-necked pheasant hunting on designated areas of the refuge in accordance with State regulations subject to the following conditions:

1. The season opens on the first Monday following the close of the State deer gun season and continues through the close of the State pheasant season.

2. You may only possess approved nontoxic shot while in the field (see § 32.2(k)).

C. Big Game Hunting. We allow deer bow hunting on designated areas of the refuge in accordance with State regulations subject to the following conditions:

1. The season closes September 30 and reopens the Friday following the close of the State gun deer season and continues through the end of the State archery deer season.

2. We allow deer gun hunting by refuge permit holders on designated areas of the refuge in accordance with State regulations.

3. We allow youth deer hunting on designated areas of the refuge in accordance with State regulations.

D. Sport Fishing. We allow sport fishing on designated waters (Tewaukon and Sprague Lakes only) in accordance with State regulations.

Upper Souris National Wildlife Refuge

A. Hunting of Migratory Birds. [Reserved]

B. Upland Game Hunting. We allow hunting of sharp-tailed grouse, Hungarian partridge, and pheasant on designated areas of the refuge in accordance with State regulations subject to the following conditions:

1. You may use dogs to hunt.

2. We require hunters and nonhunters accompanying legal hunters to wear the State-required, legal-orange clothing when hunting game birds during the deer gun season.

3. We open for hunting on Unit I during the North Dakota State hunting seasons. Unit I includes all refuge land north of the township road that runs east of Tolley, across Dam 41 (Carter Dam), and east to State Route 28.

4. We open for hunting on Unit II during the State hunting seasons, except we close from the first day of the regular State waterfowl season through the last day of State deer rifle season. Unit II includes refuge land between Lake Darling Dam and the township road that runs east of Tolley.

5. We close land south of Lake Darling Dam to all upland game bird hunting.

6. We prohibit hunting on the area surrounding the refuge headquarters buildings and residences. We post these areas with “Closed to Hunting” signs.

7. We prohibit remaining on the refuge between the hours of 10 p.m. and 5 a.m.

8. We prohibit weapons (see § 27.42(b) of this chapter) in boats, canoes, float tubes, or any other floatable object.

9. We prohibit the use of snowmobiles, all-terrain vehicles (ATVs) or similar vehicles on the refuge (see § 27.31(f) of this chapter).

10. We prohibit the use of horses during all hunting seasons.

C. Big Game Hunting. We allow archery, gun, and muzzleloader hunting of deer on designated areas of the refuge in accordance with State regulations subject to the following conditions:

1. Conditions B7 through B10 apply.

2. You must possess and carry a State deer bow permit to hunt deer on the refuge during the State deer bow season.

3. You must possess and carry a special State-issued refuge permit for State deer gun hunting in Unit IIIA2 to hunt deer on the refuge during the State deer gun season.

4. You must possess and carry a State muzzleloader deer permit to hunt deer on the refuge during the State muzzleloader season.

5. We only allow preseason scouting in open public use areas and areas marked “foot traffic only.”

6. We require hunters to walk in to hunt.

7. You must remove your harvested deer only by carrying, dragging, or using a hand-pulled cart or sled.

8. You may use portable tree stands but must remove them (see § 27.93 of this chapter) daily from the refuge.

9. We prohibit the use of flagging, paint, blazes, tacks, or other types of markers.

10. You may only use strap-on steps or removable climbing ladders if needed to access portable tree stands (see § 32.2(i)).

11. You may hunt all of the refuge with the exception of the following areas: the area surrounding the refuge headquarters buildings, Office/Visitor Center, residences, fenced equipment yard, and gun range. We post these areas with “No Trespassing” or “Closed to Hunting” signs.

12. We prohibit entry to the refuge before 12 p.m. (noon) on the first day of the bow, gun, or muzzleloader deer hunting seasons. However, bow hunters may hunt on the refuge any time the State bow season is open.

13. Youth deer hunters (14 years of age) may hunt on the refuge if they register at the refuge office prior to hunting during the State Youth Deer Season. An adult or guardian age 18 or older must accompany youth hunters.

14. You may not return to the refuge with a weapon after you have filled your deer tag; however, you may carry a shotgun while hunting upland game birds in open hunting units.

D. Sport Fishing. We allow fishing on designated areas of the refuge in accordance with State regulations subject to the following conditions:

1. Conditions B7 and B9 apply.

2. We allow use of fishing boats, canoes, and float tubes in designated boat fishing areas (see below) on Lake Darling for fishing from May 1 through September 30.

3. You may bank fish in designated areas (see below) whenever there is open water.

4. We prohibit the use of bow, spear, or underwater spearing equipment to take fish.

5. We prohibit fishing or access to fishing areas along the Prairie-Marsh Scenic Drive.

6. We prohibit swimming, sailing, water skiing, pleasure boating, and overnight camping.

7. You may ice fish on all ice-covered waters of the Souris River and Lake Darling; however, we designate access sites where you can walk or drive onto the ice (see below).

8. We allow you to drive licensed cars and pickups on the ice from Lake Darling Dam north to Carter Dam (Dam 41) for ice fishing.

9. We allow walk-in access at designated sites (see below) on the Souris River north of Carter Dam (Dam 41) and south of Lake Darling Dam for ice fishing. We prohibit vehicles to drive onto the ice in these areas (see § 27.31 of this chapter).

10. We allow you to place fish houses on the ice of Lake Darling.

11. We prohibit use of campers or other structures not made of floatable materials as fish houses. We require that all fish houses must be able to float above the water surface until they are removed from the water. We require that anglers remove fish houses or parts thereof from the refuge ice, water, and land by no later than 10 p.m. March 15. We prohibit ice houses or parts thereof to be cut off and left or burned on the refuge.

12. We allow anglers to place portable fish houses on the Souris River north of Carter Dam (Dam 41) and south of Lake Darling Dam for ice fishing, and you must remove them (see § 27.93 of this chapter) daily from the refuge.

13. We designate the following fishing sites and lake and river access sites:

i. BAKER BRIDGE—We allow bank fishing on a loop of the Souris River located on the north side of County Road 8. The open area begins at the bridge and goes west to a point where the river meets the refuge boundary fence. You may walk onto the ice from this area for ice fishing.

ii. SILVER BRIDGE—We allow bank fishing from the road right-of-way around the bridge. You may walk onto the ice from this area for ice fishing.

iii. OUTLET FISHING AREA—Bank fishing begins 1/4 mile (.4 km) below Lake Darling Dam and extends south approximately 600 yards (540 m). We prohibit open water fishing on the Beaver Lodge Canoe Trail or on the Oxbow Nature Trail (southeast of the parking lot). You may walk onto the ice for ice fishing from the Outlet Fishing Area and from the Beaver Lodge Canoe Trail launch site for ice fishing.

iv. LANDINGS 1, 2, and 3 on LAKE DARLING—We open the lake to boat fishing from Lake Darling Dam north 3 miles (4.8 km) to the buoy line. We allow you to launch boats at Landings 1, 2, and 3 boat ramps. We only allow driving access onto the ice at Landings 1, 2, and 3 boat ramps for ice fishing. You may bank fish along the west shore from Lake Darling Dam north approximately 1 1/4 miles (2 km) to Landing 3. The Pullout Area on the west end of Lake Darling Dam is the only bank fishing area open on Lake Darling Dam. You may walk onto the ice from the bank fishing area and from Lake Darling Dam for ice fishing.

v. SPILLWAY FISHING AREA on LAKE DARLING—We prohibit entry to this area if signs “Area Beyond This Sign Closed” are present. If the area is open, you may walk onto the ice for ice fishing. We prohibit driving vehicles onto the ice from this area (see § 27.31 of this chapter).

vi. GRANO CROSSING on LAKE DARLING—You may bank fish from the road right-of-way on both sides of the crossing and within the boundaries of the Grano Boat Ramp. You may fish from boats on the lake north from Grano Crossing to Greene Crossing. We allow launching of boats at the Grano Boat Ramp. We prohibit operating a boat above idle speed in the boat ramp bay area. You may walk onto the ice from Grano Crossing and the Grano Boat Ramp for ice fishing. We allow driving access onto the ice at two vehicle road approaches located on the west end of the Grano Crossing (see § 27.31 of this chapter).

vii. GREENE CROSSING on LAKE DARLING—You may bank fish from the road right-of-way on both sides of the crossing and the Greene Boat Ramp area. You may fish from boats on the lake south from Greene Crossing to Grano Crossing. We allow launching of boats at the Greene Boat Ramp. You may walk onto the ice from these areas for ice fishing. We allow driving access onto the ice at two vehicle road approaches located on the west end of the Greene Crossing and at the Greene Boat Ramp (see § 27.31 of this chapter).

viii. CARTER DAM (DAM 41)—You may bank fish on both sides of the road near the water control structure (east end of the dam) and culvert (west end of the spillway). You may walk onto the ice for ice fishing.

ix. HIGHWAY 5—You may bank fish on the north side of the road from the bridge west to a point where the road meets the river. You may walk onto the ice for ice fishing on the north and south sides of the highway where the ice meets the highway right-of-way.

x. SOURIS RIVER NORTH OF MOUSE RIVER PARK TO THE NORTH END OF THE REFUGE—We allow boat fishing and canoeing. There is a boat launching ramp at the Park. You may walk onto the ice from Mouse River Park for ice fishing.

xi. SWENSON BRIDGE—You may bank fish from the road right-of-way. You may walk onto the ice from this area for ice fishing.

36. Amend § 32.54 Ohio by revising paragraphs A., C., and D. of “Ottawa National Wildlife Refuge” to read as follows:

§ 32.54 Ohio.

* * * * *

Ottawa National Wildlife Refuge

A. Migratory Game Bird Hunting. We allow hunting of goose and duck on designated areas of the refuge in accordance with State regulations subject to the following conditions:

1. You must possess and carry a refuge permit. All hunters must check-in and out at the hunter check station.

2. We require that hunting stop at 12 p.m. (noon) each day.

3. We require that hunters hunt within 75 yards (67.5 m) of the assigned blind.

4. You may only possess approved nontoxic shotshells (see § 32.2(k)) while in the field in quantities of 25 or less.

* * * * *

C. Big Game Hunting. We allow hunting of white-tailed deer on designated areas of the refuge in accordance with State regulations subject to the following conditions:

1. You must possess and carry a refuge permit.

2. We require that hunters check out at the refuge check station no later than 6 p.m.

3. Hunters must check all deer harvested at the refuge check station.

4. We require that hunters wear a hat and outer jacket/vest that is blaze orange.

5. We require that hunters remain within their assigned unit.

6. We prohibit possession of more than one hunting weapon while in the field.

7. We prohibit the construction or use of permanent blinds or tree stands.

8. We require that hunters obtain permission from refuge officials before tracking a wounded deer out of their assigned hunting unit.

9. We prohibit shooting from any road.

D. Sport Fishing. We allow fishing on designated areas of the refuge in accordance with State regulations subject to the following conditions:

1. We allow fishing from legal sunrise to legal sunset during designated dates.

2. We prohibit boats or flotation devices.

37. Amend § 32.55 Oklahoma by:

a. Revising “Deep Fork National Wildlife Refuge;”

b. Revising “Little River National Wildlife Refuge;”

c. Revising paragraphs A., B., and D. of “Salt Plains National Wildlife Refuge;”

d. Revising “Sequoyah National Wildlife Refuge;” and

e. Revising paragraph A. of “Washita National Wildlife Refuge” to read as follows:

§ 32.55 Oklahoma.

* * * * *

Deep Fork National Wildlife Refuge

A. Migratory Game Bird Hunting. We allow hunting of duck in designated areas of the refuge in accordance with State regulations subject to the following conditions:

1. You must possess and carry a signed refuge permit. We require no fee.

2. We prohibit taking of goose during the duck hunt.

3. Species and bag limits are in accordance with State regulations.

4. We allow duck hunting on Fridays, Saturdays, Sundays, and Mondays, from ½ hour before legal sunrise until 1 p.m. Refer to the refuge hunting brochure for opening and closing dates.

5. You may only use portable blinds. You must remove blinds, decoys, and all personal equipment (see § 27.93 of this chapter) daily.

6. We prohibit off-road vehicle use (see § 27.31 of this chapter).

B. Upland Game Hunting. We allow hunting of squirrel, rabbit, turkey, and raccoon in designated areas of the refuge in accordance with State regulations subject to the following conditions:

1. You must possess and carry a signed refuge permit. We require no fee.

2. We only allow shotguns and .22 caliber rimfire rifles for rabbit and squirrel. We only allow special archery hunts by refuge Special Use Permit.

3. Raccoon hunting only: hunt hours are legal sunset to legal sunrise only. State firearm restrictions apply.

4. We publish opening and closing dates in the Refuge Hunt Brochure.

5. We allow dogs for hunting squirrel, rabbit, and raccoon, but you must remove them from the refuge at the end of the hunt (see § 26.21(b) of this chapter).

6. We offer refuge-controlled turkey hunts. You may call the refuge office or the State for information concerning these hunts.

7. Turkey hunters must check-in and out at a refuge check station. Refuge staff provide a hunter briefing as part of the check-in.

8. We prohibit the construction or use of permanent blinds during turkey hunts.

9. We prohibit off-road vehicle use (see § 27.31 of this chapter).

C. Big Game Hunting. We allow hunting of white-tailed deer in designated areas of the refuge in accordance with State regulations subject to the following conditions:

1. You must possess and carry a refuge permit.

2. We offer refuge-controlled deer hunts (archery, primitive, youth primitive). For information concerning these hunts, contact the refuge office or the State.

3. We will offer a limited archery season deer hunt following the controlled deer hunt. Contact the refuge office for more information.

4. We prohibit scouting when we are conducting controlled deer hunts.

5. You may use tree stands, but you must remove them (see § 27.93 of this chapter) immediately following the end of the hunt.

6. We prohibit off-road vehicle use (see § 27.31 of this chapter).

D. Sport Fishing. We allow fishing in designated areas of the refuge in accordance with State regulations subject to the following conditions:

1. A fishing brochure with a map is available from the refuge office. We identify parking areas and open and closed areas on the map.

2. You must launch boats on the refuge from access points designated in the refuge leaflet. We only allow small boats or canoes on the refuge.

3. We prohibit the use of firearms.

4. We allow year-round fishing on the Deep Fork River. We allow fishing from March 1 through October 31 on sloughs, farm ponds, and impoundments not connected to the river.

5. Game fish species and creel/possession limits are in accordance with State regulations.

6. We allow bowfishing on the refuge during daylight hours from May 15 through September 30.

7. We prohibit snagging and netting.

8. We only allow trotlines, juglines, limblines, and yo-yos in the Deep Fork River and prohibit them in any other areas on the refuge. Anglers must mark lines and attend and remove them (see § 27.93 of this chapter) in accordance with State regulations.

9. We allow noodling in accordance with State fishing regulations.

10. We prohibit the taking of turtle and mussel (see § 27.21 of this chapter).

Little River National Wildlife Refuge

A. Migratory Game Bird Hunting. We allow hunting of duck on designated areas of the refuge in accordance with State regulations subject to the following conditions:

1. We prohibit off-road vehicle use (see § 27.31 of this chapter).

2. We prohibit building and use of permanent blinds.

3. You may hunt from ½ hour before legal sunrise until 12 p.m. (noon) each day.

4. You must possess and carry a signed refuge permit while hunting.

5. You may only hunt duck during designated refuge seasons.

6. You may only possess approved nontoxic shot while in the field (see § 32.2(k)).

B. Upland Game Hunting. We allow hunting of squirrel, rabbit, turkey, beaver, and raccoon on designated areas of the refuge in accordance with State regulations subject to the following conditions:

1. Turkey hunters using firearms (see § 27.42 of this chapter) must pay fees and obtain a controlled hunt permit through the State.

2. Conditions A1 and A4 apply.

3. You may only hunt upland game during designated refuge seasons.

4. Shotgun hunters may only possess approved nontoxic shot while in the field (see § 32.2(k)).

5. You may hunt beaver during any established refuge hunting season. Refuge permits and legal weapons apply for the current hunting season.

C. Big Game Hunting. We allow hunting of deer and feral hog on designated areas of the refuge in accordance with State regulations subject to the following conditions:

1. Deer hunters using firearms (see § 27.42 of this chapter) must pay fees and obtain a controlled hunt permit through the State.

2. Condition A1 applies.

3. You may hunt feral hog during any established refuge hunting season. Refuge permits and legal weapons apply for the current hunting season.

4. Deer archery hunters must possess and carry a signed refuge permit while hunting.

D. Sport Fishing. We allow fishing on designated areas of the refuge in accordance with State regulations subject to the following conditions:

1. We allow fishing from legal sunrise to legal sunset.

2. Condition A1 applies.

* * * * *

Salt Plains National Wildlife Refuge

A. Migratory Game Bird Hunting. We allow hunting of duck, goose, sandhill crane, and mourning dove on designated areas of the refuge in accordance with State regulations subject to the following conditions:

1. You may only possess approved nontoxic shot while in the field (see § 32.2(k)).

2. We require hunters to check-in and out of the refuge.

3. Hunting ends at 12 p.m. (noon).

4. We prohibit hunting during the regular State rifle deer season on Saturdays, Sundays, and Mondays.

B. Upland Game Hunting. We allow hunting of quail and pheasant on designated areas of the refuge in accordance with State regulations subject to the following conditions:

1. Conditions A1 through A4 apply.

* * * * *

D. Sport Fishing. We allow fishing on designated areas of the refuge in accordance with State regulations subject to the following conditions:

1. We close designated areas of the Great Salt Plains Reservoir.

2. We allow fishing from April 1 through October 15.

3. We prohibit trotlines within 500 feet (150 m) of the shoreline of the Jet Recreation Area.

4. Posts used to secure or anchor trotlines must reach a minimum of 2 feet (30 cm) above the water surface, and you must mark them to make them clearly visible to boaters.

5. We prohibit the taking of any type of bait from refuge lands or waters.

6. We only allow fishing on Bonham Pond: by youths age 14 and under or by any person with a disability, only during daylight hours, and with a limit of one pole per person.

Sequoyah National Wildlife Refuge

A. Migratory Game Bird Hunting. We allow hunting of duck, goose, dove, coot, snipe, and woodcock on designated areas of the refuge in accordance with State regulations subject to the following conditions:

1. We require a free annual refuge permit for all hunting. The hunter must possess and carry the signed permit while hunting.

2. We only open the refuge to hunting on Saturdays, Sundays, Mondays, and Tuesdays. Hunters may only enter the open portion of Sally Jones Lake by boat after 5 a.m. and must leave by 1 hour after legal sunset. We generally designate open hunting areas as: Area A—Sandtown Bottom, Area B—Webber Bottom, and Area C—Girty Bottom. We prohibit hunting or shooting within 50 feet (15 meters) of designated roads or parking areas. All hunters must park in designated parking areas.

3. Season lengths and bag limits will be in accordance with State regulations with the exception that all hunting, except for the conservation light goose season, will close on January 31 of each year. If a conservation light goose season is in effect, it will follow State regulations with the exception of special refuge regulations and hunting days.

4. We only allow legal shotguns. You must unload and case shotguns (see § 27.42(b) of this chapter) while transporting them in a vehicle or boat.

5. We prohibit construction of pit blinds or permanent blinds. You must reduce blinds to a natural appearance or remove them (see § 27.93 of this chapter) at the end of the day. You must remove all empty shells, litter, decoys, boats, or other personal property (see §§ 27.93 and 27.94 of this chapter) at the end of the day. We prohibit camping in boats or otherwise spending the night on any area of the refuge.

6. We allow boats, and you must operate them under applicable State laws and comply with all licensing and marking regulations from their State of origin.

7. We allow the use of dogs for hunting, but the dogs must remain under the immediate control of the hunter at all times (see § 26.21(b) of this chapter). We prohibit entry by hunters or dogs to closed areas to retrieve or rally game.

8. We prohibit guiding or outfitting for commercial purposes.

9. We restrict the use of airboats within the refuge boundary to the navigation channel and the designated hunting areas from September 1 to March 1.

B. Upland Game Hunting. We allow hunting of squirrel, quail, and rabbit on designated areas of the refuge in accordance with State regulations subject to the following conditions:

1. Conditions A1, A7, A8, and A9 apply.

2. We only open the refuge to hunting on Saturdays, Sundays, Mondays, and Tuesdays. We generally designate open areas as: Area A—Sandtown Bottom, Area B—Webber Bottom, and Area C—Girty Bottom. We prohibit hunting or shooting within 50 feet (15 meters) of designated roads or parking areas. All hunters must park in designated parking areas.

3. Season lengths and bag limits will be in accordance with State regulations with the exception that all upland game hunting will close on January 31 of each year.

4. We only allow legal shotguns and approved nontoxic shot (see § 32.2(k)). You must plug shotguns so they are incapable of holding more than three shells. You must unload and case shotguns (see § 27.42(b) of this chapter) while transporting them by vehicle or boat.

5. We require upland game hunters to follow State blaze-orange regulations.

C. Big Game Hunting. We allow hunting of white-tailed deer on designated areas of the refuge in accordance with State regulations subject to the following conditions:

1. Hunters must possess and carry a refuge-controlled hunt permit, and comply with the designated refuge season, hunting methods, and location guidelines for that year.

2. Hunters must apply to the State-controlled deer hunt drawing administered by the Oklahoma Department of Wildlife Conservation for selection. We require those hunters to attend a prehunt briefing, and they must follow all applicable State regulations.

3. We require payment of State and Federal special deer hunting fees.

4. Condition A9 applies.

D. Sport Fishing. We allow fishing and frogging on designated areas of the refuge in accordance with State regulations subject to the following conditions:

1. Fishing and frogging will follow State seasons, limits, and regulations with the exception that from September 1 to March 31 we prohibit fishing or frogging in the closed zone south of refuge headquarters, as designated by buoys and signs. We close the Horton Slough area south of the refuge headquarters to fishing and entry east to the confluence of Little Vian Creek.

2. We prohibit boating on the closed portion of Sally Jones Lake from September 1 to March 31.

3. You must remove trotlines (see § 27.93 of this chapter) from the closed zone before September 1.

4. Conditions A6 (boats used for fishing), A8, and A9 apply.

5. We prohibit the use of any firearms or bows with arrows while frogging.

* * * * *

Washita National Wildlife Refuge

A. Migratory Game Bird Hunting. We allow hunting of duck, goose, and sandhill crane on designated areas of the refuge in accordance with State regulations subject to the following conditions:

1. We require permits and payment of a fee to hunt goose and sandhill crane.

2. Goose and sandhill crane hunters must hunt from designated pit blinds.

3. We allow youth hunters, ages 12 to 16, to hunt duck in a controlled youth hunt in conjunction with a waterfowl seminar.

* * * * *

38. Amend § 32.56 Oregon by:

a. Revising paragraph A. of “Bandon Marsh National Wildlife Refuge;”

b. Revising paragraph A., the introductory text of paragraph B., and paragraphs B1, B2, and D. of “Cold Springs National Wildlife Refuge;”

c. Revising the section heading “Hart Mountain National Wildlife Refuge” to read “Hart Mountain National Antelope Refuge” and revising paragraphs A., B., C., and D.;

d. Revising paragraphs A., B., and D. of “McKay Creek National Wildlife Refuge;”

e. Revising “McNary National Wildlife Refuge;” and

f. Revising “Umatilla National Wildlife Refuge” to read as follows:

§ 32.56 Oregon.

* * * * *

Bandon Marsh National Wildlife Refuge

A. Migratory Game Bird Hunting. We allow hunting of goose, duck, coot, and snipe on that portion of the refuge west of U.S. Highway 101 and outside the Bandon city limits, in accordance with State regulations subject to the following conditions;

1. You may only use portable blinds or blinds constructed of on-site dead vegetation (see § 27.51 of this chapter) or driftwood.

2. You must remove all blinds, decoys, shotshell hulls, and other personal equipment and refuse (see §§ 27.93 and 27.94 of this chapter) from the refuge at the end of each day's hunt.

3. You may only possess approved nontoxic shot while in the field (see § 32.2(k)).

* * * * *

Cold Springs National Wildlife Refuge

A. Migratory Game Bird Hunting. We allow hunting of goose, duck, coot, dove, and common snipe on designated areas of the refuge in accordance with State regulations subject to the following conditions:

1. We only allow hunting on Tuesdays, Thursdays, Saturdays, Sundays, Thanksgiving Day, Christmas Day, and New Year's Day.

2. We open the refuge from 5 a.m. until 1½ hours after legal sunset.

3. You may only possess approved nontoxic shotshells (see § 32.2(k)) per day on the refuge in quantities of 25 or less.

4. We only allow vehicles on designated routes of travel and require hunters to park in designated parking areas (see § 27.31 of this chapter). We reserve parking lot F solely for Memorial Marsh Unit waterfowl hunters.

5. We require waterfowl hunting parties to space themselves a minimum of 200 yards (180 m) apart in the free-roam area along the reservoir shoreline.

6. We only allow portable blinds and temporary blinds constructed of natural materials.

7. We only allow nonmotorized boats and boats with electric motors within that portion of reservoir open to hunting.

8. On the Memorial Marsh Unit, we only allow hunting from numbered field blind sites, and hunters must only park their vehicles at the numbered post corresponding to the numbered field blind site they are using (see § 27.31 of this chapter). Selection of parking sites/numbered posts is on a first-come, first-served basis at parking lot F. We prohibit free-roam hunting or jump shooting, and you must remain within 100 feet (30 m) of the numbered field blind post unless retrieving birds or setting decoys. We allow a maximum of four persons per blind site.

B. Upland Game Hunting. We allow hunting of pheasant, chukar, Hungarian partridge, and quail on designated areas of the refuge in accordance with State regulations subject to the following conditions:

1. We only allow hunting on Tuesdays, Thursdays, Saturdays, Sundays, Thanksgiving Day, and Christmas Day.

2. We prohibit hunting of upland game birds until 12 p.m. (noon) of each hunt day.

* * * * *

D. Sport Fishing. We allow fishing on designated areas of the refuge in accordance with State regulations subject to the following conditions:

1. In the Cold Springs Reservoir, we only allow fishing from March 1 through September 30.

2. On the south side of the reservoir, we only allow bank fishing.

3. We only allow use of nonmotorized boats and boats with electric motors.

4. From October 1 through the last day of February, we only allow bank fishing, and only in the area beginning at the west inlet canal, north across the face of the dam to the closed area sign.

5. We only allow fishing with hook and line.

6. The refuge is open from 5 a.m. to 1½ hours after legal sunset.

* * * * *

Hart Mountain National Antelope Refuge

A. Migratory Game Bird Hunting. [Reserved]

B. Upland Game Hunting. We allow hunting of chukar only on the western slopes of Hart Mountain and Poker Jim Ridge in accordance with State regulations.

C. Big Game Hunting. We allow hunting of deer, antelope, and bighorn sheep on the refuge in areas designated by permit issued from the State in accordance with State regulations subject to the following conditions:

1. We allow ground blinds, but we prohibit construction of them earlier than 1 week prior to the opening day of the legal season for which you have a valid permit.

2. You must remove blinds (see § 27.93 of this chapter) within 24 hours of harvesting an animal or at the end of the permittee's legal season.

3. We limit hunters to one blind each, and you must tag blinds with the owner's name and permit number.

4. We prohibit destruction of native vegetation (see § 27.51 of this chapter) or below-ground excavation.

5. We require hunters to check-in at the refuge headquarters prior to hunting on the refuge and check out at the refuge headquarters upon completion of the hunt.

6. We prohibit hunting within 3 miles (4.8 km) of the refuge headquarters.

D. Sport Fishing. We allow fishing on the refuge only in Rock Creek, Guano Creek, and Warner Pond in accordance with State regulations.

* * * * *

McKay Creek National Wildlife Refuge

A. Migratory Game Bird Hunting. We allow hunting of goose, duck, coot, and common snipe on designated areas of the refuge in accordance with State regulations subject to the following conditions:

1. We only allow hunting on Tuesdays, Thursdays, Saturdays, Sundays, Thanksgiving Day, Christmas Day, and New Year's Day.

2. We open the refuge from 5 a.m. to 1½ hours after legal sunset.

3. You may only possess approved nontoxic shotshells (see § 32.2(k)) on the refuge in quantities of 25 or less per day.

4. We only allow vehicles on designated routes of travel and require hunters to park in designated parking areas (see § 27.31 of this chapter).

5. We require waterfowl hunting parties to space themselves a minimum of 200 yards (180 m) apart.

6. We only allow portable blinds and temporary blinds constructed of natural materials.

7. We prohibit the use of boats.

B. Upland Game Hunting. We allow hunting of upland game birds on designated areas of the refuge in accordance with State regulations subject to the following conditions:

1. Conditions A1 and A2 apply.

2. On the opening weekend of the hunting season, we require all hunters to possess and carry a signed refuge permit.

* * * * *

D. Sport Fishing. We allow fishing on designated areas of the refuge in accordance with State regulations subject to the following condition: We allow fishing from March 1 through September 30.

McNary National Wildlife Refuge

A. Migratory Game Bird Hunting. We allow hunting of migratory birds on designated areas of the refuge in accordance with State regulations and special conditions listed for McNary National Wildlife Refuge in the State of Washington.

B. Upland Game Hunting. We allow hunting of upland game birds on designated areas of the refuge in accordance with State regulations and special conditions listed for McNary National Wildlife Refuge in the State of Washington.

C. Big Game Hunting. We allow deer hunting on designated areas of the refuge in accordance with State regulations.

D. Sport Fishing. We allow fishing on designated areas of the refuge in accordance with State regulations and special conditions listed for McNary National Wildlife Refuge in the State of Washington.

* * * * *

Umatilla National Wildlife Refuge

A. Migratory Game Bird Hunting. We allow hunting of goose, duck, coot, and common snipe on designated areas of the Boardman and McCormack Units in accordance with State regulations subject to the following conditions:

1. We open the refuge from 5 a.m. to 1½ hours after legal sunset.

2. You may only possess approved nontoxic shotshells (see § 32.2(k)) on the refuge in quantities of 25 or less.

3. We prohibit off-road vehicle travel and all use of ATVs (see § 27.31(f) of this chapter). We only allow vehicles on designated routes of travel and require hunters to park in designated parking areas (see § 27.31 of this chapter).

4. The McCormack Unit is a fee-hunt area only open to hunting on Wednesdays, Saturdays, Sundays, Thanksgiving Day, and New Year's Day during State waterfowl seasons.

5. Prior to entering the McCormack Fee Hunt Unit, we require you to stop at the check station to obtain a refuge permit (you must possess and carry), pay a recreation user fee, and obtain a blind assignment before hunting.

6. On the McCormack Unit, we only allow hunting from assigned blind sites and require hunters to remain within 100 feet (90 m) of marked blind sites unless retrieving birds.

7. On the Boardman Unit, we require waterfowl hunting parties to space themselves a minimum of 200 yards (180 m) apart. We only allow portable blinds and temporary blinds constructed of natural materials.

B. Upland Game Hunting. We allow hunting of upland game birds on designated areas of the refuge in accordance with State regulations subject to the following conditions:

1. We prohibit hunting of upland game birds until 12 p.m. (noon) of each hunt day.

2. On the McCormack Fee Hunt Unit, we only allow hunting on Wednesdays, Saturdays, Sundays, and Thanksgiving Day.

3. On the McCormack Unit, we require all hunters to possess and carry a signed refuge permit on the opening weekend of the hunting season.

C. Big Game Hunting. We allow hunting of deer on designated areas of the refuge in accordance with State regulations subject to the following condition: Hunting is by special refuge permit (you must possess and carry) only.

D. Sport Fishing. We allow fishing on designated areas of the refuge in accordance with State regulations subject to the following conditions:

1. We open the refuge from 5 a.m. to 1½ hours after legal sunset.

2. We allow fishing on refuge impoundments and ponds from February 1 through September 30. We open other refuge waters (Columbia River and its backwaters) in accordance with State regulations.

* * * * *

39. Amend § 32.57 Pennsylvania by:

a. Revising “Erie National Wildlife Refuge”; and

b. Revising paragraph D. of “John Heinz National Wildlife Refuge at Tinicum” to read as follows:

§ 32.57 Pennsylvania.

* * * * *

Erie National Wildlife Refuge

A. Migratory Game Bird Hunting. We allow hunting of mourning dove, rail, common snipe, goose, duck, coot, and crow on designated areas of the refuge in accordance with State regulations subject to the following conditions:

1. We allow hunting on the refuge from September 1 through the end of February.

2. We only allow nonmotorized boats for waterfowl hunting. Hunters must remove boats (see § 27.93 of this chapter) from the refuge at the end of each day.

3. Hunters must remove decoys from the refuge at the end of each day.

4. We allow dogs for hunting; however, they must be under the immediate control of the hunter at all times (see § 26.21(b) of this chapter).

5. We prohibit field possession of migratory game birds in areas of the refuge closed to migratory game bird hunting.

B. Upland Game Hunting. We allow hunting of grouse, squirrel, rabbit, woodchuck, pheasant, quail, raccoon, fox, coyote, skunk, and opossum on designated areas of the refuge in accordance with State regulations subject to the following conditions:

1. We allow hunting on the refuge from September 1 through the end of February.

2. All fox, coyote, and raccoon hunters must possess and carry a refuge Special Use Permit while hunting on the refuge.

3. We prohibit pheasant hunting on the Sugar Lake Division of the refuge.

4. We allow dogs for hunting; however, they must be under the immediate control of the hunter at all times (see § 26.21(b) of this chapter).

C. Big Game Hunting. We allow hunting of deer, bear, and turkey on designated areas of the refuge in accordance with State regulations subject to the following conditions:

1. We allow hunting on the refuge from September 1 through the end of February. We also allow spring turkey hunting in accordance with State regulations.

2. Hunters must remove blinds, platforms, scaffolds, tree stands, and decoys (see § 27.93 of this chapter) from the refuge at the end of each day.

3. We prohibit organized deer drives in hunt area B of the Sugar Lake Division. We define a “drive” as three or more persons involved in the act of chasing, pursuing, disturbing, or otherwise directing deer so as to make the animal more susceptible to harvest.

4. All bear hunters must have a refuge Special Use Permit in their possession while hunting on the refuge.

5. We require all hunters to notify the refuge within 48 hours of the harvest of a deer, bear, or turkey.

D. Sport Fishing. We allow fishing on designated areas of the refuge in accordance with State regulations subject to the following conditions:

1. We allow bank/pier fishing on all fishing areas.

2. We allow fishing from ½ hour before legal sunrise until ½ hour after legal sunset.

3. We only allow boats without motors in Area 5 from the second Saturday in June through September 15. They must remain in an area from the dike to 3,000 feet (900 m) upstream.

4. Anglers must remove boats (see § 27.93 of this chapter) from the refuge at the end of each day.

5. We only allow ice fishing in Areas 5 and 7.

6. All persons must possess and carry a refuge Special Use Permit while taking minnow or turtle.

7. We prohibit the taking of frog.

John Heinz National Wildlife Refuge at Tinicum

* * * * *

D. Sport Fishing. We allow sport fishing on the refuge in accordance with State regulations subject to the following conditions:

1. We allow fishing on all refuge waters, except:

i. The East side of the Main Impoundment from the Dike Road south to the Trolley Bed trail; and

ii. The small pond located on the south side of Bartram Ave at the I-95 South on ramp.

2. We allow fishing on the refuge from legal sunrise to legal sunset.

3. Anglers may only operate boats, canoes, and floats in tidal waters. We prohibit them on the refuge impoundments and ponds.

4. We only allow fishing from the shoreline in refuge impoundments and ponds. We prohibit wading.

5. We prohibit bowfishing or spearfishing on the refuge.

6. We prohibit the take, collection, or capture of reptile or amphibian on the refuge.

* * * * *

40. Amend § 32.60 South Carolina by:

a. Revising “ACE Basin National Wildlife Refuge;”

b. Revising “Carolina Sandhills National Wildlife Refuge;”

c. Revising paragraph C. of “Pinckney Island National Wildlife Refuge;”

d. Revising “Savannah National Wildlife Refuge;” and

e. Adding “Waccamaw National Wildlife Refuge” to read as follows:

§ 32.60 South Carolina.

* * * * *

ACE Basin National Wildlife Refuge

A. Migratory Game Bird Hunting. We allow hunting of duck, goose, and coot on designated areas of the refuge in accordance with State regulations subject to the following conditions:

1. We require each hunter to carry at all times while hunting a signed, current refuge hunting regulations brochure containing a refuge hunt permit. The hunt permit is invalid until signed by the hunter.

2. Each youth hunter (age 15 and under) must remain within sight and normal voice contact of an adult age 21 or older. Youth hunters must have successfully completed a State-approved hunter education course.

3. We only allow hunting until 12 p.m. (noon) each day during the State waterfowl season.

4. We prohibit hunting on Corps of Engineer dredge spoil sites located on refuge property on Jehossee Island.

5. We prohibit permanent blinds. You must remove portable blinds and decoys (see § 27.93 of this chapter) at the end of each day's hunt.

6. We only allow use of retrieving dogs while hunting.

7. We allow scouting all year during daylight hours.

8. Access to the hunt areas is by boat only. We prohibit boat launching on the refuge.

9. We do not require hunter check-in and check-out. There is no quota on the number of hunters.

B. Upland Game Hunting. [Reserved]

C. Big Game Hunting. We allow hunting of white-tailed deer and feral hog on designated areas of the refuge in accordance with State regulations subject to the following conditions:

1. Conditions A1 and A2 apply.

2. We only allow hunting on days designated annually by the refuge within the State season. We only allow hunting on designated refuge areas within the Edisto Unit and the Combahee Unit.

3. We only allow archery or muzzleloader hunting, and there is no quota on the number of hunters allowed to participate. During a special quota permit hunt for the mobility impaired, we allow use of centerfire rifles or shotguns.

4. Access into all refuge hunt areas for hunting and scouting is by foot or bicycle. We may open some refuge roads on hunt days.

5. We allow scouting all year from legal sunrise to legal sunset.

6. Hunters may enter the refuge no earlier than 5 a.m. on hunt days and must leave the refuge no later than 1 hour after legal sunset.

7. We do not require hunter check-in and check-out. However, you must check all deer taken during any hunt at the designated refuge check station before removal from the refuge. In addition, you must tag all antlerless deer with an antlerless tag provided by the refuge.

8. The refuge daily bag limit is two antlerless deer and one antlered buck that must have at least three antler points on one side. We define a “point” as an antler projection of at least 1 inch (2.5 cm) or more in length.

9. You may take feral hog during refuge deer hunts. There is no size or bag limit on hog.

10. We only allow one portable tree stand per hunter and only during the actual days of each hunt.

11. We prohibit hunting on or within 100 feet (30 m) of all routes marked as roads or trails (see § 27.31 of this chapter) on the hunt brochure map.

12. All permanently fixed ground blinds are for the mobility-impaired hunt only.

14. We prohibit crossbows on the archery hunts. We only allow muzzleloading rifles using a single projectile on the muzzleloader hunts. We prohibit buckshot.

15. You may use flagging to mark the site of hunter entry from roads or trails and again at the stand site. You may use clothes pins with reflective tape between these sites to mark the route to the stand. Hunters must label all such markers with their full name and remove them (see § 27.93 of this chapter) at the end of the hunt.

16. We require hunters to wear an outer garment visible above the waist that contains a minimum of 500 square inches (3,250 cm2) of solid, florescent-orange material at all times during the muzzleloader and mobility-impaired hunts.

17. We prohibit the use of organized drives for taking or attempting to take game.

D. Sport Fishing. We allow fishing on designated areas of the refuge in accordance with State regulations subject to the following conditions:

1. We allow fishing in impounded waters contained within dikes and levees in the Beaufort County portion of the refuge annually from April 1 through August 31 during daylight hours. We close fishing during all remaining times within all refuge-impounded waters.

2. We prohibit boat use within refuge-impounded waters. We only allow bank fishing.

3. We only allow hook and line sport fishing utilizing rod and reel or pole.

4. We only open access into refuge areas to fishing by foot or bicycle.

* * * * *

Carolina Sandhills National Wildlife Refuge

A. Migratory Game Bird Hunting. We allow hunting of mourning dove and woodcock on designated areas of the refuge in accordance with State regulations subject to the following conditions:

1. All hunters must possess and carry a signed refuge General Hunt Permit and a government-issued picture ID.

2. All hunters must complete a Small Game Check Sheet attached to the refuge General Hunt Permit. You must turn each check sheet in daily at one of the small game check sheet drop boxes.

3. We prohibit discharge of weapons (see § 27.42 of this chapter) within, into, or across a “No Hunting Zone” or “Closed Area”. We prohibit entering or crossing a “No Hunting Zone” or “Closed Area” to access areas open to hunting. We require consent from refuge personnel to enter a “No Hunting Zone” or “Closed Area” for the purpose of tracking and/or retrieving legally taken game animals.

4. Each youth hunter (age 16 or younger) must remain within sight and normal voice contact and under supervision of an adult age 21 or older with a valid license and applicable permit. Each adult may supervise no more than two youth hunters. Each youth hunter must possess and carry evidence of successful completion of a State-approved hunter education course.

5. We prohibit loaded firearms (see § 27.42 of this chapter) within 100 feet (30 m) of maintained refuge roads or within 500 feet (150 m) of the paved visitor's drive. We prohibit discharge of any weapon on or across any part of the refuge road system. We define a “loaded firearm” as a firearm with shells in the magazine or chamber, or, for muzzleloaders, a gun with the percussion caps put in place.

6. Hunters must possess shotguns with shot no larger than No. 5.

7. Legal shooting hours for September dove hunts are 12 p.m. (noon) to 6:30 p.m.

8. We prohibit discharge of weapons for any purpose other than to take or attempt to take legal game animals during established hunting seasons.

B. Upland Game Hunting. We allow hunting of quail, rabbit, raccoon, and opossum on designated areas of the refuge in accordance with State regulations subject to the following conditions:

1. Conditions A1 through A5 and A8 apply.

2. We require dogs for hunting raccoon and opossum. All dogs must wear a collar displaying the owner's name, address, and phone number.

3. Upland game hunters may possess shotguns with shot no larger than No. 4 or .22 caliber rimfire rifles or primitive muzzleloading rifles of .40 caliber or smaller. We prohibit possession of buckshot or slugs.

4. Upland game hunters using archery equipment must use small game tips on the arrows.

C. Big Game Hunting. We allow hunting of white-tailed deer, turkey, and feral hog on designated areas of the refuge in accordance with State regulations subject to the following conditions:

1. All hunters must possess and carry a signed refuge General Hunt Permit and a government-issued picture ID; however, in addition, turkey hunters must have a Refuge Quota Turkey Hunt Permit. Refuge Quota Turkey Hunt Permits are nontransferable.

2. You must promptly check all deer and hog killed on the refuge during modern gun hunts at the Refuge Check Station on the day of the kill prior to removal from the refuge. You must promptly check all antlerless deer killed on the refuge during the primitive weapons and archery hunts at the refuge office on the day of the kill prior to removal from the refuge. You must self-check all antlered bucks and hogs at the Refuge Check Station during the primitive weapons and archery hunts. In addition, you must have all antlerless deer tagged by refuge staff prior to removal from the refuge. You must promptly check and tag all turkey killed on the refuge during the Refuge Quota Turkey Hunt at the refuge office on the day of the kill prior to removal from the refuge.

3. Conditions A3 through A5 apply.

4. During big game deer hunts, we prohibit hunters from entering the refuge before 4 a.m., and they must leave the refuge no later than 2 hours after legal sunset. We will lock gates 2 hours after legal sunset on the last day of each hunt.

5. During refuge firearms deer hunts all participants must wear at least 500 square inches (3,250 cm²) of unbroken, flourescent-orange material above the waistline as an outer garment while hunting and while en route to and from hunting areas.

6. During the primitive weapons hunt, you may use bow and arrow, muzzleloading shotguns (20 gauge or larger), or muzzleloading rifles (.40 caliber or larger). We prohibit revolving rifles or black-powder handguns.

7. During the modern gun hunts, you may use shotguns, rifles (centerfire and larger than .22 caliber), handguns (.357 caliber or larger and barrel length no less than 6 inches [15 cm]), or any weapon allowed during the primitive weapons hunt. We prohibit military, hard-jacketed bullets, and .22 caliber rimfire rifles during the modern gun hunts.

8. We prohibit man driving deer. We define a “man drive” as an organized hunting technique involving two or more individuals attempting to drive game animals from cover or habitat for the purpose of shooting, killing, or moving such animals toward other hunters.

9. You must identify deer stands used on the refuge with the hunter's name, address, and phone number.

10. We prohibit the use of dogs for any big game hunting.

11. We prohibit the use of flagging or reflective tape, paint, tacks, or other trail markers. You may use painted clothes pins or clothes pins with reflective tape or tacks attached, but you must remove them (see § 27.93 of this chapter) at the end of each hunt.

12. Youth hunts are for hunters ages 10 through 15 only. We prohibit adults from discharging firearms during youth deer and turkey hunts.

13. The bag limit during each deer hunt is the State limit plus two antlerless deer and unlimited hogs.

14. We require you to field-dress or remove the deer whole prior to transportation in a vehicle or removing them from the refuge.

15. We prohibit the use of ATVs, except by mobility-impaired hunters with a Special Use Permit during big game hunts. Mobility-impaired hunters must have a State Disabled Hunting license, be confined to a wheelchair, need mechanical aids to walk, or have complete single-or double-leg amputation.

16. We prohibit turkey hunters from calling a turkey for another hunter unless both hunters have Refuge Quota Turkey Hunt Permits.

17. We prohibit turkey hunting in the area defined as east of Hwy. 145, south of Rt. 9, and north of Hwy. 1.

18. Turkey hunts end each day at 1 p.m., and you must unload, case, or dismantle all weapons (see § 27.42 of this chapter) after 1 p.m.

19. During turkey hunts we only allow one weapon per hunter.

20. The bag limit for the entire hunt is two bearded turkey.

21. We prohibit discharge of weapons (see § 27.42(a) of this chapter) for any purpose other than to take or attempt to take legal game animals during established hunting seasons.

D. Sport Fishing. We allow fishing on all areas of the refuge, except Martins Lake and those areas closed for management purposes, in accordance with State regulations subject to the following conditions:

1. We allow fishing from 1 hour before legal sunrise to 1 hour after legal sunset.

2. We allow nonmotorized boats and boats with electric motors. We allow boats with permanently mounted gas motors as long as you lock the propeller out of the water. You must hand load and unload boats except at designated boat ramps. We prohibit skidding boats up or down dams or on water control structures. We provide boat ramps at Pool D, Pool L, Honkers Lake, and Mays Lake.

3. We allow bank fishing on all designated waters.

4. We prohibit bow fishing, fish baskets, nets, set hooks, trotlines, or snagging devices.

5. We prohibit snagging of fish by pulling or jerking any device equipped with one or more hooks through the water for the purpose of impaling fish.

6. We prohibit swimming or wading in any areas of the refuge.

Pinckney Island National Wildlife Refuge.

* * * * *

C. Big Game Hunting. We allow hunting of white-tailed deer on designated areas of the refuge in accordance with State regulations subject to the following conditions:

1. You must have a signed refuge permit on your person at all times. We require payment of a fee for the quota gun hunt. You may obtain information about the quota hunt drawing at the refuge headquarters in Savannah, Georgia.

2. Hunters must check-in at the designated check station between 4 a.m. and 5 a.m. and park in the designated area prior to hunting. We require personal identification at check-in.

3. Any movement within the refuge must be by foot or bicycle. We limit entry and exit points for authorized motor vehicles to designated check stations or other specified areas (see § 27.31 of this chapter). We prohibit entry by boat, and we prohibit hunters to leave by boat to reach other parts of the island.

4. We require hunters to wear an outer garment that contains a minimum of 500 square inches (3,250 cm²) of hunter-orange material above the waistline.

5. We prohibit participating in organized drives for deer.

6. Each hunter may place one stand on the refuge during the week (Monday through Friday only) preceding the hunt. You must remove all stands (see § 27.93 of this chapter) at the end of the hunt.

7. We prohibit camping on the refuge.

8. We only allow shotguns, 20 gauge or larger, with slugs.

9. If you are a hunter on the refuge, you must be at your stand from ½ hour before legal sunrise until 9 a.m. and from 2 hours before legal sunset until legal sunset.

10. We prohibit hunting closer than 100 yards (90 m) to U.S. Highway 278 or the check station area, or closer than 200 yards (180 m) to the residence area.

11. We prohibit flagging, blazing, or using other trail-marking devices to locate stands or for any other purpose.

12. Refuge personnel must check deer harvested during a scheduled hunt before hunters leave the refuge.

13. You may take five deer (no more than four antlerless).

14. We close the refuge to the public on hunt days.

* * * * *

Savannah National Wildlife Refuge

A. Migratory Game Bird Hunting. We allow hunting of duck and coot on designated areas north of South Carolina Highway 170 of the refuge in accordance with State regulations subject to the following conditions:

1. You must possess and carry a signed refuge permit at all times while hunting on the refuge. Permits and general hunting information are available at the refuge headquarters in Savanna, Georgia.

2. We only allow temporary blinds. You must remove decoys and other personal property (see § 27.93 of this chapter) from the refuge daily.

3. We prohibit hunting within 100 yards (90 m) of South Carolina Highway 170.

B. Upland Game Hunting. We allow hunting of squirrel November 1 through November 30 on designated areas of the refuge in accordance with State regulations subject to the following conditions:

1. You must possess and carry a signed refuge permit at all times while hunting on the refuge. Permits and hunt information are available at the refuge headquarters in Savannah, Georgia.

2. We only allow .22 caliber rimfire rifles or shotguns with #2 shot or smaller for squirrel hunting.

3. We prohibit handguns.

4. We prohibit the use of dogs.

5. You may take feral hog with weapons legal for this hunt (no bag limit).

6. We require a big game license.

7. We require hunters to wear an outer garment that contains a minimum of 500 square inches (3,250 cm²) of hunter-orange material above the waistline (except during the archery-only deer hunt, the turkey hunt, and the waterfowl hunt).

C. Big Game Hunting. We allow hunting of white-tailed deer, turkey, and feral hog on designated areas of the refuge in accordance with State regulations subject to the following conditions:

1. Hunters must possess and carry a signed refuge permit at all times. We require payment of a fee for the wheelchair-dependent hunters' quota gun hunt for deer. Permits, quota hunt applications, and information about the quota hunt drawing are available at the refuge headquarters in Savannah, Georgia.

2. We allow archery hunting for deer and hog from October 1 through October 31 on designated areas.

3. We only authorize bows for deer/hog hunting during the archery hunt.

4. We allow gun hunting for deer and hog during the archery hunt.

5. We only allow shotguns with slugs, muzzleloaders, and bows for deer and hog hunting throughout the designated hunt area. However, we only allow centerfire rifles of .22 caliber or larger north of Interstate Highway 95. We prohibit handguns.

6. You may take five deer, no more than three antlerless and two antlered. There is no bag limit on feral hogs.

D. Sport Fishing. We allow fishing on designated areas of the refuge in accordance with State regulations subject to the following conditions:

1. We allow fishing in refuge impoundments and canals from March 1 through November 30 annually.

2. We allow fishing in Kingfisher Pond year-round.

3. We allow fishing from legal sunrise to legal sunset.

4. We allow fishing year-round in the canals adjacent to the wildlife drive.

5. Anglers may only use nonmotorized boats and boats with electric motors within impounded water.

Waccamaw National Wildlife Refuge

A. Migratory Game Bird Hunting. We allow hunting of duck, goose, coot, and snipe on designated areas of the refuge in accordance with State regulations subject to the following conditions:

1. Hunters must possess and carry at all times while hunting a signed, current refuge hunting regulations brochure containing a refuge hunt permit. The hunt permit is invalid until signed by the hunter.

2. Each youth hunter (age 15 and under) must remain within sight and normal voice contact and under supervision of an adult age 21 or older. Youth hunters must have successfully completed a State-approved hunter education course.

3. We only allow waterfowl hunting until 12 p.m. (noon) each Saturday during the State waterfowl season. Hunters may enter the refuge no earlier that 5 a.m. on hunt days and must be off the refuge by 2 p.m.

4. We allow scouting Monday through Friday during the waterfowl season. We prohibit possession of a firearm by anyone scouting. You must be off the refuge by 2 p.m.

5. You may only possess approved nontoxic shot (see § 32.2(k)) while hunting all species of migratory birds on the refuge.

6. We require permanent blinds. You must remove portable blinds and decoys (see § 27.93 of this chapter) at the end of each day's hunt.

7. We only allow use of retrieving dogs while hunting.

8. We do not require hunter check-in and check out. There is no quota on the number of hunters.

9. We prohibit discharge of weapons (see § 27.42(a) of this chapter) for any purpose other than to take or attempt to take legal game animals during established hunting seasons.

10. We prohibit hunting on any unit for wildlife other than that which is officially opened and posted or entering any areas posted as “Closed” or “No Hunting Zones”.

B. Upland Game Hunting. We allow hunting of gray squirrel, raccoon, and opossum on designated areas of the refuge in accordance with State regulations subject to the following conditions:

1. Conditions A1, A2, A9, and A10 apply.

2. We only allow hunting on days designated annually by the refuge within the State season. We only allow upland game hunting on designated Refuge areas within Refuge Unit 1.

3. You may only possess approved nontoxic shot (see § 32.2(k)) in shotguns. We allow .22 caliber rimfire rifles.

C. Big Game Hunting. We allow hunting of white-tailed deer, feral hog, and turkey on designated areas of the refuge in accordance with State regulations subject to the following conditions:

1. Conditions A1, A2, A9, and A10 apply.

2. We only allow hunting on days designated annually by the refuge within the State season.

3. We close refuge hunting areas to the general public during big game hunts.

4. We allow archery, muzzleloading (black powder) and centerfire rifles, and shotguns.

5. We prohibit crossbows, blow guns, and drugged arrows. We only allow muzzleloading rifles using a single projectile on the muzzleloader hunts. We prohibit buckshot, .22 caliber rimfire, and full-metal jacketed military ammunition.

6. Access into all refuge hunt areas for hunting and scouting is by foot or boat. We may open some refuge roads on hunt days. We prohibit ATVs (see § 27.31(f) of this chapter) and air boats on the refuge.

7. We allow scouting all year during daylight hours except during the State waterfowl season. During the waterfowl season, the same regulations that apply to scouting for waterfowl (A4), apply to scouting for big game species.

8. Hunters may enter the refuge no earlier than 5 a.m. on hunt days and must leave the refuge no later than 1 hour after legal sunset.

9. We do not require hunter check-in and check out.

10. The refuge limit on deer is one antlered buck per refuge hunt. Hunters can harvest an additional two antlerless deer per hunt during coinciding State doe days.

11. You may take feral hogs during refuge deer hunts. There is no size or bag limit on hog. We may offer special hog hunts during and after deer season to further control this invasive species. You must dispatch all feral hogs before removing them from the refuge.

12. We prohibit hunting on or within 100 feet (30 m) of all routes marked as roads or trails (see § 27.31 of this chapter) on the hunt brochure map.

13. You must hunt deer and feral hog from an elevated deer stand. We prohibit shooting a hog from a boat.

14. We only allow one portable tree stand per hunter and only during the actual days of each hunt. You must remove deer stands (see § 27.93 of this chapter) from the refuge no later than 3 days after each refuge big game hunt.

15. We allow use of flagging to make the site of hunter entry from roads or trails and again at the stand site. We allow use of clothes pins with reflective tape between these sites to make the route to the stand. Hunters must label all such markers with their full name and remove them (see § 27.93 of this chapter) at the end of the hunt.

16. We require hunters to wear an outer garment visible above the waist that contains a minimum of 500 square inches (3,250 cm²) of solid, flourescent-orange material at all times during big game hunts except for turkey.

17. We prohibit the use of organized drives, including the use of boats, as an aid in the taking or attempting to take big game species.

18. We prohibit distribution of bait or hunting over a baited area (see § 32.2(h)).

19. We limit turkey hunts to annual quota hunts. We will select hunters by a random drawing. Selected hunters must sign, possess, and carry a Refuge Turkey Hunt Permit at all times during the hunt.

20. We prohibit turkey hunters from calling a turkey for another hunter unless both hunters have Refuge Turkey Hunt Permits.

21. We prohibit turkey hunting in Refuge Units 2 and 3.

22. Turkey hunts end each day at 1 p.m., and you must unload and case or dismantle all weapons (see § 27.42 of this chapter) after 1 p.m.

23. During turkey hunts we only allow one weapon per hunter.

24. The bag limit for the entire hunt is one bearded turkey.

D. Sport Fishing. We allow fishing in accordance with State regulations.

41. Amend § 32.61 South Dakota by:

a. Adding “Devils Lake Wetland Management District;”

b. Adding “Huron Wetland Management District;”

c. Revising “Lacreek National Wildlife Refuge;”

d. Adding “Lake Andes Wetland Management District;”

e. Adding “Madison Wetland Management District;”

f. Revising “Sand Lake National Wildlife Refuge;”

g. Adding “Sand Lake Wetland Management District;”

h. Revising the listing “Wauby National Wildlife Refuge” to read “Waubay National Wildlife Refuge” and revising the content; and

i. Adding “Waubay Wetland Management District” to read as follows:

§ 32.61 South Dakota.

* * * * *

Devils Lake Wetland Management District

A. Migratory Game Bird Hunting. We close the following waterfowl production areas (WPA) to all forms of hunting in the district: Little Goose and Lambs Lake WPA in Nelson County; Pleasant Lake WPA in Benson County; and Hart, Nelson, and Vold WPAs in Grand Forks County. We allow hunting of migratory game birds throughout the district in accordance with State regulations except as noted above. We prohibit hunting on portions of the Kellys Slough WPA in Grand Forks County as posted.

B. Upland Game Hunting. We allow hunting of upland game throughout the district except as noted in A. above. We prohibit hunting on portions of the Kellys Slough WPA in Grand Forks County as posted. All hunting is in accordance with State regulations subject to the following condition: You may only possess approved nontoxic shot while in field (see § 32.2(k)).

C. Big Game Hunting. We allow hunting of big game throughout the district except as noted in A. above. We prohibit hunting on portions of Kellys Slough WPA in Grand Forks County as posted. All hunting is in accordance with State regulations subject to the following conditions:

1. We require a “Lake Alice Refuge Permit” in order to hunt white-tailed deer with a firearm on the Tarvasted WPA in Ramsey County.

2. We prohibit the construction or use of permanent stands or platforms.

D. Sport Fishing. We allow sport fishing throughout the district in accordance with State regulations except for Kellys Slough, Hart, Nelson, and Vold WPAs in Grand Forks County.

Huron Wetland Management District

A. Migratory Game Bird Hunting. We allow hunting of migratory game birds on designated areas of the wetland management district (WMD) in accordance with State regulations.

B. Upland Game Hunting. We allow hunting of upland game birds on designated areas of the WMD in accordance with State regulations.

C. Big Game Hunting. We allow hunting of deer on designated areas of the WMD in accordance with State regulations subject to the following condition: The name and address of the owner or user, or the year and big game tag number of the owner or user of portable tree stands must be on the stand and legible from the ground.

D. Sport Fishing. We allow sport fishing on designated areas of the WMD in accordance with State regulations.

Lacreek National Wildlife Refuge

A. Migratory Game Bird Hunting. We allow hunting of goose, duck, coot, common snipe, sandhill crane, American crow, and mourning dove on designated areas of the refuge in accordance with State regulations subject to the following condition: We only allow hunting of migratory game birds on the Little White River Recreation Area.

B. Upland Game Hunting. We allow hunting of cock ring-necked pheasant and sharptail grouse on designated areas of the refuge in accordance with State regulations subject to the following conditions:

1. You must possess and carry a refuge permit on all areas, except the Little White River Recreation Area.

2. We prohibit hunting with the aid of a motor vehicle. No person may discharge a firearm within ½ mile (.8 km) of any motor vehicle available for his/her transportation unless that motor vehicle is parked in a designated parking area.

C. Big Game Hunting. We allow hunting of white-tailed and mule deer on designated areas of the refuge in accordance with State regulations subject to the following conditions:

1. We require a State permit for muzzleloader deer hunting.

2. You must possess and carry a refuge permit for archery deer hunting.

3. Condition B2 applies.

D. Sport Fishing. We allow fishing on designated areas of the refuge in accordance with State regulations subject to the following conditions:

1. We only allow fishing on Pools 3, 4, 7, 10, the Little White River Recreation Area, and Cedar Creek Trout Ponds 2 and 3.

2. We allow boats with motors on all areas open to fishing, except the Trout Ponds.

3. No person may violate the “no-wake zone” that includes all waters within 500 feet (150 m) of the shoreline or emergent marsh vegetation on any refuge pool, except the Little White River Recreation Area.

4. We prohibit the use or possession of live minnows or bait fish on all waters of the refuge except the Little White River Recreation Area.

5. We restrict fishing to ½ hour before legal sunrise and to ½ hour after legal sunset on all refuge waters open to fishing, except the Little White River Recreation Area.

Lake Andes Wetland Management District

A. Migratory Game Bird Hunting. We allow hunting of migratory game birds on designated areas of the wetland management district (WMD) in accordance with State regulations.

B. Upland Game Hunting. We allow hunting of upland game birds on designated areas of the WMD in accordance with State regulations.

C. Big Game Hunting. We allow hunting of deer on designated areas of the WMD in accordance with State regulations subject to the following condition: The name and address of the owner or user, or the year and big game tag number of the owner or user of portable tree stands must be on the stand and be legible from the ground.

D. Sport Fishing. We allow sport fishing on designated areas of the WMD in accordance with State regulations.

Madison Wetland Management District

A. Migratory Game Bird Hunting. We allow hunting of migratory game birds on designated areas of the wetland management district (WMD) in accordance with State regulations.

B. Upland Game Hunting. We allow hunting of upland game birds on designated areas of the WMD in accordance with State regulations.

C. Big Game Hunting. We allow hunting of deer on designated areas of the WMD in accordance with State regulations subject to the following condition: The name and address of the owner or user, or the year and big game tag number of the owner or user of portable tree stands must be on the stand and be legible from the ground.

D. Sport Fishing. We allow sport fishing on designated areas of the WMD in accordance with State regulations.

* * * * *

Sand Lake National Wildlife Refuge

A. Migratory Game Bird Hunting. We allow hunting of waterfowl on designated portions of the refuge in accordance with State regulations subject to the following conditions:

1. We allow hunters to use the spaced perimeter blinds on a first-come, first-served basis located along those posted sections of road right-of-way closed to hunting.

2. We restrict vehicle parking to designated parking lots in the vicinity of the waterfowl blind areas (see § 27.31 of this chapter).

3. Unarmed hunters may retrieve downed waterfowl up to 100 yards (90 m) inside the refuge boundary.

B. Upland Game Hunting. We allow hunting of pheasant, sharp-tailed grouse, and partridge on designated portions of the refuge in accordance with State regulations subject to the following conditions:

1. The game bird season begins the Monday following closure of the refuge firearms deer season and continues through December 31.

2. Refuge access is “walk-in” only. We prohibit motor vehicles, bicycles, snowmobiles, and all-terrain vehicles (see § 27.31(f) of this chapter).

C. Big Game Hunting. We allow hunting of deer on designated areas of the refuge in accordance with State regulations subject to the following conditions:

1. Only firearms deer hunters with a Sand Lake refuge permit (you must possess and carry) may hunt deer on the refuge.

2. Hunters with a valid State archery license may hunt on the refuge during the established refuge archery deer season. Consult the refuge manager for current season dates.

3. All individuals afield during the refuge firearms deer season must wear a minimum of 400 square inches (2,600 cm²) of solid fluorescent orange material on the head, chest, and back that must be visible at all times.

4. We allow portable, elevated hunting platforms not attached to trees and portable ground blinds, but they must bear the name and address of the owner or user or the year and big game tag number of the owner or user. The labeling must be readily visible and legible.

5. Beginning the Saturday after August 25 licensed archery deer hunters and firearms deer hunters holding refuge permits (you must possess and carry) may place tree stands, elevated platforms, and portable ground blinds on the refuge. Hunters must remove all such devices (see § 27.93 of this chapter) by February 15.

6. Deer hunters may enter the refuge 1 hour before legal shooting time and remain no longer than 1 hour after shooting time ends.

7. Refuge access is “walk-in” only. We allow vehicles on designated refuge roads ONLY for retrieving harvested deer and ONLY during the following times: 9:30-10 a.m., 1:30-2 p.m., and from the end of legal shooting time to 1 hour after the end of shooting time (see § 27.31 of this chapter).

8. We restrict vehicle parking to designated parking lots in the vicinity of the waterfowl blind areas (see § 27.31 of this chapter).

9. We prohibit bicycles, snowmobiles, and all-terrain vehicles at all times (see § 27.31(f) of this chapter).

D. Sport Fishing. We allow sport fishing on designated areas of the refuge in accordance with State regulations subject to the following conditions:

1. Fishing hours are ½ hour before legal sunrise to ½ hour after legal sunset.

2. We prohibit motorized vehicles on the ice during winter (see § 27.31 of this chapter).

3. We allow ice fishing shanties, but anglers must remove them (see § 27.93 of this chapter) daily.

4. We prohibit open fires (see § 27.95 of this chapter).

Sand Lake Wetland Management District

A. Migratory Game Bird Hunting. We allow hunting of migratory game birds on designated areas of the wetland management district (WMD) in accordance with State regulations.

B. Upland Game Hunting. We allow hunting of upland game birds on designated areas of the WMD in accordance with State regulations.

C. Big Game Hunting. We allow hunting of deer on designated areas of the WMD in accordance with State regulations subject to the following condition: The name and address of the owner or user, or the year and big game tag number of the owner or user of portable tree stands must be on the stand and be legible from the ground.

D. Sport Fishing. We allow sport fishing on designated areas of the WMD in accordance with State regulations.

Waubay National Wildlife Refuge

A. Migratory Game Bird Hunting. [Reserved]

B. Upland Game Hunting. [Reserved]

C. Big Game Hunting. We allow deer hunting on designated areas in accordance with State regulations subject to the following conditions:

1. We prohibit deer hunting on Headquarters Island.

2. We prohibit erecting tree stands prior to hunt start dates. Hunters must remove them (see § 27.93 of this chapter) by the end of the hunt.

3. Hunters may launch nonmotorized watercraft from designated access points to travel to islands.

4. We close archery seasons during refuge firearm seasons.

5. We prohibit deer drives during archery seasons. We define a drive as the act of chasing, pursuing, disturbing, or otherwise directing deer so as make the animals more susceptible to harvest by another hunter.

6. Refuge firearm hunters must wear a minimum of 400 square inches (2,600 cm²) of solid flourescent-orange material on the head, chest, and back.

D. Sport Fishing. We allow fishing on designated areas of the refuge in accordance with State regulations subject to the following conditions:

1. We allow ice fishing after refuge firearm deer seasons close. We prohibit open water fishing at any time.

2. Anglers must not be on the ice until 1 hour prior to legal sunrise and must be off the ice by 1 hour after legal sunset.

3. Anglers must remove ice shacks (see § 27.93 of this chapter) daily prior to closed fishing hours.

4. We restrict angler foot travel to posted access points, public roads, and lake ice.

Waubay Wetland Management District

A. Migratory Game Bird Hunting. We allow hunting of migratory game birds on designated areas of the wetland management district (WMD) in accordance with State regulations.

B. Upland Game Hunting. We allow hunting of upland game birds on designated areas of the WMD in accordance with State regulations.

C. Big Game Hunting. We allow hunting of deer on designated areas of the WMD in accordance with State regulations subject to the following condition: The name and address of the owner or user, or the year and big game tag number of the owner or user of portable tree stands must be on the stand and be legible from the ground.

D. Sport Fishing. We allow sport fishing on designated areas of the WMD in accordance with State regulations.

42. Amend § 32.62 Tennessee by:

a. Revising “Chickasaw National Wildlife Refuge;”

b. Revising “Cross Creeks National Wildlife Refuge;”

c. Revising “Hatchie National Wildlife Refuge;”

d. Revising “Lake Isom National Wildlife Refuge;”

e. Revising “Lower Hatchie National Wildlife Refuge;” and

f. Revising “Tennessee National Wildlife Refuge” to read as follows:

§ 32.62 Tennessee.

* * * * *

Chickasaw National Wildlife Refuge

A. Migratory Game Bird Hunting. We allow hunting of duck, goose, coot, merganser, mourning dove, woodcock, and snipe on designated areas of the refuge in accordance with State regulations subject to the following conditions:

1. The refuge is a day-use area only, with the exception of legal hunting/fishing activities.

2. We prohibit the use of motorized off-road vehicles (e.g., ATVs) on the refuge (see § 27.31(f) of this chapter).

3. You must possess and carry a valid refuge permit while hunting on the refuge.

4. Legal hunting hours for duck, goose, coot, and merganser are ½ hour before legal sunrise to 12 p.m. (noon)

5. Mourning dove, woodcock, and snipe seasons close during youth, gun, and muzzleloader deer seasons.

6. You may only use portable blinds, and you must remove all boats, blinds, and decoys (see § 27.93 of this chapter) from the refuge by 1 p.m. daily.

7. We allow hunters to access the refuge no more than 2 hours before legal sunrise and no more than 2 hours after legal sunset.

8. Each youth hunter (under age 16) must remain within sight and normal voice contact and under supervision of an adult age 21 or older. One adult hunter may supervise no more than two youth hunters.

B. Upland Game Hunting. We allow hunting of squirrel, rabbit, quail, raccoon, and opossum on designated areas of the refuge in accordance with State regulations subject to the following conditions:

1. Conditions A1 through A3, and A7 through A8 apply.

2. We do not open for spring squirrel hunting on the refuge.

3. We do not open for squirrel, rabbit, and quail hunting during all firearms and muzzleloader deer seasons.

4. We allow hunting for raccoon and opossum from legal sunset to legal sunrise.

C. Big Game Hunting. We allow hunting of white-tailed deer and turkey on designated areas of the refuge in accordance with State regulations subject to the following conditions:

1. Conditions A1 through A3 and A7 through A9 (adult may supervise no more than one youth hunter) apply.

2. You may only participate in the refuge turkey hunts with a special quota permit issued through a random drawing. You may obtain information for permit applications at the refuge headquarters.

3. You may only possess approved nontoxic shot (see § 32.2(k)) while hunting turkey.

4. We only allow the use of portable blinds and tree stands on the refuge. You must remove blinds, tree stands, and all other personal equipment (see § 27.93 of this chapter) from the refuge at the end of the day's hunt.

D. Sport Fishing. We allow fishing on designated areas of the refuge in accordance with State regulations subject to the following conditions:

1. We only allow fishing with pole and line or rod and reel.

2. We prohibit possession of unauthorized fishing gear, including trotlines, limblines, juglines, yo-yos, nets, spears, and snag hooks, while fishing on the refuge.

3. You may use a bow and arrow or a gig to take nongame fish on refuge waters.

4. We allow fishing from legal sunrise to legal sunset.

5. We prohibit taking of frog or turtle on the refuge (see § 27.21 of this chapter).

Cross Creeks National Wildlife Refuge

A. Migratory Game Bird Hunting. [Reserved]

B. Upland Game Hunting. We allow hunting of squirrel on designated areas of the refuge in accordance with State regulations subject to the following conditions:

1. The refuge is a day-use area only, with the exception of legal hunting/fishing activities.

2. You must possess and carry a valid refuge permit while hunting on the refuge.

3. We set and publish season dates and bag limits annually in the refuge public use regulations available at the refuge office.

4. We prohibit hunting within 50 yards (45 m) of any building, public use road, or boat launching ramp.

5. We allow hunters access to the refuge from 1½ hours before legal sunrise to 1½ hours after legal sunset.

6. We prohibit the use of motorized off-road vehicles (e.g., ATVs) on the refuge (see § 27.31(f) of this chapter).

7. We prohibit the use of horses or other animal conveyances on refuge hunts.

8. Each youth hunter (under age 16) must remain within sight and normal voice contact of an adult age 21 or older. One adult hunter may supervise no more than two youth hunters.

9. We do not open for squirrel hunting.

C. Big Game Hunting. We allow the hunting of white-tailed deer (archery only) and turkey on designated areas of the refuge in accordance with State regulations subject to the following conditions:

1. Conditions B1 through B8 (one adult hunter may supervise no more than one youth hunter) apply.

2. We only allow the use of portable blinds and tree stands on the refuge. You must remove blinds, tree stands, and all other personal equipment (see § 27.93 of this chapter) from the refuge at the end of each day's hunt.

D. Sport Fishing. We allow fishing on designated areas of the refuge in accordance with State regulations subject to the following conditions:

1. We allow fishing on refuge pools and reservoirs from March 16 through November 14 from legal sunrise to legal sunset.

2. We prohibit bows and arrows, trotlines, limblines, jugs, and slat baskets in refuge pools and reservoirs.

3. We prohibit taking of frog and turtle on the refuge (see § 27.21 of this chapter).

4. We prohibit leaving boats unattended on the refuge.

Hatchie National Wildlife Refuge

A. Migratory Game Bird Hunting. We allow hunting of goose, duck, and coot on designated areas of the refuge in accordance with State regulations subject to the following conditions:

1. Hunters must possess and carry a valid refuge permits and report game taken as specified within the permit. The free refuge hunting and fishing regulation leaflet serves as the refuge permit when properly signed.

2. We prohibit hunting within 100 yards (90 m) of refuge buildings.

3. We allow hunters to access the refuge no more than 1 hour before legal sunrise and no more than 1 hour after legal sunset.

4. We only allow waterfowl hunting on Tuesdays, Thursdays, and Saturdays from ½ hour before legal sunrise until 12 p.m. (noon) throughout the State early wood duck and the regular duck season.

5. We only allow portable blinds and blinds made of native herbaceous vegetation, which must be removed from the refuge following each day's hunt.

6. Each youth hunter (under age 16) must remain within sight and normal voice contact of an adult age 21 or older. One adult hunter may supervise no more than two youth hunters.

7. You may take beaver, coyote, and armadillo incidental to any legal hunting activity.

B. Upland Game Hunting. We allow the hunting of quail, squirrel, rabbit, raccoon, and opossum on designated areas of the refuge in accordance with State regulations subject to the following conditions:

1. Conditions A1 through A3 and A6 and A7 apply.

2. You may hunt for raccoon and opossum from legal sunset to legal sunrise.

3. We prohibit upland game hunting the night before and during the refuge deer archery and gun-deer hunting seasons.

4. We do not open for spring squirrel hunting.

C. Big Game Hunting. We allow hunting of white-tailed deer and turkey on designated areas of the refuge in accordance with State regulations subject to the following conditions:

1. Conditions A1 through A3, A6 (each adult may supervise one youth hunter) and A7 apply.

2. We set season dates and bag limits annually and publish them in the refuge public use regulations available at the refuge office.

3. You may only participate in the refuge firearms deer hunts with a special quota permit issued through random drawing. Information for permit applications is available at the refuge headquarters.

4. We only allow the use of portable blinds and tree stands on the refuge. You must remove blinds, tree stands, and all other personal equipment (see § 27.93 of this chapter) from the refuge at the end of each day's hunt.

D. Sport Fishing. We allow fishing on designated portions of the refuge in accordance with State regulations subject to the following conditions:

1. Anglers must possess and carry a valid refuge permit. The free refuge hunting and fishing permit serves as the refuge permit when properly signed.

2. You must only use boats propelled by electric motors or hand power.

3. You must only use pole and line or rod and reel.

4. You must use refuge boat ramps for launching boats.

5. We do not open Oneal Lake to fishing except for authorized events.

6. You must immediately release all largemouth bass under 14 inches (30 cm) in length on Goose and Quail Hollow Lakes.

7. We only open Goose Lake for bank fishing.

Lake Isom National Wildlife Refuge

A. Migratory Game Bird Hunting. [Reserved]

B. Upland Game Hunting. We allow hunting of squirrel and raccoon on the refuge in accordance with State regulations subject to the following conditions:

1. The refuge is a day-use area only, with the exception of legal hunting/fishing activities.

2. We prohibit the use of motorized off-road vehicles (e.g., ATVs) on the refuge (see § 27.31(f) of this chapter).

3. We set and publish season dates and bag limits annually in the refuge Public Use Regulations available at the refuge office.

4. You must possess and carry a valid refuge permit and report game taken as specified within the permit.

5. We allow hunters to access the refuge no more than 2 hours before legal sunrise and no more than 2 hours after legal sunset.

6. Hunting hours for raccoon are 7 p.m. to 12 p.m. (midnight).

7. Each youth hunter (under age 16) must remain within sight and normal voice contact of an adult age 21 or older. One adult hunter may supervise no more than two youth hunters.

C. Big Game Hunting. We allow archery only hunting for white-tailed deer on the refuge in accordance with State regulations subject to the following conditions:

1. Conditions B1 through B5, B7 (each adult may only supervise one youth hunter) apply.

2. We only allow the use of portable blinds and tree stands on the refuge. You must remove blinds, tree stands, and all other personal equipment (see § 27.93 of this chapter) from the refuge at the end of each day's hunt.

D. Sport Fishing. We allow fishing on the refuge in accordance with State regulations subject to the following conditions:

1. We open all waters of Lake Isom to fishing only from March 16 through November 14 from legal sunrise to legal sunset.

2. We only allow boats with electric or outboard motors of 10 hp or less.

3. We prohibit taking frog or turtle from refuge waters (see § 27.21 of this chapter).

Lower Hatchie National Wildlife Refuge

A. Migratory Game Bird Hunting. We allow hunting of duck, goose, coot, merganser, mourning dove, woodcock, and snipe on designated areas of the refuge in accordance with State regulations subject to the following conditions:

1. The refuge is a day-use area only with the exception of legal hunting/fishing activities.

2. We prohibit the use of motorized off-road vehicles (e.g., ATVs) on the refuge (see § 27.31(f) of this chapter).

3. You must possess and carry a valid refuge permit and report game taken as specified within the permit.

4. Legal hunting hours for duck, goose, coot, and merganser are ½ hour before legal sunrise to 12 p.m. (noon).

5. We do not open for mourning dove, woodcock, and snipe seasons during all firearms and muzzleloader deer seasons.

6. You may only use portable blinds, and you must remove all boats, blinds, and decoys (see § 27.93 of this chapter) from the refuge by 1 p.m. daily.

7. We allow hunters to access the refuge no more than 2 hours before legal sunrise and no more than 2 hours after legal sunset.

8. We do not open Sunk Lake Public Use Natural Area to migratory game bird hunting.

9. Each youth hunter (under age 16) must remain within sight and normal voice contact of an adult age 21 or older. One adult hunter may supervise no more than two youth hunters.

B. Upland Game Hunting. We allow hunting of squirrel, rabbit, quail, raccoon, and opossum on designated areas of the refuge and the northern unit of Sunk Lake Public Use Natural Area in accordance with State regulations subject to the following conditions:

1. Conditions A1 through A3, A7, and A9 apply.

2. We do not open for spring squirrel hunting on the refuge.

3. We do not open for squirrel, rabbit, and quail hunting during all firearms and muzzleloader deer seasons.

4. Hunting hours for raccoon and opossum are legal sunset to legal sunrise.

C. Big Game Hunting. We allow hunting of white-tailed deer and turkey on designated areas of the refuge in accordance with State regulations subject to the following conditions:

1. Conditions A1 through A3, A7, A8, and A10 (each adult may only supervise one youth hunter) apply.

2. You may only participate in the refuge turkey hunts with a special quota permit issued through random drawing. Information for permit applications is available at the refuge headquarters.

3. You may only possess approved nontoxic shot while hunting turkey (see § 32.2(k)).

4. We only allow the use of portable blinds and tree stands on the refuge. You must remove blinds, tree stands, and all other personal equipment (see § 27.93 of this chapter) from the refuge at the end of each day's hunt.

5. We only allow archery deer hunting on the northern unit of Sunk Lake Public Use Natural Area.

D. Sport Fishing. We allow sport fishing on designated areas of the refuge and the Sunk Lake Public Use Natural Area in accordance with State regulations subject to the following conditions:

1. We only allow fishing from legal sunrise to legal sunset.

2. We only allow fishing with pole and line or rod and reel.

3. We prohibit possession of unauthorized fishing gear, including trotlines, limblines, juglines, yo-yos, nets, spears, and snag hooks, while fishing on the refuge.

4. You may use a bow and arrow or a gig to take nongame fish except paddlefish on refuge waters.

5. We prohibit taking frog or turtle on the refuge (see § 27.21 of this chapter).

6. We seasonally close the sanctuary area of the refuge and the southern unit of Sunk Lake Public Use Natural Area to the public November 15 through March 15.

7. We only allow the use of nonmotorized boats and boats with electric motors on Sunk Lake Public Use Natural Area.

* * * * *

Tennessee National Wildlife Refuge

A. Migratory Game Bird Hunting. [Reserved]

B. Upland Game Hunting. We allow hunting of squirrel and raccoon on designated areas of the refuge in accordance with State regulations subject to the following conditions:

1. The refuge is a day-use area only, with the exception of legal hunting/fishing activities.

2. We require a refuge hunt permit for all hunters age 16 and older. We charge a fee for all hunt permits. You must possess and carry a valid refuge hunt permit while hunting on the refuge.

3. We set and publish season dates and bag limits annually in the refuge Public Use Regulations available at the refuge office.

4. We prohibit hunting within 50 yards (45 m) of any building, public use road, or boat launching ramp.

5. We allow hunters access to the refuge from 1½ hours before legal sunrise to 1½ hours after legal sunset.

6. We allow hunting for raccoon from legal sunset to legal sunrise.

7. We prohibit the use of motorized off-road vehicles (e.g., ATVs) on the refuge (see § 27.31(f) of this chapter).

8. We prohibit the use of horses and other animal conveyances on refuge hunts.

9. Each youth hunter (under age 16) must remain within sight and normal voice contact and under supervision of an adult age 21 or older. One adult may supervise no more than two youth hunters.

10. We do not open for spring squirrel hunting on the refuge.

11. You may take coyote and beaver incidental to legal hunting activities.

C. Big Game Hunting. We allow hunting of white-tailed deer and turkey on designated areas of the refuge in accordance with State regulations subject to the following conditions:

1. Conditions B1 through B5, B7 through B9 (each adult may only supervise one youth hunter), and B11 apply.

2. You may only participate in the refuge quota deer hunts with a special quota permit issued through random drawing. Information for permit applications is available at the refuge headquarters.

D. Sport Fishing. We allow fishing on designated portions of the refuge in accordance with State regulations subject to the following conditions:

1. We allow fishing in Swamp Creek, Sulphur Well Bay, Bennetts Creek, and all interior impoundments from March 16 through November 14. The remainder of the refuge portion of Kentucky Lake will remain open year-round. We allow bank fishing year-round along Refuge Lane, from the New Johnsonville Pump Station, and from Busseltown Pump Station areas.

2. We limit boats to no wake speed on all refuge impoundments.

3. We prohibit leaving boats unattended on the refuge.

4. We allow fishing on interior refuge impoundments from legal sunrise to legal sunset.

5. We close the Grassy Lake heron rookery to all public entry as posted November 15 through August 31.

6. We prohibit taking frog or turtle on the refuge (see § 27.21 of this chapter).

43. Amend § 32.63 Texas by:

a. Revising paragraphs A. and D. of “Anahuac National Wildlife Refuge;”

b. Adding paragraphs C.12. and C.13. of “Aransas National Wldlife Refuge;”

c. Revising paragraph A. of “Big Boggy National Wildlife Refuge;”

d. Revising paragraphs A. and D. of “Brazoria National Wildlife Refuge;”

e. Revising paragraphs C. and D. of “Laguna Atascosa National Wildlife Refuge;”

f. Revising paragraphs A. and C. of “Lower Rio Grande Valley National Wildlife Refuge;”

g. Revising paragraphs A. and D. of “McFaddin National Wildlife Refuge;”

h. Revising paragraph A. of “San Bernard National Wildlife Refuge;”

i. Revising paragraphs A. and D. of “Texas Point National Wildlife Refuge;” and

j. Revising “Trinity River National Wildlife Refuge” to read as follows:

§ 32.63 Texas.

* * * * *

Anahuac National Wildlife Refuge

A. Migratory Game Bird Hunting. We allow hunting of goose, duck, and coot on designated areas of the refuge in accordance with State regulations subject to the following conditions:

1. You must possess and carry a signed refuge hunting permit while hunting on all hunt units of the refuge.

2. Hunters may enter the refuge hunt units no earlier than 4 a.m. Hunting starts at the designated legal shooting time and ends at 12 p.m. (noon). Hunters must leave refuge hunt units by 12:30 p.m. We close refuge hunt units on Thanksgiving, Christmas, and New Year's Day.

3. We allow hunting in portions of the East Unit on Saturdays, Sundays, and Tuesdays during the regular waterfowl season. We require payment of a $10.00 daily or $40.00 annual fee to hunt on the East Unit. All hunters must check-in and out through the check station when hunting the East Unit from a vehicle. We will allow a maximum of 100 hunters to access the East Unit by vehicle. We allow hunting in designated areas from East Bay Bayou, Jackson Ditch, and Onion Bayou via boat. We require hunters accessing the East Unit by boat from Jackson Ditch, East Bay Bayou, or Onion Bayou to pay the $40.00 annual fee. We prohibit access to the East Unit Reservoirs from Onion Bayou via boat. We prohibit use of motorized boats on the East Unit except on ponds accessed from Jackson Ditch.

4. We allow hunting on the East Unit Special Goose Hunt Areas by permit on a first-come, first-served basis the morning of the hunt. Hunters must have goose decoys to hunt the Special Goose Hunt Areas. We allow a minimum of two and a maximum of six persons per permit. All Special Goose Hunt Area hunters must accompany a valid permit holder. Individuals in each group must set up and stay in their permitted area and stay within 50 feet (15 m) of each other unless retrieving goose.

5. We randomly draw permits the morning of the hunt for the East Unit Special Duck Hunt Areas. Hunters must set up within 50 yards (45 m) of the post marker and must stay within 50 feet (15 m) of each other unless retrieving waterfowl. We allow a minimum of two and a maximum of six persons per permit.

6. We allow hunting in the Pace Tract daily during the September teal season and regular waterfowl season.

7. All hunters using the Oyster Bayou Boat Ramp must register at the main refuge entrance.

8. We allow hunting in portions of the Middleton Tract daily during the September teal season and on Saturdays, Sundays, and Wednesdays of the regular waterfowl season. We restrict motorized boats in inland waters of the Middleton Tract to motors of 25 hp or less or electric trolling motors.

9. Youth hunters, age 17 and younger, must be under the supervision of an adult age 18 or older.

10. We only allow shotguns for waterfowl hunting.

11. We prohibit the use of airboats, marsh buggies, ATVs (see § 27.31(f) of this chapter), and Jet Skis.

12. On inland waters of refuge hunt areas open to motorized boats, we restrict the operation of motorized boats to lakes, ponds, ditches, and other waterways. We prohibit the operation of motorized boats on or through emergency wetland vegetation.

13. On inland waters of the refuge hunt areas open to motorized boats, we restrict the use of boats powered by air-cooled engines to those powered by a single engine of 25 horsepower or less and utilizing a propeller 9 inches (22.5 cm) in diameter or less.

14. We only allow vehicular travel on designated roads and in parking areas. We prohibit hunting from roads and blocking access to any road or trail entering or on the refuge (see § 27.31(h) of this chapter).

15. We prohibit pits and permanent blinds. We allow portable blinds or temporary native vegetation blinds. You must remove portable blinds (see § 27.93 of this chapter) from the refuge daily.

16. The minimum permitted distance between hunt parties is 200 yards (180 m).

17. Dogs accompanying hunters must be under the immediate control of handlers at all times (see § 26.21(b) of this chapter).

18. You must remove all decoys, boats, spent shells, marsh chairs, and other equipment (see § 27.93 of this chapter) from the refuge daily. We prohibit the use of plastic flagging, reflectors, or reflective tape.

* * * * *

D. Sport Fishing. We allow fishing and crabbing on designated areas of the refuge in accordance with State regulations subject to the following conditions:

1. We allow fishing and crabbing on shoreline areas on East Galveston Bay, along East Bay Bayou on the East Bay Bayou Tract, along West Line Road to the southern end of Shoveler Pond, and along the canal from the Oyster Bayou Boat Ramp to the southwest corner of Shoveler Pond.

2. We only allow fishing and crabbing with pole and line, rod and reel, or hand-held line.

3 . We allow cast-netting for bait for personal use along waterways in areas open to the public and along public roads.

4. We prohibit the use of trotlines, setlines, bows and arrows, gigs, or spears.

5. We prohibit boats and other flotation devices on inland waters. You may launch motorized boats into East Bay at the East Bay Boat Ramp on Westline Road and at the Oyster Bayou Boat Ramp (boat canal). You may launch nonmotorized boats along East Bay Bayou and along the shoreline on East Galveston Bay.

Aransas National Wildlife Refuge

* * * * *

C. Big Game Hunting. * * *

* * * * *

12. We prohibit hunters possessing handguns during archery and rifle hunts. We allow the use of archery equipment and centerfire rifles in accordance with State law.

13. We only allow you to use biodegradable flagging to mark trails and your hunt stand location during the archery and rifle hunts on the refuge. We color code the flagging used each weekend during the rifle hunts. You must use the designated flagging color specified for particular hunt dates. We provide this information on the refuge hunt permit and in refuge regulations sent to permittees. You must remove flagging (see § 27.93 of this chapter) at the end of the hunt.

* * * * *

Big Boggy National Wildlife Refuge

A. Migratory Game Bird Hunting. We allow hunting of goose, duck, and coot on designated areas of the refuge in accordance with State regulations subject to the following conditions:

1. We prohibit pits and permanent blinds.

2. We only allow the use of airboats in tidal navigable waters unless otherwise posted.

3. We prohibit target practice on the refuge.

* * * * *

Brazoria National Wildlife Refuge

A. Migratory Game Bird Hunting. We allow hunting of goose, duck, and coot on designated areas of the refuge in accordance with State regulations subject to the following conditions:

1. We prohibit pits and permanent blinds.

2. You must possess and carry a refuge permit to hunt on certain portions of the hunting area.

3. We only allow the use of airboats in tidal navigable waters unless otherwise posted.

4. We prohibit target practice on the refuge.

* * * * *

D. Sport Fishing. We allow fishing in accordance with State regulations subject to the following conditions:

1. We allow access for saltwater fishing by boat on Nick's, Salt, and Lost Lakes.

2. We allow access for shore fishing at Bastrop Bayou, Clay Banks and Salt Lake Public Fishing Areas, and Salt Lake Weir Dike.

3. We open Bastrop Bayou to fishing 24 hours a day; we prohibit camping.

4. We open all other fishing areas from legal sunrise to legal sunset.

* * * * *

Laguna Atascosa National Wildlife Refuge

* * * * *

C. Big Game Hunting. We allow hunting of white-tailed deer, feral pig, and nilgai antelope on designated areas of the refuge in accordance with State regulations subject to the following conditions:

1. We require hunters to pay a fee and obtain a refuge hunt permit. We issue replacement permits for an additional nominal fee. All hunt fees are nonrefundable. We require the hunter to possess and carry a signed and dated refuge hunt permit.

2. We allow archery and firearm hunting on designated units of the refuge. We open Units 1, 2, 3, 5, 6, and 8 to archery hunting during dates designated in the refuge hunt pamphlet. We open Units 2, 3, 5, 6, and 8 to firearm hunting during dates designated in the refuge hunt pamphlet. We assign hunters to specific hunt units during firearm hunting. We prohibit hunting on the following areas: Adolph Thomae Jr. County Park in Unit 3, posted “No Hunting Zones” within all hunt units, La Selva Verde Tract (Armstrong), Waller Tract, COHYCO, Inc. Tract, Bahia Grande Unit, and South Padre Island Unit.

3. We offer hunting during specific portions of the State hunting season. We determine specific deer hunt dates annually, usually in November and December. We publish this information in the refuge hunt brochure. We may provide special feral pig and nilgai antelope hunts to reduce populations at any time during the year.

4. We annually establish a specific bag limit for deer hunted on the refuge in the refuge hunt brochure. We have an unlimited bag limit on feral pig and nilgai antelope.

5. We require hunters to visibly wear 400 square inches (2,600 cm²) of hunter orange, which includes wearing a minimum of 144 square inches (936 cm²) visible on the chest, a minimum of 144 square inches (936 cm²) visible on the back, and a hunter-orange hat or cap visible on the head. We allow hunter-orange camouflage patterns.

6. Each youth hunter (ages 12 through 17) must remain within sight and normal voice contact of an adult age 18 or older. Hunters must be at least age 12.

7. We only allow the use of shoulder-fired muzzleloaders, shotguns, and rifled firearms. We prohibit possession of a pistol or shotgun while hunting. Muzzleloader firearms must be .40 caliber or larger, and modern-rifled firearms must be center fired and .22 caliber or larger. We only allow shotguns of 12 gauge or larger; using rifled slugs or 00 buckshot. We prohibit loaded firearms (see § 27.42 of this chapter) in the passenger compartment of a motor vehicle (we define “loaded” as having rounds in the chamber or magazine or on a muzzleloading firearm). We prohibit target practice or “sighting-in” on the refuge.

8. We allow a 9-day scouting period, ending 1 week prior to the commencement of the refuge deer hunting season. A permitted hunter and a limit of two nonpermitted individuals may enter the hunt units during the scouting period. We allow access to the units during the scouting period from legal sunrise to legal sunset. You must conspicuously display refuge-issued Hunter Vehicle Validation Tags/Scouting Permits (available from the refuge office) face up on the vehicle dashboard.

9. We only allow hunters to enter the refuge 1 hour before legal shooting hours during the permitted hunt season. All hunters must check out daily at the refuge check station at the end of their hunt or no later than 1 hour after legal shooting hours.

10. We allow vehicle parking at Unit 1 and Unit 6 designated parking areas and along the roadsides of General Brandt Road (FM 106), Buena Vista Road, Lakeside Road, and County Road (see § 27.31 of this chapter).

11. We restrict vehicle access to service roads not closed by gates or signs (see § 27.31 of this chapter). You must only access hunt units by foot or bicycle.

12. We allow hunting from portable stands or by stalking and still hunting. There is a limit of one blind or stand per permitted hunter. You must attach hunter identification (name, address, permit number, and phone number), to the blind or stand. We prohibit attaching blinds and stands to trees or making blinds and stands from natural vegetation (see §§ 32.2(i) and § 27.51 of this chapter)). You must remove all blinds and stands (see § 27.93 of this chapter) at the end of the permitted hunt season.

13. We prohibit hunting with dogs.

14. Hunters must field-dress all harvested big game in the field and check the game at the refuge check station before removal from the refuge. You may quarter deer, feral pig, and nilgai antelope in the field as defined by State regulations. You may use a nonmotorized cart to assist with the transportation of harvested game animals.

15. We prohibit use of or hunting from any type of watercraft or floating device.

16. You must receive authorization from a refuge employee to enter closed refuge areas to retrieve harvested game.

D. Sport Fishing. We allow fishing and crabbing on designated areas of the refuge in accordance with State regulations subject to the following conditions:

1. We only allow fishing and crabbing from Adoph Thomae Jr. County Park on San Martin Lake of the Bahia Grande Unit, and on the South Padre Island Unit year-round.

2. We require payment of an entry fee and boat launch at Adolph Thomae Jr. County Park. We allow access to the park between 6 a.m. and 10 p.m. from June through October, and between 6 a.m. and 9 p.m. from November through May.

3. We only allow pole and line, rod and reel, hand line, dip net, or cast net for fishing. We prohibit the use of crab traps or pots for crabbing. Anglers must attend all fishing lines, crabbing equipment, or other fishing devices at all times.

4. We prohibit the taking and use of frog, salamander, and other amphibian as bait.

5. We allow the use of boats for sport fishing. You may launch boats at Adolph Thomae Jr. County Park. We only allow bank and wade fishing on the shoreline of San Martin Lake within the refuge boundary. We only allow access by foot behind posted refuge boundary signs.

6. We only allow camping at Adolph Thomae Jr. County Park.

Lower Rio Grande Valley National Wildlife Refuge

A. Migratory Game Bird Hunting. We allow hunting of mourning, white-winged, and white-tipped dove on designated areas of the refuge in accordance with State regulations subject to the following conditions:

1. We require hunters to pay a fee and obtain a refuge hunt permit. All hunt fees are nonrefundable. We require hunters to possess and carry a signed (by permittee and an authorized refuge staff member) refuge hunt permit.

2. We allow hunting on areas of the refuge during limited periods of the State-designated hunting season. We publish these dates in the refuge hunting sheet.

3. You may only possess approved nontoxic shot while in the field (see § 32.2(k)).

4. We require hunters to be at least age 12. Youth hunters, age 17 and younger must be under the supervision of an adult age 18 or older.

5. We determine the location and method of hunting each year and publish this information in the refuge hunting sheet.

6. We only allow parking in designated locations.

7. We allow the use of properly trained retrievers during these hunts.

* * * * *

C. Big Game Hunting. We allow hunters to take white-tailed deer, feral hog, and nilgai antelope on designated areas of the refuge in accordance with State regulations subject to the following conditions:

1. Conditions A1 through A3 and A5 through A7 apply.

2. We annually establish bag limits for white-tailed deer based on survey data provided by the State. We establish no bag limits for feral hog or nilgai antelope.

3. We require hunters to visibly wear 400 square inches (2,600 cm²) of hunter orange, which includes wearing a minimum of 144 square inches (936 cm²) visible on the chest, a minimum of 144 square inches visible on the back, and a hunter-orange hat or cap visible on the head.

* * * * *

McFaddin National Wildlife Refuge

A. Migratory Game Bird Hunting. We allow hunting of goose, duck, and coot on designated areas of the refuge in accordance with State regulations subject to the following conditions:

1. You must possess and carry a signed refuge hunting permit while hunting on all hunt units of the refuge.

2. Hunters must enter the refuge hunt units between 4 a.m. and ½ hour before the designated legal shooting time. Hunting starts at legal shooting time and ends at 12 p.m. (noon). Hunters must leave refuge hunt units by 12:30 p.m. We close refuge hunt units on Thanksgiving, Christmas, and New Year's Day.

3. You may access hunt areas by foot, nonmotorized watercraft, outboard motor boat, or airboat. Airboats may not exceed 10 hp with direct drive with a propeller length of 48 inches (120 cm) or less. Engines may not exceed 2 cylinders and 484 cc. We prohibit all other motorized vehicles. We prohibit marsh buggies, ATVs, and Jet Skis (see § 27.31(f) of this chapter).

4. On inland waters of the refuge open to motorized boats, we restrict the use of boats powered by air-cooled engines to those powered by a single engine of 25 horsepower or less and utilizing a propeller 9 inches (22.5 cm) in diameter or less.

5. On inland waters of the refuge open to motorized boats, we restrict the operation of motorized boats to lakes, ponds, ditches, and other waterways. We prohibit the operation of motorized boats on or through emergent wetland vegetation.

6. We allow hunting in the Central Hunt Units daily during the September teal season and on Saturdays, Sundays, and Tuesdays of the regular waterfowl season.

7. We only allow hunting in the Spaced Hunt Units on Saturdays, Sundays, and Tuesdays of the regular waterfowl season. We require payment of a $10.00 daily fee to hunt the Spaced Hunt Units. We allow a maximum of four hunters per area. Hunters must possess and carry Special Fee Area Permits while hunting.

8. We allow daily hunting in the Mud Bayou Hunt Unit during the September teal season and on Sundays, Wednesdays, and Fridays of the regular waterfowl season. We allow access by foot from the beach on Middleton Levee, or by boat from the Gulf Intracoastal Waterway via Mud Bayou.

9. Each youth hunter (age 17 and younger) must remain within sight and normal voice contact of an adult age 18 or older.

10. We only allow shotguns for waterfowl hunting.

11. We only allow vehicular travel on designated roads and in parking areas. We prohibit blocking access to any road or trail entering or on the refuge (see § 27.31(h) of this chapter).

12. We prohibit pits and permanent blinds. We allow portable blinds or temporary native vegetation blinds. You must remove portable blinds (see § 27.93 of this chapter) from the refuge daily.

13. The minimum permitted distance between hunt parties and between hunters and driveable roads and buildings is 200 yards (180 m). We prohibit hunting from roads or levees.

14. Dogs accompanying hunters must be under the immediate control of handlers at all times (see § 26.21(b) of this chapter).

15. You must remove all decoys, boats, spent shells, marsh chairs, and other equipment (see §§ 27.93 and 27.94 of this chapter) from the refuge daily. We prohibit use of plastic flagging, reflectors, or reflective tape on the refuge.

* * * * *

D. Sport Fishing. We allow fishing and crabbing on designated areas of the refuge in accordance with State regulations subject to the following conditions:

1. We only allow fishing and crabbing with pole and line, rod and reel, or handheld line.

2. We allow cast netting for bait for personal use along waterways in areas open to the public and along public roads.

3. We prohibit the use of trotlines, setlines, bows and arrows, gigs, or spears in inland waters.

4. We allow fishing and crabbing in 10-Mile Cut and Mud Bayou and in the following inland waters: Star Lake and Clam Lake. We also allow fishing and crabbing from the shoreline of the Gulf Intracoastal Waterway and along roadside ditches.

5. On inland waters of the refuge open to motorized boats, we restrict the operation of motorized boats to lakes, ponds, ditches, and other waterways. We prohibit the operation of motorized boats on or through emergent wetland vegetation.

6. Condition A4 applies.

San Bernard National Wildlife Refuge

A. Migratory Game Bird Hunting. We allow hunting of goose, duck, and coot on designated areas of the refuge in accordance with State regulations subject to the following conditions:

1. We prohibit pits and permanent blinds.

2. We require permits and payment of fees for the Sargent Permit Waterfowl Hunt, Big Pond Hunt Area, and Light Goose Conservation Order Season Permit Hunt Area. Hunters must abide by all terms and conditions set by the permits.

3. We only allow the use of airboats in tidal navigable waters unless otherwise posted.

4. We prohibit target practice on the refuge.

* * * * *

Texas Point National Wildlife Refuge

A. Migratory Game Bird Hunting. We allow hunting of goose, duck, and coot on designated areas of the refuge in accordance with State regulations subject to the following conditions:

1. Hunters must possess and carry a signed refuge hunting permit while hunting on the refuge.

2. Hunters must enter the refuge hunt unit between 4 a.m. and ½ hour before the designated legal shooting time. Hunting starts at legal shooting time and ends at 12 p.m. (noon). Hunters must be off refuge hunt units by 12:30 p.m. We close refuge hunt units on Thanksgiving, Christmas, and New Year's Day.

3. We allow hunting in portions of the refuge daily during the September teal season and on Saturdays, Mondays, and Wednesdays during the regular waterfowl season.

4. We allow access into hunt areas by foot, nonmotorized watercraft, outboard motor boat, or airboat. Airboats may not exceed 10 hp with direct drive with a propeller length of 48 inches (120 cm) or less, and engines may not exceed 2 cylinders and 484 cc. We prohibit other motorized vehicles. We prohibit marsh buggies, ATVs, and Jet Skis (see § 27.31(f) of this chapter).

5. On inland waters of the refuge open to motorized boats, we restrict the use of boats powered by air-cooled engines to those powered by a single engine of 25 horsepower or less and utilizing a propeller 9 inches (22.5 cm) in diameter or less.

6. On inland waters of the refuge open to motorized boats, we restrict the operation of motorized boats to lakes, ponds, ditches, and other waterways. We prohibit the operation or motorized boats on or through emergent wetland vegetation.

7. Each youth hunter (age 17 and younger) must remain within sight and normal voice contact of an adult age 18 or older.

8. We only allow shotguns for waterfowl hunting.

9. We only allow vehicle travel on designated roads and in designated parking areas (see § 27.31 of this chapter). We prohibit blocking access to any road or trail entering or on the refuge (see § 27.31(h) of this chapter).

10. We prohibit pits and permanent blinds. We allow portable blinds or temporary native vegetation blinds, but you must remove them (see § 27.93 of this chapter) from the refuge daily.

11. The minimum distance between hunt parties is 200 yards (180 m). We prohibit hunting from roads or levees.

12. Dogs must be under the immediate control of the hunter at all times (see § 26.21(b) of this chapter).

13. You must remove all decoys, boats, spent shells, marsh chairs, and other equipment (see §§ 27.93 and 27.94 of this chapter) from the refuge daily. We prohibit use of plastic flagging, reflectors, or reflective tape on the refuge.

* * * * *

D. Sport Fishing. We allow fishing and crabbing on designated areas of the refuge in accordance with State regulations subject to the following conditions:

1. We only allow fishing and crabbing in inland waters with pole and line, rod and reel, or handheld line.

2. We only allow cast netting for bait by individuals along waterways in areas open to the public and along public roads

3. We prohibit the use of trotlines, setlines, bows and arrows, gigs, or spears in inland waters.

4. Conditions A5 and A6 apply.

Trinity River National Wildlife Refuge

A. Migratory Game Bird Hunting. We allow hunting of duck on designated areas of the refuge in accordance with State regulations subject to the following conditions:

1. We only allow hunting on Champion Lake by drawing.

2. We require an application fee for participants to enter the drawing. After the State announces hunting dates, we will issue a refuge permit to those drawn. The hunter must possess and carry the permit at all times when hunting.

3. We only allow hunting on Champion Lake Saturdays and Sundays during the State duck season. Hunters may not enter the refuge until 5 a.m. and must be off the hunt area by 12 p.m. (noon).

4. We only allow portable blinds. Hunters must remove all blinds, decoys, shell casings, and other personal equipment (see §§ 27.93 and 27.94 of this chapter) from the refuge following each day's hunt.

5. We limit motors to 10 hp or less.

6. We allow retrievers, but they must be under the immediate control of the hunter at all times.

7. Each youth hunter (age 17 and under) must remain within sight and normal voice contact and under supervision of an adult age 18 or older.

8. Hunt parties must keep a minimum distance of 150 yards (135 m) between them.

B. Upland Game Hunting. We allow hunting for squirrel and rabbit on designated areas of the refuge in accordance with State regulations subject to the following conditions:

1. We require participants to pay an application fee to enter the hunt permit drawing. We issue a refuge permit to the individuals whose names are drawn. Successful participants must possess and carry these permits at all times. Permits are nontransferable.

2. We allow hunting during a designated 9-day season. Hunters may enter the refuge and park in an assigned parking area no earlier than 4:30 a.m. We allow hunting from ½ hour before legal sunrise to legal sunset. We will require hunters to return a data log card.

3. We prohibit hunting along refuge roads.

4. We prohibit the use of dogs, feeders, baiting, campsites, fires (see § 27.95 of this chapter), and all-terrain vehicles (see § 32.2(h)).

5. We restrict weapons to shotguns and rimfires.

6. Youth hunters age 17 and younger must be under the direct supervision of an adult age 18 or older.

7. The minimum distance we allow between hunt parties is 200 yards (180 m). We require hunters to visibly wear 400 square inches (2,600 cm²) of hunter orange, which includes wearing a minimum of 144 square inches (936 cm²) visible on the chest, a minimum of 144 square inches visible on the back, and a hunter-orange hat or cap visible on the head.

C. Big Game Hunting. We allow hunting of white-tailed deer and feral hog on designated areas of the refuge in accordance with State regulations subject to the following conditions:

1. Conditions B1, B2, B4, B6, and B7 apply.

2. We only allow temporary blinds. We prohibit hunting or blind erection along refuge roads.

3. We restrict weapon type used depending on unit hunted. We publish this information on the refuge permit (you must possess and carry) and in the refuge hunt brochure.

D. Sport Fishing. We allow fishing on Champion Lake in accordance with State regulations subject to the following conditions:

1. We only allow fishing with pole and line, rod and reel, or hand-held line.

2. We prohibit the use of trotlines, setlines, bows and arrows, gigs, spears, fish traps, crab/crawfish traps or nets.

3. We prohibit the harvesting of frog or turtle (see § 27.21 of this chapter).

4. We allow fishing from legal sunrise to legal sunset.

5. We limit motors to a maximum of 10 hp. We prohibit fishing or enter within 200 yards (180 m) of an established bird rookery from March through the end of June. Check at refuge headquarters for rookery locations.

44. Amend § 32.64 Utah by:

a. Revising the introductory text of paragraph A., revising paragraph A.5., removing paragraphs A.7. and A.10. and redesignating paragraphs A.8. as A.7., A.9. as A.8, and adding paragraph A.9. of “Bear River Migratory Bird Refuge;” and

b. Revising “Ouray National Wildlife Refuge” to read as follows:

§ 32.64 Utah.

* * * * *

Bear River Migratory Bird Refuge

A. Migratory Game Bird Hunting. We allow hunting of goose, duck, coot, and tundra swan on designated areas of the refuge in accordance with State regulations subject to the following conditions:

* * * * *

5. You may enter the refuge 2 hours before legal sunrise and must exit the refuge by 2 hours after legal sunset. We prohibit leaving decoys, boats, vehicles, and other personal property on the refuge overnight (see § 27.93 of this chapter).

* * * * *

9. You may only possess 10 shells while hunting on or within 50 feet (15 m) from the center of Unit 1A or 2C dike.

* * * * *

Ouray National Wildlife Refuge

A. Migratory Game Bird Hunting. We allow hunting of duck, coot, and goose within Leota Bottom in accordance with State regulations subject to the following conditions:

1. We prohibit hunting within 100 yards (90 m) of the Green River in Leota Bottom.

2. We close the Green River within the refuge boundaries to hunting.

3. You may only possess approved nontoxic shot while in the field (see § 32.2(k)).

4. We prohibit pits and permanent blinds.

5. You may use portable blinds or blinds constructed of native dead vegetation (see § 27.51 of this chapter).

6. You must remove all decoys, shell casings, portable and temporary blinds, and other personal equipment (see §§ 27.93 and 27.94 of this chapter) from the refuge at the end of each day.

7. We prohibit operation of a gas-powered boat or vehicle within Leota Bottom.

8. We prohibit possession or consumption of any alcoholic beverage while hunting (see § 32.2(j)).

9. During hunting season the refuge is open from 1½ hours before legal sunrise to 1½ hours after legal sunset. We gate and lock the main entrance on the west side of the Green River during closed hours.

10. We prohibit possession of a loaded firearm in your vehicle. You must unload, case, or dismantle all firearms (see § 27.42 of this chapter) when traveling through the refuge.

B. Upland Game Hunting. We allow hunting of pheasants within Leota, Johnson, Brennan, and portions of Wyasket Bottoms (the southern portion of Wyasket Bottom and all of Woods Bottom are leased Ute Tribal lands that require special permitting by the Ute Tribe) in accordance with State regulations subject to the following conditions:

1. You may only possess approved nontoxic shot while in the field (see § 32.2(k)).

2. We prohibit hunting the islands and sandbars within the Green River.

3. We prohibit hunting pheasants with a shotgun capable of holding more than three shells.

4. We prohibit hunting of turkey and quail.

C. Big Game Hunting. We allow hunting of mule deer within Leota, Johnson, Brennan, and the northern portion of Wyasket Bottom (the southern portion of Wyaket Bottom and all of Woods Bottom are leased Ute Tribal lands that require special permitting by the Ute Tribe) in accordance with State regulations subject to the following conditions:

1. You may hunt with the aid of a temporary tree stand that does not require drilling or nailing into the tree.

2. You must remove your tree stand (see § 27.93 of this chapter) no later than the last day of the hunting season for which you have a tag.

3. We prohibit hunting on the islands and sandbars within the Green River.

4. We prohibit hunting of pronghorn and elk.

D. Sport Fishing. We allow sport fishing within and on the banks of the Green River (the southernmost portion of the Green River within the Refuge Boundary requires a Ute Tribe fishing permit) in accordance with State regulations subject to the following conditions:

1. We prohibit fishing on the diked interior impoundments or canals.

2. You may only fish with the aid of a pole, hook, and line. We prohibit trot lines, bow and arrows, spears, spear guns, cross bows, and firearms.

3. You must release unharmed any of the four endangered fish if caught (razorback sucker, Colorado pike minnow, humpbacked chub, or bonytailed chub).

45. Amend § 32.65 Vermont by revising “Missisquoi National Wildlife Refuge” to read as follows:

§ 32.65 Vermont.

* * * * *

Missisquoi National Wildlife Refuge

A. Migratory Game Bird Hunting. We allow hunting of goose, duck, brant, merganser, coot, woodcock, and snipe in accordance with State regulations subject to the following conditions:

1. Waterfowl—For the hunting of goose, brant, duck, merganser, and coot we divide the refuge into six discrete waterfowl hunting units: the Delta Lakeshore Area, the Saxes Pothole/Creek and Shad Island Area, the Junior Waterfowl Hunting Area (including Long Marsh Bay, Patrick Marsh, and Charcoal Creek), the Long Marsh Channel and Metcalfe Island Area, and the Maquam Swamp Area. Conditions for each area are as follows:

i. Delta Lakeshore Area includes lakeshore areas from Shad Island to the south side of Martindale Point but does not include Saxes Pothole/Creek and Shad Island Pothole.

a. We prohibit blind staking, permanent blinds, or unattended decoys.

b. We prohibit jump shooting within 200 yards (180 m) of a party hunting from a boat or blind.

c. We do not require a refuge permit to hunt in this area.

d. This area is available to youth waterfowl hunters on Youth Waterfowl Hunting Weekend.

e. We prohibit entering closed areas of the refuge for any reason, except for the recovery of legally harvested animals, and in that case you may not carry a weapon (see § 27.42(a) of this chapter).

f. Unarmed hunters may scout open hunting areas before a particular season opens but in no case before September 1. We do not require a hunting permit for scouting.

ii. Maquam Shore Area encompasses a 30-acre area along the lakeshore of Maquam Bay and is bounded by private land on the west and a Vermont wildlife management area on the east.

a. Conditions A1i(a-f) apply.

iii. Saaxes Pothole/Creek and Shad Island Pothole encompasses Saxes Creek, Saxes Pothole, and Shad Island Pothole. This is a controlled hunting area. We stake and make available five zones (numbered 1-5) to five hunting parties in Saxe's Pothole, zone 6 is staked and available to one hunting party in Shad Island Pothole.

a. A hunting party consists of the hunter named on the permit and one guest hunter per zone per day. Nonhunters may accompany a hunting party.

b. Each hunting party must possess and carry a permit for the specific zone on the specific day they are hunting in this area. Permits are not transferable.

c. You may obtain permits for the period from the opening day of duck hunting season through the first Sunday of the duck hunting season, and for the second weekend of the duck hunting season through application to a preseason lottery. During the years when the State elects to have a split season, you may also obtain your permits for the second opening day through the following Sunday through application to the preseason lottery. On all other hunt days, you must acquire permits through self-registration at the Mac's Bend Landing no earlier than 2 hours before legal shooting time on the day of the hunt.

d. Hunters selected during the preseason lottery must pay a $10 fee. The refuge must receive the fee no earlier than 2 days before the opening of the season or forfeit the permit, which we will then make available to other hunters on a first-come, first-served basis. The fee is paid for any permit assigned before the day of the hunt. There is no fee for any permit obtained on the day of the hunt.

e. On those days that we draw permits by preseason lottery, hunters must sign in at the Mac's Bend Landing by 7 a.m. before going to the assigned zone. After 7 a.m. other hunters may sign in, self-register, and use unoccupied zones.

f. At the end of each daily hunt, you must sign out and deposit a report of hunt success at the Mac's Bend Landing. When you sign out, another party may sign in and use the vacated zone. You must sign out of a zone at Mac's Bend Landing prior to occupying a different hunting site in any of the controlled hunting areas.

g. You must hunt within 100 feet (30 m) of a numbered stake corresponding to your assigned zone. We prohibit jump shooting.

h. We allow use of retrievers.

i. You may only possess approved nontoxic shot shells (see § 32.2(k)) in quantities of 25 or less per day.

j. This area is open on a first-come, first-served basis to youth waterfowl hunters during the annual 2-day special Youth Waterfowl Hunting Weekend conducted in late September. We will hold no preseason drawing and assess no fee, however, youth hunters must self-register and submit a report of their hunt.

k. We prohibit entering closed areas of the refuge for any reason, except for the recovery of legally harvested animals, and in that case we prohibit carrying a weapon (see § 27.42(a) of this chapter).

l. Unarmed hunters may scout open hunting areas before a particular season opens but in no case before September 1. We do not require a hunting permit for scouting.

iv. Junior Waterfowl Hunting Area encompasses Long Marsh Bay, Patrick Marsh and that portion of Charcoal Creek south of Vermont Route 78. This is a controlled hunting area. We establish 11 blind sites for use by junior waterfowl hunters, blind sites 4-8 in Long Marsh Bay, blind sites C-F in Charcoal Creek, and blind sites A-B in Patrick Marsh.

a. Junior waterfowl hunters (ages 12-15, inclusive, at the time of the hunt) following successful completion of the annual training program (usually held the third or fourth Saturday in August) vie for blind site assignments during a lottery drawing at the conclusion of the training. The 11 blind sites are available exclusively to these junior waterfowl hunters and their mentors the first 4 Saturdays and Sundays of the duck season.

b. As an incentive to the adult volunteers who serve as mentors to junior waterfowl hunters, they will vie for blind site assignments during a lottery drawing at the conclusion of the annual junior waterfowl hunter training for the use of blind sites in the junior hunt area on the first Wednesday following the second weekend of the season. This day is known as Mentor Day. We will collect no fee from mentors for this hunt day. We will make available blinds not assigned because of this lottery to other adult hunters via a preseason lottery.

c. Following the use of the blind sites in this area by junior hunters and junior hunter mentors, all blind sites are then available to all adult hunters by permit awarded via a preseason lottery for the second Wednesday following the second weekend of the duck season; and on weekends following the junior hunt by a first-come, first-served, self-registration, and permitting basis at the refuge headquarters.

d. Hunters, including junior hunters, with preregistered permits must sign in at refuge headquarters no later than 7 a.m. on the date of their scheduled hunt. After 7 a.m. other hunters may sign in, self-register, and use unoccupied blind sites. Only junior hunters may hunt on the first 4 Saturdays and Sundays of the season.

e. Each junior hunter must possess and carry a free permit for the assigned blind site and day. On Mentor Day, mentors must also possess and carry this free permit for the assigned blind site. Each adult hunting party must possess and carry a permit for the blind site and day they are hunting. Permits are not transferable.

f. The mentor must accompany the junior hunter who completed the training program with him or her. We include the mentor on the permit assigned to the junior hunter. A mentor may simultaneously oversee up to two junior hunters at one blind site.

g. Each adult hunter, except mentors on Mentor Day, must pay $10 for each permit issued because of the preseason lottery. Permits acquired by self-registration are free.

h. Only junior hunters may discharge a firearm in this area during the junior hunt periods.

i. We allow and recommend hunting from portable blinds and boat blinds constructed and place by the refuge for the junior waterfowl hunting program at some of the blind sites. Junior hunters, with the approval of the refuge manager, may construct stationary blinds and leave them in place for the duration of the season. Otherwise, we prohibit permanent blinds.

j. All hunting must take place within 100 feet (30 m) of the stake marking the blind area. We prohibit jump shooting.

k. This area is available to refuge-trained junior waterfowl hunters during the Youth Waterfowl Hunting Weekend in late September.

l. Shooting hours are from legal opening time until 11 a.m.

m. Hunters must deposit the Hunt Success Report portion of their permit at refuge headquarters at the end of the hunt.

n. A small flat-bottom boat, car-top boat, or canoe is necessary for access to Charcoal Creek and Patrick Marsh blind sites. Access is available at the Charcoal Creek crossing on Vermont Route 78 or from a pulloff on Route 78 about ¾ of a mile (1.2 km) east of the Charcoal Creek access.

o. You may only possess approved nontoxic shot shells (see § 32.2(k)) in quantities of 25 or less per day.

p. A hunting party consists of the hunter named on the permit and one guest hunter per blind site per day. Junior hunters may not invite a guest hunter unless it is another refuge-trained junior hunter. Nonhunters may accompany a hunting party.

q. You must use at least six decoys.

r. We prohibit entry to closed areas of the refuge for any reason, except for the recovery of legally harvested animals, and in that case you may not carry a weapon (see § 27.42(a) of this chapter).

s. Unarmed hunters may scout open hunting areas before a particular season opens but in no case before September 1. We do not require a hunting permit for scouting.

v. Long Marsh Channel and Metcalfe Island encompasses the Metcalfe Island Pothole and Long Marsh Channel. This is a controlled hunting area. We established three blind sites, designated 1-3, in Long Marsh Channel. We established three blind sites, designated 8-10, on Metcalfe Island.

a. We will limit hunting to Tuesdays, Thursdays, and Saturdays throughout the waterfowl hunting season for duck.

b. You may obtain permits for the first 5 days of the duck season through application to a preseason lottery. The procedure described in the Saxes Pothole/Creek and Shad Island controlled hunt area apply. Following the first 5 days, hunters may acquire permits on a first-come, first-served basis with self-service permitting and sign in at the Mac's Bend Landing, no more than 2 hours before legal shooting time.

c. Hunters selected during the preseason lottery must pay a $10 fee. The refuge must receive the fee no less than 2 days before the opening of the season or the permit will be forfeited and made available first to standby hunters identified at the time of the drawing, and second to other hunters on a first-come, first-served basis. The fee is paid for any permit assigned before the day of the hunt. There is no fee for any permit obtained on the day of the hunt.

d. On those days that we draw permits by preseason lottery, hunters must sign in at the Mac's Bend Landing by 7 a.m. before going to the assigned zone. After 7 a.m., other hunters may sign in, self-register, and use unoccupied zones.

e. Shooting hours will be from ½ hour before legal sunrise until 11 a.m.

f. At the end of each daily hunt, you must sign out and deposit a report of hunt success at the Mac's Bend Landing. When a party signs out, another party may sign in and use the vacated zone. Hunters must sign out of a zone at Mac's Bend Landing prior to occupying a different hunting site in any of the controlled hunting areas.

g. You must hunt within 100 feet (30 m) of a numbered stake corresponding to your assigned zone.

h. You must use a retriever.

i. You may only possess approved nontoxic shot shells (see § 32.2(k)) in quantities of 25 or less per day.

j. We prohibit blinds.

k. We prohibit jump shooting.

l. You must use at least six decoys.

m. You must use a boat to hunt at each of these blind sites.

n. This area is open on a first-come, first-served basis to youth waterfowl hunters during the annual 2-day special Youth Waterfowl Hunting Weekend conducted in late September. We will hold no preseason drawing and assess no fee, however, youth hunters must self-register and submit a report of their hunt.

o. We will close this area to waterfowl hunting during split seasons when goose are the only waterfowl that hunters may legally take.

p. We prohibit entry to closed areas of the refuge for any reason, except for the recovery of legally harvested animals, and in that case you may not carry a weapon (see § 27.42 of this chapter).

q. Unarmed hunters may scout open hunting areas before a particular season opens but in no case before September 1. We do not require a hunting permit for scouting.

vi. Marquam Swamp Area encompasses about 200 acres (80 ha) west of the Central Vermont Railroad and south of Coleman's inholding and is open to migratory bird hunting with the following special requirements:

a. Conditions A1ia and A1ic through A1if apply.

b. You must have a retriever.

c. We prohibit hunting within the area encompassing the headquarters nature trail. We identify this area with “No Hunting Zone” signs.

2. Other migratory birds (including woodcock and common snipe):

i. The open area consists of the Delta Lakeshore Waterfowl Hunting Area excluding the Saxe's Creek/Pothole and Shad Island Pothole controlled areas.

ii. You may hunt woodcock and snipe in the Maquam Swamp Area, but you must have a retriever.

iii. We do not require a permit to hunt woodcock and snipe in these areas.

iv. Conditions A1ie and A1if apply. 0

B. Upland Game Hunting. We allow hunting of cottontail rabbits, snowshoe hare, ruffed grouse, and gray squirrels on open areas of the refuge (designated in B2 below) in accordance with State regulations subject to the following conditions:

1. You must obtain a permit at refuge headquarters prior to hunting, and you must hold a valid State hunting license. We will collect a $10 fee for each permit issued. The permit applies for the calendar year of issue.

2. You may pursue upland game: east of the Missisquoi River and north of Goose Bay Pool (as indicated by public hunting area signs), on Shad Island, on all refuge lands west of Tabor Road, and on all refuge lands between Tabor Road and the Central Vermont Railroad bed to the east, except the marked area encompassing the headquarters nature trail and the land east of Charcoal Creek and north of the marked boundary near Coleman's inholding. We mark the headquarters trail area with “No Hunting Zone” signs.

3. We only allow shotguns or muzzleloaders on open areas east of the Missisquoi River and on Shad Island.

4. You must use approved nontoxic shot (see § 32.2(k)) for the shotgun hunting of all upland game species except deer.

5. We prohibit hunting from the end of snowshoe hare and rabbit season through September 1.

6. We require you to submit an annual report of the results of your hunt by December 31. Failure to do so will result in denial of a permit the following year.

7. We prohibit entry into closed areas of the refuge for any reason, except for the recovery of legally harvested animals, and in that case you may not carry a weapon (see § 27.42(a) of this chapter).

8. Unarmed hunters may scout open hunting areas before a particular season opens but in no case before September 1. We do not require a hunting permit for scouting.

C. Big Game Hunting. We allow hunting of white-tailed deer in accordance with State regulations subject to the following conditions;

1. We prohibit hunting of bear, moose, or turkey.

2. You must obtain a permit at refuge headquarters prior to hunting, and you must hold a valid State hunting license. We will collect a $10 fee for each permit issued. The permit applies for the calendar year of issue. Permits issued to youth hunters (licensed hunters age 16 and under) for the Youth Deer Hunting Weekend are free.

3. You may pursue deer during State-designated archery and regular firearms seasons: east of the Missisquoi River and north of Goose Bay Pool (as indicated by public hunting area signs), on Shad Island, on all refuge lands west of Tabor Road, and on all refuge lands between Tabor Road and the Central Vermont Railroad bed to the east, except the marked safety zone encompassing the headquarters nature trail and the land east of Charcoal Creek and north of the marked boundary near Coleman's inholding.

4. We only allow shotguns, muzzleloaders, or archery equipment on open areas east and north of Vermont Route 78. We prohibit rifles in these areas at any time.

5. During the State-designated muzzleloader season and Youth Deer Hunting Weekend, you may hunt the entire area north of the line of public hunting area signs west of Mudgett Island, and all of Metcalfe Island, in addition to the open areas described in C3 above.

6. During the State regular firearms season, Youth Deer Hunting Weekend, and muzzleloader big game season, you must wear in a conspicuous manner on head, chest, and back a minimum of 400 square inches (2,600 cm²) of solid-colored, hunter-orange clothing or material.

7. You may use portable tree stands in accordance with State regulations guiding their use on State Wildlife Management Areas. We require written approval from the refuge manager on your big game hunting permit prior to leaving a stand or blind unattended. We prohibit permanent stands and blinds (see § 27.93 of this chapter).

8. Conditions B6, B7, and B8 apply.

D. Sport Fishing. We allow fishing on areas described below in accordance with State regulations subject to the following conditions:

1. We allow sport fishing by boat in the west branch, east branch and main channel of the Missisquoi River, Dead Creek, and shallow water areas of the Missisquoi River delta from Goose Bay to Charcoal Creek (north of Vermont Route 78) with the following exceptions:

i. We close the following areas from ice out to July 15—Goose Bay, Saxes Creek and Pothole, Metcalfe Island Pothole, Long Marsh Channel, and Clark Marsh.

ii. We close the following areas from Labor Day to December 31—Long Marsh Bay and Long Marsh Channel.

2. We allow bank fishing along Charcoal Creek where it passes under Route 78, and along the shoreline of the Missisquoi River from refuge headquarters to Mac's Bend boat launch. Bank fishing is accessible only by foot along the Missisquoi River from Louie's Landing to Mac's Bend.

3. We prohibit fishing from any dike or from within any water management unit or any other area not specifically designated as being open under D1 and D2 above.

4. We allow ice fishing in open areas described in D1 above.

5. We allow bow fishing from a boat on refuge waters that are open to fishing as described in D1 above.

6. We prohibit taking fish with firearms within refuge boundaries.

7. We allow boat launching from Louie's Landing year-round. We allow boat launching from Mac's Bend boat launch area from September through November inclusive.

8. Anglers may collect minnows in accordance with State regulations from refuge open fishing areas for personal use. We prohibit collection of more than 2 quarts (1.9 l) per day from the refuge.

9. We authorize commercial bait dealers to take and transport minnows in excess of 2 quarts (1.9 l) per day only after acquiring a refuge Special Use Permit that will contain the following special conditions:

i. We require a $35 fee for the Special Use Permit.

ii. The permittee must possess and carry a Commercial Bait Dealer's Permit from the Vermont Commissioner of Fish.

iii. Excessive fish mortality and waste, as determined by the refuge manager, will result in revocation of the Special Use Permit and denial of future permit applications.

iv. The permittee must remove all traps and holding cages (see § 27.93 of this chapter) within 1 week of freeze up.

v. The Special Use Permit must be in the possession of the permittee or an employee of the permitee on site while on the refuge and is not transferable to another individual or party.

vi. The Special Use Permit does not grant or imply permission to obstruct any refuge road, parking area, boat launch, or waterway at any time.

vii. The permittee must keep all equipment used clean so as not to introduce aquatic nuisance species. The permittee must not clean or empty tanks and other equipment used into refuge waters.

viii. Failure to comply with conditions of the Special Use Permit will result in its revocation and the denial of future permit applications.

46. Amend § 32.66 Virginia by:

a. Revising paragraphs C. and D. of “Back Bay National Wildlife Refuge;”

b. Revising “Chincoteague National Wildlife Refuge;”

c. Revising paragraph C. of “Eastern Shore of Virginia National Wildlife Refuge;”

d. Revising “Great Dismal Swamp National Wildlife Refuge;”

e. Revising paragraph C. of “James River National Wildlife Refuge;”

f. Revising paragraph C. of “Mackay Island National Wildlife Refuge;”

g. Revising “Mason Neck National Wildlife Refuge;”

h. Revising “Occoquan Bay National Wildlife Refuge;”

i. Revising paragraph A. of “Plum Tree Island National Wildlife Refuge;”

j. Revising paragraph C. of “Presquile National Wildlife Refuge;” and

k. Revising paragraph C. of “Rappahannock River Valley National Wildlife Refuge;” and

l. Revising paragraph C. of “Wallops Island National Wildlife Refuge” to read as follows:

§ 32.66 Virginia.

* * * * *

Back Bay National Wildlife Refuge

* * * * *

C. Big Game Hunting. We allow hunting of white-tailed deer and feral hogs on designated areas of the refuge in accordance with State regulations subject to the following conditions:

1. We close the refuge to all other public uses beginning at legal sunrise on the first Saturday of October through legal sunset of the following Saturday.

2. We require a Special Use Hunting Permit. You must carry the signed permit your person while hunting. We issue permits on the day of the hunt at the Refuge Check Station.

3. We only allow shotguns 20 gauge or larger (loaded with buckshot or rifled slugs) and bow and arrow. We prohibit possession of loaded firearms (see § 27.42 of this chapter) or nocked arrows on refuge roads and Refuge Proclamation Waters.

4. We prohibit the use of dogs to hunt deer or feral hog.

5. You must be at least age 18 to hunt without an accompanying, qualified adult. Youths between ages 12 and 17 may only hunt when accompanied by a licensed nonhunting adult who is age 21 or older.

6. You must conspicuously wear a minimum of 400 square inches (2,600 cm2) of solid-colored, blaze-orange material on your head, chest, and back (the equivalent of a hat and vest for each hunter).

7. We reserve Hunting Zone 5 for use by nonambulatory hunters. We define a “nonambulatory” hunter as “any person who presents a medical doctor's written statement that said person is permanently unable to walk.” Zone 5 will be available to the general public only when nonambulatory hunters are not present.

8. We will decide reservations for hunt days and zones by a computerized lottery at the refuge headquarters in mid-September. You may obtain a hunt application by calling the Back Bay Refuge headquarters at (757) 721-2412 during August.

9. We restrict scouting to the week prior to the refuge hunt. We restrict access to hunting zones to travel by bicycle or on foot. Scouts must wear 400 square inches (2,600 cm2) of blaze orange. We prohibit weapons (see § 27.42(a) of this chapter) during scouting. Scouts must notify refuge staff daily prior to both entering and leaving a hunt zone.

10. You must register at the Refuge Entrance Fee Booth between 4 a.m. and 5 a.m. on the day of the hunt. After 5 a.m., we will allow standby hunters to fill vacant slots in a separate lottery. All hunters must check out at the Check Station no later than 6 p.m.

11. Transportation to Hunt Zone 7 (Long Island) is only by car-top boat (canoe, punt, row-boat, etc.) or from the canoe/kayak launch at refuge headquarters. Hunter-provided boats must meet Coast Guard safety requirements. We prohibit boats on trailers.

12. A Safety Zone runs from the Check Station to north of the headquarters parking lot. We prohibit hunting or discharging of firearms/bow and arrows within the Safety Zone. We prohibit retrieval of crippled game from a No Hunting Area or Safety Zone without the consent of the refuge employee on duty at the Check Station.

13. You must use safety belts at all times while you are in a tree stand.

14. We close the “Hacking Tower” in Hunt Zone 3 to public access.

D. Sport Fishing. We allow fishing, noncommercial crabbing, and clamming on designated areas of the refuge in accordance with State regulations subject to the following conditions:

1. We close all areas within the hunting zones, as well as the refuge oceanfront, to fishing, crabbing, and clamming during the annual refuge white-tailed deer and feral hog hunt, beginning at legal sunrise on the first Saturday in October through legal sunset of the following Saturday.

2. You must attend all fishing lines and crab pots at all times.

3. We prohibit on-site cleaning of fish.

4. We prohibit the taking of amphibian, reptile, marine mammal, aquatic invertebrate, or any other marine organism from refuge lands or waters.

5. We allow sportfishing, crabbing, and clamming access to Back Bay from the refuge headquarters parking lot only by foot, bicycle, and hand-launched, nontrailered boat.

6. We only allow surf fishing, crabbing, and clamming south of the refuge's beach access ramp.

7. For sportfishing in D Pool and at Horn Point:

i. We only allow fishing from the docks or banks. We prohibit boats, canoes, or kayaks on refuge pools and impoundments.

ii. We prohibit live minnows or other live bait fish for fishing in refuge pools and impoundments.

iii. We require barbless or flattened hooks for all fishing.

iv. Smallmouth bass, largemouth bass, and pickerel are catch-and-release only. The daily creel limit for D Pool for other species is a maximum combination of any 10 fish.

v. Parking for mobility-impaired visitors is available adjacent to the dock at D Pool. We require all other visitors to hike or bicycle.

Chincoteague National Wildlife Refuge

A. Migratory Game Bird Hunting. We allow hunting of migratory duck, goose, swan, coot, and rail on Thursdays, Fridays, and Saturdays during the State seasons on designated areas of the refuge within Wildcat Marsh, Morris Island, Assawoman Island, and Metompkin Island Divisions in accordance with State regulations subject to the following conditions:

1. You must possess and carry while hunting on the refuge written authorization from the refuge. You may obtain hunting brochures containing an application for permission to hunt from the refuge administration building during normal business hours. The refuge administration office has available hunting brochures containing application procedures, seasons, bag limits, methods of hunting, maps depicting areas open to hunting, and the terms and conditions under which we issue hunting permits.

2. Each youth hunter (under age 18) must remain within sight and normal voice contact and under direct supervision of an adult age 18 or older. The supervising adult must also possess and carry a State hunting license and a refuge permit.

3. You may only access hunting areas by boat.

4. You may only possess approved nontoxic shot (see § 32.2(k)) while hunting duck, goose, swan, coot, and rail.

5. You may erect portable blinds and deploy decoys, but you must remove the blinds and decoys (see § 27.93 of this chapter) daily.

6. You may use trained dogs to assist in the retrieval of harvested birds.

7. You must complete a harvest report card, provided by the refuge, after each hunt period. You must return the harvest report card to the refuge within 15 days of your permitted hunt.

B. Upland Game Hunting. [Reserved]

C. Big Game Hunting. We allow hunting of white-tailed deer and sika in designated areas of the refuge in accordance with State regulations subject to the following conditions:

1. General hunt information:

i. You must possess and carry a refuge permit. We issue the permits based on a computer lottery system. You may obtain permit applications from the refuge administration office during normal business hours. Hunting brochures containing hunting application procedures, seasons, bag limits, methods of hunting, maps depicting areas open to hunting, and the terms and conditions under which we issue hunting permits are available from the refuge administration office.

ii. You must be age 12 or older to hunt on the refuge. An adult age 18 or older must accompany hunters under age 18. The supervising adult must also possess and carry a State hunting license and refuge permit.

iii. You must attend a hunt orientation. We conduct orientations beginning at 10 a.m. Sundays and Wednesdays throughout the hunt season. We allow scouting from 11 a.m. to 6 p.m. following each orientation.

iv. You must sign in at the hunter registration station prior to entering your hunt zone and sign out upon exiting your hunt zone. All hunters must sign out no later than 2 hours after the end of the hunt day.

v. You must check all harvested animals at the refuge's official check station.

vi. You must make a reasonable effort to recover wounded animals from the field and must notify the check station personnel immediately if you are not able to recover a wounded animal.

vii. We prohibit crossing water management areas unless you are retrieving a harvested animal.

viii. We prohibit use of a boat, all-terrain vehicle, bicycle, or saddled animal to access or travel within your hunt zone (see § 27.31(f) of this chapter).

ix. We allow the use of a portable tree stand.

2. Archery hunt information:

i. We allow hunting of white-tailed deer and sika with bow and arrow in designated areas of the refuge.

ii. You may not possess a nocked arrow within 50 feet (15 m) of the centerline of any road.

iii. During the sika archery season, you may take up to five sika daily, two of which may be antlered. In addition, you may take antlerless white-tailed deer in accordance with State regulations.

iv. We prohibit deer drives.

v. You must print your full name in a permanent manner near the fletching on each arrow shaft used for hunting.

3. Firearm hunt information:

i. We allow hunting of white-tailed deer and sika with firearms in designated areas of the refuge.

ii. You must wear a minimum of 400 square inches (2,600 cm2) of blaze-orange material consisting of a vest and hat or a jacket and hat. iii.

You may use any firearm allowed by State law in designated areas of the refuge. We restrict other areas of the refuge to shotgun and muzzleloading firearms only. We restrict shotgun ammunition to slugs, 00 buckshot, or 000 buckshot. You must unload and either case or disassemble firearms (see § 27.42(b) of this chapter) in vehicles.

iv. We prohibit possession of a loaded firearm within 50 feet (15 m) of the centerline of any road.

v. During the sika firearm season, you may take up to five sika daily, two of which may be antlered. In addition, hunters may take antlerless white-tailed deer in accordance with State regulations on the first day of designated white-tailed deer hunt periods. If you take an antlerless white-tailed deer on the first day of your hunt, you may take antlered white-tailed deer or any sika, not to exceed prescribed bag limits, on the second day of your hunt period. If you do not take an antlerless white-tailed deer on the first day of your hunt period, you may only take antlerless white-tailed deer or any sika, not to exceed prescribed bag limits, on the second day of your hunt period.

vi. You must have a 4-wheel drive vehicle to hunt in zones 10, 10a, and Tom's Cove Hook. All oversand vehicles must carry a shovel, jack, tow rope or chain, board or similar support for the jack, and a low pressure tire gauge.

vii. We reserve zone 2 for hunters confined to wheelchairs. Those hunters must remain on the paved trail or overlook platform on Woodland Trial. They may use any firearm allowed by State law while hunting from the overlook platform. We restrict other areas of the zone to shotgun and muzzleloading firearms only. Hunters confined to wheelchairs who require assistance retrieving and/or dressing harvested animals must have a nonhunting assistant available.

D. Sport Fishing. We allow sport fishing, crabbing, and clamming from the shoreline of the refuge in designated areas of Tom's Cove, Swan's Cove, and the Atlantic Ocean in accordance with State regulations subject to the following conditions:

1. You may not enter any water management areas.

2. You must attend minnow traps, crab traps, crab pots, and handlines at all times.

3. You must possess and carry a refuge permit to surf fish after hours while fishing.

Eastern Shore of Virginia National Wildlife Refuge

* * * * *

C. Big Game Hunting. We allow archery and shotgun hunting of white-tailed deer on designated areas of the refuge in accordance with State regulations subject to the following conditions:

1. There are 12 days of archery and 7 days of shotgun hunting that occur during the State hunting season.

2. You must hunt white-tailed deer in designated zones. You must possess and carry a refuge permit to hunt that serves as your pass to enter your hunt zone. The permit fee is $15.00 for each hunt.

3. You must be at least age 18 to hunt without an accompanying, qualified adult. Youth hunters between ages 12 and 17 may only hunt when accompanied by an adult age 21 or older who must possess and carry a valid hunting license. The minimum age for hunters is 12.

4. You must sign in before entering the hunt zone and sign out upon leaving the zone.

5. We allow portable tree stands, but you must remove them (see § 27.93 of this chapter) at the end of each day's hunt. You must use safety straps while in tree stands. We prohibit tree stands attached with nails, wire, screws, or bolts (see § 32.2(i)).

6. You must bring all deer harvested to the refuge check station before the end of hunt day for inspection by refuge personnel.

7. We prohibit the use of organized drives for taking or attempting to take game.

8. We prohibit nocked arrows in your vehicle or outside your hunt zone.

9. For the firearm hunt, we allow shotgun hunting in zones 1-4. We allow archery hunting in zone 5 during the firearm season.

10. We only allow shotguns, 20 gauge or larger, loaded with buckshot during the firearm season.

11. During the firearm hunt, you must wear a minimum of 400 square inches (2,600 cm²) of a blaze-orange material consisting of a hat and vest or jacket. Blaze-orange camouflage is not acceptable.

12. You must unload and case or disassemble firearms (see § 27.42(b) of this chapter) in vehicles.

* * * * *

Great Dismal Swamp National Wildlife Refuge

A. Migratory Game Bird Hunting. [Reserved]

B. Upland Game Hunting. [Reserved]

C. Big Game Hunting. We allow hunting of deer and bear on designated areas of the refuge in accordance with State regulations subject to the following conditions:

1. You must possess and carry a refuge permit.

2. We allow shotguns, 20 gauge or larger, loaded with buckshot and/or rifled slugs, and bows and arrows.

3. We prohibit dogs.

4. We require all hunters to wear 400 square inches (2,600 cm²) of solid-colored, hunter-orange clothing or material in a conspicuous manner during firearms big game season.

5. We require hunters to sign in and out each hunt day.

6. We prohibit possession of loaded firearms (see § 27.42 of this chapter) (ammunition in the chamber, magazine, or clip), or loaded bow on or within 50 feet (15 m) of a refuge road, including roads closed to vehicles.

7. We prohibit hunters to shoot onto or across refuge roads, including roads closed to vehicles.

D. Sport Fishing. We allow fishing in designated areas of the refuge in accordance with State regulations subject to the following conditions:

1. We only allow fishing in Lake Drummond and in the Feeder Ditch on the east side of Lake Drummond during daylight hours.

2. We prohibit bank fishing.

3. You must attend all fishing lines.

4. We require permits for vehicular access to the boat ramp on Interior Ditch Road on the west side of Lake Drummond.

James River National Wildlife Refuge

* * * * *

C. Big Game Hunting. We allow hunting of white-tailed deer on designated areas of the refuge in accordance with State regulations subject to the following conditions:

1. We require firearm hunters to purchase a refuge hunt permit at the Refuge Hunter Check Station on the morning of each hunt on a first-come, first-served basis. The hunter must possess and carry the permit while on refuge property.

2. We require archery hunters to purchase a refuge hunt permit by mail by the designated application deadline. The hunter must possess and carry the permit while on refuge property.

3. We allow the use of shotguns (20 gauge or larger, loaded with buckshot only), muzzleloaders, and bows and arrows on designated refuge hunt days.

4. You may take two deer of either sex per day.

5. We prohibit dogs.

6. We only allow portable tree stands that you must remove (see § 27.93 of this chapter) at the end of each hunt day.

7. Firearm hunters must wear in a conspicuous manner on head, chest, and back a minimum of 400 square inches (2,600 cm²) of solid-colored, hunter-orange clothing or material.

8. Firearm hunters must remain within 25 feet (7.5 m) of their assigned stand unless tracking or retrieving a wounded deer.

9. Archery hunters must wear a solid-colored, hunter-orange hat or cap while moving to and from their stand.

10. You may only retrieve wounded deer from closed areas with prior consent from a refuge employee.

11. You must unload all weapons (see § 27.42(b) of this chapter) while on the refuge, except when you are at your assigned stand.

12. We prohibit discharge of firearms (see § 27.42(a) of this chapter) or archery equipment across or within refuge roads, including roads closed to vehicles.

* * * * *

Mackay Island National Wildlife Refuge

* * * * *

C. Big Game Hunting. We allow hunting of deer on designated areas of the refuge in accordance with State regulations subject to the following conditions:

1. Hunters must sign and carry a Refuge Deer Hunting Permit while hunting on the refuge.

2. We allow the use of shotguns, muzzleloading rifles/shotguns, and bows. We prohibit the use of all other rifles and pistols.

3. We allow access to hunting areas from 5 a.m. until 8 p.m.

4. We prohibit marking of trees or vegetation (see § 27.51 of this chapter) with blazes, flagging, or other marking devices.

* * * * *

Mason Neck National Wildlife Refuge

A. Migratory Game Bird Hunting. [Reserved]

B. Upland Game Hunting. [Reserved]

C. Big Game Hunting. We allow hunting of deer on designated areas of the refuge in accordance with State and County regulations subject to the following conditions:

1. You must possess and carry a refuge permit.

2. We select hunters by lottery. Contact the refuge office for information on application dates.

3. We send applicants an information packet detailing specific dates, details, and requirements for the hunt, including, but not limited to: hunt dates, hunt areas, bag restrictions, weapon certification requirements and locations, orientation dates/times, scouting date(s), check station location, and maps.

4. Hunters must certify/qualify weapons and ammunition and attend an orientation session prior to issuance of a permit.

5. Hunters must wear a minimum of 400 square inches (2,600 cm²) of solid, hunter-orange clothing and a hunter-orange hat.

6. We may close areas of the refuge to hunting. We will identify these areas on the maps in the information packet and review them during orientation.

D. Sport Fishing. [Reserved]

Occoquan Bay National Wildlife Refuge

A. Migratory Game Bird Hunting. [Reserved]

B. Upland Game Hunting. [Reserved]

C. Big Game Hunting. We allow hunting of deer on designated areas of the refuge in accordance with State and County regulations subject to the following conditions:

1. You must possess and carry a refuge permit.

2. We select hunters by lottery. Contact the refuge office for information on application dates.

3. We send applicants an information packet detailing specific dates, details, and requirements for the hunt, including, but not limited to: hunt dates, hunt areas, bag restrictions, weapon certification requirements and locations, orientation dates/times, scouting date(s), check station location, and maps.

4. Hunters must certify/qualify weapons and ammunition and attend an orientation session prior to issuance of a permit.

5. Hunters must wear a minimum of 400 square inches (2,600 cm²) of solid hunter-orange clothing and a hunter-orange hat.

6. We may close areas of the refuge to hunting. We will identify these areas on the maps in the information packet and review them during orientation.

D. Sport Fishing. [Reserved]

Plum Tree Island National Wildlife Refuge

A. Migratory Game Bird Hunting. We allow hunting of waterfowl, gallinule, and coot on designated areas of the refuge in accordance with State regulations subject to the following conditions:

1. You must possess and carry a signed Special Use Hunting Permit while hunting waterfowl on the refuge. We only open the Cow Island area of the refuge to waterfowl hunting. We close all other areas of the refuge to all public entry.

2. We limit hunting parties to three individuals hunting at one blind site.

3. You may hunt from the location of your choice: unimproved shore locations, camouflaged boats (float blinds) anchored to the shore, or temporary blinds erected on the interior of the island.

4. We prohibit permanent blinds/structures on the refuge.

5. We prohibit jump-shooting.

6. Except for peak use days, we restrict waterfowl hunting to three mornings per week: Tuesday, Thursday, and Saturday mornings until 12 p.m. (noon) local time. We prohibit hunting on Sundays, Mondays, Wednesdays, and Fridays.

7. You must retrieve and remove all decoys, temporary blinds, and equipment (see § 27.93 of this chapter) and leave Cow Island by 1 p.m.

8. We define peak use days as the waterfowl season opening days and some Federal holidays. We will define peak use dates for the current season after the State establishes its waterfowl hunting season(s).

9. You must secure reservations by telephone (call 804-829-9020 weekdays between 8 a.m. and 4:30 p.m.) no more than 4 workings days prior to your desired hunt date. We will issue the first five callers for those days a reservation number that they must possess and carry while hunting on their reserved date.

10. No more than two other hunters may accompany hunters with reservations, and they must hunt as a party from the same blind.

11. Youth Waterfowl Hunt Day: We will open Cow Island for the youth waterfowl hunt as per State regulations. Youth hunters must also possess and carry a signed refuge Special Use Hunting Permit.

* * * * *

Presquile National Wildlife Refuge

* * * * *

C. Big Game Hunting. We allow hunting of white-tailed deer on designated areas of the refuge in accordance with State regulations subject to the following conditions:

1. We require hunters to purchase a Refuge Hunt Permit at the Refuge Hunter Check Station on the morning of each hunt on a first-come, first-served basis. The hunter must possess and carry the permit while on refuge property.

2. We allow the use of shotguns (20 gauge or larger, loaded with buckshot and/or rifled slugs).

3. You may take two deer of either sex per day.

4. We prohibit dogs.

5. We only allow portable tree stands that you must remove (see § 27.93 of this chapter) at the end of each hunt day.

6. You must wear in a conspicuous manner on head, chest, and back, a minimum of 400 square inches (2,600 cm²) of solid-colored, hunter-orange clothing or material.

7. You must remain within 25 feet (7.5 m) of your designated stand unless tracking or retrieving a wounded deer.

8. You must unload all firearms (see § 27.42(b) of this chapter) while on the refuge, except when at your assigned stand.

* * * * *

Rappahannock River Valley National Wildlife Refuge

* * * * *

C. Big Game Hunting. We allow hunting of white-tailed deer on designated areas of the refuge in accordance with State regulations subject to the following conditions:

1. We require hunters to purchase a refuge hunt permit at the Refuge Hunter Check Station on the morning of each hunt on a first-come, first-served basis. The hunter must possess and carry the permit while on refuge property.

2. We require archery hunters to purchase a refuge hunt permit by mail by the designated application deadline. The hunter must possess and carry the permit must while on refuge property.

3. We allow shotgun, muzzleloader, and archery hunting on designated refuge hunt days.

4. You may take two deer of either sex per day.

5. We prohibit dogs.

6. We only allow portable tree stands that you must remove (see § 27.93 of this chapter) at the end of each hunt day.

7. Firearm hunters must wear in a conspicuous manner on head, chest, and back a minimum of 400 square inches (2,600 cm²) of solid-colored, hunter-orange clothing or material.

8. Archery hunters must wear a solid-colored, hunter-orange hat or cap while moving to and from their stand.

9. We prohibit the possession of loaded firearms (see § 27.42 of this chapter) or nocked arrows while on refuge roads.

10. We prohibit the discharge of a firearm or archery equipment across or within refuge roads, including roads closed to vehicles.

11. You may only retrieve wounded deer from closed areas with prior consent from a refuge employee.

* * * * *

Wallops Island National Wildlife Refuge

* * * * *

C. Big Game Hunting. We allow hunting of white-tailed deer in designated areas of the refuge in accordance with State regulations subject to the following conditions:

1. You must possess and carry a refuge permit. We issue permits based on a computer lottery system. You may obtain permit applications from the refuge administration office during normal business hours. Hunting brochures containing application procedures, seasons, and maps depicting areas open to hunting are available from the refuge administration office. You must provide an unobstructed view of the refuge permit on the vehicle's dashboard while hunting on the refuge.

2. You must be age 12 or older to hunt on the refuge. An adult age 18 or older must accompany and directly supervise hunters under age 18. The supervising adult must also possess and carry a State hunting license and refuge permit.

3. You must sign in at the hunter registration station prior to entering your hunt zone and sign out upon exiting your hunt zone. You must sign out no later than two hours after the end of the hunt day.

4. You must wear a minimum of 400 square inches (2,600 cm²) of blaze-orange material consisting of a vest and hat or a jacket and hat.

5. You may use of portable tree stands.

6. We prohibit dogs.

7. You must park your vehicle in designated areas (see § 27.31 of this chapter).

* * * * *

47. Amend § 32.67 Washington by:

a. Revising “Columbia National Wildlife Refuge;”

b. Revising paragraph A. and removing paragraphs B.4., B.5., C.3., and C.4., and revising paragraph D. of “Hanford Reach National Monuments/Saddle Mountain National Wildlife Refuge;”

c. Revising “Little Pend Oreille National Wildlife Refuge;”

d. Revising “McNary National Wildlife Refuge;”

e. Revising paragraph D. of “Nisqually National Wildlife Refuge;”

f. Revising “Ridgefield National Wildlife Refuge;”

g. Revising paragraphs A. and B. of “Toppenish National Wildlife Refuge;” and

h. Revising “Umatilla National Wildlife Refuge” to read as follows:

§ 32.67 Washington.

* * * * *

Columbia National Wildlife Refuge

A. Migratory Game Bird Hunting. We allow hunting of goose, duck, coot, and Wilson's snipe on designated areas of the refuge in accordance with State regulations subject to the following conditions:

1. We only allow hunting on Wednesdays, Saturdays, Sundays, and Federal holidays on Marsh Unit 1 and Farm Units 226-227.

2. Prior to entering the Farm Unit 226-227 hunt area, we require you to possess and carry a refuge permit, pay a recreation user fee, and obtain a blind assignment.

B. Hunting of Upland Game Birds. We allow hunting of ring-necked pheasant, California quail, gray partridge, and chukar on designated areas of the refuge in accordance with State regulations subject to the following conditions:

1. We only allow hunting of upland game birds during State upland game seasons that run concurrently with the State waterfowl season.

2. We allow hunting from 12 p.m. (noon) to legal sunset on Wednesdays, Saturdays, Sundays, and Federal holidays in Marsh Unit 1.

C. Big Game Hunting. We allow hunting of mule deer and white-tailed deer on designated areas of the refuge in accordance with State regulations subject to the following conditions:

1. We only allow shotgun and archery hunting.

2. We only allow hunting during State deer seasons that run concurrently with the State waterfowl season.

D. Sport Fishing. We allow fishing on designated areas of the refuge in accordance with State regulations subject to the following conditions:

1. On waters open to fishing, we only allow fishing from April 1 to September 30, with the exception of Falcon, Heron, Goldeneye, Corral, Blythe, Chukar, and Scaup Lakes that are open year-round.

2. We allow nonmotorized boats and boats with electric motors on Upper and Lower Hampton, Hutchinson, and Shiner Lakes.

3. We allow motorized boats and nonmotorized boats on all other refuge waters open to fishing.

4. We allow frogging during periods when we allow fishing on designated waters.

5. We allow catch-and-release fishing using artificial flies with a single barbless hook on Quail Lake.

* * * * *

Hanford Reach National Monument/Saddle Mountain National Wildlife Refuge

A. Migratory Game Bird Hunting. We allow hunting of goose, duck, coot, mourning dove, and common snipe on the Wahluke Unit of the Monument/Refuge in accordance with State regulations subject to the following conditions:

1. You may only possess approved nontoxic shot while on the refuge (see § 32.2(k)).

2. We allow access from 2 hours before legal sunrise to 2 hours after legal sunset. We prohibit overnight camping and/or parking.

3. We prohibit permanent and pit blinds and the cutting of vegetation (see § 27.51 of this chapter). You must remove all blind materials, decoys, and other equipment (see § 27.93 of this chapter) at the end of each day's hunt.

4. We only allow nonmotorized boats and boats with electric motors on the WB-10 Pond (Wahluke Lake) and with walk-in access only.

* * * * *

D. Sport Fishing. We allow fishing on the Wahluke Unit in accordance with State regulations subject to the following conditions:

1. We allow access from 2 hours before legal sunrise to 2 hours after legal sunset. We prohibit overnight camping and/or parking.

2. We allow nonmotorized boats and boats with electric motors on the WB-10 Ponds and with walk-in access only.

* * * * *

Little Pend Oreille National Wildlife Refuge

A. Migratory Game Bird Hunting. We allow hunting of migratory game birds on designated areas of the refuge in accordance with State regulations subject to the following condition: We prohibit waterfowl hunting on any creek or stream.

B. Upland Game Hunting. We allow hunting of upland game on designated areas of the refuge in accordance with State regulations subject to the following condition: We prohibit use of dogs except for hunting and retrieving upland game birds.

C. Big Game Hunting. We allow hunting of big game on designated areas of the refuge in accordance with State regulations subject to the following condition: We prohibit all use of dogs for hunting big game.

D. Sport Fishing. We allow sport fishing on designated areas of the refuge in accordance with State regulations.

McNary National Wildlife Refuge

A. Migratory Game Bird Hunting. We allow hunting of goose, duck, coot, dove, and common snipe on designated areas of the refuge in accordance with State regulations subject to the following conditions:

1. We only allow vehicles on designated routes of travel and require hunters to park in designated parking areas (see § 27.31 of this chapter). We prohibit off-road vehicle travel and all use of ATVs (see § 27.31(f) of this chapter).

2. We only allow portable blinds and temporary blinds constructed of natural materials.

3. We allow dove hunting in accordance with State regulations on the Wallula, Burbank Sloughs, Stateline, Juniper Canyon, Peninsula, and Two Rivers Units only.

4. The McNary Fee Hunt Unit is only open on Wednesdays, Saturdays, Sundays, Thanksgiving Day, and New Year's Day from 5 a.m. to 1½ hours after legal sunset.

5. Prior to entering the McNary Fee Hunt Unit, we require you to possess and carry a refuge permit, pay a recreation user fee, and obtain a blind assignment before hunting.

6. On the McNary Fee Hunt Unit, we only allow hunting from assigned blind sites and require hunters to remain within 100 feet (30 m) of marked posts unless retrieving birds or setting decoys. We allow a maximum of four persons per blind site.

7. On the McNary Fee Hunt Unit, you may only possess approved nontoxic shotshells (see § 32.2(k)) in quantities of 25 or less per day.

8. On the Wallula Unit, we prohibit hunting within ¼ mile (.4 km) of the Walla Walla Delta or Crescent Island from February 1 through September 30.

9. On the Peninsula Unit, we allow waterfowl hunting subject to the following conditions:

i. On the east shoreline of the Peninsula Unit, we only allow hunting from established numbered blinds sites, assigned on a first-come, first-served basis. We require hunters to remain within 100 feet (30 m) of marked posts unless retrieving birds or setting decoys.

ii. On the west shoreline of the Peninsula Unit, we require hunters to space themselves a minimum of 200 yards (180 m) apart.

10. We close the furthest downstream refuge island (Columbia River mile 341-343) in the Hanford Islands Division to hunting.

11. On the Peninsula and Two Rivers Units, we close Casey Pond to all hunting.

12. We close Strawberry Island in the Snake River to all hunting.

13. We close Badger and Foundation Islands in the Columbia River to all hunting.

B. Upland Game Hunting. We allow hunting of upland game birds on designated areas of the refuge in accordance with State regulations subject to the following conditions:

1. On the McNary Fee Hunt Unit, we only allow hunting of upland game birds on Wednesdays, Saturdays, Sundays, Thanksgiving Day, Christmas Day, and New Year's Day. We prohibit hunting until 12 p.m. (noon) of each hunt day.

2. On the Peninsula Unit, we prohibit upland game hunting before 12 p.m. (noon) on goose hunt days.

3. We only allow turkey hunting on the Wallula Unit.

4. We close all islands of the Hanford Islands Division to hunting.

C. Big Game Hunting. We allow hunting of deer only on the Stateline, Juniper Canyon, and Wallula Units in accordance with State regulations subject to the following condition: On the Wallula Unit, we only allow shotgun and archery hunting.

D. Sport Fishing. We allow fishing on designated areas of the refuge in accordance with State regulations.

Nisqually National Wildlife Refuge

* * * * *

D. Sport Fishing. We allow fishing and shellfishing on designated areas of the refuge in accordance with State regulations subject to the following conditions:

1. We allow fishing from boats outside the Brown Farm Dike and outside the Research Natural Area.

2. We allow bank fishing in the designated McAllister Creek Bank Fishing Area from legal sunrise to legal sunset. The ¾-mile (1.2 km) area of bank fishing is located ½ mile (.8 km) downstream from I-5 and allowed only along the east side of the creek. Anglers may reach this area either by foot from the refuge parking lot or by boat.

3. We prohibit bank fishing along the Nisqually River.

4. We prohibit fishing in any waters inside the Brown Farm Dike.

5. We allow shellfishing on the tideflats. Access is by boat or by foot from the Luhr Beach Boat Launch. We prohibit tideflat access from the Brown Farm Dike.

6. We prohibit boat launching on the refuge.

Ridgefield National Wildlife Refuge

A. Migratory Game Bird Hunting. We allow hunting of duck, goose, and coot in a designated area of the River “S” Unit of the refuge in accordance with State regulations subject to the following conditions:

1. We only allow waterfowl hunting by refuge permit (you must possess and carry). You may apply for advanced hunting permits between August 15 and September 15; otherwise, we issue hunting permits by lottery from the check station for standby hunters or on a first-come, first-served basis after 10 a.m. during each hunt day.

2. We only allow access to the hunt area 2 hours before legal shoot time and 2 hours after shoot time on hunt days. We prohibit entering the hunt area on nonhunt days.

3. We prohibit camping or parking overnight anywhere on the refuge.

4. You may only park in the parking lot designated for your hunting blind.

5. We only allow hunting on Tuesdays, Thursdays, and Saturdays, excluding Federal holidays, during the regular waterfowl hunt season designated by the State.

6. We require all hunters to check-in and check out at the hunter check station.

7. We prohibit goose hunting in Blind #1.

8. You must hunt within your designated hunt blind except when shooting to retrieve crippled birds. We allow a maximum of three people per blind.

9. You may only possess approved nontoxic shells (see § 32.2(k)) while in the field in quantities of 25 or less.

10. You may use decoys, but you must collect them at the end of each hunt day.

11. We prohibit temporary or portable blinds.

12. We allow retrieving dogs in the hunt area, but owners must keep them under their immediate control at all times (see § 26.21(b) of this chapter). Owners must leash dogs at all times except while in the hunting blind. We prohibit dog training or trials (see § 27.91 of this chapter).

13. On the last Saturday in October, we only allow youth hunters ages 10 to 17 to hunt. Each youth hunter must remain within sight and normal voice contact of an adult age 18 or older.

B. Upland Game Hunting. [Reserved]

C. Big Game Hunting. [Reserved]

D. Sport Fishing. We allow bank fishing on the interior waters in public areas of the Carty Unit and on Lake River on the north side of the bridge crossing Lake River at the River “S” Unit in accordance with State fishing regulations subject to the following conditions:

1. We close all interior waters to fishing at the River “S” Unit.

2. We prohibit motorized and nonmotorized boats or floatation devices on any of the interior waters of the refuge.

3. We only allow fishing from legal sunrise to legal sunset.

4. We only allow fishing with hook and line.

5. We prohibit frogging.

6. While fishing in Lake River, you must park and walk from the River “S” Unit entrance parking lot.

Toppenish National Wildlife Refuge

A. Migratory Game Bird Hunting. We allow hunting of goose, duck, coot, dove, and common snipe on designated areas of the refuge in accordance with State regulations subject to the following conditions:

1. We open the refuge from 5 a.m. to 1½ hours after legal sunset.

2. We only allow vehicles on designated routes of travel and require hunters to park in designated parking areas (see § 27.31 of this chapter). We prohibit off-road vehicle travel and all use of ATVs (see § 27.31(f) of this chapter).

3. We only allow dove hunting on the Webb, Petty, Halvorson, Chambers, and Isiri Units.

4. You may only possess approved nontoxic shotshells (see § 32.2(k)) in quantities of 25 or less per day.

5. On the Petty, Isiri, Chamber, and Cloe Units, we allow hunting 7 days a week subject to the following condition: We require hunting parties to space themselves a minimum of 200 yards (180 m) apart.

6. On the Halvorson and Webb Units, we only allow hunting on Wednesdays, Saturdays, Sundays, Thanksgiving Day, Christmas Day, and New Year's Day. On these units, we allow hunting only from designated field pits, and we prohibit jump shooting.

7. On the Robbins Road Unit, we only allow hunting on Tuesdays, Thursdays, Saturdays, Sundays, Thanksgiving Day, Christmas Day, and New Year's Day.

8. On the Robbins Road and Pumphouse Units, we only allow hunting from numbered field blind sites, and hunters must only park their vehicles at the numbered post corresponding to the numbered field blind site they are using (see § 27.31 of this chapter). Selection of parking sites/numbered posts is on a first-come, first-served basis at the designated parking lot. We prohibit free-roam hunting or jump shooting, and you must remain within 100 feet (30 m) of the numbered field blind post unless retrieving birds or setting decoys. We allow a maximum of four persons per blind site.

B. Upland Game Hunting. We allow hunting of upland game birds on designated areas of the refuge in accordance with State regulations subject to the following conditions:

1. On all refuge units, we prohibit hunting of upland game birds until 12 p.m. (noon) of each hunt day.

2. On the Halvorson and Webb Units, we only allow hunting on Wednesdays, Saturdays, Sundays, Thanksgiving Day, Christmas Day, and New Year's Day.

3. On the Robbins Road Unit, we only allow hunting on Tuesdays, Thursdays, Saturdays, Sundays, Thanksgiving Day, Christmas Day, and New Year's Day.

* * * * *

Umatilla National Wildlife Refuge

A. Migratory Game Bird Hunting. We allow hunting of goose, duck, coot, dove, and common snipe on designated areas of the refuge in accordance with State regulations subject to the following conditions:

1. We open the refuge from 5 a.m. to 1½ hours after legal sunset.

2. We only allow vehicles on designated routes of travel and require hunters to park in designated parking areas (see § 27.31 of this chapter). We prohibit off-road vehicle travel and all use of ATVs (see § 27.31(f) of this chapter).

3. We only allow portable blinds and temporary blinds constructed of natural materials.

4. You may only possess approved nontoxic shotshells (see § 32.2(k)) in quantities of 25 or less per day.

5. On the Paterson Slough and Whitcomb Units, we only allow hunting on Wednesdays, Saturdays, Sundays, Thanksgiving Day, Christmas Day, and New Year's Day.

6. In the refuge ponds within the Paterson Slough area, we only allow nonmotorized boats and boats with electric motors.

7. On the Ridge Unit, we only allow shoreline hunting and prohibit all hunting from boats.

8. We require waterfowl hunting parties to space themselves a minimum of 200 yards (180 m) apart.

B. Upland Game Hunting. We allow hunting of upland game birds on designated areas of the refuge in accordance with State regulations subject to the following conditions:

1. We prohibit hunting of upland game birds until 12 p.m. (noon) of each hunt day.

2. In the Paterson Slough and Whitcomb Units, we only allow hunting on Wednesdays, Saturdays, Sundays, Thanksgiving Day, Christmas Day, and New Year's Day.

C. Big Game Hunting. We allow hunting of deer on designated areas of the refuge in accordance with State regulations subject to the following condition: You must possess and carry a refuge permit for hunting.

D. Sport Fishing. We allow fishing on designated areas of the refuge in accordance with State regulations subject to the following conditions:

1. We open the refuge from 5 a.m. to 1½ hours after legal sunset.

2. We allow fishing on refuge impoundments and ponds from February 1 through September 30. We open other refuge waters (Columbia River and its backwaters) in accordance with State regulations.

* * * * *

48. Amend § 32.68 West Virginia by:

a. Revising “Canaan Valley National Wildlife Refuge;” and

b. Revising “Ohio River Islands National Wildlife Refuge” to read as follows:

§ 32.68 West Virginia.

* * * * *

Canaan Valley National Wildlife Refuge

A. Migratory Game Bird Hunting. We allow hunting of goose, duck, rail, coot, gallinule, mourning dove, snipe, and woodcock on designated areas of the refuge in accordance with State regulations subject to the following conditions:

1. We require each hunter to possess and carry a signed refuge hunting permit, State hunting license, and driver's license (or other photo identification card) at all times while hunting on the refuge. The refuge hunting permit is free, and you may obtain it at the refuge headquarters. We require each hunter to submit a survey form at the end of the hunting season. Hunters must submit survey forms to the refuge headquarters if they wish to receive a hunting permit the following year.

2. We allow hunting on most refuge lands with the following exceptions: the area surrounding the refuge headquarters, areas marked as safety zones, areas marked as no hunting zones, areas marked as closed to all public entry, or within 500 feet (150 m) of any dwelling.

3. We prohibit the use of permanent blinds.

4. The refuge closes 1 hour after legal sunset, including parking areas. We prohibit hunters from leaving decoys and other personal property on the refuge overnight.

5. We allow the use of dogs for hunting migratory game birds. We require all dogs to wear a collar displaying the owner's name, address, and telephone number.

6. We prohibit dog training except during legal hunting seasons.

7. We require hunters accessing the refuge through private property to possess and carry written permission of the landowner while hunting on the refuge.

B. Upland Game Hunting. We allow the hunting of ruffed grouse, squirrel, cottontail rabbit, snowshoe hare, red fox, gray fox, bobcat, woodchuck, coyote, opossum, striped skunk, and raccoon on designated areas of the refuge in accordance with State regulations subject to the following conditions:

1. Conditions A1, A2, A6, and A7 apply.

2. The refuge closes 1 hour after legal sunset, including parking areas.

3. You may hunt raccoon at night, but you must obtain a Special Use Permit for raccoon hunting.

4. We only allow hunting in the No Rifle Zones with the following equipment: archery, shotgun, or muzzleloader.

5. You may use dogs for hunting upland game species. We prohibit more than six dogs per hunting party for raccoon hunting. You must account for all dogs at the conclusion of the hunt. You must search for lost dogs for at least 3 days, and we prohibit hunting during the search period. All dogs must wear a collar displaying the owner's name, address, and telephone number.

7. We prohibit the hunting of upland game species between March 1 and the youth squirrel season in September.

C. Big Game Hunting. We allow the hunting of white-tailed deer, black bear, and turkey on designated areas of the refuge in accordance with State regulations subject to the following conditions:

1. Condition A1, A2, A6, A7, and B4 apply.

2. You may only enter the refuge on foot. You may use hand-powered, two-wheeled carts for transporting big game.

3. You may only use handguns for hunting deer and black bear in the rifle zone.

4. When using shotguns for big game hunting, we only allow ammunition containing a single lead projectile. We prohibit the use of buckshot.

5. We prohibit the marking of any tree or other refuge feature with flagging, paint, or other substance.

6. We prohibit the cutting and trimming of coniferous trees (balsam fir, red spruce, and hemlock). We prohibit construction of blinds from these materials.

7. We prohibit permanent tree stands, but we allow use of temporary tree stands. You must clearly print your name and address in an easily read area on the stand while the stand is affixed to the tree. You must remove tree stands (see § 27.93 of this chapter) at the end of the deer season.

8. We require all hunters to wear at least 400 square inches (2,600 cm2) of blaze orange on the head, chest, and back at all times during the deer bucks only season, the antlerless deer season, the youth deer season, and the deer muzzleloader season.

9. We prohibit hunting for turkey with a rifle. You must use a shotgun or muzzleloader with a shot size of #4 or smaller.

10. We allow dogs for hunting black bear during the gun season. We prohibit more than six dogs per hunting party. You must account for all dogs at the conclusion of the hunt. You must search for lost dogs for at least 3 days, and we prohibit hunting during the search period. All dogs must wear a collar displaying the owner's name, address, and telephone number.

11. We prohibit black bear hunting during the Tucker County antlerless deer season. The gun bear season begins the Monday following the antlerless deer season.

12. The refuge closes 1 hour after legal sunset, including parking areas. We prohibit camping or overnight parking.

D. Sport Fishing. [Reserved]

Ohio River Islands National Wildlife Refuge

A. Migratory Game Bird Hunting. We allow hunting of migratory game birds (waterfowl, coots, rails, gallinules, snipe, woodcock, and dove) on designated areas of the refuge (Pennsylvania: Phillis Island, Georgetown Island; West Virginia: Captina Island, Captina Mainland, Fish Creek Island, Williamson Island, Witten Towhead, Wells Island, Grandview Island, Grape/Bat Island, Broadback Island, Buckley Island, Muskingum Island, Buffington Island, Letart Island; and Kentucky: Manchester 1 Island, Manchester 2 Island) in accordance with State regulations subject to the following conditions:

1. We require each hunter to possess and carry a refuge hunting permit, State hunting license, and valid driver's license (or other photo identification card) at all times while hunting on the refuge. The refuge hunting permit is free, and you may obtain it at the refuge headquarters. We request each hunter to submit a survey form at the end of the hunting season.

2. We prohibit the use of permanent blinds.

3. The refuge opens 1 hour before legal sunrise and closes 1 hour after legal sunset, including parking areas. We prohibit hunters leaving decoys and personal property, as well as, camping and overnight parking.

4. We only allow dogs to locate, point, and retrieve when hunting for migratory game birds. We require all dogs to wear a collar displaying the owner's name, address, and telephone number.

5. You may only possess approved nontoxic shot while in the field (see § 32.2(k)).

B. Upland Game Hunting. We allow hunting of rabbit and squirrel on designated areas of the refuge (Pennsylvania: Phillis Island, Georgetown Island; West Virginia: Captina Island, Captina Mainland, Fish Creek Island, Williamson Island, Witten Towhead, Wells Island, Grandview Island, Grape/Bat Island, Broadback Island, Buckley Island, Muskingum Island, Buffington Island, Letart Island; and Kentucky: Manchester 1 Island, Manchester 2 Island) in accordance with State regulations subject to the following conditions:

1. Conditions A1 and A3 apply.

2. We prohibit the use of pursuit dogs for hunting rabbit or squirrel.

3. We prohibit the use of bows, rifles, or pistols for hunting rabbit or squirrel.

4. We only allow the use of shotguns with approved nontoxic shot (see § 32.2(k)) for the hunting of rabbit or squirrel.

C. Big Game Hunting. We allow archery hunting of white-tailed deer on designated areas of the refuge (Pennsylvania: Phillis Island, Georgetown Island; West Virginia: Captina Island, Captina Mainland, Fish Creek Island, Williamson Island, Witten Towhead, Wells Island, Grandview Island, Grape/Bat Island, Broadback Island, Buckley Island, Muskingum Island, Buffington Island, Letart Island; and Kentucky: Manchester 1 Island, Manchester 2 Island) in accordance with State regulations subject to the following conditions:

1. Conditions A1 and A3 apply.

2. We prohibit the use or possession of rifles, pistols, or shotguns for the hunting of white-tailed deer.

3. We prohibit organized deer drives by two or more individuals. We define a deer drive as the act of chasing, pursuing, disturbing, or otherwise directing deer so as to make the animals more susceptible to harvest.

4. We allow trail marking with nonpermanent methods such as flagging and reflectors. We prohibit the use of paint, and hunters must remove all trail-marking materials (see § 27.93 of this chapter) at the end of the deer season.

5. We prohibit the use of permanent tree stands or blinds. We allow the use of temporary tree stands. All tree stands must have the name and address of the owner clearly printed in an easily read area on the stand while the stand is affixed to the tree. Hunters must remove tree stands and blinds (see § 27.93 of this chapter) from the refuge at the end of each day.

6. We prohibit baiting for deer on refuge lands (see § 32.2(h)).

7. We require all hunters to wear at least 400 square inches (2,600 cm²) of blaze orange on the head, chest, and back while walking to and from tree stands or blinds.

D. Sport Fishing. We allow sport fishing throughout the refuge in accordance with State regulations subject to the following conditions:

1. Condition A3 applies.

2. We require each angler to possess and carry a State fishing license and a valid driver's license (or other photo identification card) at all times while fishing on the refuge.

3. We restrict bank fishing to refuge open hours, from 1 hour before legal sunrise through 1 hour after legal sunset.

49. Amend § 32.69 Wisconsin by:

a. Revising paragraph C.1. of “Horicon National Wildlife Refuge;”

b. Revising “Leopold Wetland Management District;” and

c. Revising paragraph B.4., adding paragraph B.5., and revising paragraph C.3. of “Necedah National Wildlife Refuge” to read as follows:

§ 32.69 Wisconsin.

* * * * *

Horicon National Wildlife Refuge

* * * * *

C. Big Game Hunting. * * *

1. We only allow hunting during the early archery season and the regular State firearms seasons.

* * * * *

Leopold Wetland Management District

A. Migratory Game Bird Hunting. We allow hunting of migratory game birds throughout the district (except that we prohibit hunting on the Blue-wing Waterfowl Production Area (WPA) in Ozaukee County or the Wilcox WPA in Waushara County) in accordance with State regulations subject to the following conditions:

1. We allow the use of hunting dogs, provided the dog is under the immediate control of the hunter at all times (see § 26.21(b) of this chapter).

2. You must remove boats, decoys, and blinds (see § 27.93 of this chapter) at the conclusion of each day's hunt.

B. Upland Game Hunting. We allow hunting of upland game birds throughout the district (except that we prohibit hunting on the Blue-wing Waterfowl Production Area (WPA) in Ozaukee County or the Wilcox WPA in Waushara County) in accordance with State regulations subject to the following condition: Condition A1 applies.

C. Big Game Hunting. We allow hunting of big game throughout the district (except that you may not hunt on the Blue-wing Waterfowl Production Area (WPA) in Ozaukee County or the Wilcox WPA in Waushara County) in accordance with State regulations subject to the following condition: You must remove blinds and stands (see § 27.93 of this chapter) at the conclusion of each day's hunt.

D. Sport Fishing. [Reserved]

Necedah National Wildlife Refuge

* * * * *

B. Upland Game Hunting. * * *

* * * * *

4. You may only use dogs when hunting waterfowl and small game, except raccoon.

5. You may only hunt showshoe hare during the season for cottontail rabbit.

C. Big Game Hunting. * * *

* * * * *

3. You may use portable elevated devices, but you must lower them to the ground from ½ hour after shooting hours to ½ hour before shooting hours each day.

* * * * *

50. Amend § 32.70 Wyoming by revising “Seedskadee National Wildlife Refuge” to read as follows:

§ 32.70 Wyoming.

* * * * *

Seedskadee National Wildlife Refuge

A. Migratory Game Bird Hunting. We allow hunting of dark goose, duck, coot, merganser, dove, snipe, and rail on designated areas of the refuge in accordance with State regulations subject to the following conditions:

1. We prohibit hunting of migratory birds on the west side of the Green River between the south end of the Dunkle Unit and Highway 28. We post the boundary for this area with refuge signs stating “Area Closed to Migratory Bird Hunting.

2. We prohibit all hunting between Highway 28 and 0.8 miles (1.28 km) north of the refuge headquarters on the west side of the Green River. We post the boundary for this area with refuge signs stating “No Hunting Zone”.

3. We open the refuge to the general public from ½ hour before legal sunrise to ½ hour after legal sunset. Waterfowl hunters may enter the refuge 1 hour before legal shooting hours to set up decoys and blinds.

4. Hunters must confine or leash dogs except when participating in a legal hunt (see § 26.21(b) of this chapter).

5. You must only use portable blinds or blinds constructed from dead and downed wood. We prohibit digging pit blinds.

6. You must remove portable blinds, tree stands, decoys, and other personal equipment (see § 27.93 of this chapter) from the refuge following each day's hunt.

7. You must completely dismantle blinds constructed of dead and downed wood at the end of the waterfowl hunting season.

8. We only allow hunters to retrieve downed game from closed areas with consent from a refuge employee or State game warden.

9. You must unload and either case or dismantle all firearms (see § 27.42(b) of this chapter) when transporting them in a vehicle or boat under power.

B. Upland Game Hunting. We allow hunting of sage grouse, cottontail rabbit, jackrabbit, raccoon, fox, and skunk on designated areas of the refuge in accordance with State regulations subject to the following conditions:

1. Conditions A2, A8, and A9 apply.

2. We open the refuge to the general public from ½ hour before legal sunrise to ½ hour after legal sunset.

3. Hunters must confine or leash dogs (see § 26.21(b) of this chapter) except when participating in a legal hunt for sage grouse, cottontail rabbit, or jackrabbit.

4. When using shotguns or muzzleloaders, you may only possess approved nontoxic shot (see § 32.2(k)) while in the field.

C. Big Game Hunting. We allow hunting of antelope, mule deer, and moose on designated areas of the refuge in accordance with State regulations subject to the following conditions:

1. Conditions A2, A8, A9, and B2 apply.

D. Sport Fishing. We allow fishing on the refuge in accordance with State regulations subject to the following conditions:

1. Condition B2 applies.

2. You must only launch or pick up trailered boats at the following boat ramps: Dodge Bottom, Hayfarm, Lombard, and Six-Mile.

3. We prohibit taking of mollusk, crustacean, reptile, and amphibian from the refuge.

51. Amend § 32.71 United States Unincorporated Pacific Insular Possessions by:

a. Revising “Johnston Atoll National Wildlife Refuge” to read “Johnston Island National Wildlife Refuge” and revising paragraph D.; and

b. Revising paragraph D. of “Midway Atoll National Wildlife Refuge” to read as follows:

§ 32.71 United States Unincorporated Pacific Insular Possessions.

* * * * *

Johnston Island National Wildlife Refuge

* * * * *

D. Sport Fishing. [Reserved]

Midway Atoll National Wildlife Refuge

* * * * *

D. Sport Fishing. We allow fishing and harvesting of lobsters on designated areas of the refuge subject to the following conditions:

1. At all areas within the refuge, we allow fishing subject to the following conditions:

i. We allow fishing on a daily basis year-round.

ii. We do not require a refuge permit.

iii. We prohibit spear fishing.

iv. We prohibit net fishing, except as approved by the refuge manager.

v. We prohibit anglers to take from or ship off the refuge any fish or lobsters, except as approved by the refuge manager.

vi. At the conclusion of each fishing day, we require all boat captains and shore anglers to document all fish hooked or landed and all lobsters taken using forms supplied by the refuge.

vii. We prohibit fishing within any areas posted as closed, on either a temporary or permanent basis.

viii. You must retrieve all lines whenever a seal or turtle is sighted within 100 feet (30 m) of where you are fishing.

2. Inside the lagoon only we allow fishing subject to the following conditions:

i. We only allow catch-and-release fishing. We prohibit consumption of any fish taken within the lagoon due to the danger of ciguatera poisoning.

ii. We only allow fishing using pole and line, spinning tackle, and fly fishing.

iii. We only allow artificial lures and single, barbless hooks.

iv. We prohibit use of chum to attract fish.

v. We prohibit shoreline fishing from closed beach areas, the fuel farm shoreline, and the fuel pier.

vi. We prohibit recreational boat traffic within a designated 500-foot (150-m) buffer zone around Sand, Eastern, and Spit Islands.

3. Outside the lagoon only we allow fishing subject to the following conditions:

i. We only allow fishing for pelagic species (e.g., wahoo, mahi mahi, tuna, marlin, etc.), primarily on a catch-and-release basis.

ii. You may keep one pelagic fish per person on the fishing boat, per day, for on-island consumption. The refuge manager may approve the taking of additional pelagic fish for on-island consumption.

iii. We prohibit taking or attempting to take bottomfish (e.g., grouper, snapper) or any other marine species, except for lobster.

iv. We allow trolling at night and use of lighted lures.

4. We allow lobster fishing subject to the following conditions:

i. We only allow recreational lobstering on a daily basis, year-round, inside and outside the lagoon, from legal sunrise to legal sunset.

ii. We only allow taking of lobsters by skindiving. We prohibit taking of lobsters while using Self Contained Underwater Breathing Apparatus (SCUBA).

iii. The daily limit is one lobster per skindiver per day.

iv. For spiny lobsters, the minimum size is 3.25 inches (8.125 cm) carapace length. For slipper lobsters, the minimum size is 2.75 inches (6.875 cm) tail width, measured between the first and second segments.

v. We prohibit taking of lobsters that have eggs attached.

vi. We prohibit use of spears, hooks, traps, or nets for personal harvest. We allow use of “tickle sticks”.

52. Amend § 32.72 Guam by revising paragraph D. of “Guam National Wildlife Refuge” to read as follows:

§ 32.72 Guam.

* * * * *

Guam National Wildlife Refuge

* * * * *

D. Sport Fishing. We allow fishing and collecting marine life from Achae Point north to Ritidian Channel (seaward of the concrete blocks of the refuge headquarters building) only in accordance with Government of Guam laws and regulations subject to the following conditions:

1. We allow anglers to be on the refuge from 8:30 a.m. until 4 p.m. daily, except on Federal holidays.

2. We prohibit possession of surround or gill nets.

3. We prohibit collection or possession of hima (giant clams, Tridacna and Hippopus spp.) or ayuyu (coconut crabs, Birgus latro).

4. We prohibit collection of fish or invertebrates while using Self Contained Underwater Breathing Apparatus (SCUBA).

5. We prohibit windsurfers or motorized personal watercraft.

6. We prohibit motorized vessels inshore of the reef crest.

7. We prohibit anchoring of vessels.

Dated: June 10, 2004.
Craig Manson,
Assistant Secretary for Fish and Wildlife and Parks.

[FR Doc. 04-13897 Filed 6-29-04; 8:45 am]

BILLING CODE 4310-55-P